FEDERAL COMMUNICATIONS COMMISSION

47 CFR Part 73

[MB Docket No. 87-268; FCC 08-72]

Advanced Television Systems and Their Impact Upon the Existing Television Broadcast Service

AGENCY: Federal Communications Commission.

ACTION: Final rule.

SUMMARY: This document disposes of the petitions for reconsideration filed in response to the Seventh Report and Order in this digital television (“DTV”) Table of Allotments proceeding and also addresses the comments filed in response to the Eighth Further Notice of Proposed Rule Making in this proceeding. This document finalizes the post-transition DTV table and provides all eligible stations with a channel for digital operation after the transition from analog to digital television in February 2009. This document makes several changes to the DTV Table in response to petitions for reconsideration and comments and establishes in Appendix B the parameters for post-transition operation by television broadcasters.

DATES: Effective March 21, 2008.

ADDRESSES: You may submit comments, identified by MB Docket No. 87-268, by any of the following methods:

• Federal eRulemaking Portal: http://www.regulations.gov. Follow the instructions for submitting comments.

• Federal Communications Commission's Web Site: http://www.fcc.gov/cgb/ecfs/. Follow the instructions for submitting comments.

• People with Disabilities: Contact the FCC to request reasonable accommodations (accessible format documents, sign language interpreters, CART, etc.) by e-mail: FCC504@fcc.gov or phone: 202-418-0530 or TTY: 202-418-0432. For detailed instructions for submitting comments and additional information on the rulemaking process, see the SUPPLEMENTARY INFORMATION section of this document.

FOR FURTHER INFORMATION CONTACT: For additional information on this proceeding, contact Kim Matthews of the Media Bureau, Policy Division, (202) 418-2154.

SUPPLEMENTARY INFORMATION: This is a summary of the Commission's Memorandum Opinion and Order on Reconsideration of the Seventh Report and Order and Eighth Report and Order (“MO&OR”) in MB Docket No. 87-268, FCC 08-72, adopted March 3, 2008, and released March 6, 2008. The full text of this document is available for public inspection and copying during regular business hours in the FCC Reference Center, Federal Communications Commission, 445 12th Street, SW., CY-A257, Washington, DC 20554. These documents will also be available via ECFS (http://www.fcc.gov/cgb/ecfs/). (Documents will be available electronically in ASCII, Word 97, and/or Adobe Acrobat.) The complete text may be purchased from the Commission's copy contractor, 445 12th Street, SW., Room CY-B402, Washington, DC 20554. To request this document in accessible formats (computer diskettes, large print, audio recording, and Braille), send an e-mail to fcc504@fcc.gov or call the Commission's Consumer and Governmental Affairs Bureau at (202) 418-0530 (voice), (202) 418-0432 (TTY).

I. Introduction

1. On August 6, 2007, we adopted a new, and final, Table of Allotments for digital television (“DTV”) providing all eligible stations with channels for DTV operations after the DTV transition on February 17, 2009. Seventh Report and Order and Eighth Further Notice of Proposed Rule Making (Seventh R&O and Eighth FNPRM), Advanced Television Systems and their Impact Upon the Existing Television Broadcast Service, 22 FCC Rcd 15581 (2007) (Seventh R&O and Eighth FNPRM). The final DTV Table accommodates all eligible broadcasters, reflects to the extent possible the channel elections made by broadcasters, and is consistent with efficient spectrum use. The final DTV Table also establishes the channels and facilities necessary to complete the digital transition and ultimately will replace the existing DTV Table at the end of the DTV transition. The post-transition DTV Table will be codified at 47 CFR 73.622(i). The revisions to the post-transition table made herein are attached hereto in Appendix A. The current DTV Table, which is contained in 47 CFR 73.622(b), will become obsolete at the end of all authorized pre-transition DTV operations. The current NTSC Table, which is contained in 47 CFR 73.606(b), will become obsolete at the end of the transition, when all full-power analog operations must cease. The existing DTV Table continues to govern stations' DTV operations until the end of the DTV transition. This MO&OR resolves all petitions for reconsideration and related issues in connection with the final DTV Table of Allotments.

2. We received 124 timely filed petitions for reconsideration of the Seventh R&O reflecting 221 requests for action on individual stations. The vast majority of the petitions request specific changes to the DTV Table and/or Appendix B facilities. The DTV Table specifies a channel for each eligible full power broadcast television station. Appendix B sets forth specific technical facilities—ERP, antenna HAAT, antenna radiation pattern, and geographic coordinates—at which stations will be allowed to operate. Appendix B also includes information on service area and population coverage. In the MO&OR, we address these specific requests as well as several more general issues raised by some petitioners. In general, we have accommodated the requests made by petitioners for changes to the DTV Table and/or Appendix B to the extent possible consistent with the interference and other standards outlined in the Seventh Further Notice of Proposed Rule Making (Seventh FNPRM), 71 FR 66592, November 15, 2006 and the Seventh R&O in this proceeding. A large number of the petitions requested changes to Appendix B facilities to permit the station to use an existing analog antenna when the station returns to its analog channel for post-transition digital operations. We addressed and resolved 30 such requests that were raised during the comment period for the Seventh R&O. Where possible, we have made the revisions requested by these petitioners. We note, too, that the flexibility we recently adopted in the Third DTV Periodic Review Report and Order will provide many of the petitioners with the opportunity to request and receive the facilities they sought in this docket when the station files its application for authorization on its final, post-transition channel. Reliance on the application process for modifying facilities is consistent with the requests and preferences of several petitioners, as described, infra. We also note that when stations filed their petitions for reconsideration, they were unaware of the flexibility we would provide in the application process, and many filed to preserve their rights, while advocating for revision through the application process rather than by reconsideration. We also reiterate that requests for revisions to Appendix B in this docket, or for modifications in the application process, that are attempts to maximize beyond authorized post-transition facilities will not be granted at this time. However, as provided in the Third DTV Periodic Report and Order, stations will have the opportunity to request expanded facilities later this year. See Third DTV Periodic Report and Order, Section V.E., para. 148.

3. In addition, we are adopting an Eighth Report and Order (Eighth R&O) herein addressing a number of revisions to the DTV Table and/or Appendix B proposed in the Eighth Further Notice of Proposed Rule Making (Eighth FNPRM). In the Eighth FNPRM, we sought comment on tentative channel designations (“TCDs”) for three new permittees and identified a number of other proposed revisions to the DTV Table and/or Appendix B advanced by commenters in either reply comments or late-filed comments to the Seventh FNPRM. In the Eighth R&O, we address comments received in response to the Eighth FNPRM.

Third DTV Periodic Review

4. On December 22, 2007, the Commission adopted a Report and Order in the Third DTV Periodic Review proceeding. See Report and Order, Third Periodic Review of the Commission's Rules and Policies Affecting the Conversion to Digital Television, MB Docket No. 07-91, FCC 07-228 (rel. Dec. 31, 2007) (“Third DTV Periodic Report and Order”) (73 FR 5634, Jan. 30, 2008). In the Third DTV Periodic Report and Order, we adopted a number of procedures and rules changes designed to provide flexibility to broadcasters to ensure that they meet the statutory transition deadline and complete construction of their final, post-transition facilities. Among other things, we established construction deadlines for full-power television stations to construct their full, authorized post-transition (DTV Table Appendix B) facilities and decided that stations moving to a different channel for post-transition operation would not be required to construct or complete a digital facility on their pre-transition DTV channel. Specifically, the Commission established the following construction deadlines: (1) May 18, 2008 for stations that will use their pre-transition DTV channel for post-transition operations and already have a construction permit that matches their post-transition (DTV Table Appendix B) facilities; (2) August 18, 2008 for stations that will use their pre-transition DTV channel for post-transition operations, but which do not have a construction permit that matches their post-transition (DTV Table Appendix B) facilities; and (3) February 17, 2009 for stations building digital facilities based on a new channel allotment in the post-transition DTV Table and for stations facing a unique technical challenge, such as the need to reposition a side-mounted antenna, that prevents them from completing construction of their final DTV facilities before turning off their analog transmission. In addition, we announced our intent to lift the freeze on the filing of maximization applications on August 17, 2008, the date by which we expect to have completed processing stations' applications to build their post-transition facilities. Until this date, we will maintain our freeze and, except as discussed below, will not accept maximization applications to expand facilities.

5. We also adopted several policies in the Third DTV Periodic Report and Order designed to accommodate stations that apply for facilities that deviate to some extent from the facilities set forth in the Appendix B adopted herein. For example, we adopted a waiver policy that will permit rapid approval of minor (i.e., not exceeding 5 miles) expansion applications filed by stations that are moving to a different channel (e.g., their analog channel) for post-transition operation. Id. Specifically, we will permit stations to expand beyond their authorized service area where the station demonstrates that such expansion: (1) Would allow the station to use its analog antenna or a new antenna to avoid a significant reduction in post-transition service from its analog service area; (2) would be no more than five miles larger in any direction than their authorized service area, as defined by the post-transition DTV Table Appendix B; and (3) would not cause impermissible interference, i.e., more than 0.5 percent new interference, to other stations. We also stated that, while we generally will not permit more than 0.5 percent new interference, we will consider on a case-by-case basis allowing stations to cause additional new interference if stations can demonstrate that they need this additional flexibility to serve their analog viewers. Consistent with our existing rules, we will also consider on a case-by-case basis stations' negotiated interference agreements provided these agreements are consistent with the public interest. Id. This policy will allow added flexibility for stations that wish to use their existing analog channel antenna, and will help the transition process by reducing the demands on equipment suppliers and installation crews during a critical time as the transition deadline nears. As noted above, we received a number of petitions for reconsideration from stations seeking changes to the DTV Table and Appendix B to permit them to use their analog antenna when they return to their analog channel. The 5-mile waiver policy we adopted in the Third DTV Periodic Report and Order, in addition to the relief we grant herein, should provide significant relief to stations in this situation. In addition, with respect to evaluating interference in applications to construct post-transition facilities, we permitted stations a limit of 0.5 percent new interference in addition to that in the DTV Table Appendix B. This approach provides more flexibility than the interference standard proposed in the Third DTV Periodic Review NPRM, which would have permitted a total of 0.5 percent interference post-transition, rather than 0.5 percent interference in addition to existing interference reflected in DTV Table Appendix B. This added flexibility in the interference standard, together with the 5-mile waiver policy, should permit quick action on and approval of the vast majority of applications for the final DTV facilities adopted in the DTV Table and Appendix B herein. In the Third DTV Periodic Report and Order, we stated that stations should file their applications for post-transition facilities as soon as possible in order to have the maximum time to order equipment and build their facilities. We provided expedited processing (generally within 10 days) to stations whose applications demonstrate the following requirements: (1) The application does not seek to expand the station's facilities beyond its final post-transition DTV Table Appendix B facilities; (2) the application specifies facilities that match or closely approximate the DTV Table Appendix B facilities (i.e., if the station is unable to build precisely the facilities specified in DTV Table Appendix B, then it must apply for facilities that are no more than five percent smaller than its facilities specified in Appendix B with respect to predicted population); and (3) the application is filed within 45 days of the effective date of the Third DTV Periodic Report and Order, which became effective January 30, 2008. Stations that filed a petition for reconsideration of the Seventh R&O may receive expedited processing provided they file their applications within 45 days of the Commission's release of this Memorandum Opinion and Order on Reconsideration and otherwise qualify for expedited processing.

II. Discussion

A. General Issues

6. Most of the petitions for reconsideration filed in response to the Seventh R&O pertain to individual station situations. We will discuss these petitions in detail below, grouped according to the nature of the request. However, a number of petitioners raised general issues, and we begin by discussing these petitions.

1. MSTV Petition for Reconsideration and Clarification

7. We grant in part and deny in part the Association for Maximum Service Television, Inc. (“MSTV”) Petition for Reconsideration and Clarification, which, along with several ex parte letters, urges the Commission to afford regulatory flexibility to stations to permit them to build post-transition facilities that will serve current viewers. We agree with many of the points raised by MSTV and have taken a number of steps in this proceeding and in the Third DTV Periodic Review proceeding to address their concerns.

8. MSTV argued in both this docket and the Third DTV Periodic Review that the Commission should entertain and grant stations' requests as part of the applications process rather than through the allotment process based on petitions for reconsideration of the Seventh R&O. We agree and grant their petition to the extent that many of the requests made by specific broadcasters can be addressed at the application stage and do not require adjustments to Appendix B. However, we are taking a two-pronged approach by both revising Appendix B in response to petitions for reconsideration, where appropriate, and providing significant flexibility in the Third DTV Periodic Review proceeding for applications for post-transition facilities. These two approaches together will permit stations to apply for post-transition facilities that match as closely as possible the facilities that the station has requested, is authorized to serve, and that reach current analog viewers without causing interference to other stations or violating the freeze.

9. MSTV is particularly concerned that the Commission provide flexibility to stations that are not currently on their final, post-transition channels with respect to antenna patterns, particularly those stations that want to use their current analog antennas for post-transition operation. MSTV argues that, as a technical matter, it can be difficult and in some cases impossible to build DTV facilities to operate on a new channel that will replicate the interim DTV antenna pattern, which is the pattern the Commission tried to replicate in the DTV Table Appendix B. In addition, MSTV states that many stations would like to use their analog antenna for their post-transition operations and this antenna may not be capable of replicating precisely the antenna pattern reflected in DTV Table Appendix B. MSTV also notes that, in light of these difficulties, many stations may have to reduce power significantly on the post-transition channel to shrink the station's service area in order to keep the service contour within the contour allotted on Appendix B. This could result in a loss of service post-transition to many current viewers. We shared MSTV's concern in this regard and therefore urged stations to file petitions for reconsideration, including stations that had not filed during the comment cycle following the Seventh FNPRM. These general concerns, as well as the specific circumstances portrayed in the individual petitions and comments, contributed to the Commission's decisions in the Third DTV Periodic Review Report and Order to provide procedures and policies affording greater flexibility in the application process.

10. MSTV notes that, in the Third DTV Periodic Review proceeding, broadcasters proposed a number of solutions to address these antenna pattern issues. Specifically, MSTV and the National Association of Broadcasters (“NAB”) proposed that the Commission permit stations returning to their analog channel for post-transition operations and planning to use their existing analog antenna to exceed the Appendix B service contour by no more than five miles. In addition, in its Petition for Reconsideration and Clarification in this proceeding, MSTV also proposed, as an alternative measure to address antenna pattern concerns, that the Commission apply a more relaxed interference standard to stations returning to their NTSC channel (i.e., permit such stations to cause a maximum of 2 percent interference for 12 months after February 2009) to afford these stations the ability to replicate their NTSC coverage. MSTV asserted that the Commission could resolve the antenna pattern issue by adopting these proposals in the Third DTV Periodic Review proceeding. However, MSTV also urges the Commission to grant individual stations' requests for relief if they have filed petitions for reconsideration of the Seventh R&O in this proceeding.

11. As noted above, in the Third DTV Periodic Report and Order we adopted a waiver policy that will permit rapid approval of minor (i.e., not exceeding 5 miles) expansion applications filed by stations that are moving to a different channel (e.g., their analog channel) for post-transition operation. This 5-mile waiver policy will allow added flexibility for stations that wish to use their existing analog antenna and, by permitting more such stations to use existing antennas, should reduce the demand for new equipment and installers for the remainder of the transition period. While we declined in the Third DTV Periodic Report and Order to permit more than 0.5 percent new interference generally, we stated that we would consider on a case-by-case basis allowing stations to cause additional new interference if stations can demonstrate that they need this additional flexibility to serve their analog viewers. We also stated that, consistent with our existing rules, we would consider on a case-by-case basis stations' negotiated interference agreements provided these agreements are consistent with the public interest. We decline to adopt any further relief proposed by MSTV in this proceeding. As we stated in the Third DTV Periodic Report and Order, we believe that the 5-mile waiver policy, together with other policies adopted in that Order, provide sufficient flexibility to stations, especially when combined with the changes to the DTV Table Appendix B we adopt herein for stations that filed petitions for reconsideration.

12. We received a total of 124 timely filed petitions reflecting 221 requests for changes to the DTV Table and/or Appendix B for individual stations. We grant, in whole or in part, 112 of these requests. For these stations, as discussed further below, we are changing Appendix B to either reflect the specific parameters requested by the station for post-transition operation or to otherwise provide the station with substantial relief. For stations for whom the revised Appendix B adopted herein has been changed to reflect the exact parameters sought by the station, these parameters either match a current authorization for the station or the station will presumably file an application for post-transition operation requesting these parameters that will be eligible for expedited processing pursuant to the procedures adopted in the Third DTV Periodic Report and Order. Thus, for these stations there should be no antenna pattern issue left to resolve. With respect to stations for whom the revised Appendix B herein provides some but not all of the relief sought by the station, the flexibility adopted in the Third DTV Periodic Report and Order will permit these stations to file an application for post-transition operation that deviates to some extent from these Appendix B parameters. The combination of the relief provided herein and the flexibility adopted in the Third DTV Periodic Report and Order should be sufficient to address antenna pattern concerns for the vast majority of stations moving to a new channel post transition.

13. We grant MSTV's request that, where stations did not seek reconsideration of discrepancies between Appendix B and the facilities that DTV stations are using or intend to use post-transition, (See Petition for Reconsideration and Clarification of MSTV at 8-9.), they will not be deemed to have given up any rights to fix these discrepancies at the application or licensing stage.

14. It is worthwhile to clarify that the specific parameters listed on DTV Table Appendix B describe each station's service area based on its certification during the channel election process. In many cases this is a hypothetical facility. See Seventh R&O, 22 FCC Rcd at 15588-89, paras. 17-18. When a station applies for the construction permit to build its facility, it may need to depart to some extent from the parameters listed on Appendix B to construct the actual facility, for example, to reflect an achievable directional antenna pattern or to locate the antenna at a height on the tower where mounting is possible. Station applications that cover the same area (or not more than five percent smaller) will be processed quickly. For such stations, no change to Appendix B will be necessary. For stations that wish to make a more significant adjustment, for example, to use their existing analog antenna, we will consider their petition for reconsideration, as described herein, as well as their forthcoming application for construction permit (“CP”). Stations that did not file a petition for reconsideration, or filed too late to be considered, may nevertheless apply for the facilities they want and we will consider their application consistent with the procedures and policies adopted in the Third DTV Periodic Review Report and Order.

2. Protection of DTV Allotments

15. We deny the request of several petitioners to abandon Appendix B and rely exclusively on the DTV Table of Allotments, specifying only communities and channel numbers and not the specific parameters for digital facilities. Contrary to these petitioners' arguments, use of Appendix B is consistent with the Commission's longstanding practice for analog and digital channel allotments.

3. TV Channels 5 and 6

16. Mullaney Engineering, Inc. (“MEI”) and EME Communications (“EME”) have filed petitions requesting that the Commission eliminate the requirement in section 73.525 of the Commission's rules that new FM stations protect channel 6 DTV allotments or, alternatively, that it altogether eliminate channel 6, and possibly channel 5, from the digital TV allotment process and allocate that corresponding spectrum to the FM service. Section 73.525 requires that applications for construction permits for new or modified facilities for a non-commercial educational (“NCE”) FM station on Channels 200-220 (88.1-91.9 MHz) protect affected TV stations operating on channel 6 unless the application is accompanied by a written agreement between the NCE-FM applicant and each affected TV Channel 6 broadcast station concurring with the proposed NCE-FM facilities. See 47 CFR 73.525. Affected stations are defined as TV Channel 6 stations located within specified distances of an NCE-FM station on FM channels 200-220. We deny these requests.

B. Requests for Minor Adjustments

17. In this Memorandum Opinion and Order on Reconsideration, we grant five requests for minor adjustments to station coordinates for stations that are remaining on their pre-transition digital channel. At this stage in the allotment process, we need make such changes only for stations whose pre- and post-transition DTV channels are the same and that, therefore, generally need not file an application for construction or modification. Where the station's pre- and post-transition DTV channels are the same, the corrected coordinates are specified on a station license or construction permit, and the requested change did not result in a change of more than three seconds latitude or longitude for the station, we are making the requested correction. The stations for which we make such a correction are listed in Appendix D1 hereto and the changes requested by those stations are reflected in DTV Table Appendix B adopted herein. We deny the requests for similar changes from nine stations that are moving to a different channel for post-transition operations and that may request such minor coordinate changes as part of the station's application for post-transition facilities. The stations for which we decline to make minor adjustments herein but which may request these adjustments in an application are: KDSE, Dickinson, ND; KFME, Fargo, ND; KUPK, Garden City, KS; WBKO, Bowling Green, KY; WEAU, Eau Claire, WI; WIBW, Topeka, KS; WJHG, Panama City, FL; WSAW, Wausau, WI; and KBSH, Hays, KS. Such minor changes will not prevent applications that otherwise qualify from receiving expedited processing.

18. Some of the stations listed on Appendix D1 requested modification of Appendix B to round a station's geographic coordinates to the nearest whole second rather than merely truncate the data. For such petitioners whose pre- and post-transition channels are the same, and that provided us with station coordinates expressed to the tenth of a second, we have revised DTV Table Appendix B herein to round the coordinates to the nearest whole second.

19. In addition, for five stations we deny the request to change station coordinates because the geographic coordinates as listed in Appendix B match the coordinates listed on the station's license or construction permit. The five stations are KSEE, Fresno, CA; WTAP, Parkersburg, WV; WTVY, Dothan, AL; KKTV, Colorado Springs, CO; WOWT, Omaha, NE. We are revising parameters in Appendix B to match a current license or CP, but any desired adjustment to a license or CP itself must be requested by application. For each of these five stations, the pre- and post-transition DTV channels are the same. Thus, these stations already have an authorization on their post-transition channel and should revise the coordinates on their license or CP by requesting such revisions on FCC Form 302.

C. Requests To Make Changes to Certification

20. We grant 55 petitions consistent with our treatment in the Seventh R&O to permit changes to stations' facility certifications (FCC Form 381) based on appropriate demonstrations from these stations where such changes are consistent with the circumstances contemplated in the Seventh Further Notice. In paragraph 28 of the Seventh Further Notice, the Commission recognized that some stations have already constructed or received authorization to construct facilities on the station's TCD that provide service to areas that extend beyond that to which the station certified on FCC Form 381. Because the interference protection provided during the channel election process was limited to the facilities to which the station certified in FCC Form 381, the Commission noted that stations serving or authorized to serve areas beyond their certified area could become subject to interference in those areas. The Commission stated that it would permit stations in this situation to propose to modify their certified facilities to match their authorized or constructed facilities. Stations requesting such a change were required either to (1) submit an engineering analysis demonstrating that the proposed change to their certified facilities would not result in interference in excess of 0.1 percent to any licensee's existing TCD or (2) submit the signed, written consent of every affected licensee. The Commission also stated in the Seventh Further Notice that stations in these circumstances seeking a change in their certification would be required to accept interference from any channel election already approved.

1. Requests That Meet the Interference Criteria

21. We grant 53 petitions, as we did in the Seventh R&O, to permit stations to change their facility certifications (FCC Form 381), and thus our post-transition DTV Table Appendix B, where such stations have demonstrated in a petition for reconsideration that such modification of their facilities will conform to licensed or authorized facilities and where the proposed change to the Appendix B facilities either meets the interference criterion discussed above (i.e., the proposed change would not result in interference in excess of 0.1 percent to any licensee's existing TCD) or, as discussed further below, the station affected agreed to accept the interference. We have made the changes requested by these petitioners and the changes are reflected in the revised DTV Table Appendix B adopted herein. A list of the stations for which we made these changes is attached hereto in Appendix D2. To address the requests of those commenters in this group whose stations are moving to a different channel for post-transition service, we recalculated their post-transition DTV coverage area based on their authorized or licensed DTV facility, as indicated by the file number shown in Appendix D2. Only one of these stations requires special explanation, KPXC, due to its atypical circumstances.

22. KPXC, Denver, CO. As noted on Appendix D2, we grant the request from Paxson Denver License, Inc. (“Paxson”), licensee of station KPXC-TV, channel 59, and permittee of KPXC-DT, channel 43, Denver, CO, which was allotted channel 43 in the DTV Table in the Seventh R&O. Paxson requests that the KPXC certification and Appendix B allotment be made consistent with its DTV construction permit originally granted on November 29, 2005. While our interference analysis shows that the change requested by KPXC would cause 2.2 percent interference to KOAA, Pueblo, CO (analog channel 5, digital channel 42 for both pre- and post-transition), KOAA has submitted a letter stating that it consents to the allotment change requested by KPXC.

23. As we noted in the Seventh R&O, KPXC has encountered zoning issues that have been the subject of litigation. As Paxson is still lacking zoning approval for its preferred site for KPXC, it has informed the Commission that it will be filing an application to move to a new site. According to Paxson, the combination of the changes to Appendix B for KPXC granted herein and the flexibility adopted in the Third DTV Periodic Report and Order will permit it to file an application to specify a new tower site for KPXC. We continue to request that Paxson keep us informed concerning any relevant progress and events in its zoning case.

2. Requests by Operating Stations That Do Not Meet Interference Criteria

24. We grant requests from two stations, consistent with our treatment in the Seventh R&O, to permit stations that are already operating their final, post-transition DTV facilities to change their facility certifications (FCC Form 381), and thus our post-transition DTV Table Appendix B, to reflect those facilities, even though such operations will exceed the 0.1 percent interference standard. As described below, these stations requested changes to the proposed DTV Table Appendix B to reflect operating facilities where we have determined that the interference caused to the TCD of another licensee exceeds the 0.1 percent interference standard and there is no interference agreement with the affected station. While these stations are requesting changes to the parameters adopted in the Seventh R&O in situations where the level of interference exceeds the relevant standard, we find that they have met their burden of demonstrating that special circumstances justify a waiver because they are already operating their final, post-transition DTV facilities. We believe it is unnecessary and unfair to require these already-operational facilities to reduce service. In addition, the stations receiving the interference have not filed an opposition to the stations requesting the change.

25. WBNX, Akron, OH. We grant the request of Winston Broadcasting Network, Inc. (“Winston”), licensee of station WBNX-TV, channel 55, and WBNX-DT, channel 30, Akron, OH, which was allotted channel 30 in the DTV Table in the Seventh R&O. Winston requests that the parameters for WBNX in Appendix B be changed to conform the antenna ID number to the information reflected in the WBNX-DT license. The Commission's interference analysis shows that WBNX-DT's licensed facility causes 0.16 percent interference to WEYI, Saginaw, MI (analog channel 25, digital channel 30 for both pre- and post-transition).

26. KALB, Alexandria, LA. We grant the request of Media General Communications Holdings, LLC (“Media General”), licensee of station KALB, channel 5, and KALB-DT, channel 35, Alexandria, LA, which was allotted channel 35 in the DTV Table in the Seventh R&O. Media General requests that the certification and Appendix B parameters for KALB be changed. The changes requested would make those parameters consistent with the KALB-DT license. The Commission's interference analysis shows that KALB-DT's licensed facility causes 0.59 percent interference to KARD, West Monroe, LA (analog channel 14, digital channel 36 for both pre- and post-transition).

D. Requests for Modified Coverage Area

27. We grant the requests filed on behalf of 40 stations whose post-transition DTV channel is different from their pre-transition DTV channel to change the coverage area in the Seventh R&O DTV Table Appendix B. The stations for which we are modifying the coverage area herein are listed in Appendix D3 and the modified parameters for those stations are reflected in Appendix B as modified herein. In general, these petitioners argue that the facilities specified in the DTV Table Appendix B adopted in the Seventh R&O do not permit the station to provide service to the area served by the station's analog facility. We deny the requests filed on behalf of 24 stations for which our adjustment would result in a smaller facility than that described by the parameters on Appendix B as adopted in the Seventh R&O or that would shift the station's service area in such a way that existing viewers would lose service post-transition. In addition, we deny the requests filed by 13 stations for which our adjustment to Appendix B would result in impermissible interference. Both groups of petitioners—those granted or denied—can apply for desired facilities in the application process.

28. Many of these petitioners plan to return to their station's analog channel post-transition and request changes to the parameters specified on Appendix B to permit the station to use its existing analog antenna. In general, these petitioners argue that it is difficult or impossible for the station to use their preferred antenna to serve the allotment specified on Appendix B. In many cases, in order to stay within this allotment, as required by the existing freeze on expansion of a station's contour, the station would be required to significantly reduce power, thereby potentially resulting in a loss of service post-transition to existing viewers. Other petitioners request changes to the power level or antenna specified in Appendix B in order to allow the station to continue to serve its analog viewers post-transition.

29. In response to the petitions filed on behalf of these stations, we have provided the same relief herein that we provided to similarly situated stations in the Seventh R&O. Specifically, we have recalculated Appendix B facilities based on replicating the analog coverage that was used to determine the station's initial DTV table facilities. If the recalculation would result in a reduction in the Appendix B facilities or would result in an undesirable shift in the station's service area, we are retaining the Appendix B facilities that we adopted in the Seventh R&O without change. The stations whose Appendix B facilities are not being changed for this reason are: KABY, Aberdeen, SD; KAII, Wailuku, HI; KARE, Minneapolis, MN; KAZT, Prescott, AZ; KETA, Oklahoma City, OK; KFPH, Flagstaff, AZ; KHAW, Hilo, HI; KHET, Honolulu, HI; KMEB, Wailuku, HI; KPNX, Mesa, AZ; KSFY, Sioux Falls, SD; KUSA, Denver, CO; KUVI, Bakersfield, CA; KWEX, San Antonio, TX; WBIR, Knoxville, TN; WEEK, Peoria, IL; WIRT, Hibbing, MN; WMAE, Booneville, MS; WMAZ, Macon, GA; WMMP, Charleston, SC; WNAC, Providence, RI; WOTF, Melbourne, FL; WTVX, Fort Pierce, FL; and WZZM, Grand Rapids, MI. Although we are not revising Appendix B in these latter cases, we note that these stations may be able to obtain much, if not all, of the relief they seek when they file an application for their final post-transition DTV channel pursuant to the rules and procedures adopted in the Third DTV Periodic Report and Order. As discussed above, we adopted a number of policies in that Order designed to give substantial flexibility to stations moving to a different channel for post-transition digital service, including stations that are returning to their analog channel and that plan to use their analog antenna.

30. If our recalculation of Appendix B based on replication of the station's initial DTV table facilities would result in a larger coverage area or a desirable coverage area shift, and our analysis indicates that the recalculated facilities (1) meet the 0.1 percent interference standard specified in the Second DTV Periodic Report and Order or (2) would cause more than 0.1 percent new interference but the affected station(s) agree to accept the interference, we are granting the request to change DTV Appendix B to reflect the larger or shifted coverage area. These stations are listed in Appendix D3, and the revised parameters for these stations are reflected in the revised DTV Table Appendix B, infra. We believe that permitting these changes to Appendix B is consistent with our overall goal in the DTV transition of encouraging replication of analog service. One of the Commission's objectives throughout the transition has been to permit broadcasters to reach with digital service the audiences they have been serving with analog service so that viewers will continue to have access to the stations that they are accustomed to receiving over the air. We remain committed to ensuring that viewers maintain the best possible television service after the transition date. The revisions granted to the stations listed in Appendix D3 are consistent with this goal as they will permit these stations to provide digital service to more of their established analog viewers.

1. Granted Requests for Which an Opposition Was Filed

31. For three stations listed on Appendix D3, WUSA, Washington, DC, WHAS, Louisville, KY, and WPBN, Traverse City, MI, there was an opposition filed to the station's petition for reconsideration. We briefly discuss these oppositions and related pleadings below. As described above, for all stations listed on Appendix D3, including WUSA, WHAS, and WPBN, our recalculation of Appendix B herein resulted in a larger coverage area consistent with our interference standards. Accordingly, we revised Appendix B for these stations to provide them with this larger coverage area. While these revisions to Appendix B may not include the specific parameters requested by WUSA, WHAS, and WPBN in their petitions, the revised Appendix B parameters together with the flexibility adopted in the Third DTV Periodic Report and Order should provide to these stations some, if not all, the relief they seek when they file applications for post-transition facilities.

32. WUSA, Washington, DC. We grant, in part, the request of Gannett Co. Inc. (“Gannett”), indirect owner of WUSA, channel 9, and WUSA-DT, channel 34, Washington, DC, allotted channel 9 in the DTV Table in the Seventh R&O. Gannett submitted a petition for reconsideration requesting to amend the Form 381 certification of WUSA-DT to specify the station's replicated service area rather than the maximized service area in order to permit the station to use an existing combined analog antenna for its post-transition DTV operations. Sonshine Family Television, Inc. (“Sonshine”) filed an opposition to the petition claiming that the proposed revised allotment for WUSA would cause interference to WBPH-DT, Bethlehem, PA (analog channel 60, post-transition digital channel 9) in excess of the applicable interference standard. Sonshine argued initially that the proposed revised WUSA allotment would cause new interference to WBPH of 3.744 percent. In response to a later pleading filed by Gannett, Sonshine revised its position to support the WUSA proposal if certain power limitations were met by the post-transition WUSA facilities. The Commission recalculated Appendix B facilities for WUSA pursuant to the process described above and performed an interference analysis based on these recalculated Appendix B facilities. The Commission's interference analysis shows no new interference from the revised Appendix B facilities for WUSA to WBPH or any other station and the revised WUSA parameters are reflected in the Appendix B adopted herein. While these revised parameters may not reflect all of the changes requested by Gannett, the changes to Appendix B when combined with the flexibility provided in the Third DTV Periodic Report and Order for the application process should provide all or much of the relief sought for WUSA.

33. WHAS, Louisville, KY. We grant, in part, the request of Belo Corp. (“Belo”), licensee of WHAS, channel 11, and WHAS-DT, channel 55, Louisville, KY, allotted channel 11 in the DTV Table in the Seventh R&O. Belo submitted a petition for reconsideration requesting that its Form 381 certification be amended to specify the WHAS replicated analog service area rather than its maximized service area and that Appendix B be modified to reflect an omni-directional antenna pattern that would permit WHAS to use its existing analog omni-directional antenna for post-transition operations. Primeland Television, Inc. filed an opposition arguing that the proposed changes to WHAS are premature and will cause substantial interference to the post-transition operations of WLFI, Lafayette, LA (analog channel 18, post-transition digital channel 11). Primeland also states that WLFI has declined to enter into an interference agreement with WHAS. Belo acknowledges in its petition that its proposed changes to WHAS would cause interference to WLFI-DT, but argues that its proposal actually represents a reduction from the level of interference currently caused to WLFI-TV by WHAS-TV's analog facility. In its opposition, Primeland argues that the facilities specified in the DTV Table concern post-transition operations and that any masking interference caused by WHAS's analog facilities should be disregarded. In reply Belo argues that grant of its petition would best serve the public interest as the changes it requests for WHAS will permit existing analog viewers of that station to receive WHAS digital service, while those changes will not deprive any current analog viewers of WLFI of that station's digital service. The Commission recalculated Appendix B facilities for WHAS pursuant to the process described above and performed an interference analysis based on these recalculated Appendix B facilities. The Commission's interference analysis shows no new interference from the revised Appendix B facilities for WHAS to WLFI or any other station and those revised WHAS parameters are reflected in the Appendix B adopted herein. While these revised parameters may not reflect all of the changes requested by Belo, the changes to Appendix B when combined with the flexibility provided in the Third DTV Periodic Report and Order should provide all or most of the relief sought for WHAS.

34. WPBN, Traverse City, MI. We grant, in part, the petition for reconsideration filed on behalf of WPBN. Barrington Traverse City License LLC, licensee of television station WPBN, channel 7, and WPBN-DT, channel 50, Traverse City, MI, was allotted channel 7 for post-transition operations in the Seventh R&O. In its petition for reconsideration, Barrington seeks revised technical parameters for WPBN's post-transition operations in order to operate at the coordinates and height of its channel 7 analog operation, using its analog antenna.

35. WOOD License Company, LLC, licensee of WOOD-TV/DT in Grand Rapids, Michigan, opposes Barrington's petition on the grounds that granting the requested change for WPBN would cause interference to WOOD's post-transition operations on DTV channel 7, resulting in loss of service to 11,868 persons or 0.52 percent of WOOD's service population. In its reply, Barrington argues that WOOD is incorrect and that the requested allotment for WPBN would actually cause substantially less interference to WOOD-DT post-transition than is caused currently by the WPBN analog facility.

36. The Commission recalculated Appendix B facilities for WPBN pursuant to the process described above and performed an interference analysis based on these recalculated Appendix B facilities. The Commission's interference analysis shows no new interference from the revised Appendix B facilities for WPBN to WOOD or any other station and those revised WPBN parameters are reflected in the Appendix B adopted herein. While these revised parameters may not reflect all of the changes requested by Barrington, the changes to Appendix B when combined with the flexibility provided in the Third DTV Periodic Report and Order should permit Barrington to obtain at least some of the relief it seeks for WPBN.

2. Granted Requests Filed by Stations That Were Previously Addressed in the Seventh Report and Order

37. Petitions for reconsideration were filed on behalf of the following stations requesting reconsideration of the Commission's decisions in the Seventh R&O regarding the stations. The Commission has modified Appendix B herein for these stations and the stations appear on Appendix D3 herein. As these petitions relate to particular decisions made in the Seventh R&O, they are discussed individually below.

38. KCET, Los Angeles, CA. We grant, in part, the petition for reconsideration of Community Television of Southern California (“CTSC”), licensee of NCE station KCET, channel 28, and KCET-DT, channel 59, Los Angeles, CA, which received channel 28 for its TCD in the proposed DTV Table. In its comments filed in response to the Seventh Further Notice, CTSC requested that the Commission change DTV Table Appendix B to specify maximized parameters for KCET-DT. The Commission denied the CTSC request because the KCET maximized facilities would cause interference to the certified facilities of KEYT, Santa Barbara, CA (analog channel 3, post-transition digital channel 27) on its TCD in excess of the permissible 0.1 percent limit. In its petition for reconsideration, CTSC states that it has determined that Appendix B specifies a different antenna than the current KCET analog antenna, which CTSC states is the antenna it has always intended to use for its post-transition facility. CTSC requests that the Commission modify Appendix B to specify its current antenna, which will permit replication of KCET's current NTSC and DTV service areas.

39. The Commission has recalculated the Appendix B facilities for KCET pursuant to the process described above and performed an interference analysis based on these recalculated Appendix B facilities. The Commission's interference analysis shows no new interference to other stations from the revised Appendix B facilities for KCET and, accordingly, we have revised Appendix B herein to reflect these revised KCET parameters. While these revised parameters may not reflect all of the changes requested by CTSC, the changes we make herein to Appendix B when combined with the flexibility provided in the Third DTV Periodic Report and Order should provide all or most of the relief sought for KCET.

40. WGAL, Lancaster, PA. We grant, in part, the petition for reconsideration of Hearst-Argyle Television, Inc. (“Hearst”), parent company of the licensees of WGAL channel 8 and WGAL-DT channel 58, which was allotted channel 8 for post-transition operations in the Seventh R&O. Hearst seeks reconsideration of the Commission's denial of its request to change the certified technical parameters for its post-transition facilities to replicate analog service. Specifically, it reiterates its comments filed in response to the Seventh Further Notice where it requested an increase in HAAT to 415 meters and a decrease in ERP to 5.36kW. In response to these comments, the Commission recalculated WGAL's Appendix B facilities based on replicating its analog coverage area and determined that the recalculation resulted in a reduction in the Appendix B facilities for WGAL. Accordingly, in the Seventh R&O, we retained the larger Appendix B facilities that we had initially proposed for WGAL. Hearst argues in its petition that the Commission erred in its treatment of WGAL in the Seventh R&O because, in fact, the recalculated Appendix B facilities based on replication would result in a larger coverage area for WGAL.

41. As Hearst indicates in its petition that it would prefer a modified coverage area for WGAL even if that coverage area is smaller or shifted from the area on Appendix B, the Commission has recalculated the Appendix B facilities for WGAL pursuant to the process described above and performed an interference analysis based on these recalculated Appendix B facilities. The Commission's interference analysis shows no new interference to other stations from the revised Appendix B facilities for WGAL and, accordingly, we have revised Appendix B herein to reflect these revised parameters.

3. Requests That Do Not Meet the Interference Standard

42. As described in greater detail below, we deny the requests from 13 stations that filed petitions requesting changes to the DTV Table Appendix B adopted in the Seventh R&O to increase the station's coverage area, because our recalculations of the Appendix B facilities and interference analysis show that the requested change would result in interference that would exceed the 0.1 percent interference standard and the affected station has not agreed to accept this interference. None of these petitions request changes to reflect DTV facilities they are operating or are authorized to operate. We note, however, that many of these stations must file an application for authority to construct the station's post-transition facility. As a result of the flexibility adopted in the Third DTV Periodic Report and Order, stations whose requests for modified coverage area are denied may be able to specify facilities in that application that more closely approach the parameters requested in the station's petition for reconsideration. The following is a list of these stations and a description of their individual circumstances.

43. KEMV, Mountain View, AR. We deny the petition for reconsideration filed by Arkansas Educational Television Commission (“AETC”), licensee of noncommercial educational station KEMV, channel 6, and KEMV-DT, channel 13, Mountain View, AR, which was allotted channel 13 for post-transition operations in the DTV Table in the Seventh R&O. AETC requests that the parameters for KEMV-DT in Appendix B be adjusted to include an omnidirectional antenna with an ERP of 6.9 kW. The Commission's interference analysis based on recalculated Appendix B facilities shows that KEMV would cause 0.6 percent interference to KTHV, Little Rock, AR (analog channel 11, digital channel 12 for both pre- and post-transition), 2.1 percent interference KETG, Arkadelphia, AR (analog channel 9, digital channel 13 for both pre- and post-transition), and 0.6 percent interference to WHBQ, Memphis, TN (analog channel 13, pre-transition digital channel 53, post-transition digital channel 13).

44. WBBM, Chicago, IL. We deny the petition for reconsideration filed by CBS Corporation (“CBS”), the ultimate owner of station WBBM, channel 2, and WBBM-DT, channel 3, Chicago, IL. CBS filed a petition for reconsideration of the Seventh R&O requesting that the parameters for WBBM-DT in Appendix B be adjusted to reflect operation with a directional antenna and an increase in ERP to 13.6 kW to nearly match the carried-over, maximized service contour of WBBM's channel 3 authorized operations. The Commission's interference analysis based on recalculated Appendix B facilities shows that WBBM would cause 0.4 percent interference to WINM, Angola, IN (analog channel 63, digital channel 12 for both pre- and post-transition).

45. KTVU, Oakland, CA. We deny the petition for reconsideration filed by KTVU Partnership (“Cox”), licensee of KTVU, channel 2, and KTVU-DT, channel 56, Oakland, CA. KTVU was allotted channel 44 for post-transition operations in the DTV Table in the Seventh R&O. Cox requests a change in certified facilities and a revision of KTVU-DT's allotment in Appendix B to reflect operation with a directional antenna, a decrease in ERP to 500 kW, and an increase in HAAT to 513 meters. The Commission's interference analysis based on recalculated Appendix B facilities shows that KTVU would cause 0.6 percent interference to KCSM, San Mateo, CA (analog channel 60, digital channel 43 for both pre- and post-transition) and 0.4 percent interference to KBCW, San Francisco, CA (analog channel 44, digital channel 45 for both pre- and post-transition).

46. WTOV, Steubenville, OH. We deny the petition for reconsideration of WTOV, Inc. (“Cox”), licensee of WTOV, channel 9, and WTOV-DT, channel 57, Steubenville, Ohio. WTOV was allotted channel 9 for post-transition operations in the DTV Table in the Seventh R&O. Cox requests a change in certified facilities and a revision of WTOV-DT's allotment in Appendix B to reflect operation with a nondirectional antenna, an increase in ERP to 12 kW, and an increase in HAAT to 282 meters. The Commission's interference analysis based on recalculated Appendix B facilities shows that WTOV would cause 2.9 percent interference to WWCP, Johnstown, PA (analog channel 8, pre-transition digital channel 29, and post-transition digital channel 8) and 0.6 percent interference to WVFX, Clarksburg, West Virginia (analog channel 46, digital channel 10 for both pre- and post-transition).

47. WKRG, Mobile, AL. We deny the petition for reconsideration of Media General Communications Holdings, LLC (“Media General”), licensee of WKRG, channel 5, and WKRG-DT, channel 27, Mobile, AL. WKRG was allotted channel 27 for post-transition operations in the DTV Table in the Seventh R&O. Media General requests a change in the certification for WKRG and a revision of the station's allotment in Appendix B to reflect operation with a new antenna ID. The Commission's interference analysis based on recalculated Appendix B facilities shows that WKRG would cause 1.0 percent interference to WAIQ, Montgomery, AL (analog channel 26, digital channel 27 for both pre- and post-transition).

48. WRBL, Columbus, GA. We deny the petition for reconsideration Media General Communications Holdings, LLC (“Media General”), licensee of WRBL, channel 3, and WRBL-DT, channel 15, Columbus, GA. WRBL was allotted channel 15 for post-transition operations in the DTV Table in the Seventh R&O. Media General requests a change in the certification for WRBL and a revision of the station's allotment in Appendix B to reflect operation with an increased HAAT of 543 meters. The Commission's interference analysis based upon the recalculated Appendix B facilities for WRBL shows that WRBL would cause 0.2 percent interference to WGXA, Macon, GA (analog channel 24, digital channel 16 for both pre- and post-transition).

49. WKMG, Orlando, FL. We deny the petition for reconsideration of Post-Newsweek Stations, Orlando, Inc. (“Post-Newsweek”), licensee of WKMG, channel 6, and WKMG-DT, channel 58, Orlando, FL. WKMG was allotted channel 26 for post-transition operations in the DTV Table in the Seventh R&O. Post-Newsweek requests that its post transition DTV allotment parameters be modified to reflect use of a polarized dielectric antenna with an ERP of 866 kW. The Commission's interference analysis based on recalculated Appendix B facilities shows that WKMG would cause 0.9 percent interference to WVEA, Venice, FL (analog channel 62, digital channel 25 for both pre- and post-transition) and 0.2 percent interference to WRDQ, Orlando, FL (analog channel 27, pre-transition digital channel 14, post-transition digital channel 27).

50. WAFB, Baton Rouge, LA. We deny the petition for reconsideration of Raycom Media, Inc. (“Raycom”), licensee of WAFB, channel 9, and WAFB-DT, channel 46, Baton Rouge, LA. WAFB was allotted channel 9 for post-transition operations in the DTV Table in the Seventh R&O. Raycom requests that Appendix B be revised to reflect use of WAFB's existing analog omnidirectional antenna. The Commission's interference analysis based on recalculated Appendix B facilities shows that WAFB would cause 1.0 percent interference to WVUE, New Orleans, LA (analog channel 8, pre-transition digital channel 29, post-transition digital channel 8) and 12.9 percent interference to KLFY, Lafayette, LA (analog channel 10, pre-transition digital channel 56, post-transition digital channel 10).

51. WITV, Charleston, SC. We deny the petition for reconsideration filed by South Carolina Educational Television Commission (“SCETV”), licensee of WITV, channel 7, and WITV-DT, channel 49, Charleston, SC. WITV was allotted channel 7 for post-transition operations in the DTV Table in the Seventh R&O. SCETV requests an increase in ERP to 20 kW to aid the station in replicating its analog coverage. The Commission's interference analysis based on recalculated Appendix B facilities shows that WITV would cause 0.2 percent interference to WOLO, Columbia, SC (analog channel 25, digital channel 8 for both pre- and post-transition).

52. WFUT, Newark, NJ. We deny the petition for reconsideration of Univision New York LLC (“Univision”), licensee of WFUT, channel 68, and WFUT-DT, channel 53, Newark, NJ, which was allotted channel 30 for post-transition operations in the DTV Table in the Seventh R&O. Univision requests an increase in ERP and a change to the WFUT antenna radiation pattern to aid the station in replicating the WFUT-DT coverage area. The Commission's interference analysis based on recalculated Appendix B facilities shows that WFUT would cause 0.2 percent interference to WFME, West Milford, NJ (analog channel 66, digital channel 29 for both pre- and post-transition).

53. WDEF, Chattanooga, TN. We deny the petition for reconsideration filed by WDEF-TV, Inc. (“WDEF”), licensee of WDEF, channel 12, and WDEF-DT, channel 47, Chattanooga, TN. WDEF was allotted channel 12 for post-transition operations in the DTV Table in the Seventh R&O. WDEF requests use of its existing nondirectional antenna with a decrease in ERP to 13 kW. The Commission's interference analysis based on recalculated Appendix B facilities shows that WDEF would cause 0.5 percent interference to WRCB, Chattanooga, TN (analog channel 3, digital channel 13 for both pre- and post-transition).

54. WWBT, Richmond, VA. We deny the petition for reconsideration filed by WWBT, Inc. (“WWBT”), licensee of WWBT, channel 12, and WWBT-DT, channel 54, Richmond, VA. WWBT was allotted channel 12 for post-transition operations in the DTV Table in the Seventh R&O. WWBT requests an increase in ERP to 12.1 kW. Although WWBT could cause up to 2 percent interference because it is a station with a pre-transition digital allotment out of core that is moving to its analog channel, the Commission's interference analysis based on recalculated Appendix B facilities shows that WWBT would cause 3.0 percent interference to WVEC, Chattanooga, TN (analog channel 13, pre-transition digital channel 41, post-transition digital channel 13).

55. KAAL, Austin, MN. We deny the petition for reconsideration of Hubbard Broadcasting Inc. (“Hubbard”), licensee of station KAAL-TV, channel 6, and KAAL-DT, channel 33, Austin, MN. KAAL was allotted channel 36 for post-transition operations in the Seventh R&O. In its petition for reconsideration, Hubbard requests that it be permitted to operate post-transition using the existing channel 36 facilities of station KTTC-DT, Rochester, MN (analog channel 10, pre-transition digital channel 36, post-transition digital channel 10). We find that KTTC's facilities are roughly 30 miles from KAAL's current tower and that KTTC is licensed to a different community (Rochester, MN instead of Austin, MN). Both findings indicate that it would be difficult for KAAL to properly serve Austin. In addition, the Commission's interference analysis based on recalculated Appendix B facilities that KAAL would cause 0.40 percent interference to KWSD, Sioux Falls, SD (analog channel 36, pre-transition digital channel 51, and post-transition digital channel 36).

E. Requests for Alternative Channel Assignments

56. We received 13 requests for an alternative channel assignment. We grant herein eight of these requests and deny five requests, consistent with our treatment of such channel change requests in the Seventh R&O. A list of the stations for which we are granting a change appears in Appendix D4, infra, and we have revised the DTV Table for these stations accordingly. For each of these stations, we believe that the circumstances described by the station are consistent with one or more of the criteria for consideration of alternative channel assignments outlined in the Seventh Further Notice. Each of these requested channel changes granted herein and listed on Appendix D4 meets the 0.1 percent interference standard.

57. The Commission stated that any request for an alternative channel assignment must either meet the 0.1 percent additional interference standard or be accompanied by a request for a waiver of the 0.1 percent limit or the signed written consent of the affected licensee. The Commission stated that it would grant waivers of the 0.1 percent limit where doing so would promote overall spectrum efficiency and ensure the best possible service to the public, including service to local communities.

58. We deny the channel change requests of five stations. As discussed further below, for three of these stations the Commission's interference analysis shows that the new channel requested by the station would cause interference to one or more other stations in excess of the 0.1 percent standard, and there is no agreement with the affected station(s) accepting this interference. In one case where the interference standard is exceeded, that of KCWX, Fredericksburg, TX, the petition for reconsideration was opposed. As discussed below, we decline to waive our interference limit for these stations. In addition, we decline to grant the channel change request of two stations that filed their requests too late for consideration in this Memorandum Opinion and Order on Reconsideration. Following is a brief discussion of these stations and the relevant circumstances.

59. WCOV, Montgomery, AL. We deny the petition for reconsideration filed on behalf of WCOV. Woods Communications Corporation (“Woods”), licensee of station WCOV, channel 20, and WCOV-DT, channel 16, Montgomery, AL, elected and was allotted channel 16 for post-transition operations in the Seventh R&O. In its petition for reconsideration, Woods requests the substitution of channel 20 for its final, post-transition digital channel in the Table of Allotments. The Commission's interference analysis shows that the proposed operation of WCOV on channel 20 would cause 0.40 percent interference to WIIQ, Demopolis, AL (analog channel 41, digital channel 19 for both pre- and post-transition), 0.17 percent interference to WTBS, Atlanta, GA (analog channel 17, digital channel 20 for both pre- and post-transition), 0.45 percent interference to WMPV, Mobile, AL (analog channel 21, digital channel 20 for both pre- and post-transition), 0.31 percent interference to WYLE, Florence, AL (analog channel 26, digital channel 20 for both pre- and post-transition), and 0.23 percent interference to WDHN, Dothan, AL (analog channel 18, digital channel 21 for both pre- and post-transition). Because the proposed channel substitution causes impermissible interference to five other stations, we deny Woods' request for channel change for WCOV. Woods has submitted neither evidence of agreement from the stations receiving the interference nor a request for waiver. WCOV may file a request for a channel substitution when the Commission lifts the filing freeze. The 0.5 percent interference standard adopted in the Third DTV Periodic Report and Order will apply to such requests for channel substitution.

60. WWAZ, Fond du Lac, WI. We deny the channel change request of WWAZ because the basis it offers for the request, financial need, is not a basis for a channel change. WWAZ License, LLC (“WWAZ”), licensee of station WWAZ, channel 68, and WWAZ-DT, channel 44, Fond du Lac, WI, was allotted channel 44 for post-transition operations in the Seventh R&O. WWAZ requests the substitution of channel 9 for its final, post-transition digital channel in the Table of Allotments. The Commission's interference analysis shows that the requested channel change would cause 1.45 percent interference to WMVS, Milwaukee, WI (analog channel 10, digital channel 8 for both pre- and post-transition), and 2.19 percent interference to WAOW, Wausau, WI (analog channel 9, pre-transition digital channel 29, and post-transition digital channel 9). In view of the impermissible interference caused by the proposed WWAZ channel substitution to two other stations, we deny its channel substitution request and decline to waive our interference standard. WWAZ may request a channel substitution after the freeze is lifted.

61. KCWX, Fredericksburg, TX. We deny the petition for reconsideration filed on behalf of KCWX. Corridor Television, LLP is the licensee of KCWX-DT, Fredericksburg, Texas, a single channel analog station on Channel 2. In the Seventh Report and Order, the Commission denied Corridor's request to change its DTV channel from 5 to channel 8. finding that the change would cause 0.79 percent interference to KTBC, Austin, Texas (analog channel 7, post-transition digital channel 7) and 0.47 percent interference to NCE station KLRN, San Antonio, Texas (analog channel 9, post-transition digital channel 9). In its petition for reconsideration, Corridor amends its request for channel change specifying a proposal with 15 kW non-directional ERP at 413 meters HAAT. Although Corridor acknowledges that its channel change would still result in greater than 0.1 percent interference, Corridor again requests a waiver pending adoption of the Commission's proposed 0.5 percent DTV interference standard in the Third DTV Periodic Review proceeding. Alamo and KTBC both oppose Corridor's revised request for channel change. Both argue that the issue of a channel change was already considered in the Seventh R&O and was properly denied because the Commission found that it would cause impermissible interference to KLRN and KTBC. They point out that Corridor's new proposal also would cause impermissible interference to their stations.

62. We note that Corridor does not challenge the denial of its original channel change proposal but rather it introduces a new proposal with revised technical parameters. The parameters requested by Corridor in its petition are not consistent with replication of its analog coverage contour, which is the coverage to which it certified on FCC Form 381. Accordingly, the revised channel change proposal cannot be considered in this proceeding. Once the freeze is lifted with respect to channel substitutions, Corridor may submit a petition for rulemaking and request that channel 8 be substituted for channel 5 for KCWX-DT. Corridor may request specific parameters for its proposed channel 8 operations at that time, and the channel substitution will be examined under the 0.5 percent interference standard. Corridor acknowledges that its revised channel change proposal does not comply with our 0.1 percent interference limit with respect to KTBC and KLRN. Corridor claims that its revised channel change proposal complies with the new 0.5 percent DTV interference standard recently adopted in the Third DTV Periodic Review Report and Order. However, the 0.5 percent interference proposal is not the standard for revisions to Appendix B. Rather, the 0.5 percent standard was adopted in the Third DTV Periodic Review Report and Order to apply to post-transition modifications.

63. KMBC, Kansas City, MO. We deny the petition for reconsideration filed on behalf of KMBC. KMBC Hearst-Argyle Television, Inc. (“Hearst”), licensee of station KMBC, channel 9, and KMBC-DT, channel 7, Kansas City, MO, was allotted channel 9 for post-transition operations in the Seventh R&O. Hearst requests the substitution of channel 29 for its assigned channel 9 in the DTV Table of Allotments. Because Hearst's petition was filed after the statutory deadline, it cannot be considered in this Memorandum Opinion and Order on Reconsideration.

64. WFXS, Wittenberg, WI. We deny the petition for reconsideration filed on behalf of WFXS. Davis Television Wausau, LLC (“Davis”), licensee of WFXS, channel 55, and WFXS-DT, post-transition channel 50, Wittenberg, WI, requested leave to file a late petition for reconsideration requesting the substitution of DTV channel 31 for DTV channel 50. Davis' Petition was filed too late to be considered in this proceeding but the petitioner may file a request for channel substitution after the freeze is lifted.

F. Changes That Should Be Requested During the Application Process

65. We deny the petitions for reconsideration filed on behalf of 53 stations whose requests are not consistent with the types of allotment changes covered in the Seventh Further Notice for this DTV Table proceeding. These stations are listed on Appendix D5 herein. The changes requested for these stations can be requested in an application filed pursuant to the policies and procedures adopted in the Third DTV Periodic Report and Order. These requests are not for modification of the coverage area defined by the DTV Table Appendix B to match authorized or licensed coverage. Instead, these stations generally state in their petitions that they do not want or may not be able to construct the precise facilities specified in the proposed DTV Table Appendix B. We conclude that the stations identified in Appendix D5 can use the application process to request the facility they seek to build. In addition, those seeking to expand their facilities beyond the service area described by the Appendix B parameters can file requests to maximize their facilities when the freeze on such filings is lifted later this year.

66. Stations listed in Appendix D5 should use Form 301 or 340 to apply to construct or modify their post-transition facilities, consistent with the procedures and standards for such applications adopted in the Third DTV Periodic Report and Order, including compliance with the interference standard and filing freeze. As discussed above, the rules and procedures adopted in that Order provide significant regulatory flexibility to many stations, particularly stations moving to a different channel for post-transition operations, and permit all stations to file applications for facilities that differ to some extent from the parameters specified in DTV Table Appendix B.

67. Stations have begun filing their applications for a CP on their final DTV channel now, and we encourage all stations to file their applications as soon as possible. Although stations that filed petitions for reconsideration are permitted to file their applications before their petitions are resolved, we recognize that many of these stations may have waited to see how the Commission would address their request. Therefore, stations that filed petitions for reconsideration may receive expedited processing provided they file no later than April 21, 2008, which is 45 days from the release of this Memorandum Opinion and Order. Stations that do not seek expedited processing or whose applications do not meet the criteria for expedited processing still must file their applications soon. As specified in the Public Notice issued on January 30, 2008, most stations filing an application for a construction permit must file the application by June 19, 2008 at the latest. However, stations with a construction deadline of August 18, 2008 must file by March 17, 2008 at the latest.

68. Stations listed on Appendix D5 fall into three categories. First, some stations that are moving to a different channel post-transition filed petitions requesting relatively minor adjustments to the station's parameters identified in Appendix B. For some stations, the requested change represents a change to the station's coordinates of three seconds or less latitude or longitude. These kinds of requests for facilities that deviate only slightly the parameters reflected on Appendix B can be easily accommodated during the application process. As discussed in Section III.B. above, while we made these kinds of minor adjustments on Appendix D1 herein for stations whose pre- and post-transition DTV channels are the same, we are requiring that stations moving to a different channel for post-transition operation make these requests for minor adjustments as part of their application for their post-transition channel. Other stations in this category request changes to the station's coordinates of slightly more than three seconds latitude or longitude or request relatively minor changes to other station parameters. These relatively minor deviations from Appendix B can also be accommodated as part of the license application process for these stations.

69. Second, many of the stations denied revisions to Appendix B requested changes that would violate the freeze on maximizations. Some of these stations, particularly those that are seeking to serve their current analog viewers, may be able to increase their coverage area during the application process. Others will be able to apply for a larger coverage area when the Commission lifts its filing freeze later this year. In the Third DTV Periodic Report and Order, the Commission announced its intent to lift the freeze on the filing of maximization applications on August 17, 2008, the date by which we expect to have completed processing stations' applications to build their post-transition facilities. Until that date, we will maintain the freeze and will not accept maximization applications to expand facilities, except pursuant to the 5-mile waiver policy for stations that are moving to a different channel for post-transition operations.

70. Third, the petitions for reconsideration filed on behalf of KFNR, Rawlins, WY; KGWL, Lander, WY; and KTWO, Casper, WY request that the facilities described on Appendix B for these stations be revised to reduce the stations' coverage area. These stations must file an application requesting a modification of their CP. In the Third DTV Periodic Report and Order, the Commission stated that it would provide expedited processing to applications for facilities that are no more than five percent smaller than the facility specified in Appendix B with respect to predicted population, and that meet the other criteria for expedited processing.

71. In addition to the stations listed on Appendix D5, we note that in Section III.D., supra, we declined to modify the coverage area for a number of stations that filed petitions requesting changes to the station's coverage area as defined in Appendix B. Stations for which we did not make changes to Appendix B in Section III.D. herein and that are moving to a different channel for post-transition operations must file an application for post-transition facilities. As a result of the flexibility adopted in the Third DTV Periodic Report and Order, these stations may be able to obtain some or all of the relief they seek through the application process.

72. The petitions for reconsideration filed on behalf of the following stations require individual discussion. In some cases, the petition was opposed. In other cases, the petition requests reconsideration of a Commission decision in the Seventh R&O regarding the station, or requests changes to Appendix B in addition to those granted in the Seventh R&O.

73. WPVI, Philadelphia, PA. We deny the petition for reconsideration filed on behalf of WPVI. WPVI, which is licensed on analog channel 6 and pre-transition DTV channel 64, was allotted channel 6 for post-transition operations. In the Seventh R&O, the Commission modified WPVI's Appendix B facilities to help WPVI replicate its analog Grade B coverage area. The Walt Disney Company (“Disney”) filed a petition for reconsideration requesting that the FCC permit WPVI to use its present analog antenna with parameters that meet the 0.1 percent interference standard applicable to Appendix B.

74. The parameters specified on Appendix B for WPVI (ERP of 6.22 kW and HAAT of 332 meters) were revised in the Seventh R&O to the maximum amount consistent with replication of the station's analog contour and the 0.1 percent interference standard. Disney is requesting further changes for WPVI that should be requested in that station's application for post-transition facilities. It appears that the requested changes can be accommodated at the application stage.

75. KHAS, Hastings, NE and KNOP, North Platte, NE. We deny the petition for reconsideration filed on behalf of KHAS and KNOP. KHAS, which is licensed on analog channel 5 and pre-transition DTV channel 21, was allotted channel 5 for post-transition operations. KNOP, which is licensed on analog channel 2 and pre-transition DTV channel 22, was allotted channel 2 for post-transition operations. Hoak Media, LLC filed a petition for reconsideration of the Seventh R&O for these stations stating that, while the Appendix B facilities adopted in the Order may permit KHAS and KNOP to replicate, reconsideration is necessary because the Commission did not address Hoak's request for additional power for these stations.

76. The parameters specified on Appendix B for KHAS (ERP of 6.78 kW and HAAT of 223 meters) and KNOP (ERP of 6.75 kW and HAAT of 192 meters) were revised in the Seventh R&O to the maximum amount consistent with replication of the station's analog contour and the 0.1 percent interference standard. As a result of the flexibility adopted in the Third DTV Periodic Report and Order, Hoak will be able to apply for at least some of the changes it seeks when it files its application for post-transition facilities for these stations. To the extent that Hoak seeks additional relief for KHAS and KNOP that cannot be accommodated during the application process, Hoak may file an application for increased facilities once the Commission lifts its filing freeze.

77. WDSE, Duluth, MN. We deny the petition for reconsideration filed on behalf of WDSE. WDSE, which is licensed on analog channel 8 and pre-transition DTV channel 38, was allotted channel 8 for post-transition operations. In the Seventh R&O, the Commission modified the WDSE Appendix B facilities to help this station replicate its analog Grade B coverage area. Duluth-Superior Area Educational Television Corporation (“Duluth-Superior”) filed a petition for reconsideration of the Seventh R&O stating that while the Commission purported to grant its request to change the coverage area of WDSE in that Order, the revised Appendix B does not reflect the requested operating parameters.

78. The parameters specified on Appendix B for WDSE (ERP of 17.4 kW and HAAT of 290 meters) were revised in the Seventh R&O to the maximum amount consistent with replication of the station's analog contour and the 0.1 percent interference standard. The further changes requested by WDSE should be requested in the station's application for post-transition facilities. It appears that the requested changes can be accommodated at the application stage, especially in view of the flexibility adopted in the Third DTV Periodic Report and Order.

79. KUAC, Fairbanks, AK. We deny the petition for reconsideration filed on behalf of KUAC. KUAC, which is licensed on analog channel 9 and pre-transition DTV channel 24, was allotted channel 9 for post-transition operations. In the Seventh R&O, the Commission modified the KUAC Appendix B facilities in order to help this station replicate its analog Grade B coverage area. The University of Alaska (“University”) filed a petition for reconsideration of the Seventh R&O requesting that the Commission revise Appendix B to increase HAAT and ERP for KUAC and to change the antenna ID to permit use of the station's existing non-directional antenna.

80. The parameters specified on Appendix B for KUAC (ERP of 3.2 kW and HAAT of 152 meters) were revised in the Seventh R&O to the maximum amount consistent with replication of the station's analog contour and the 0.1 percent interference standard. As a result of the flexibility adopted in the Third DTV Periodic Report and Order, the University will be able to apply for at least some of the changes it seeks when it files its application for post-transition facilities for this station. To the extent that the University seeks additional relief for KUAC that cannot be accommodated during the application process, the University may file an application for increased facilities once the Commission lifts its filing freeze.

81. KUHT, Houston, TX. We deny the petition for reconsideration filed on behalf of KUHT. KUHT, which is licensed on analog channel 8 and pre-transition DTV channel 9, was allotted channel 8 for post-transition operations. In the Seventh R&O, the Commission modified the KUHT Appendix B facilities by increasing ERP to help this station replicate its analog Grade B coverage area. The University of Houston System (“UHS”) filed a petition for reconsideration of the Seventh R&O requesting that the Commission revise Appendix B to change the antenna ID for KUHT to permit use of the station's existing directional analog antenna.

82. The parameters specified on Appendix B for KUHT (ERP of 21.9 kW and HAAT of 564 meters) were revised in the Seventh R&O to the maximum amount consistent with replication of the station's analog contour and the 0.1 percent interference standard. As a result of the flexibility adopted in the Third DTV Periodic Report and Order, UHS will be able to apply for at least some of the changes it seeks when it files its application for post-transition facilities for KUHT. To the extent that UHS seeks additional relief that cannot be accommodated during the application process, it may file an application for increased facilities once the Commission lifts its filing freeze.

83. KNRR, Pembina, ND. We deny the petition for reconsideration filed on behalf of KNRR. KNRR, which is licensed on analog channel 12 and pre-transition DTV channel 15, was allotted channel 12 for post-transition operations. In the Seventh R&O, the Commission declined to modify the coverage area for KNRR on Appendix B because it determined that, if it recalculated Appendix B facilities for the station based on replicating the station's analog coverage that was used to determine their initial DTV facilities, the recalculated service area would be smaller than the Appendix B service area. Red River Broadcast Co., LLC (“Red River”) filed a petition for reconsideration of the Seventh R&O requesting that the Commission revise Appendix B to reduce the facilities for KNRR by changing the ERP and HAAT.

84. We decline to make the changes to Appendix B requested by KNRR because it can accomplish what it seeks when it files its application for post-transition facilities for KNRR. In addition, by retaining the larger Appendix B facilities for the station, KNRR will ultimately have more flexibility to make changes for KNRR in the future. When it files its application for post-transition facilities on channel 12, KNRR should make its request for new parameters at that time.

85. KBRR, Thief River Falls, MN. We deny the petition for reconsideration filed on behalf of KBRR. KBRR, a full-power satellite station, is licensed on analog channel 10 and has been issued a CP for channel 32 for pre-transition DTV facilities. KBRR was allotted channel 10 for post-transition operations. In the Seventh R&O, the Commission declined to modify the coverage area for KBRR on Appendix B because it determined that, if it recalculated Appendix B facilities for the station based on replicating the station's analog coverage that was used to determine their initial DTV facilities, the recalculated service area would be smaller than the Appendix B service area. Red River Broadcast Co., LLC (“Red River”) filed a petition for reconsideration of the Seventh R&O requesting that the Commission revise Appendix B to change the ERP, HAAT, and antenna information for KBRR.

86. Red River is requesting changes for KBRR that should be requested in that station's application for post-transition facilities. The requested changes can be accommodated at the application stage to the extent they are consistent with the coverage expansion and interference criteria adopted in the Third DTV Periodic Report and Order.

87. WEDU, Tampa, FL. We deny the petition for reconsideration filed on behalf of noncommercial educational station WEDU. WEDU, which is licensed on analog channel 3 and pre-transition DTV channel 54, was allotted channel 13 for post-transition operations. In the Seventh R&O, the Commission declined to modify the coverage area for WEDU on Appendix B because our recalculation of the Appendix B facilities and subsequent interference analysis showed that the requested change would result in interference in excess of the 0.1 percent interference standard. Florida West Coast Public Broadcasting, Inc. (“FWCPB”) filed a petition for reconsideration of the Seventh R&O requesting that the Commission change the antenna ID in Appendix B to specify an omnidirectional antenna.

88. FWCPB is requesting changes for WEDU that should be requested in that station's application for post-transition facilities. The requested changes can be accommodated at the application stage to the extent they are consistent with the coverage expansion and interference criteria adopted in the Third DTV Periodic Report and Order.

89. KETZ, El Dorado, AR. We deny the petition for reconsideration filed on behalf of DTV singleton station KETZ. KETZ is licensed on pre-transition DTV channel 12 and was allotted channel 10 for post-transition operations. In the Seventh R&O, the Commission granted KETZ's request to change its TCD from 12 to 10. The Arkansas Educational Television Commission (“AETC”) filed a petition for reconsideration requesting that Appendix B be revised to specify an omnidirectional antenna for KETZ.

90. The parameters specified on Appendix B for KETZ were revised in the Seventh R&O to permit KETZ to change its TCD to 10 consistent with replication of the station's certified coverage area and the 0.1 percent interference standard. As a result of the flexibility adopted in the Third DTV Periodic Report and Order, AETC will be able to apply for at least some of the additional coverage area it seeks when it files its application for post-transition facilities for KETZ. To the extent that AETC seeks additional relief that cannot be accommodated during the application process, it may file an application for increased facilities once the Commission lifts its filing freeze.

91. KCBS, Los Angeles, CA. We deny the petition for reconsideration filed by KCBS. KCBS, which is licensed on analog channel 2 and pre-transition DTV channel 60, was allotted channel 43 for post-transition operations. CBS Corporation filed a petition for reconsideration of our decision in the Seventh R&O directing that the station should request the changes it seeks in an application to construct or modify post-transition facilities. CBS requests that the parameters in the DTV Table Appendix B for KCBS be changed to correspond to those specified in the co-owned KCAL construction permit.

92. The parameters sought by CBS for KCBS are those authorized for another station, KCAL. While the two stations are co-owned, that relationship does not confer on KCBS the right to expand its coverage area beyond the area to which it certified in FCC Form 381. We reaffirm our decision in the Seventh R&O that KCBS should use the application process to request the facility it wishes to operate post-transition. As indicated above, as a result of the regulatory flexibility adopted in the Third DTV Periodic Report and Order, KCBS may be able to obtain part, if not all, of the relief it seeks through the application process. KCBS may request additional expansion when we lift the freeze on maximization requests later this year. Our decision does not prevent KCBS from using the KCAL site and equipment; rather, we are ensuring that KCBS does not use these facilities to expand beyond its authorization and thus step ahead of other stations that are waiting for the proper time to request to maximize.

93. KTCI, St. Paul, MN. We deny the petition for reconsideration filed by Twin Cities Public Television (“Twin Cities”), licensee of KTCI, channel 17, and KTCI-DT, channel 16, St. Paul, MN, which was allotted channel 26 in the DTV Table in the Seventh R&O. Although we deny the request to revise Appendix B, we generally agree with Twin Cities that KTCI-DT should be able to operate using the KMSP-DT tower and antenna. Rather, we deny the petition because we continue to believe that Twin Cities will be able to achieve its goal of serving its current service area with the KMSP-DT antenna, albeit at a much lower power through the CP application process. We do not find it necessary to revise Appendix B to reach this result.

94. In its petition for reconsideration, Twin Cities argues that the Commission should have permitted its proposed changes to the Appendix B facility of KTCI-DT. Twin Cities argues that requiring it to await Commission action on its application for a construction permit to modify Station KTCI-DT's facilities “will create unnecessary uncertainty in the transition process, contrary to the Commission's stated goals throughout the transition.” The State of Wisconsin Educational Communications Board (State of Wisconsin), licensee of WHWC-DT, Menomonie, Wisconsin, opposes Twin Cities' petition for reconsideration. State of Wisconsin maintains that Twin Cities' proposed changes to the Appendix B facilities of KTCI-DT would result in prohibited 14.9 percent interference to WHWC-DT. Twin Cities responds that its requested changes to the Appendix B facilities of KTCI-DT do not create new post-transition interference to WHWC-DT. Rather, Twin Cities maintains that WHWC-DT currently receives 22.5 percent interference from KMSP-DT, channel 26. Twin Cities argues that its proposal, which seeks to use the same antenna and antenna pattern as KMSP-DT, will use less than 10 percent of the power and would decrease from 22.5 percent to 14.9 percent the amount of interference that WHWC-DT, channel 27 receives from “existing analog and DTV operations.”

95. While we do not disagree with Twin Cities' arguments with respect to interference to WHWC-DT, we are not persuaded that we should reverse our decision in the Seventh R&O. We reaffirm that the appropriate next step would be for Twin Cities to submit an application for its post-transition channel 26 based upon the facility described in Appendix B. In that application, Twin Cities may specify the pre-transition channel 26 technical facilities of KMSP-DT and that proposal will be examined. Pursuant to the procedures recently adopted in the Third DTV Periodic Review Report and Order, Twin Cities, as a station whose post-transition channel is different from its pre-transition DTV channel, may avail itself of the “five mile” waiver policy and the 0.5 percent interference standard.

96. WCAX, Burlington, VT. We deny the petition for reconsideration filed on behalf of WCAX. WCAX, which is licensed on analog channel 3 and pre-transition DTV channel 53, was allotted channel 22 for post-transition operations. In the Seventh R&O, the Commission modified the WCAX Appendix B facilities to help this station replicate its analog Grade B coverage area. Mt. Mansfield Television, Inc. (“Mt. Mansfield”) filed a petition for reconsideration stating that its election of channel 22 required extensive coordination with Canada which led to a solution in 2005 specifying certain parameters for WCAX. Mt. Mansfield requests that Appendix B be revised to reflect the parameters approved by Canada.

97. We modified Appendix B in the Seventh R&O to provide WCAX with the largest coverage area consistent with replication of its analog service area. We recognize that Canada has agreed to permit WCAX to serve a slightly different coverage area than that described on Appendix B, and when WCAX files its application for post-transition operations on channel 22, it may apply to match that different coverage area, including an increase in its coverage area to the extent it is consistent with the flexibility provided to all stations moving to a new channel in the Third DTV Periodic Report and Order.

98. KVEA, Corona, CA. We deny the petition for reconsideration filed by KVEA. KVEA, which is licensed on analog channel 52 and pre-transition DTV channel 39, was allotted channel 39 for post-transition operations. In the Seventh R&O, the Commission granted KVEA's request for minor adjustment to the station's coordinates as listed on Appendix B. NBC Telemundo License Co. (“NBC Telemundo”) filed a petition for reconsideration proposing that the Commission waive the current freeze and approve an increase in KVEA's ERP at any time after February 17, 2008.

99. NBC Telemundo acknowledges that its requested change for KVEA would violate the freeze on maximizations. It is possible that KVEA could increase its coverage area during the application process. Otherwise, KVEA must wait to request additional expansion until the Commission lifts its filing freeze later this year.

G. Stations Not Eligible to Participate in the Channel Election Process

100. Pappas Telecasting of America and South Central Communications Corporation. We deny the petition for reconsideration filed by Pappas Telecasting of America (“Pappas”) and South Central Communications Corporation (“SCCC”). Pappas and SCCC are pending applicants for a new single-channel television station on Channel 48 at Owensboro, Kentucky. Pappas and SCCC filed joint comments in response to the Seventh NPRM requesting that the Commission substitute DTV Channel 35 for Channel 48. Pappas and SCCC recognized that it was not possible to seek an alternate channel but argued that the Commission should act on its own motion to modify the Owensboro allotment “in the same way it has awarded Tentative Channel Designations (TCD's) to new permittees.” In the Seventh R&O, the Commission denied their request to change the allotment for Owensboro along with several other proposals submitted by pending applicants to add new allotments to the post-transition DTV Table. The Commission explained that, in the Second DTV Periodic Report and Order, it clearly stated that only Commission licensees and permittees would be eligible to participate in the channel election process. Applicants for new stations and petitioners for new allotments were expressly excluded from making elections.

101. With respect to applicants that receive a construction permit after the close of the comment period in this proceeding, the Commission stated that those parties may either construct their analog facilities or apply to the Commission for permission to construct a digital facility on their analog channel. If any other pending applications were granted before the end of the transition, the Commission stated that it would attempt to accommodate these stations with a DTV channel for post transition operation. But in all situations, the Commission would only act to make allotment decisions once an application was granted and there was a new permittee. Since the Pappas and SCCC applications were still pending, it was to correct to deny consideration of their channel change proposal. Therefore, the Pappas and SCCC petition for reconsideration is denied.

102. Pappas and SCCC also have pending a petition for rulemaking filed on March 8, 2002, requesting DTV Channel 54 be substituted for Channel 48 at Owensboro, Kentucky (“DTV Channel 54 substitution petition. The DTV Channel 54 substitution petition is hereby dismissed. Pappas and SCCC applications for Channel 48 at Owensboro, Kentucky continue to cause impermissible interference to Channel 48 at Bowling Green, Kentucky and are therefore dismissed. See File Nos. BPCT-19960722KL and 19960920IV.

103. Montana University System Board of Regents. We deny the petitions for reconsideration filed by the Board of Regents of the Montana University System (“MSU”). MSU is the permittee of new single-channel television stations on Channel 21 at Great Falls, Montana (Facility ID No. 169030) and Channel 16 at Billings, Montana (Facility ID No. 169028). MSU filed petitions for rulemaking that resulted in these channels being added to the pre-transition DTV Table. Subsequently, MSU was the only applicant for these new NCE stations and received grants of its construction permits to build these pre-transition channels after the Seventh R&O and Eighth Further Notice was adopted. Thus MSU was not a permittee in time to be included in this rulemaking.

104. Although, as MSU acknowledges, we cannot allot these new post-transition channels for MSU's NCE stations at Great Falls and Billings, Montana, at this time, we will initiate an NPRM to add these allotments or to propose replacement channels. In the interim, MSU may file modification applications for post-transition operation for these two stations on their pre-transition channels. As long as these post-transition facilities will not cause more than 0.5 percent interference to other post-transition stations and otherwise comply with our rules, they will be granted. If either of the post-transition facilities for these stations would cause more than 0.5 percent interference to other post-transition DTV facilities, then MSU may file a petition for rulemaking and seek a channel substitution.

H. Analog Singleton Stations

105. We decline to grant the petitions for reconsideration filed by analog singleton stations WCAV, Charlottesville, VA, KUTH, Provo, UT, and KRBK, Osage Beach, MO. These stations were given, in Appendix B, a coverage area to replicate their analog service area. Each station presents arguments supporting their request to make a change to their digital allotment as described by these Appendix B parameters. However, these changes would result in expanded coverage areas in violation of the freeze. These stations should be able to achieve their goal of serving current analog viewers with digital service using their existing equipment by requesting modifications through the application process, which is currently underway, and, where necessary, filing for maximization later this year. As described above, these stations must file an application to operate digitally on their post-transition channel and can file those applications at any time. At the application stage, these stations may take advantage of the 5-mile waiver policy and the 0.5 percent new interference policy adopted in the Third DTV Periodic Report and Order.

I. Modifications to Appendix B To Address International Coordination Issues

106. WKYC, Cleveland, OH. We grant the request of WKYC and change Appendix B herein for that station to reflect a directional antenna pattern to reduce interference to a Canadian station. WKYC, which is licensed on analog channel 3 and pre-transition DTV channel 2, was allotted channel 17 for post-transition operations. WKYC-TV, Inc. (“WKYC”) filed a comment in this proceeding stating that the request for channel 17 was referred to Canada for coordination and that Canada has responded by specifying a revision to the parameters that it requests for WKYC. WKYC advises the Commission that the parameters specified by Canada are acceptable to WKYC. We have revised Appendix B herein for WKYC to conform to the parameters negotiated with Canada.

J. Antenna Information

107. We deny the petitions for reconsideration filed on behalf of the following stations seeking to add antenna identification numbers to Appendix B: KPLC, Lake Charles, LA; WFIE, Evansville, IN. These stations request that we change Appendix B to include antenna identification numbers for these stations and state that the stations will be operating with omnidirectional antennas. In developing Appendix B, we did not include antenna identification numbers for stations operating with an omnidirectional antenna. Accordingly, we decline to add an antenna identification number to Appendix B where the petition indicates the station will be operating omnidirectionally and our database indicates that the station is authorized for an omnidirectional antenna.

K. Other Requests

108. WBOY, Clarksburg, WV. We deny the request of West Virginia Media Holdings, LLC (“WVMH”), licensee of WBOY, channel 12 and the permittee of WBOY-DT, channel 52, Clarksburg, WV. WBOY-DT was allotted channel 12 in the DTV Table in the Seventh R&O. WVMH notes that in the Seventh R&O the Commission allotted technical facilities for WMFD-DT, Channel 12, Mansfield, Ohio, that WVMH claims will cause interference to WBOY-DT at “levels many times in excess of the applicable 0.1 percent limit on new interference.” In the Seventh R&O, Mid-State Television, Inc. (Mid State) had requested that its allotment for WMFD-DT be modified to specify facilities it had included in an April 2005 amendment to its maximization application. The Commission approved this change, allotted Channel 12 for WMFD-DT, and acknowledged that this modification would result in 0.44 percent interference to WBOY-DT. The Commission explained that this allotment was “the result of a negotiated solution with Canada to resolve international coordination issues.” The Commission also found that WVMH had not filed comments opposing WMFD's proposed change to Appendix B.”

109. In its Petition for Reconsideration, WVMH argues that it had no notice that WBOY-DT might be adversely affected by this change. WVMH argues that the increase in ERP from 13 kW to 14 kW is not essential to the Canadian concurrence with the WMFD-DT allotment facilities. WVMH maintains it was Mid State's amendment to include a directional antenna that resolved the Canadian concerns. WVMH submits an engineering statement and claims that the excessive interference caused to WBOY-DT can be reduced.

110. In its opposition, Mid State states that WVMH's petition for reconsideration “raises no issues not previously considered fully by the Commission, nor does it provide any support for reversal of the Commission's considered decision in this matter.” Mid State argues that the public interest and equities support maintaining the WMFD-DT allotment due to Canadian concurrence and “the limited impact of the projected interference alleged.”

111. We agree that WVMH's petition fails to demonstrate error in our previous decision. Nor does WVMH's petition raise any new issues or evidence not previously considered. In the Seventh R&O, we found that the public interest would be served by allotting the changed facilities for WMFD-DT. We continue to believe that this was the correct allotment for this station. Stations like WMFD-DT face international coordination issues that provide unique challenges in completing the digital transition. Resolving border area conflicts often involves compromises and multiple adjustments. WVMH's petition for reconsideration is denied.

112. KPRY, Pierre, SD. We grant the request of Hoak Media, LLC (“Hoak”), licensee of KPRY, channel 4, and KPRY-DT, channel 19, Pierre, SD, which was allotted channel 19 for post-transition operations in the DTV Table in the Seventh R&O. In that Order, the Commission grouped station requests into several categories before acting upon them. The Commission placed KPRY-DT in Category 1 along with other stations proposing to modify their certified facilities to match their authorized or constructed facilities. Hoak claims that KPRY-DT should have been grouped in Category 2 along with stations that anticipate filing a request for change to their station's parameters in the future, but that did not yet have all of the information necessary to request such a change. On reconsideration, we grant KPRY-DT's request for Appendix B facilities of 1000 kW and 378 m HAAT. Hoak may submit an application to specify a lower power and antenna height as noted in its comments.

113. KFJX, Pittsburg, KS. We grant the petition for partial reconsideration filed by KFJX. Surtsey Media, LLC (“Surtsey”), licensee of analog singleton station KFJX, channel 14, Pittsburg, KS, was allotted channel 13 for post-transition operations in the DTV Table in the Seventh R&O. In that Order, the Commission granted KFJX's request to change its TCD from 14 to 13. Surtsey filed a petition for reconsideration requesting that Appendix B be revised to match the facilities of KOAM, a related station in the Pittsburg, KS market with which KFJX currently shares facilities.

114. According to Surtsey, it requested the change in TCD in part because of interference issues on channel 14 and in part because it has the opportunity to acquire the channel 13 facilities of KOAM-DT in Pittsburg, which is moving off of channel 13 to another channel post-transition. Surtsey argues that permitting KFJX to take over the facilities of an existing, operating DTV station is consistent with the Commission's goal of facilitating a smooth, efficient transition as otherwise Surtsey would have to acquire new equipment to install at its currently specified site while KOAM would have to discard its equipment once the transition occurs. Instead, Surtsey requests that its digital allotment be modified to reflect the existing KOAM-DT facilities. Surtsey acknowledges, however, that the non-directional KOAM antenna at the requested power would extend the KFJX-DT signal beyond the KFJX analog footprint, thereby violating the filing freeze. Surtsey's petition states that it would accept modifications to Appendix B for KFJX to specify the KOAM antenna site, antenna type and antenna height but at a reduced power in order to shrink the resulting service area into the KFJX analog footprint. Surtsey states that it would accept this restriction on its initial digital allotment as long as it was permitted to increase its power prior to February 17, 2009 (the final digital transition date) to the level currently utilized by KOAM.

115. We agree that public interest considerations warrant granting Surtsey's request to change Appendix B for KFJX to specify the KOAM antenna site, antenna height, and antenna type. Specification of these parameters will permit Surtsey to utilize the KOAM equipment, thereby facilitating the transition for KFJX. We will therefore grant Surtsey's request for the exact coordinates, antenna type, and height, which are currently used by KOAM for its antenna. We agree with Surtsey that these parameters will allow KFJX to operate using KOAM's facility, thus speeding the transition process, reducing costs, and eliminating the need for new equipment or coordination with tower crews. Surtsey's petition reflects the licensee's appreciation that, at this time, Appendix B will specify an ERP that will maintain the station's coverage area within its analog coverage area. Moreover, as the Commission concluded in the Third DTV Periodic Review Report and Order, and as noted in Surtsey's petition, the Commission is not lifting the filing freeze at this stage in the transition for any stations. We are, however, expecting that the freeze will be lifted later this year to enable Surtsey to apply to increase the ERP for KFJX. As Surtsey's Petition recognizes, to waive the freeze now to permit KFJX to increase power before the filing freeze is lifted for all stations, would permit Surtsey to step ahead of other stations that are waiting for the proper time to request to maximize. Indeed, there are other stations that are moving to a channel vacated by another station that would like to immediately operate the facilities of the existing station. (discussion of KCBS, Los Angeles, CA). As discussed above, to permit such a step would expand these stations' coverage, unfairly disadvantaging other stations in these markets that would like to expand on their existing stations.

116. Surtsey need not wait until the freeze is lifted to request expanded coverage. Stations that are moving to a different channel, as KFJX is doing, may file now to request a waiver of the freeze for up to five miles, where, as here, the increase is necessary to better serve current analog viewers, and where the modification would not cause more than 0.5 percent new interference to any other station. Thus, KFJX, and other similarly situated stations may build upon the changes we have made to the Appendix B facilities to apply for larger area.

117. WSJV, Elkhart, IN. We grant the petition for reconsideration filed on behalf of WSJV. WSJV Television, Inc. (“WSJV”), licensee of WSJV, channel 28, and WSJV-TV, channel 58, was allotted channel 28 for post-transition operations in the DTV Table in the Seventh R&O. In that Order, the Commission revised Appendix B for WSJV to conform to that stations' DTV authorization on channel 58. WSJV filed a petition for reconsideration requesting that the Commission instead revise Appendix B to permit the station to use the existing directional antenna system of its analog facility. WSJV explains that, when the original DTV Table was created, an inaccuracy in the orientation of the directional antenna system that existed on WSJV's analog license prior to December 1999 was carried over to the station's associated digital channel 58 allotment. The station subsequently resolved the inaccuracy in the station's analog antenna orientation on the analog license, but could not eliminate the discrepancy that was built into the original DTV Table. WSJV elected to return to its in-core analog channel for post-transition use and, based on its certification of replication, the Commission relied on the initial channel 58 allotment parameters to compute the WSJV facilities on channel 28 on Appendix B. These facilities were therefore based on the incorrect antenna pattern rotation.

118. We will change Appendix B for WSJV to reflect the correct antenna pattern rotation. Those changes are reflected on Appendix B, herein.

III. Eighth Report and Order

119. In the 8th FNPRM we sought comment on tentative channel designations (“TCDs”) and technical facilities for three new permittees that had recently attained permittee status. We also identified a number of other revisions to the DTV Table and Appendix B advanced by commenters in either reply comments or late-filed comments to the Seventh Further Notice, and we analyzed these revisions and submitted proposals upon which we invited public comment.

120. As we stated in the Third DTV Periodic Report and Order, stations that need to request authority to construct or modify their post-transition facilities must file construction permit (CP) or modification applications. In that Order and in a recently adopted Public Notice, the Commission established the deadlines and procedures for filing such applications. These deadlines and procedures apply to the stations discussed below that have been granted a post-transition allotment herein.

A. New Permittees

121. The Commission established a separate pleading cycle in the Eighth Further Notice to give interested parties an opportunity for comment on three new permittees that had recently attained permittee status. We now adopt our proposals to the extent they are unopposed.

122. Entravision Holdings, LLC, Pueblo, CO. We found that post-transition operations for Entravision on channel 48 in Pueblo would create no additional interference, and we proposed channel 48 as this station's TCD. We received no comments in response to this proposal and accordingly will now grant the modification to the post-transition DTV Table and Appendix B to reflect this new allotment.

123. Northwest Television, Inc., Galesburg, IL. With respect to new permittee Northwest Television in Galesburg, IL, our engineering analysis determined that channel 8 was the best available post-transition channel because this channel created no new interference to the TCD of any other full-power station, and the only interference was received by Class A Station WQFL-CA, Rockford, IL. However, WQFL had an application for a minor modification to its license pending, the grant of which eliminated the interference from channel 8 but necessitated a waiver of the filing freeze. In order to locate an interference-free post-transition channel for Galesburg, we proposed to grant WQFL-CA a waiver of the filing freeze and to grant the WQFL-CA modification application, thereby resolving any potential interference. We received no comments with respect to either of these proposals, and accordingly we will make the necessary adjustments to the DTV Table and Appendix B.

124. Richland Reserve, Greeley, CO. Although Richland Reserve was allotted channel 45 for pre-transition digital operation our analysis indicated that, post-transition, channel 45 for Richland in Greeley would have caused 0.3 percent new interference. Therefore, we proposed channel 49 as the TCD of Richland. Richland contests our proposal, and in its comment it requests that the DTV Table be amended to specify DTV channel 38 as its post-transition TCD instead of channel 49. Richland asserts that, because the Eighth Further Notice proposed channel 48 as the TCD for Entravision Holdings, LLC, in Pueblo, Colorado (analog channel 48), the channel 48 TCD for Entravision will receive 0.8 percent interference from the Commission's currently proposed 49 TCD for Richland. Richland points out that using its substitute proposal of channel 38 as its TCD will eliminate all interference concerns, and that it would file a construction permit to reflect this change. The Commission has determined that Richland's proposed use of channel 38 is acceptable, and we will make the necessary adjustments to the DTV Table and Appendix B.

B. Late Filed Requests for Changes to the Table of Allotments and Appendix B

125. Several stations filed late requests after the close of the reply comment period of the Seventh FNPRM, seeking revisions to the proposed DTV Table and Appendix B. Where the proposed changes to the DTV Table and/or Appendix B could affect other stations, we determined that it was appropriate to seek public comment on these late requests.

1. Requests To Make Changes That Meet the Interference Criteria

126. We stated in the Seventh R&O that we would permit stations to change their facility certifications (FCC Form 381), and thus our post-transition DTV Table Appendix B, where such stations have demonstrated that such modification of their facilities would conform to licensed or authorized facilities and where the proposed change to the Appendix B facilities either met the 0.1 percent interference criterion or the station affected agreed to accept the interference. We proposed two such changes in the Eighth Further Notice. The request of Fox Television Stations of Philadelphia, Inc. has been withdrawn, and we grant the other request.

127. WDCA, Washington, DC. Fox Television Stations, Inc., (“Fox”), licensee of station WDCA-TV, channel 20, and WDCA-DT, channel 35, Washington, DC, received channel 35 for its TCD in the proposed DTV Table. Fox filed late comments requesting that the Commission modify Appendix B to reflect WDCA's actual, authorized facilities. WDCA-DT has a CP that specifies facilities at its main studio where WDCA-DT is currently “located, authorized and operating,” and WDCA-DT has applied for a license to cover that CP. As noted by Fox, previous engineering analysis had indicated that this location and these parameters caused no impermissible interference, and the Commission proposed granting this request. As no comments were received in response, the Commission will adjust Appendix B accordingly to reflect WDCA's authorized facilities.

2. Requests for Modified Coverage Area

128. As we explained in the Seventh R&O, we have granted requests of stations whose post-transition DTV channel is different from their pre-transition DTV channel, who are returning to their analog channel for post-transition operations, and whose proposed Appendix B facilities would not permit them to replicate their station's analog grade B contour, or who are seeking changes to specific parameters to permit these stations to serve more of the area served by the station's analog facilities. In response to such comments, we recalculated Appendix B facilities for stations based on replicating their analog coverage which was used to determine their initial DTV facilities, and typically granted the benefit of the larger coverage area resulting from our calculations, whether that turned out to be the station's initially proposed Appendix B facility, or the larger coverage area resulting from our calculations provided our interference standards were met. This process was designed to meet our goal for ensuring that audiences previously served by stations continued to receive those stations. We applied this methodology below and grant the request with respect to KOAM.

129. KOAM, Pittsburg, KS. Saga Quad States Communications (“Saga”), licensee of station KOAM-TV, channel 7, and KOAM-DT, channel 13, Pittsburg, KS, received channel 7 for its TCD in the proposed DTV Table. In a comment to the Seventh FNPRM, Saga proposed parameter changes in order to more closely replicate its analog Grade B contour than it was capable of doing with its current Appendix B parameters. Having analyzed Saga's request and recalculated its Appendix B facilities based upon replicating the analog coverage that was used to determine KOAM-DT's initial DTV facilities, we solicited comments on our proposal to grant Saga's request and to adjust KOAM's facilities in Appendix B. In comments filed in response to the Eighth FNPRM, Saga supports the Commission's proposal, and no reply comment has been filed. Accordingly, we will make the proposed change to Appendix B.

3. Requests for Alternative Channel Assignments

130. We grant the requests of four stations for alternative channel assignments in conformance with the standards set out in the Seventh FNPRM. The Commission in that Notice stated that licensees that want to change their DTV allotment, but which are not in any of the specified acceptable categories (i.e., are technically able to construct their full, authorized DTV facilities on their existing TCD) may request a change in allotment only after the DTV Table is finalized and must do so through the existing allotment procedures. Those requests for an alternative channel assignment that we can consider must either meet the 0.1 percent additional interference standard or be accompanied by a request for a waiver of the 0.1 percent limit or the signed written consent of the affected licensee. The Commission stated that it would grant waivers of the 0.1 percent limit where doing so would promote overall spectrum efficiency and ensure the best possible service to the public, including service to local communities.

131. Adoption of stations' channel change requests may not mean that we are adopting every parameter requested by the station. Stations should file the necessary applications for a construction permit in light of the procedures adopted in the Third DTV Periodic Report and Order to finalize parameters with respect to their build-out on their new channel.

132. KOLO, Reno, NV. Gray Television Licensee, Inc. (“Gray”), licensee of station KOLO-TV, channel 8, and KOLO-DT, channel 9, Reno, NV, received channel 9 for its TCD in the proposed DTV table. Gray filed a late request that KOLO's TCD be changed to permit it to operate post-transition on its NTSC channel 8 due to concerns that its antenna was optimized for channel 8. We proposed granting this request upon finding no additional interference from the proposed change. In a comment filed in response to our Eighth FNPRM, KOLO supports the Commission's proposal and, as no other comments were filed, we will make the approved change to Appendix B and the DTV Table to reflect KOLO's facilities on channel 8.

133. WEHT, Evansville, IN. Gilmore Broadcasting Corp. (“Gilmore”), licensee of station WEHT, channel 25, and WEHT-DT, channel 59, Evansville, IN, received channel 25 for its TCD. Gilmore filed reply comments to the Seventh FNPRM requesting a change in its TCD to channel 7 and adjustment to its parameters on Appendix B, and we proposed granting this request upon finding no additional interference from the proposed change. Gilmore filed comments supporting the proposed change and no other comments were filed. Accordingly we will make the necessary change to the DTV Table and Appendix B to reflect the change in WEHT's use of channel 7 facilities.

134. KTRV, Nampa, ID. Idaho Independent Television, Inc. (“IIT”), licensee of KTRV-TV, and KTRV-DT, Nampa, ID, received channel 12 for its TCD in the proposed DTV Table. IIT filed comments seeking to retain its existing DTV facilities and requesting revision to Appendix B to reflect that retention, but also seeking a channel change to 13 as its new TCD as well as an antenna ID change. We proposed to grant IIT's request after studying KTRV's post-transition operation on channel 13. IIT filed comments and reply comments, both supporting the Commission's proposal and yet asking for a change in antenna ID number and no reply or opposition was filed. We shall therefore substitute channel 13 for channel 12 as the TCD for post-transition use by KTRV-DT in both the DTV Table and Appendix B. We note that the lack of an antenna ID in Appendix B for KTRV indicates that KTRV is not using a directional antenna, which is consistent with our records for this station. Therefore, we are continuing not to specify an antenna ID for this station.

135. WUOA, Tuscaloosa, AL. The Board of Trustees of The University of Alabama (“the University”), singleton licensee of analog station WUOA, channel 23, Tuscaloosa, AL, received 23 as its TCD in the proposed DTV Table. The University filed a Supplement to its Comments in June 2007, seeking a change to a low VHF channel 4 or channel 6 post-transition allotment with new coordinates and parameters due to limited resources of the University. In the alternative, the University had sought replication facilities on channel 4 or 6. We proposed replication facilities for WUOA on channel 6 as this showed no additional interference. The University filed comments supporting the proposed replication facility on channel 6, but seeking a correction to its azimuthal pattern through utilization of a non-directional antenna. No other comments were filed and we grant the University's request and make the necessary changes to the DTV Table and Appendix B to reflect the facilities on channel 6. We have corrected the tabulation of antenna ID 80096 to eliminate the incorrect null at N 100.0° E and have substituted the correct relative field value of 0.717. However, we deny the University's request for a change in its technical parameters to reflect use of a non-directional antenna. The University can request use of a non-directional antenna when it files its application in accordance with the Third DTV Periodic Report and Order.

4. Other Requests

136. WPCW, Jeannette, PA. We adopt the proposed channel change for WPCW. CBS Corporation (“CBS”), parent company of the licensee of WPCW, channel 19, and applicant for construction permit for a DTV station on channel 49, Jeannette, PA, received channel 49 for its TCD in the proposed DTV Table. The licensee of WPCW is Pittsburgh Television Station WPCW, Inc., a wholly owned subsidiary of CBS. In comments filed in response to the Seventh Further Notice, CBS requested an adjustment in Appendix B to reflect a change in parameters approved by the Commission in its 2006 decision substituting channel 49 for 30 as WPCW's digital frequency and reallocating channel 49 from Johnstown, PA to Jeannette, PA. Larry L. Schrecongost (“Schrecongost”), licensee of Class A television Station WLLS-CA, channel 49, Indiana, PA, had opposed the CBS request and argued that the proposed DTV Table should have specified channel 30 rather than channel 49 for WPCW because operation on channel 49 would have caused interference to WLLS-CA in violation of the Community Broadcasters Protection Act of 1999. The Commission found that WPCW's operations on channel 49 would have caused impermissible interference to two stations and, to resolve the dispute, we proposed to allot channel 11 to WPCW with the site location specified in the 2006 Report and Order. In a comment filed in response to the Eighth Further Notice, CBS supports the proposal to allot it channel 11, and accordingly, we will make the requisite changes to the DTV Table and Appendix B to reflect CBS's facilities on this new channel and site.

137. WGNO & WNOL, New Orleans, LA. We grant the request of Tribune and adopt the proposed changes for WGNO and WNOL. Tribune Broadcasting Co. (“Tribune”) is licensee of station WGNO, channel 26, and permittee of WGNO-DT, channel 15, New Orleans, LA, which received channel 26 for its TCD in the proposed DTV Table, and licensee of station WNOL, channel 38, and permittee of WNOL-DT, channel 40, New Orleans, LA, which received channel 15 for its TCD in the proposed DTV Table. Tribune filed reply comments to the Seventh Further Notice stating that the analog and digital transmission facilities of both of these stations had been destroyed by Hurricane Katrina. After seeking alternative locations for its DTV operations, Tribune subsequently filed late comments requesting that the DTV allotments and technical parameters for the channels be changed to reflect new operations from the transmitter site of station WDSU, with which it proposed to share an antenna. We considered Tribune's request and found that the proposed parameters, while not causing impermissible interference, would have exceeded WGNO and WNOL's respective authorized contours, in violation of the filing freeze. Nevertheless, in light of the circumstances resulting from Hurricane Katrina, we proposed to waive the freeze and substitute the technical parameters requested by Tribune for these stations. Tribune filed comments supporting our proposal, and as no replies or objections were filed, we therefore will modify Appendix B accordingly.

IV. Procedural Matters

A. Memorandum Opinion and Order on Reconsideration

1. Regulatory Flexibility Act

138. Appendix E sets forth the Supplemental Final Regulatory Flexibility Analysis for the MO&OR on Reconsideration, as required by the Regulatory Flexibility Act of 1980, as amended.

2. Paperwork Reduction Act

139. The MO&OR was analyzed with respect to the Paperwork Reduction Act of 1995 (“PRA”) and does not contain any information collection requirements.

3. Congressional Review Act

140. The Commission will include a copy of the MO&OR in a report to be sent to Congress and the General Accounting Office pursuant to the Congressional Review Act.

4. Accessible Formats

141. To request information in accessible formats (computer diskettes, large print, audio recording, and Braille), send an e-mail to fcc504@fcc.gov or call the FCC's Consumer and Governmental Affairs Bureau at (202) 418-0530 (voice), (202) 418-0432 (TTY). This document can also be downloaded in Word and Portable Document Format (PDF) at: http://www.fcc.gov.

B. Eighth Report and Order

1. Regulatory Flexibility Act

142. Appendix G sets forth the Supplemental Final Regulatory Flexibility Analysis for the Eighth R&O, as required by the Regulatory Flexibility Act of 1980, as amended.

2. Paperwork Reduction Act

143. The Eighth R&O was analyzed with respect to the Paperwork Reduction Act of 1995 (“PRA”) and does not contain any information collection requirements.

3. Congressional Review Act

144. The Commission will include a copy of this Eighth R&O in a report to be sent to Congress and the General Accounting Office pursuant to the Congressional Review Act.

V. Ordering Clauses

145. It is ordered that, pursuant to the authority contained in sections 1, 4(i) and (j), 7, 301, 302, 303, 307, 308, 309, 316, 319, 324, 336, and 337 of the Communications Act of 1934, 47 U.S.C 151, 154(i) and (j), 157, 301, 302, 303, 307, 308, 309, 316, 319, 324, 336, and 337, the MO&OR of the Seventh R&O and Eighth R&O IS ADOPTED.

146. It is further ordered that pursuant to the authority contained in Sections 1, 2, 4(i), 303, 303a, 303b, and 307 of the Communications Act of 1934, 47 U.S.C. 151, 152, 154(i), 303, 303a, 303b, and 307, the Commission's rules are hereby amended as set forth in Appendix A.

147. It is further ordered that the rules as revised in Appendix A shall be effective upon publication of this MO&OR of the Seventh R&O and Eighth R&O in the Federal Register. We find good cause for the rules adopted herein to be effective March 21, 2008 to ensure that full power television stations can meet the statutory deadline for transitioning to all-digital service.

148. It is further ordered that the petitions for reconsideration or clarification listed in Appendix C are granted to the extent provided herein and otherwise are denied.

149. It is further ordered that the Commission's Consumer and Governmental Affairs Bureau, Reference Information Center, shall send a copy of the O&OR and Eighth R&O, including the Supplemental Final Regulatory Flexibility Analysis and Final Regulatory Flexibility Analysis, to the Chief Counsel for Advocacy of the Small Business Administration.

150. It is further ordered that the Commission shall send a copy of this MO&OR and Eighth R&O in a report to be sent to Congress and the General Accounting Office pursuant to the Congressional Review Act, see 5 U.S.C. 801(a)(1)(A).

List of Subjects in 47 CFR Part 73

Television.

Federal Communications Commission.
William F. Caton,
Deputy Secretary.

Final Rules

For the reasons discussed in the preamble, the Federal Communications Commission amends 47 part 73 as follows:

PART 73—RADIO BROADCAST SERVICES

1. The authority citation for part 73 continues to read as follows:

Authority: 47 U.S.C. 154, 303, 334, 336 and 339.

2. Section 73.622(i) is amended by revising the entries for “Tuscaloosa, AL,” “Fairbanks, AK,” “Pueblo, CO,” “Nampa, ID,” “Sun Valley, ID,” “Evansville, IN,” “Wichita, KS,” “Vicksburg, MS,” “Reno, NV,” “Lima, OH,” “Jeannette, PA,” “Lead, SD,” “Kingsport, TN,” and “Eagle Pass, TX” and by adding entries for “Greeley, CO” and “Galesburg, IL,” in the DTV Table to read as follows:

§ 73.622 Digital television table of allotments.

* * * * *

(i) * * *

Community | Channel No.
ALABAMA
* * * * *
Tuscaloosa | 6, 33
* * * * *
ALASKA
* * * * *
Fairbanks | 7, *9, 18, 26
* * * * *
COLORADO
* * * * *
Greeley | 38
* * * * *
Pueblo | *8, 42, 48
* * * * *
IDAHO
* * * * *
Nampa | 13, 24
* * * * *
Sun Valley | 5
* * * * *
ILLINOIS
* * * * *
Galesburg | 8
* * * * *
INDIANA
* * * * *
Evansville | 7, *9, 28, 45, 46
* * * * *
KANSAS
* * * * *
Wichita | 10, 19, 26, 45
* * * * *
MISSISSIPPI
* * * * *
Vicksburg | 41
* * * * *
NEVADA
* * * * *
Reno | 7, 8, 13, *15, 20, 26, 44
* * * * *
OHIO
* * * * *
Lima | 8, 44
* * * * *
PENNSYLVANIA
* * * * *
Jeannette | 11
* * * * *
SOUTH DAKOTA
* * * * *
Lead | 5, 10
* * * * *
TENNESSEE
* * * * *
Kingsport | 27
* * * * *
TEXAS
* * * * *
Eagle Pass | 24
* * * * *

Note: The following Appendices will not appear in the Code of Federal Regulations:

Appendix B—DTV Table of Allotments Information

Appendix C—List of Petitions for Reconsideration, Oppositions, and Replies

Appendix D1—Granted Requests for Minor Adjustments

Appendix D2—Granted Requests for Changes to Certification That Meet the Interference Criteria

Appendix D3—Granted Requests for Modified Coverage Area

Appendix D4—Granted Requests for Alternative Channel Assignments

Appendix D5—Stations Requesting Changes That Should Be Requested In An Application

Appendix E—Supplemental Final Regulatory Flexibility Analysis

Appendix F—Eighth Report and Order List of Comments and Replies

Appendix G—Final Regulatory Flexibility Analysis

Appendix B.—DTV Table of Allotments Information
Facility ID | State | City | NTSC chan | DTV chan | DTV ERP (kW) | DTV HAAT (m) | DTV antenna ID | DTV latitude (DDMMSS) | DTV longitude (DDDMMSS) | DTV area (sq km) | DTV population (thousand) | DTV % interference received
21488 | AK | ANCHORAGE | 5 | 5 | 45 | 277 |  | 612010 | 1493046 | 45353 | 348 | 0
804 | AK | ANCHORAGE | 7 | 8 | 50 | 240 | 77186 | 612522 | 1495220 | 26532 | 317 | 0
10173 | AK | ANCHORAGE | 2 | 10 | 21 | 240 | 67943 | 612522 | 1495220 | 22841 | 317 | 0
13815 | AK | ANCHORAGE | 13 | 12 | 41 | 240 | 65931 | 612522 | 1495220 | 25379 | 317 | 0
35655 | AK | ANCHORAGE | 4 | 20 | 234 | 55 | 74791 | 611311 | 1495324 | 10885 | 302 | 0
83503 | AK | ANCHORAGE | 9 | 26 | 1000 | 212 | 74792 | 610402 | 1494436 | 23703 | 323 | 0
49632 | AK | ANCHORAGE | 11 | 28 | 28.9 | 61 | 73156 | 611133 | 1495401 | 7254 | 292 | 0
25221 | AK | ANCHORAGE | 33 | 32 | 50 | 33 | 74793 | 610957 | 1494102 | 8943 | 287 | 0
4983 | AK | BETHEL | 4 | 3 | 1 | 61 |  | 604733 | 1614622 | 10324 | 9 | 0
64597 | AK | FAIRBANKS | 7 | 7 | 3.2 | 214 | 74449 | 645520 | 1474255 | 11355 | 82 | 0
69315 | AK | FAIRBANKS | 9 | 9 | 3.2 | 152 | 80229 | 645442 | 1474638 | 6873 | 82 | 0
13813 | AK | FAIRBANKS | 2 | 18 | 16 | 230 |  | 645520 | 1474249 | 10344 | 82 | 0
49621 | AK | FAIRBANKS | 11 | 26 | 52 | 1 | 84814 | 645036 | 1474248 | 5216 | 81 | 0
8651 | AK | JUNEAU | 3 | 10 | 1 | 1 |  | 581756 | 1342407 | 4249 | 30 | 0
13814 | AK | JUNEAU | 8 | 11 | 0.14 | 1 |  | 581805 | 1342626 | 2239 | 30 | 1.1
60520 | AK | KETCHIKAN | 4 | 13 | 3.2 | 1 | 29997 | 552059 | 1314012 | 4355 | 15 | 0
20015 | AK | NORTH POLE | 4 | 20 | 50 | 5 |  | 644532 | 1471926 | 6209 | 82 | 0
60519 | AK | SITKA | 13 | 7 | 3.2 | 1 | 80181 | 570301 | 1352004 | 6048 | 8 | 0
56642 | AL | ANNISTON | 40 | 9 | 15.6 | 359 | 39744 | 333624 | 862503 | 24554 | 1437 | 6.6
71325 | AL | BESSEMER | 17 | 18 | 350 | 675 | 44013 | 332851 | 872403 | 37533 | 1549 | 1.4
717 | AL | BIRMINGHAM | 10 | 10 | 3 | 426 |  | 332904 | 864825 | 22733 | 1363 | 5
74173 | AL | BIRMINGHAM | 13 | 13 | 17.7 | 408 | 84859 | 332926 | 864748 | 31722 | 1652 | 2
5360 | AL | BIRMINGHAM | 42 | 30 | 1000 | 426 | 43265 | 332904 | 864825 | 31006 | 1687 | 0.4
16820 | AL | BIRMINGHAM | 68 | 36 | 885 | 406 | 68103 | 332904 | 864825 | 28264 | 1553 | 1.1
71221 | AL | BIRMINGHAM | 6 | 50 | 1000 | 420 | 74797 | 332919 | 864758 | 33118 | 1692 | 0.9
720 | AL | DEMOPOLIS | 41 | 19 | 1000 | 324 | 60739 | 322145 | 875204 | 26322 | 330 | 6.5
43846 | AL | DOTHAN | 18 | 21 | 1000 | 205 |  | 311425 | 851843 | 23559 | 436 | 0
4152 | AL | DOTHAN | 4 | 36 | 995 | 573 |  | 305510 | 854428 | 43948 | 886 | 0.4
714 | AL | DOZIER | 2 | 10 | 3.2 | 393 |  | 313316 | 862332 | 23623 | 353 | 8.7
65128 | AL | FLORENCE | 15 | 14 | 1000 | 431 | 66619 | 350009 | 870809 | 30337 | 1112 | 0
6816 | AL | FLORENCE | 26 | 20 | 50 | 230 | 74798 | 343438 | 874657 | 15572 | 355 | 1.7
715 | AL | FLORENCE | 36 | 22 | 419 | 208 |  | 343441 | 874702 | 20118 | 526 | 0.1
1002 | AL | GADSDEN | 60 | 26 | 150 | 315 | 29932 | 334853 | 862655 | 17744 | 1379 | 0.2
73312 | AL | GADSDEN | 44 | 45 | 225 | 309 | 43164 | 335327 | 862813 | 17536 | 1350 | 0.6
83943 | AL | GULF SHORES | 55 | 25 | 64.5 | 308 | 74787 | 303640 | 873626 | 15544 | 932 | 0
74138 | AL | HOMEWOOD | 21 | 28 | 765 | 427 | 68108 | 332904 | 864825 | 30801 | 1663 | 0.9
48693 | AL | HUNTSVILLE | 19 | 19 | 40.7 | 514 |  | 344419 | 863156 | 23609 | 992 | 2.2
713 | AL | HUNTSVILLE | 25 | 24 | 396 | 338 |  | 344413 | 863145 | 26992 | 1091 | 0.3
57292 | AL | HUNTSVILLE | 31 | 32 | 468 | 538 | 67239 | 344412 | 863159 | 32626 | 1301 | 0.9
28119 | AL | HUNTSVILLE | 54 | 41 | 400 | 518 | 43864 | 344412 | 863159 | 29827 | 1213 | 1
591 | AL | HUNTSVILLE | 48 | 49 | 41 | 552 |  | 344239 | 863207 | 22282 | 936 | 0.8
710 | AL | LOUISVILLE | 43 | 44 | 925 | 262 | 59887 | 314304 | 852603 | 18777 | 337 | 0.1
4143 | AL | MOBILE | 10 | 9 | 29 | 381 |  | 304117 | 874754 | 34970 | 1203 | 0
11906 | AL | MOBILE | 15 | 15 | 510 | 558 | 74580 | 303640 | 873627 | 35589 | 1283 | 0.5
60827 | AL | MOBILE | 21 | 20 | 105 | 529 | 70813 | 303640 | 873627 | 23682 | 1116 | 0
83740 | AL | MOBILE |  | 23 | 337 | 574 | 75124 | 303645 | 873843 | 38025 | 1283 | 0
73187 | AL | MOBILE | 5 | 27 | 1000 | 581 | 74800 | 304120 | 874949 | 45375 | 1406 | 0.3
721 | AL | MOBILE | 42 | 41 | 199 | 185 |  | 303933 | 875333 | 16357 | 912 | 0.1
13993 | AL | MONTGOMERY | 12 | 12 | 24.9 | 507 | 74369 | 315828 | 860944 | 31615 | 788 | 0.5
73642 | AL | MONTGOMERY | 20 | 16 | 1000 | 518 | 29552 | 315828 | 860944 | 37703 | 829 | 1.3
706 | AL | MONTGOMERY | 26 | 27 | 600 | 179 |  | 322255 | 861733 | 18271 | 555 | 3.7
72307 | AL | MONTGOMERY | 32 | 32 | 199 | 545 | 75049 | 320830 | 864443 | 28378 | 579 | 0.7
60829 | AL | MONTGOMERY | 45 | 46 | 500 | 308 | 28430 | 322413 | 861147 | 21909 | 641 | 0.3
711 | AL | MOUNT CHEAHA | 7 | 7 | 24.1 | 610 | 80203 | 332907 | 854833 | 42613 | 2362 | 3.8
11113 | AL | OPELIKA | 66 | 47 | 136 | 539 | 74487 | 321916 | 844728 | 24321 | 662 | 1.3
32851 | AL | OZARK | 34 | 33 | 15 | 151 | 68078 | 311228 | 853649 | 8868 | 244 | 0
84802 | AL | SELMA | 29 | 29 | 1000 | 408 | 32810 | 323227 | 865033 | 26741 | 621 | 5.9
701 | AL | SELMA | 8 | 42 | 787 | 507 |  | 320858 | 864651 | 38739 | 722 | 0.1
62207 | AL | TROY | 67 | 48 | 50 | 345 | 30182 | 320336 | 855701 | 14891 | 479 | 2
77496 | AL | TUSCALOOSA | 23 | 6 | 1 | 266 | 80096 | 330315 | 873257 | 18093 | 595 | 0
21258 | AL | TUSCALOOSA | 33 | 33 | 160 | 625 | 70330 | 332848 | 872550 | 30987 | 1357 | 0.5
68427 | AL | TUSKEGEE | 22 | 22 | 100 | 325 | 74464 | 320336 | 855702 | 17798 | 532 | 0.3
2768 | AR | ARKADELPHIA | 9 | 13 | 7.3 | 320 |  | 335426 | 930646 | 22157 | 299 | 16.9
86534 | AR | CAMDEN | 49 | 49 | 1000 | 183 |  | 331615 | 924214 | 20174 | 212 | 0.5
92872 | AR | EL DORADO |  | 10 | 6 | 541 | 80186 | 330441 | 921341 | 26324 | 442 | 1.6
35692 | AR | EL DORADO | 10 | 27 | 823 | 582 |  | 330441 | 921341 | 43407 | 631 | 5.4
84164 | AR | EL DORADO | 43 | 43 | 206 | 530 | 74776 | 330441 | 921341 | 26259 | 446 | 0.1
81593 | AR | EUREKA SPRINGS | 34 | 34 | 87.1 | 213 | 75069 | 362630 | 935825 | 12963 | 442 | 0.1
2767 | AR | FAYETTEVILLE | 13 | 9 | 19 | 501 |  | 354853 | 940141 | 35150 | 889 | 1.5
60354 | AR | FAYETTEVILLE | 29 | 15 | 180 | 266 |  | 360057 | 940459 | 19569 | 560 | 3.5
66469 | AR | FORT SMITH | 5 | 18 | 550 | 286 |  | 354949 | 940924 | 25959 | 736 | 0.2
60353 | AR | FORT SMITH | 40 | 21 | 325 | 602 |  | 350415 | 944043 | 33811 | 525 | 7.4
29560 | AR | FORT SMITH | 24 | 27 | 200 | 305 | 41354 | 354236 | 940815 | 19234 | 627 | 0.8
78314 | AR | HARRISON | 31 | 31 | 191 | 339 | 75064 | 364218 | 930345 | 18376 | 533 | 2.8
608 | AR | HOT SPRINGS | 26 | 26 | 66.4 | 258 | 74370 | 342221 | 930247 | 13726 | 250 | 0.1
13988 | AR | JONESBORO | 8 | 8 | 18 | 531 |  | 355322 | 905608 | 39532 | 689 | 0.2
2769 | AR | JONESBORO | 19 | 20 | 50 | 310 |  | 355414 | 904614 | 18806 | 312 | 0
2784 | AR | JONESBORO | 48 | 48 | 982 | 295 | 75036 | 353616 | 903118 | 24784 | 1386 | 0
2770 | AR | LITTLE ROCK | 2 | 7 | 49.8 | 543 | 84843 | 342823 | 921211 | 45815 | 1110 | 0
2787 | AR | LITTLE ROCK | 11 | 12 | 55 | 519 |  | 344757 | 922959 | 43098 | 1128 | 0.8
33543 | AR | LITTLE ROCK | 7 | 22 | 750 | 574 |  | 342824 | 921210 | 43307 | 1087 | 0.3
11951 | AR | LITTLE ROCK | 16 | 30 | 1000 | 449 | 40344 | 344757 | 922929 | 32289 | 1043 | 0
33440 | AR | LITTLE ROCK | 4 | 32 | 989 | 474 | 29656 | 344757 | 922959 | 37939 | 1084 | 0.2
58267 | AR | LITTLE ROCK | 36 | 36 | 50 | 394 | 74768 | 344756 | 922945 | 16626 | 809 | 0.2
37005 | AR | LITTLE ROCK | 42 | 44 | 1000 | 485 | 59098 | 344745 | 922944 | 31880 | 1038 | 0.4
2777 | AR | MOUNTAIN VIEW | 6 | 13 | 4.05 | 407 | 66439 | 354847 | 921724 | 20288 | 260 | 14.5
607 | AR | PINE BLUFF | 25 | 24 | 725 | 356 | 40413 | 343155 | 920241 | 24562 | 845 | 0
41212 | AR | PINE BLUFF | 38 | 39 | 1000 | 590 | 40345 | 342631 | 921303 | 34162 | 1006 | 0
29557 | AR | ROGERS | 51 | 50 | 1000 | 267 |  | 362447 | 935716 | 23556 | 643 | 0
67347 | AR | SPRINGDALE | 57 | 39 | 316 | 114 | 40726 | 361107 | 941749 | 12789 | 422 | 0.1
81441 | AZ | DOUGLAS | 3 | 36 | 1000 | 9 | 74708 | 312208 | 1093145 | 10673 | 34 | 0
24749 | AZ | FLAGSTAFF | 2 | 2 | 11.2 | 488 | 84844 | 345806 | 1113028 | 41766 | 281 | 0.2
41517 | AZ | FLAGSTAFF | 13 | 13 | 19.6 | 474 | 74998 | 345805 | 1113029 | 29913 | 203 | 0
74149 | AZ | FLAGSTAFF | 4 | 18 | 726 | 487 | 74804 | 345804 | 1113030 | 34193 | 227 | 0
35104 | AZ | FLAGSTAFF | 9 | 32 | 1000 | 343 | 72238 | 345806 | 1113029 | 26812 | 213 | 1
63927 | AZ | GREEN VALLEY | 46 | 46 | 70.8 | 1095 | 74581 | 322454 | 1104256 | 26056 | 802 | 0
83491 | AZ | HOLBROOK | 11 | 11 | 3.2 | 54 | 74722 | 345505 | 1100825 | 8819 | 16 | 0
24753 | AZ | KINGMAN | 6 | 19 | 1000 | 585 | 74805 | 350157 | 1142156 | 30420 | 175 | 0
35486 | AZ | MESA | 12 | 12 | 22 | 543 | 74517 | 332000 | 1120348 | 33724 | 3236 | 0
2728 | AZ | PHOENIX | 8 | 8 | 30.7 | 527 | 75007 | 332000 | 1120349 | 35929 | 3239 | 0
35587 | AZ | PHOENIX | 10 | 10 | 22.2 | 558 | 74488 | 332003 | 1120343 | 34519 | 3236 | 0
59440 | AZ | PHOENIX | 15 | 15 | 218 | 509 |  | 332000 | 1120346 | 28668 | 3229 | 0
41223 | AZ | PHOENIX | 5 | 17 | 1000 | 507 | 67336 | 332002 | 1120340 | 31756 | 3237 | 0
67868 | AZ | PHOENIX | 21 | 20 | 500 | 489 |  | 332002 | 1120342 | 30913 | 3232 | 0
40993 | AZ | PHOENIX | 3 | 24 | 1000 | 501 | 43557 | 332001 | 1120345 | 31415 | 3234 | 0
68886 | AZ | PHOENIX | 45 | 26 | 1000 | 517 | 33195 | 332001 | 1120332 | 32353 | 3237 | 0
35705 | AZ | PHOENIX | 33 | 33 | 196 | 510 | 74503 | 332000 | 1120346 | 22493 | 3226 | 0
81458 | AZ | PHOENIX | 39 | 39 | 50 | 538 | 80243 | 332003 | 1120338 | 17660 | 3209 | 0.1
7143 | AZ | PHOENIX | 61 | 49 | 531 | 497 | 43560 | 332002 | 1120344 | 24945 | 3227 | 0
35811 | AZ | PRESCOTT | 7 | 7 | 3.2 | 850 | 74984 | 344115 | 1120701 | 24427 | 266 | 0.6
35095 | AZ | SIERRA VISTA | 58 | 44 | 1000 | 319 | 65401 | 314532 | 1104803 | 18972 | 893 | 0
26655 | AZ | TOLLESON | 51 | 51 | 197 | 546 |  | 332003 | 1120338 | 25018 | 3227 | 0
36918 | AZ | TUCSON | 9 | 9 | 9.23 | 1134 | 74508 | 322454 | 1104259 | 39703 | 999 | 0.1
11908 | AZ | TUCSON | 18 | 19 | 480 | 1123 | 59934 | 322456 | 1104250 | 37731 | 924 | 0.1
25735 | AZ | TUCSON | 4 | 23 | 405 | 1123 | 68106 | 322456 | 1104250 | 35116 | 914 | 0.2
44052 | AZ | TUCSON | 11 | 25 | 480 | 1123 | 64314 | 322456 | 1104250 | 35738 | 911 | 0.2
2722 | AZ | TUCSON | 27 | 28 | 50 | 178 | 42999 | 321253 | 1110021 | 8550 | 831 | 0
2731 | AZ | TUCSON | 6 | 30 | 668 | 1092 |  | 322455 | 1104251 | 45415 | 983 | 0
48663 | AZ | TUCSON | 13 | 32 | 108 | 1123 | 43979 | 322456 | 1104250 | 25662 | 807 | 0.7
30601 | AZ | TUCSON | 40 | 40 | 396 | 621 | 74564 | 321456 | 1110658 | 22249 | 933 | 0
74449 | AZ | YUMA | 11 | 11 | 22.3 | 468 | 74556 | 330310 | 1144940 | 34281 | 326 | 0
33639 | AZ | YUMA | 13 | 16 | 510 | 475 | 74806 | 330317 | 1144934 | 28310 | 324 | 0
24518 | CA | ANAHEIM | 56 | 32 | 1000 | 949 | 71423 | 341335 | 1180358 | 37118 | 15339 | 0.1
8263 | CA | ARCATA | 23 | 22 | 45 | 550 | 81081 | 404339 | 1235817 | 18586 | 122 | 0
29234 | CA | AVALON | 54 | 47 | 350 | 937 | 66764 | 341337 | 1180357 | 31249 | 14695 | 0.2
40878 | CA | BAKERSFIELD | 23 | 10 | 4.6 | 1128 | 74808 | 352714 | 1183537 | 23144 | 841 | 0
34459 | CA | BAKERSFIELD | 17 | 25 | 135 | 405 | 44570 | 352617 | 1184422 | 18738 | 698 | 0
4148 | CA | BAKERSFIELD | 29 | 33 | 110 | 1128 | 27939 | 352711 | 1183525 | 24592 | 992 | 0
7700 | CA | BAKERSFIELD | 45 | 45 | 210 | 387 | 74619 | 352620 | 1184424 | 16819 | 697 | 0
63865 | CA | BARSTOW | 64 | 44 | 1000 | 596 |  | 343634 | 1171711 | 27479 | 1578 | 0
83825 | CA | BISHOP | 20 | 20 | 50 | 928 | 74744 | 372443 | 1181106 | 16923 | 23 | 0
40517 | CA | CALIPATRIA | 54 | 36 | 155 | 476 | 75040 | 330302 | 1144938 | 20044 | 318 | 0
4939 | CA | CERES | 23 | 15 | 15 | 172 |  | 372934 | 1211329 | 11349 | 1202 | 0
33745 | CA | CHICO | 24 | 24 | 331 | 537 |  | 401531 | 1220524 | 28699 | 422 | 0
24508 | CA | CHICO | 12 | 43 | 1000 | 396 | 74809 | 395730 | 1214248 | 25916 | 597 | 1.5
23302 | CA | CLOVIS | 43 | 43 | 283 | 642 |  | 364446 | 1191657 | 31884 | 1452 | 0.1
21533 | CA | CONCORD | 42 | 14 | 50 | 942 | 80194 | 375254 | 1215505 | 29972 | 8383 | 0.1
19783 | CA | CORONA | 52 | 39 | 54 | 912 | 41582 | 341248 | 1180341 | 21797 | 14149 | 0.2
57945 | CA | COTATI | 22 | 23 | 110 | 628 | 68181 | 382054 | 1223438 | 23262 | 4471 | 0
51208 | CA | EL CENTRO | 9 | 9 | 19.5 | 414 | 75031 | 330319 | 1144944 | 31675 | 325 | 0
36170 | CA | EL CENTRO | 7 | 22 | 1000 | 477 | 36690 | 330302 | 1144938 | 33284 | 325 | 0
53382 | CA | EUREKA | 3 | 3 | 8.39 | 503 | 74390 | 404352 | 1235706 | 35110 | 149 | 0
55435 | CA | EUREKA | 13 | 11 | 40 | 550 |  | 404338 | 1235817 | 39817 | 149 | 0
42640 | CA | EUREKA | 6 | 17 | 30 | 550 | 44483 | 404339 | 1235817 | 17975 | 118 | 0
58618 | CA | EUREKA | 29 | 28 | 119 | 381 | 28858 | 404336 | 1235826 | 15820 | 121 | 0
8378 | CA | FORT BRAGG | 8 | 8 | 44.9 | 733 | 74379 | 394138 | 1233443 | 38696 | 142 | 0.5
67494 | CA | FRESNO | 53 | 7 | 38 | 560 | 29423 | 370423 | 1192552 | 33624 | 1631 | 0.2
8620 | CA | FRESNO | 30 | 30 | 182 | 614 | 74349 | 370437 | 1192601 | 22934 | 1437 | 0.1
56034 | CA | FRESNO | 47 | 34 | 185 | 577 | 44959 | 370414 | 1192531 | 24853 | 1422 | 0.1
35594 | CA | FRESNO | 24 | 38 | 326 | 601 | 69073 | 370419 | 1192548 | 28138 | 1466 | 0.1
69733 | CA | FRESNO | 18 | 40 | 250 | 698 | 67432 | 364445 | 1191651 | 29501 | 1441 | 0
34439 | CA | HANFORD | 21 | 20 | 350 | 580 | 29793 | 370422 | 1192550 | 28070 | 1509 | 0
4328 | CA | HUNTINGTON BEACH | 50 | 48 | 1000 | 949 | 65049 | 341335 | 1180357 | 35188 | 15139 | 0
35608 | CA | LONG BEACH | 18 | 18 | 111 | 889 | 75204 | 341250 | 1180340 | 19277 | 14109 | 2.8
282 | CA | LOS ANGELES | 7 | 7 | 11.2 | 978 | 74603 | 341337 | 1180358 | 37164 | 15562 | 0.1
21422 | CA | LOS ANGELES | 9 | 9 | 12 | 951 | 69629 | 341338 | 1180400 | 34447 | 15439 | 0
22208 | CA | LOS ANGELES | 11 | 11 | 40.2 | 902 | 74702 | 341329 | 1180348 | 40526 | 15807 | 0.1
33742 | CA | LOS ANGELES | 13 | 13 | 14.1 | 899 | 74704 | 341342 | 1180402 | 36927 | 15505 | 0
13058 | CA | LOS ANGELES | 28 | 28 | 107 | 927 | 84837 | 341326 | 1180344 | 25793 | 14197 | 1.9
35670 | CA | LOS ANGELES | 5 | 31 | 1000 | 954 | 32823 | 341336 | 1180356 | 42312 | 15543 | 0.2
35123 | CA | LOS ANGELES | 34 | 34 | 392 | 956 | 74509 | 341336 | 1180359 | 31607 | 15014 | 0
47906 | CA | LOS ANGELES | 4 | 36 | 711 | 984 | 74810 | 341332 | 1180352 | 41039 | 15464 | 0
38430 | CA | LOS ANGELES | 58 | 41 | 162 | 901 | 41475 | 341326 | 1180345 | 22058 | 13992 | 1
26231 | CA | LOS ANGELES | 22 | 42 | 486 | 892 | 42167 | 341248 | 1180341 | 24724 | 14376 | 1.4
9628 | CA | LOS ANGELES | 2 | 43 | 300 | 947 | 69117 | 341338 | 1180400 | 31477 | 14815 | 0.5
58608 | CA | MERCED | 51 | 11 | 58 | 575 | 75200 | 370419 | 1192549 | 35621 | 1691 | 0
58609 | CA | MODESTO | 19 | 18 | 500 | 555 | 36726 | 380707 | 1204327 | 29812 | 3331 | 0
35611 | CA | MONTEREY | 67 | 31 | 50 | 701 | 29629 | 364523 | 1213005 | 14541 | 1065 | 42.1
26249 | CA | MONTEREY | 46 | 32 | 46 | 758 | 44481 | 363205 | 1213714 | 16387 | 761 | 9
49153 | CA | NOVATO | 68 | 47 | 1000 | 402 | 28688 | 380900 | 1223531 | 15940 | 5258 | 3
35703 | CA | OAKLAND | 2 | 44 | 811 | 433 | 74637 | 374519 | 1222706 | 23024 | 6336 | 0
60549 | CA | ONTARIO | 46 | 29 | 400 | 937 | 68117 | 341336 | 1180359 | 32847 | 14976 | 1
56384 | CA | OXNARD | 63 | 24 | 85 | 533 | 40843 | 341949 | 1190124 | 16934 | 2418 | 38.4
25577 | CA | PALM SPRINGS | 42 | 42 | 50 | 219 | 72090 | 335158 | 1162602 | 7331 | 372 | 4.4
16749 | CA | PALM SPRINGS | 36 | 46 | 50 | 207 | 74811 | 335200 | 1162556 | 7220 | 371 | 0
58605 | CA | PARADISE | 30 | 20 | 661 | 448 | 27908 | 395750 | 1214238 | 23929 | 576 | 0
35512 | CA | PORTERVILLE | 61 | 48 | 197 | 804 | 38116 | 361714 | 1185017 | 27716 | 1741 | 0
55083 | CA | RANCHO PALOS VERDES | 44 | 51 | 1000 | 937 | 65079 | 341335 | 1180357 | 33638 | 15007 | 0
8291 | CA | REDDING | 7 | 7 | 11.6 | 1106 | 74504 | 403610 | 1223900 | 38353 | 371 | 0.1
47285 | CA | REDDING | 9 | 9 | 9.69 | 1097 | 74412 | 403609 | 1223901 | 37993 | 370 | 1.4
22161 | CA | RIVERSIDE | 62 | 45 | 670 | 907 | 74510 | 341250 | 1180340 | 31637 | 15069 | 0
35855 | CA | SACRAMENTO | 6 | 9 | 19.2 | 567 | 74604 | 381618 | 1213018 | 34662 | 5980 | 2.7
25048 | CA | SACRAMENTO | 10 | 10 | 22.3 | 595 | 84845 | 381424 | 1213003 | 38949 | 6597 | 0
51499 | CA | SACRAMENTO | 31 | 21 | 850 | 581 |  | 381554 | 1212924 | 39963 | 6384 | 0
33875 | CA | SACRAMENTO | 3 | 35 | 1000 | 591 | 74812 | 381554 | 1212924 | 37884 | 5024 | 17.7
10205 | CA | SACRAMENTO | 40 | 40 | 765 | 581 | 70334 | 381618 | 1213018 | 31502 | 4587 | 4.2
52953 | CA | SACRAMENTO | 29 | 48 | 1000 | 489 | 44981 | 381554 | 1212924 | 30324 | 4218 | 1.1
19653 | CA | SALINAS | 8 | 8 | 19.2 | 736 | 70343 | 364523 | 1213005 | 28304 | 2557 | 14.9
14867 | CA | SALINAS | 35 | 13 | 19.8 | 720 | 44925 | 364522 | 1213006 | 23793 | 1122 | 49.2
58795 | CA | SAN BERNARDINO | 24 | 26 | 475 | 510 |  | 335757 | 1171705 | 20569 | 13293 | 0
58978 | CA | SAN BERNARDINO | 30 | 38 | 1000 | 909 | 46152 | 341246 | 1180341 | 23330 | 14414 | 0.1
42122 | CA | SAN DIEGO | 8 | 8 | 14.9 | 226 | 80224 | 325017 | 1171456 | 24515 | 3087 | 0.2
40876 | CA | SAN DIEGO | 10 | 10 | 11 | 205 | 74985 | 325020 | 1171456 | 19575 | 2948 | 0.7
10238 | CA | SAN DIEGO | 51 | 18 | 355 | 576 | 39587 | 324150 | 1165604 | 29082 | 2910 | 3.5
58827 | CA | SAN DIEGO | 69 | 19 | 323 | 598 | 65036 | 324147 | 1165607 | 29443 | 3106 | 0.2
6124 | CA | SAN DIEGO | 15 | 30 | 350 | 567 | 33507 | 324153 | 1165603 | 27819 | 3013 | 0.3
35277 | CA | SAN DIEGO | 39 | 40 | 370 | 563 | 68010 | 324148 | 1165606 | 26970 | 2968 | 0.3
34470 | CA | SAN FRANCISCO | 7 | 7 | 21 | 509 | 74465 | 374520 | 1222705 | 32516 | 6516 | 7.3
51189 | CA | SAN FRANCISCO | 20 | 19 | 383 | 418 | 19024 | 374519 | 1222706 | 22989 | 6360 | 1
37511 | CA | SAN FRANCISCO | 26 | 27 | 500 | 403 | 67202 | 374112 | 1222603 | 21218 | 6116 | 1.8
25452 | CA | SAN FRANCISCO | 5 | 29 | 1000 | 506 | 74813 | 374520 | 1222705 | 36730 | 7115 | 0
35500 | CA | SAN FRANCISCO | 9 | 30 | 709 | 509 | 74814 | 374519 | 1222706 | 33404 | 6593 | 4.7
43095 | CA | SAN FRANCISCO | 32 | 33 | 50 | 491 | 74815 | 374520 | 1222705 | 16151 | 5924 | 0.1
65526 | CA | SAN FRANCISCO | 4 | 38 | 712 | 446 | 74655 | 374519 | 1222706 | 23165 | 6338 | 1.4
71586 | CA | SAN FRANCISCO | 38 | 39 | 1000 | 428 | 29544 | 374519 | 1222706 | 24293 | 6266 | 4
69619 | CA | SAN FRANCISCO | 44 | 45 | 400 | 446 | 27801 | 374519 | 1222706 | 19753 | 6005 | 2.9
33778 | CA | SAN FRANCISCO | 14 | 51 | 476 | 701 | 28493 | 372957 | 1215216 | 19534 | 6377 | 0.1
35280 | CA | SAN JOSE | 11 | 12 | 103 | 377 | 64426 | 374107 | 1222601 | 36145 | 6703 | 0.1
34564 | CA | SAN JOSE | 36 | 36 | 740 | 668 | 74585 | 372917 | 1215159 | 28576 | 6601 | 4.5
22644 | CA | SAN JOSE | 65 | 41 | 1000 | 418 | 60706 | 374115 | 1222601 | 23495 | 6250 | 3.3
64987 | CA | SAN JOSE | 48 | 49 | 257 | 688 | 38067 | 372957 | 1215216 | 21071 | 6083 | 1.5
35663 | CA | SAN JOSE | 54 | 50 | 290 | 662 | 34197 | 372917 | 1215159 | 16608 | 6021 | 1.7
19654 | CA | SAN LUIS OBISPO | 6 | 15 | 1000 | 515 | 28386 | 352137 | 1203918 | 30360 | 439 | 0
12930 | CA | SAN LUIS OBISPO | 33 | 34 | 82 | 441 | 44369 | 352138 | 1203921 | 18410 | 410 | 0.2
58912 | CA | SAN MATEO | 60 | 43 | 536 | 428 | 44617 | 374519 | 1222706 | 20821 | 6089 | 2.4
59013 | CA | SANGER | 59 | 36 | 372 | 600 | 43974 | 370437 | 1192601 | 27078 | 1440 | 0
67884 | CA | SANTA ANA | 40 | 23 | 50 | 900 | 39876 | 341327 | 1180344 | 21304 | 13620 | 5.6
12144 | CA | SANTA BARBARA | 38 | 21 | 1000 | 923 | 33205 | 343128 | 1195735 | 36089 | 1343 | 0
60637 | CA | SANTA BARBARA | 3 | 27 | 699 | 917 | 74818 | 343132 | 1195728 | 42055 | 1299 | 2.1
63165 | CA | SANTA MARIA | 12 | 19 | 188 | 591 | 74819 | 345437 | 1201108 | 26167 | 413 | 0
34440 | CA | SANTA ROSA | 50 | 32 | 19.9 | 928 | 72086 | 384010 | 1223752 | 18189 | 742 | 4.5
56550 | CA | STOCKTON | 13 | 25 | 1000 | 594 | 32519 | 381424 | 1213003 | 39491 | 6024 | 7.9
20871 | CA | STOCKTON | 64 | 26 | 425 | 599 | 71124 | 381424 | 1213003 | 27821 | 4135 | 4.8
10242 | CA | STOCKTON | 58 | 46 | 600 | 580 |  | 381554 | 1212924 | 32953 | 4769 | 10.3
16729 | CA | TWENTYNINE PALMS |  | 23 | 150 | 784 | 36709 | 340217 | 1164847 | 20848 | 1940 | 44.1
51429 | CA | VALLEJO | 66 | 34 | 150 | 419 | 39592 | 374519 | 1222706 | 17320 | 5876 | 3.3
14000 | CA | VENTURA | 57 | 49 | 1000 | 937 | 65163 | 341335 | 1180357 | 34730 | 15072 | 0
51488 | CA | VISALIA | 26 | 28 | 219 | 763 | 28096 | 364002 | 1185242 | 30550 | 1433 | 0
16950 | CA | VISALIA | 49 | 50 | 185 | 834 |  | 361714 | 1185017 | 31085 | 1753 | 0
8214 | CA | WATSONVILLE | 25 | 25 | 81.1 | 699 | 70678 | 364522 | 1213004 | 17432 | 1895 | 7.1
57219 | CO | BOULDER | 14 | 15 | 200 | 351 | 66988 | 394017 | 1051306 | 21679 | 2934 | 0
22685 | CO | BROOMFIELD | 12 | 13 | 34.4 | 730 | 80221 | 394055 | 1052949 | 33459 | 3042 | 0
37101 | CO | CASTLE ROCK | 53 | 46 | 300 | 178 | 30026 | 392557 | 1043918 | 13108 | 2332 | 0
35037 | CO | COLORADO SPRINGS | 11 | 10 | 20.1 | 725 | 20589 | 384441 | 1045141 | 29268 | 959 | 54
35991 | CO | COLORADO SPRINGS | 21 | 22 | 51 | 641 | 44318 | 384443 | 1045140 | 22342 | 1109 | 0
52579 | CO | COLORADO SPRINGS | 13 | 24 | 459 | 652 | 74820 | 384445 | 1045138 | 30518 | 2149 | 0
40875 | CO | DENVER | 7 | 7 | 37.4 | 295 | 74403 | 394350 | 1051353 | 24932 | 2899 | 2
23074 | CO | DENVER | 9 | 9 | 39.6 | 318 | 74392 | 394350 | 1051353 | 25732 | 2925 | 1.8
14040 | CO | DENVER | 6 | 18 | 115 | 331 | 76810 | 394017 | 1051306 | 16903 | 2641 | 1.7
68581 | CO | DENVER | 20 | 19 | 1000 | 295 | 44187 | 394350 | 1051353 | 25055 | 2956 | 0
126 | CO | DENVER | 31 | 32 | 1000 | 314 | 30041 | 394345 | 1051412 | 23205 | 2875 | 0
35883 | CO | DENVER | 2 | 34 | 1000 | 318 |  | 394358 | 1051408 | 26818 | 2981 | 0.2
47903 | CO | DENVER | 4 | 35 | 1000 | 373 | 44452 | 394351 | 1051354 | 25932 | 2957 | 0.2
20476 | CO | DENVER | 41 | 40 | 74.8 | 344 |  | 393559 | 1051235 | 17700 | 2624 | 0
68695 | CO | DENVER | 59 | 43 | 1000 | 356 | 27960 | 394024 | 1051303 | 24751 | 2922 | 2.9
24514 | CO | DENVER | 50 | 51 | 900 | 233 | 36173 | 394358 | 1051408 | 19718 | 2711 | 0
48589 | CO | DURANGO | 6 | 15 | 46 | 90 | 44437 | 371546 | 1075358 | 8794 | 91 | 0
84224 | CO | DURANGO |  | 20 | 46 | 130 | 65291 | 371546 | 1075358 | 7843 | 65 | 0
82613 | CO | DURANGO | 33 | 33 | 50 | 122 | 75068 | 371546 | 1075345 | 6607 | 54 | 0
125 | CO | FORT COLLINS | 22 | 21 | 50 | 233 |  | 403832 | 1044905 | 15477 | 620 | 0
70578 | CO | GLENWOOD SPRINGS | 3 | 23 | 16.1 | 771 | 71566 | 392507 | 1072206 | 14435 | 82 | 0
70596 | CO | GRAND JUNCTION | 5 | 2 | 0.8 | 28 | 29734 | 390517 | 1083358 | 7398 | 116 | 0
52593 | CO | GRAND JUNCTION | 8 | 7 | 9.7 | 829 | 74825 | 390255 | 1081506 | 31964 | 185 | 0
24766 | CO | GRAND JUNCTION | 11 | 12 | 5.3 | 452 | 44527 | 390400 | 1084445 | 17978 | 138 | 0.3
31597 | CO | GRAND JUNCTION | 4 | 15 | 71.5 | 407 | 29771 | 390358 | 1084446 | 12155 | 130 | 0
14042 | CO | GRAND JUNCTION | 18 | 18 | 51.2 | 883 | 74404 | 390314 | 1081513 | 19336 | 121 | 0
166510 | CO | GREELEY | 45 | 38 | 816 | 382 |  | 402448 | 1041940 | 32307 | 2403 | 0
38375 | CO | LONGMONT | 25 | 29 | 540 | 379 | 71598 | 400559 | 1045402 | 24252 | 2839 | 0
70579 | CO | MONTROSE | 10 | 13 | 2.6 | 35 | 29766 | 383102 | 1075112 | 7576 | 53 | 1
69170 | CO | PUEBLO | 8 | 8 | 20.3 | 727 | 74992 | 384444 | 1045139 | 29601 | 900 | 56.5
59014 | CO | PUEBLO | 5 | 42 | 880 | 660 | 68141 | 384442 | 1045139 | 30727 | 752 | 15
166331 | CO | PUEBLO |  | 48 | 50 | 695 | 80244 | 384442 | 1045137 | 21123 | 914 | 0
20373 | CO | STEAMBOAT SPRINGS | 24 | 10 | 0.481 | 175 | 44199 | 402743 | 1065057 | 6228 | 29 | 0
63158 | CO | STERLING | 3 | 23 | 599 | 204 |  | 403457 | 1030156 | 21554 | 73 | 0
70493 | CT | BRIDGEPORT | 43 | 42 | 1000 | 156 |  | 412143 | 730648 | 18461 | 5591 | 1.7
13594 | CT | BRIDGEPORT | 49 | 49 | 50 | 222 | 74586 | 411643 | 731108 | 10597 | 3792 | 3.3
147 | CT | HARTFORD | 61 | 31 | 380 | 506 | 66902 | 414213 | 724957 | 23488 | 3645 | 16.3
53115 | CT | HARTFORD | 3 | 33 | 1000 | 289 | 44846 | 414630 | 724820 | 21115 | 3536 | 16.1
13602 | CT | HARTFORD | 24 | 45 | 465 | 505 | 65933 | 414213 | 724957 | 26813 | 4226 | 1.3
3072 | CT | HARTFORD | 18 | 46 | 217 | 269 |  | 414630 | 724804 | 16467 | 3302 | 7.6
74170 | CT | NEW BRITAIN | 30 | 35 | 250 | 434 | 65777 | 414202 | 724957 | 24346 | 4252 | 3.8
13595 | CT | NEW HAVEN | 65 | 6 | 0.4 | 88 |  | 411942 | 725425 | 9068 | 2713 | 10.1
74109 | CT | NEW HAVEN | 8 | 10 | 20.5 | 342 | 65037 | 412522 | 725706 | 25651 | 6215 | 12
33081 | CT | NEW HAVEN | 59 | 39 | 170 | 301 | 46284 | 412522 | 725706 | 17709 | 4376 | 2.9
51980 | CT | NEW LONDON | 26 | 26 | 76 | 368 | 80220 | 412503 | 721155 | 18575 | 3333 | 2.6
13607 | CT | NORWICH | 53 | 9 | 3.2 | 192 | 75021 | 413114 | 721003 | 11997 | 1198 | 29.8
14050 | CT | WATERBURY | 20 | 20 | 58.5 | 515 | 74364 | 414213 | 724957 | 21645 | 3935 | 9.5
1051 | DC | WASHINGTON | 7 | 7 | 13.6 | 235 | 84823 | 385701 | 770447 | 24275 | 7250 | 0.1
65593 | DC | WASHINGTON | 9 | 9 | 13.6 | 235 | 84830 | 385701 | 770447 | 24047 | 7238 | 0.2
65670 | DC | WASHINGTON | 26 | 27 | 90 | 254 | 66360 | 385701 | 770447 | 16086 | 6626 | 1.6
27772 | DC | WASHINGTON | 32 | 33 | 100 | 254 |  | 385701 | 770447 | 17550 | 6781 | 0.1
51567 | DC | WASHINGTON | 20 | 35 | 500 | 227 |  | 385722 | 770459 | 20241 | 6949 | 0.2
22207 | DC | WASHINGTON | 5 | 36 | 1000 | 235 | 74830 | 385721 | 770457 | 22334 | 7096 | 0.8
47904 | DC | WASHINGTON | 4 | 48 | 1000 | 237 | 74831 | 385624 | 770454 | 22223 | 7074 | 0.1
30576 | DC | WASHINGTON | 50 | 50 | 123 | 253 |  | 385744 | 770136 | 17031 | 6767 | 0.1
72335 | DE | SEAFORD | 64 | 44 | 98 | 196 | 66096 | 383915 | 753642 | 11086 | 465 | 7.4
72338 | DE | WILMINGTON | 12 | 12 | 14.9 | 294 | 84855 | 400230 | 751424 | 23192 | 8187 | 1.2
51984 | DE | WILMINGTON | 61 | 31 | 200 | 374 | 39302 | 400230 | 751411 | 18478 | 6836 | 9.5
51349 | FL | BOCA RATON | 63 | 40 | 1000 | 310 |  | 255934 | 801027 | 29971 | 4925 | 0
6601 | FL | BRADENTON | 66 | 42 | 210 | 476 |  | 274910 | 821539 | 28906 | 3722 | 1
70649 | FL | CAPE CORAL | 36 | 35 | 930 | 404 | 67859 | 264742 | 814805 | 28363 | 1378 | 1.1
11125 | FL | CLEARWATER | 22 | 21 | 1000 | 409 | 32885 | 274910 | 821539 | 26800 | 3503 | 0.1
53465 | FL | CLERMONT | 18 | 17 | 1000 | 472 | 38022 | 283512 | 810458 | 36917 | 3225 | 0.1
6744 | FL | COCOA | 68 | 30 | 182 | 491 | 38429 | 283635 | 810335 | 26292 | 2631 | 0
24582 | FL | COCOA | 52 | 51 | 50 | 514 |  | 283512 | 810458 | 23814 | 2623 | 0
25738 | FL | DAYTONA BEACH | 2 | 11 | 54.9 | 511 | 41527 | 283635 | 810335 | 43816 | 3125 | 4.4
131 | FL | DAYTONA BEACH | 26 | 49 | 150 | 459 |  | 285516 | 811909 | 25951 | 2645 | 0.1
81669 | FL | DESTIN |  | 48 | 1000 | 318 | 65951 | 305952 | 864313 | 23444 | 743 | 1.5
64971 | FL | FORT LAUDERDALE | 51 | 30 | 329 | 304 | 74587 | 255909 | 801137 | 20549 | 4770 | 0.2
22093 | FL | FORT MYERS | 11 | 9 | 20 | 445 |  | 264801 | 814548 | 37322 | 1532 | 0
71085 | FL | FORT MYERS | 20 | 15 | 1000 | 454 | 59198 | 264921 | 814554 | 36098 | 1643 | 0
62388 | FL | FORT MYERS | 30 | 31 | 50 | 293 | 74833 | 264854 | 814544 | 17120 | 943 | 0.1
35575 | FL | FORT PIERCE | 34 | 34 | 522 | 438 | 75041 | 270719 | 802320 | 28293 | 2144 | 0
29715 | FL | FORT PIERCE | 21 | 38 | 765 | 297 | 71509 | 270132 | 801043 | 22636 | 2117 | 0
31570 | FL | FORT WALTON BEACH | 53 | 40 | 33.5 | 219 | 29918 | 302409 | 865935 | 11996 | 581 | 0
54938 | FL | FORT WALTON BEACH | 58 | 49 | 50 | 59 | 74834 | 302343 | 863011 | 3785 | 163 | 12
6554 | FL | FORT WALTON BEACH | 35 | 50 | 1000 | 221 |  | 302346 | 865913 | 21954 | 689 | 0
83965 | FL | GAINESVILLE | 29 | 9 | 3.2 | 278 | 75127 | 293747 | 823425 | 18401 | 500 | 1.7
16993 | FL | GAINESVILLE | 20 | 16 | 344 | 254 | 70423 | 293211 | 822400 | 18598 | 793 | 0
69440 | FL | GAINESVILLE | 5 | 36 | 1000 | 263 |  | 294234 | 822340 | 26470 | 1150 | 0
7727 | FL | HIGH SPRINGS | 53 | 28 | 168 | 265 | 73079 | 293747 | 823424 | 17693 | 635 | 0.1
60536 | FL | HOLLYWOOD | 69 | 47 | 575 | 297 | 43915 | 255909 | 801137 | 21946 | 4801 | 0
73130 | FL | JACKSONVILLE | 7 | 7 | 16.2 | 288 | 74527 | 301651 | 813412 | 25919 | 1314 | 0.5
65046 | FL | JACKSONVILLE | 12 | 13 | 25 | 310 |  | 301624 | 813313 | 31176 | 1381 | 1.6
35576 | FL | JACKSONVILLE | 47 | 19 | 1000 | 291 | 42083 | 301651 | 813412 | 27268 | 1345 | 0.3
11909 | FL | JACKSONVILLE | 30 | 32 | 1000 | 291 | 42562 | 301651 | 813412 | 25771 | 1324 | 0.2
29712 | FL | JACKSONVILLE | 17 | 34 | 863 | 283 | 71837 | 301636 | 813347 | 24352 | 1304 | 0.1
53116 | FL | JACKSONVILLE | 4 | 42 | 976 | 294 | 41583 | 301624 | 813313 | 26562 | 1329 | 0
29719 | FL | JACKSONVILLE | 59 | 44 | 715 | 235 | 69233 | 301634 | 813353 | 19675 | 1267 | 0
72053 | FL | KEY WEST | 22 | 3 | 1 | 62 |  | 243318 | 814807 | 9983 | 45 | 0
27387 | FL | KEY WEST | 8 | 8 | 3.2 | 33 | 74365 | 243419 | 814425 | 5713 | 45 | 0
27290 | FL | LAKE WORTH | 67 | 36 | 1000 | 385 | 43353 | 263520 | 801244 | 28708 | 4345 | 12.9
53819 | FL | LAKELAND | 32 | 19 | 1000 | 458 |  | 274910 | 821539 | 41503 | 4346 | 1.7
60018 | FL | LEESBURG | 55 | 40 | 1000 | 514 | 32830 | 283511 | 810458 | 37186 | 3155 | 0.2
9881 | FL | LEESBURG | 45 | 46 | 1000 | 472 | 59171 | 283512 | 810458 | 31806 | 3050 | 0.2
22245 | FL | LIVE OAK | 57 | 48 | 1000 | 597 |  | 304051 | 835821 | 44034 | 970 | 0
81594 | FL | MARIANNA | 51 | 51 | 50 | 254 | 74785 | 303042 | 852917 | 13673 | 278 | 0
5802 | FL | MELBOURNE | 43 | 43 | 1000 | 300 | 74433 | 281822 | 805445 | 23789 | 2340 | 0.3
67602 | FL | MELBOURNE | 56 | 48 | 1000 | 456 | 67869 | 280537 | 810728 | 31239 | 2955 | 3.5
63840 | FL | MIAMI | 7 | 7 | 145 | 291 | 80184 | 255749 | 801244 | 36091 | 5031 | 0
53113 | FL | MIAMI | 10 | 10 | 30 | 294 | 74350 | 255759 | 801244 | 27703 | 4931 | 0
13456 | FL | MIAMI | 2 | 18 | 1000 | 309 | 30258 | 255730 | 801244 | 26169 | 4906 | 0
10203 | FL | MIAMI | 39 | 19 | 1000 | 239 | 67745 | 255807 | 801320 | 20430 | 4771 | 0.4
66358 | FL | MIAMI | 17 | 20 | 625 | 301 | 42558 | 255846 | 801146 | 23263 | 4880 | 0
47902 | FL | MIAMI | 4 | 22 | 1000 | 298 |  | 255807 | 801320 | 31232 | 4922 | 0
73230 | FL | MIAMI | 23 | 23 | 485 | 257 | 74466 | 255807 | 801320 | 18379 | 4714 | 0
63154 | FL | MIAMI | 6 | 31 | 1000 | 311 |  | 255807 | 801320 | 30510 | 4920 | 0
12497 | FL | MIAMI | 33 | 32 | 1000 | 263 | 41330 | 255802 | 801234 | 21017 | 4771 | 0
48608 | FL | MIAMI | 35 | 35 | 242 | 282 | 74993 | 255909 | 801137 | 18162 | 4564 | 2.8
67971 | FL | MIAMI | 45 | 46 | 500 | 308 | 36387 | 255934 | 801027 | 19031 | 4815 | 0
19183 | FL | NAPLES | 26 | 41 | 1000 | 454 | 59197 | 264921 | 814554 | 32033 | 1491 | 2
61504 | FL | NAPLES | 46 | 45 | 1000 | 456 | 33429 | 264708 | 814740 | 28232 | 1369 | 0.4
12171 | FL | NEW SMYRNA BEACH | 15 | 33 | 308 | 491 | 59744 | 283635 | 810335 | 28477 | 2677 | 0.1
70651 | FL | OCALA | 51 | 31 | 500 | 259 | 39152 | 292132 | 821943 | 19210 | 910 | 0.2
11893 | FL | ORANGE PARK | 25 | 10 | 12 | 298 |  | 301624 | 813313 | 26962 | 1318 | 0.9
41225 | FL | ORLANDO | 35 | 22 | 1000 | 392 | 28032 | 283613 | 810511 | 34755 | 2981 | 0.2
12855 | FL | ORLANDO | 24 | 23 | 950 | 380 | 40155 | 283608 | 810537 | 32898 | 2991 | 0
71293 | FL | ORLANDO | 6 | 26 | 547 | 516 | 71980 | 283635 | 810335 | 35732 | 2960 | 0.2
55454 | FL | ORLANDO | 27 | 27 | 247 | 477 |  | 283407 | 810316 | 32237 | 2872 | 0
72076 | FL | ORLANDO | 9 | 39 | 1000 | 492 |  | 283407 | 810316 | 40585 | 3220 | 0.2
54940 | FL | ORLANDO | 65 | 41 | 1000 | 515 |  | 283635 | 810335 | 40291 | 3165 | 2.7
11123 | FL | PALM BEACH | 61 | 49 | 800 | 125 | 44853 | 264547 | 801219 | 13671 | 2395 | 0
73136 | FL | PANAMA CITY | 7 | 7 | 52 | 244 | 74969 | 302600 | 852451 | 25857 | 372 | 0.4
2942 | FL | PANAMA CITY | 28 | 9 | 2.3 | 142 | 67964 | 302342 | 853202 | 12161 | 238 | 2.4
66398 | FL | PANAMA CITY | 13 | 13 | 35.5 | 405 | 74426 | 302108 | 852328 | 32536 | 721 | 0.1
6093 | FL | PANAMA CITY | 56 | 38 | 49.2 | 137 |  | 302202 | 855528 | 12069 | 275 | 0
4354 | FL | PANAMA CITY BEACH | 46 | 47 | 50 | 59 | 74838 | 301059 | 854642 | 5037 | 154 | 0
71363 | FL | PENSACOLA | 3 | 17 | 1000 | 579 |  | 303645 | 873843 | 47474 | 1408 | 0
17611 | FL | PENSACOLA | 23 | 31 | 1000 | 549 | 75266 | 303640 | 873626 | 33317 | 1254 | 0.1
10894 | FL | PENSACOLA | 33 | 34 | 1000 | 415 | 33836 | 303735 | 873850 | 27979 | 1210 | 0
41210 | FL | PENSACOLA | 44 | 45 | 1000 | 457 | 42957 | 303516 | 873313 | 28956 | 1244 | 0
61251 | FL | SARASOTA | 40 | 24 | 116 | 233 |  | 273321 | 822149 | 15298 | 2563 | 12
11290 | FL | ST. PETERSBURG | 10 | 10 | 18.1 | 458 | 84846 | 281104 | 824539 | 33246 | 3447 | 0.2
4108 | FL | ST. PETERSBURG | 38 | 38 | 1000 | 438 | 70212 | 275032 | 821546 | 30498 | 3664 | 0.1
74112 | FL | ST. PETERSBURG | 44 | 44 | 463 | 452 |  | 275052 | 821548 | 32510 | 3887 | 0.8
83929 | FL | STUART |  | 44 | 773 | 80 |  | 264337 | 800448 | 14826 | 2240 | 0
82735 | FL | TALLAHASSEE |  | 24 | 24 | 39 | 65784 | 302940 | 842503 | 5304 | 304 | 0
41065 | FL | TALLAHASSEE | 27 | 27 | 1000 | 487 |  | 304006 | 835810 | 41970 | 951 | 0.1
21801 | FL | TALLAHASSEE | 11 | 32 | 938 | 237 |  | 302131 | 843638 | 25384 | 516 | 0
66908 | FL | TALLAHASSEE | 40 | 40 | 1000 | 600 | 70213 | 304051 | 835821 | 38436 | 784 | 0.1
64592 | FL | TAMPA | 8 | 7 | 19 | 465 |  | 275032 | 821545 | 37491 | 4250 | 0.8
68569 | FL | TAMPA | 13 | 12 | 72.3 | 436 | 17613 | 274908 | 821426 | 41899 | 4200 | 6.7
21808 | FL | TAMPA | 3 | 13 | 17.1 | 473 | 75058 | 274948 | 821559 | 36363 | 4123 | 1.2
64588 | FL | TAMPA | 28 | 29 | 987 | 475 | 67821 | 275032 | 821545 | 38497 | 4186 | 0
69338 | FL | TAMPA | 16 | 34 | 475 | 453 |  | 275052 | 821548 | 32898 | 3939 | 2
60559 | FL | TAMPA | 50 | 47 | 500 | 317 | 59290 | 275032 | 821545 | 22988 | 3453 | 0.3
51988 | FL | TEQUESTA | 25 | 16 | 1000 | 454 | 29425 | 270717 | 802342 | 33467 | 2807 | 0.9
71580 | FL | TICE | 49 | 33 | 1000 | 429 | 32880 | 264708 | 814741 | 27350 | 1275 | 0.4
16788 | FL | VENICE | 62 | 25 | 750 | 472 | 39529 | 274910 | 821539 | 32426 | 3786 | 0.1
59443 | FL | WEST PALM BEACH | 5 | 12 | 41 | 302 | 84819 | 263520 | 801243 | 33128 | 4986 | 0.1
52527 | FL | WEST PALM BEACH | 12 | 13 | 29.5 | 291 | 39117 | 263518 | 801230 | 28983 | 4782 | 0
61084 | FL | WEST PALM BEACH | 42 | 27 | 400 | 440 | 44609 | 263437 | 801432 | 26429 | 4992 | 0
39736 | FL | WEST PALM BEACH | 29 | 28 | 630 | 458 | 38600 | 263437 | 801432 | 31715 | 5137 | 0
70713 | GA | ALBANY | 10 | 10 | 18.2 | 272 | 74405 | 311952 | 835144 | 24614 | 626 | 1.2
70815 | GA | ALBANY | 31 | 12 | 60 | 287 | 38373 | 311952 | 835143 | 28865 | 746 | 0.7
23948 | GA | ATHENS | 8 | 8 | 15.9 | 326 | 80225 | 334818 | 840840 | 28087 | 4632 | 0.4
48813 | GA | ATHENS | 34 | 48 | 1000 | 310 |  | 334826 | 842022 | 27603 | 4694 | 0.1
51163 | GA | ATLANTA | 11 | 10 | 80 | 303 |  | 334524 | 841955 | 34627 | 4867 | 0.6
72120 | GA | ATLANTA | 46 | 19 | 1000 | 329 |  | 334826 | 842022 | 32016 | 4822 | 0.1
64033 | GA | ATLANTA | 17 | 20 | 1000 | 310 |  | 334826 | 842022 | 30474 | 4766 | 0.5
4190 | GA | ATLANTA | 30 | 21 | 50 | 334 | 74839 | 334535 | 842007 | 18186 | 4148 | 3.2
22819 | GA | ATLANTA | 36 | 25 | 500 | 332 |  | 334826 | 842022 | 26868 | 4612 | 2
70689 | GA | ATLANTA | 5 | 27 | 1000 | 332 |  | 334751 | 842002 | 30573 | 4773 | 0.6
23960 | GA | ATLANTA | 2 | 39 | 1000 | 301 | 65852 | 334551 | 842142 | 27454 | 4618 | 0.1
13206 | GA | ATLANTA | 57 | 41 | 165 | 319 |  | 340359 | 842717 | 20717 | 4373 | 0.5
6900 | GA | ATLANTA | 69 | 43 | 1000 | 335 |  | 334440 | 842136 | 29766 | 4733 | 0.1
73937 | GA | AUGUSTA | 12 | 12 | 20.2 | 485 | 74489 | 332429 | 815036 | 37025 | 1357 | 0.6
70699 | GA | AUGUSTA | 26 | 30 | 400 | 483 |  | 332420 | 815001 | 35012 | 1261 | 0
27140 | GA | AUGUSTA | 6 | 42 | 1000 | 507 |  | 332420 | 815001 | 40539 | 1454 | 0
3228 | GA | AUGUSTA | 54 | 51 | 37 | 363 | 67958 | 332500 | 815006 | 16372 | 615 | 0.1
23486 | GA | BAINBRIDGE | 49 | 49 | 226 | 597 |  | 304051 | 835821 | 34589 | 873 | 0
69446 | GA | BAXLEY | 34 | 35 | 1000 | 349 | 77877 | 320248 | 812027 | 29995 | 725 | 0
71236 | GA | BRUNSWICK | 21 | 24 | 500 | 418 | 75243 | 304939 | 814427 | 29155 | 1290 | 0
23942 | GA | CHATSWORTH | 18 | 33 | 426 | 537 | 32774 | 344506 | 844254 | 27651 | 2782 | 1.2
23935 | GA | COCHRAN | 29 | 7 | 22 | 369 |  | 322811 | 831517 | 32901 | 784 | 1.7
595 | GA | COLUMBUS | 9 | 9 | 1 | 503 | 70342 | 321925 | 844646 | 22410 | 642 | 4.7
3359 | GA | COLUMBUS | 3 | 15 | 1000 | 449 |  | 321925 | 844646 | 39904 | 1113 | 11.5
23918 | GA | COLUMBUS | 28 | 23 | 250 | 462 | 33233 | 325108 | 844204 | 27183 | 1332 | 0
37179 | GA | COLUMBUS | 38 | 35 | 50 | 399 | 74840 | 322728 | 845308 | 21298 | 660 | 0
12472 | GA | COLUMBUS | 54 | 49 | 500 | 312 | 67961 | 322739 | 845243 | 19986 | 638 | 2.4
63867 | GA | CORDELE | 55 | 51 | 200 | 109 |  | 315335 | 834818 | 14405 | 356 | 0.3
60825 | GA | DALTON | 23 | 16 | 300 | 425 | 28422 | 345707 | 852258 | 24445 | 1157 | 2.7
23930 | GA | DAWSON | 25 | 8 | 6 | 313 | 44505 | 315615 | 843315 | 19598 | 471 | 21
46991 | GA | MACON | 13 | 13 | 30 | 238 |  | 324510 | 833332 | 27301 | 820 | 4.2
58262 | GA | MACON | 24 | 16 | 1000 | 216 | 77955 | 324458 | 833335 | 21248 | 676 | 0.3
43847 | GA | MACON | 41 | 40 | 110 | 189 |  | 324512 | 833346 | 15105 | 538 | 0
24618 | GA | MACON | 64 | 45 | 1000 | 223 | 60980 | 324551 | 833332 | 19160 | 655 | 0.8
68058 | GA | MONROE | 63 | 44 | 700 | 303 |  | 334441 | 842136 | 25422 | 4531 | 0.2
23917 | GA | PELHAM | 14 | 6 | 3.8 | 474 | 74339 | 304013 | 835626 | 30535 | 844 | 0
54728 | GA | PERRY | 58 | 32 | 100 | 186 | 68372 | 324504 | 833327 | 13242 | 504 | 0
51969 | GA | ROME | 14 | 51 | 1000 | 622 | 32746 | 341848 | 843855 | 35465 | 5192 | 0.4
23947 | GA | SAVANNAH | 9 | 9 | 15.2 | 320 | 80230 | 320848 | 813705 | 28965 | 759 | 0.3
590 | GA | SAVANNAH | 11 | 11 | 14.8 | 420 | 74380 | 320314 | 812101 | 28682 | 752 | 0
37174 | GA | SAVANNAH | 22 | 22 | 166 | 436 | 74457 | 320330 | 812020 | 25120 | 667 | 0
48662 | GA | SAVANNAH | 3 | 39 | 1000 | 442 |  | 320331 | 811755 | 37667 | 832 | 0.1
31590 | GA | THOMASVILLE | 6 | 46 | 1000 | 619 |  | 304013 | 835626 | 45196 | 972 | 0.1
63329 | GA | TOCCOA | 32 | 24 | 600 | 209 |  | 343644 | 832205 | 20917 | 1161 | 1.8
28155 | GA | VALDOSTA | 44 | 43 | 50 | 253 | 40583 | 311018 | 832157 | 13316 | 328 | 0
23929 | GA | WAYCROSS | 8 | 8 | 20 | 286 |  | 311317 | 823424 | 28624 | 426 | 5.9
23937 | GA | WRENS | 20 | 6 | 30 | 436 | 74332 | 331533 | 821709 | 25555 | 782 | 0
36914 | HI | HILO | 9 | 9 | 3.2 | 33 | 74970 | 194300 | 1550813 | 10655 | 79 | 0
4146 | HI | HILO | 11 | 11 | 3.35 | 33 | 74440 | 194357 | 1550404 | 5336 | 78 | 0
64544 | HI | HILO | 13 | 13 | 3.73 | 1 | 74413 | 194357 | 1550404 | 6703 | 79 | 0
34846 | HI | HILO | 2 | 22 | 8 | 1 | 44792 | 194351 | 1550411 | 1638 | 64 | 0.5
37103 | HI | HILO | 14 | 23 | 35 | 33 | 28420 | 194300 | 1550813 | 7064 | 78 | 0
4144 | HI | HONOLULU | 2 | 8 | 7.2 | 1 |  | 211746 | 1575036 | 11570 | 817 | 0
36917 | HI | HONOLULU | 9 | 9 | 7 | 33 | 74971 | 211746 | 1575036 | 9210 | 826 | 0
51241 | HI | HONOLULU | 38 | 10 | 14.3 | 577 | 66350 | 212345 | 1580558 | 26942 | 812 | 7.5
26431 | HI | HONOLULU | 11 | 11 | 3.2 | 637 | 74414 | 212403 | 1580610 | 22766 | 862 | 0
34527 | HI | HONOLULU | 20 | 19 | 60.7 | 606 | 43104 | 212351 | 1580600 | 16294 | 788 | 0
34445 | HI | HONOLULU | 5 | 23 | 5.4 | 453 | 67839 | 212255 | 1580619 | 6285 | 764 | 0
3246 | HI | HONOLULU | 26 | 27 | 262 | 580 | 45219 | 212345 | 1580558 | 14530 | 829 | 0
36846 | HI | HONOLULU | 14 | 31 | 50 | 33 | 28782 | 211849 | 1575143 | 6227 | 746 | 0
65395 | HI | HONOLULU | 32 | 33 | 49.6 | 1 | 77218 | 211849 | 1575143 | 5500 | 751 | 0
34867 | HI | HONOLULU | 13 | 35 | 5.9 | 453 | 69970 | 212255 | 1580619 | 6006 | 759 | 0
64548 | HI | HONOLULU | 4 | 40 | 85 | 1 | 68040 | 211737 | 1575034 | 4992 | 767 | 1.4
27425 | HI | HONOLULU | 44 | 43 | 6.46 | 577 |  | 212345 | 1580558 | 14133 | 764 | 0
83180 | HI | KAILUA | 50 | 50 | 50 | 632 | 74783 | 211949 | 1574524 | 25899 | 841 | 0
664 | HI | KAILUA KONA | 6 | 25 | 700 | 871 | 66907 | 194316 | 1555515 | 42674 | 64 | 3.4
77483 | HI | KANEOHE | 66 | 41 | 297 | 632 |  | 211949 | 1574524 | 37079 | 778 | 8.5
4145 | HI | WAILUKU | 7 | 7 | 3.69 | 1809 | 74519 | 204241 | 1561526 | 44292 | 146 | 0
26428 | HI | WAILUKU | 10 | 10 | 3.2 | 1811 | 74479 | 204240 | 1561534 | 41025 | 131 | 2.2
64551 | HI | WAILUKU | 12 | 12 | 3.94 | 1664 | 75008 | 204216 | 1561635 | 30905 | 139 | 0
34859 | HI | WAILUKU | 15 | 16 | 50 | 1723 | 74846 | 204234 | 1561554 | 27836 | 135 | 0
37105 | HI | WAILUKU | 21 | 21 | 53.1 | 1298 | 75029 | 204058 | 1561907 | 28579 | 146 | 0
36920 | HI | WAILUKU | 3 | 24 | 72.4 | 1814 |  | 204241 | 1561535 | 48982 | 137 | 9.2
89714 | HI | WAIMANALO | 56 | 38 | 50 | 632 | 74789 | 211949 | 1574524 | 27066 | 843 | 0
8661 | IA | AMES | 5 | 5 | 3.91 | 613 | 74683 | 414947 | 933656 | 43150 | 987 | 0
51502 | IA | AMES | 23 | 23 | 246 | 613 | 74753 | 414947 | 933656 | 38510 | 952 | 0
82619 | IA | AMES | 34 | 34 | 50 | 150 | 75070 | 415849 | 934423 | 12611 | 598 | 0
7841 | IA | BURLINGTON | 26 | 41 | 500 | 388 | 29888 | 410808 | 904830 | 26895 | 855 | 0.4
9719 | IA | CEDAR RAPIDS | 9 | 9 | 19.2 | 607 | 74589 | 421859 | 915131 | 42342 | 970 | 0.8
35336 | IA | CEDAR RAPIDS | 28 | 27 | 1000 | 449 | 29380 | 420525 | 920513 | 33845 | 815 | 0
21156 | IA | CEDAR RAPIDS | 48 | 47 | 500 | 309 |  | 421717 | 915254 | 25135 | 694 | 0
25685 | IA | CEDAR RAPIDS | 2 | 51 | 500 | 585 |  | 421859 | 915130 | 38136 | 900 | 0.1
29108 | IA | COUNCIL BLUFFS | 32 | 33 | 200 | 98 |  | 411515 | 955008 | 13206 | 816 | 0
5471 | IA | DAVENPORT | 36 | 34 | 3.5 | 233 | 80421 | 411844 | 902246 | 8144 | 424 | 0
6885 | IA | DAVENPORT | 6 | 36 | 696 | 329 |  | 411844 | 902246 | 29295 | 999 | 0.2
54011 | IA | DAVENPORT | 18 | 49 | 1000 | 344 | 44477 | 411844 | 902245 | 28483 | 958 | 0
33710 | IA | DES MOINES | 8 | 8 | 29.4 | 566 | 74490 | 414835 | 933716 | 43129 | 983 | 1.3
29102 | IA | DES MOINES | 11 | 11 | 19.8 | 600 | 75043 | 414833 | 933653 | 43085 | 983 | 0.4
66221 | IA | DES MOINES | 13 | 13 | 36.1 | 609 | 74427 | 414947 | 933656 | 47702 | 1038 | 2.2
56527 | IA | DES MOINES | 17 | 16 | 500 | 612 | 39534 | 414947 | 933656 | 40497 | 974 | 0
78915 | IA | DES MOINES |  | 31 | 628 | 589 | 74639 | 414947 | 933656 | 37868 | 947 | 0.1
17625 | IA | DUBUQUE | 40 | 43 | 800 | 262 | 39740 | 423109 | 903711 | 19008 | 305 | 0.9
29100 | IA | FORT DODGE | 21 | 25 | 600 | 355 | 75579 | 424903 | 942441 | 27727 | 295 | 0.3
29095 | IA | IOWA CITY | 12 | 12 | 17.8 | 439 | 75030 | 414315 | 912030 | 35040 | 1110 | 0.1
35096 | IA | IOWA CITY | 20 | 25 | 1000 | 419 | 39521 | 414329 | 912110 | 33241 | 1058 | 1.4
29086 | IA | MASON CITY | 24 | 18 | 250 | 449 | 76886 | 432832 | 924229 | 25774 | 479 | 0
66402 | IA | MASON CITY | 3 | 42 | 1000 | 447 |  | 432220 | 924959 | 38283 | 717 | 1.2
81509 | IA | NEWTON | 39 | 39 | 116 | 154 | 74772 | 414905 | 931232 | 11998 | 651 | 0
53820 | IA | OTTUMWA | 15 | 15 | 50 | 332 | 74372 | 411142 | 915715 | 17119 | 305 | 0.1
29085 | IA | RED OAK | 36 | 35 | 600 | 475 | 32182 | 412040 | 951521 | 30526 | 932 | 0.1
11265 | IA | SIOUX CITY | 9 | 9 | 22.3 | 616 | 74480 | 423512 | 961357 | 44501 | 639 | 1.5
29096 | IA | SIOUX CITY | 27 | 28 | 400 | 348 |  | 423053 | 961815 | 28422 | 342 | 0
39665 | IA | SIOUX CITY | 14 | 39 | 1000 | 611 |  | 423512 | 961319 | 45543 | 662 | 0
66170 | IA | SIOUX CITY | 4 | 41 | 873 | 609 |  | 423512 | 961318 | 44386 | 655 | 0
77451 | IA | SIOUX CITY | 44 | 44 | 914 | 587 | 75037 | 423512 | 961318 | 37919 | 553 | 0.7
593 | IA | WATERLOO | 7 | 7 | 22.6 | 604 | 84824 | 422404 | 915043 | 43266 | 990 | 0.5
81595 | IA | WATERLOO | 22 | 22 | 80.9 | 198 | 74750 | 422453 | 920034 | 14283 | 453 | 0.2
29114 | IA | WATERLOO | 32 | 35 | 250 | 584 |  | 421859 | 915131 | 35668 | 869 | 1
34858 | ID | BOISE | 7 | 7 | 17.2 | 808 | 84825 | 434516 | 1160556 | 41139 | 555 | 0
62442 | ID | BOISE | 4 | 21 | 725 | 858 | 66936 | 434521 | 1160554 | 35287 | 552 | 0
49760 | ID | BOISE | 2 | 28 | 978 | 777 | 74847 | 434517 | 1160553 | 45215 | 558 | 0
35097 | ID | BOISE | 39 | 39 | 50 | 534 | 74773 | 434423 | 1160815 | 10348 | 464 | 0
59363 | ID | CALDWELL | 9 | 10 | 14 | 818 | 41421 | 434518 | 1160552 | 30230 | 551 | 0
62424 | ID | COEUR D'ALENE | 26 | 45 | 50 | 465 | 74848 | 474354 | 1164347 | 14948 | 548 | 0
12284 | ID | FILER | 19 | 18 | 50 | 161 | 74849 | 424347 | 1142452 | 13431 | 132 | 0
66258 | ID | IDAHO FALLS | 8 | 8 | 63 | 463 |  | 433003 | 1123936 | 42673 | 272 | 0
41238 | ID | IDAHO FALLS | 20 | 20 | 50 | 223 | 74745 | 434544 | 1115730 | 14669 | 165 | 0
56028 | ID | IDAHO FALLS | 3 | 36 | 200 | 457 | 28614 | 432951 | 1123950 | 22981 | 247 | 0
56032 | ID | LEWISTON | 3 | 32 | 200 | 361 | 29292 | 462727 | 1170556 | 16016 | 133 | 0
62382 | ID | MOSCOW | 12 | 12 | 78 | 340 |  | 464054 | 1165813 | 35158 | 238 | 12.7
28230 | ID | NAMPA | 12 | 13 | 17 | 829 |  | 434518 | 1160552 | 41141 | 555 | 0
59255 | ID | NAMPA | 6 | 24 | 823 | 811 | 74850 | 434520 | 1160555 | 45069 | 558 | 0
86205 | ID | POCATELLO | 15 | 15 | 251 | 327 | 74733 | 425150 | 1123110 | 16199 | 216 | 0
62430 | ID | POCATELLO | 10 | 17 | 190 | 465 | 74851 | 433002 | 1123936 | 29893 | 260 | 0
1270 | ID | POCATELLO | 6 | 23 | 505 | 452 | 28852 | 425515 | 1122044 | 24439 | 241 | 0
78910 | ID | POCATELLO | 31 | 31 | 72.3 | 447 | 75065 | 425515 | 1122044 | 13633 | 207 | 0
81570 | ID | SUN VALLEY | 5 | 5 | 6.09 | 572 | 84839 | 432647 | 1141252 | 32640 | 163 | 0
35200 | ID | TWIN FALLS | 11 | 11 | 16.4 | 323 | 74393 | 424348 | 1142452 | 27640 | 152 | 0
62427 | ID | TWIN FALLS | 13 | 22 | 50 | 161 | 74852 | 424347 | 1142452 | 12892 | 124 | 0
1255 | ID | TWIN FALLS | 35 | 34 | 21.7 | 152 | 66302 | 424342 | 1142443 | 7375 | 99 | 0
60539 | IL | AURORA | 60 | 50 | 172 | 509 | 74684 | 415244 | 873808 | 23585 | 9162 | 1
5875 | IL | BLOOMINGTON | 43 | 28 | 1000 | 293 |  | 403845 | 891045 | 30031 | 1013 | 0.2
4297 | IL | CARBONDALE | 8 | 8 | 14.1 | 271 | 74549 | 380611 | 891440 | 25125 | 737 | 3.2
25684 | IL | CHAMPAIGN | 15 | 41 | 950 | 375 | 68470 | 400411 | 875445 | 28692 | 921 | 7
42124 | IL | CHAMPAIGN | 3 | 48 | 1000 | 245 |  | 400621 | 882700 | 23439 | 761 | 0.3
18301 | IL | CHARLESTON | 51 | 50 | 255 | 146 | 69577 | 393415 | 881825 | 14097 | 449 | 0
73226 | IL | CHICAGO | 7 | 7 | 3.2 | 515 | 74590 | 415244 | 873810 | 29074 | 9389 | 0.7
9617 | IL | CHICAGO | 2 | 12 | 3.2 | 497 |  | 415244 | 873808 | 28938 | 9367 | 0.5
72115 | IL | CHICAGO | 9 | 19 | 645 | 453 | 39765 | 415244 | 873810 | 31644 | 9509 | 0.5
12279 | IL | CHICAGO | 20 | 21 | 98.9 | 378 | 33366 | 415356 | 873723 | 20821 | 8983 | 0.1
71428 | IL | CHICAGO | 26 | 27 | 160 | 510 | 45223 | 415244 | 873810 | 26129 | 9287 | 0.1
47905 | IL | CHICAGO | 5 | 29 | 350 | 508 | 31269 | 415244 | 873810 | 32080 | 9520 | 0.2
22211 | IL | CHICAGO | 32 | 31 | 690 | 475 |  | 415244 | 873810 | 37880 | 9711 | 0.1
10981 | IL | CHICAGO | 38 | 43 | 200 | 509 | 38347 | 415244 | 873808 | 26028 | 9256 | 0.5
70119 | IL | CHICAGO | 44 | 45 | 467 | 472 | 27856 | 415244 | 873810 | 28750 | 9402 | 0.2
10802 | IL | CHICAGO | 11 | 47 | 300 | 465 | 33534 | 415244 | 873810 | 27544 | 9338 | 0.3
70852 | IL | DECATUR | 17 | 18 | 350 | 375 | 29834 | 395707 | 884955 | 25571 | 913 | 0
16363 | IL | DECATUR | 23 | 22 | 253 | 401 | 46084 | 395656 | 885012 | 25397 | 918 | 0
57221 | IL | EAST ST. LOUIS | 46 | 47 | 187 | 345 | 74855 | 382318 | 902916 | 19175 | 2686 | 0
4689 | IL | FREEPORT | 23 | 23 | 50 | 219 | 74557 | 421748 | 891015 | 14184 | 909 | 6.1
81946 | IL | GALESBURG |  | 8 | 15 | 333 | 80193 | 411844 | 902245 | 24719 | 795 | 0.7
73999 | IL | HARRISBURG | 3 | 34 | 1000 | 302 |  | 373650 | 885220 | 31461 | 703 | 0.1
70536 | IL | JACKSONVILLE | 14 | 15 | 75 | 295 |  | 393609 | 900247 | 19431 | 508 | 1.2
12498 | IL | JOLIET | 66 | 38 | 137 | 401 | 74605 | 415356 | 873723 | 19882 | 8980 | 0.2
998 | IL | LASALLE | 35 | 10 | 16 | 403 | 28403 | 411651 | 885613 | 29036 | 2834 | 2.1
70537 | IL | MACOMB | 22 | 21 | 75 | 131 |  | 402354 | 904355 | 13181 | 224 | 0.2
67786 | IL | MARION | 27 | 17 | 800 | 213 | 41637 | 373326 | 890124 | 20778 | 529 | 0
5468 | IL | MOLINE | 24 | 23 | 80 | 269 | 45050 | 411844 | 902245 | 16674 | 596 | 0.1
73319 | IL | MOLINE | 8 | 38 | 1000 | 334 |  | 411844 | 902246 | 30696 | 927 | 13.3
40861 | IL | MOUNT VERNON | 13 | 21 | 1000 | 242 | 68044 | 383253 | 892917 | 22609 | 2280 | 0.6
4301 | IL | OLNEY | 16 | 19 | 46 | 284 |  | 385019 | 880747 | 17582 | 308 | 0
6866 | IL | PEORIA | 19 | 19 | 52.7 | 160 | 74550 | 403911 | 893514 | 12050 | 556 | 0.8
24801 | IL | PEORIA | 25 | 25 | 246 | 212 | 75203 | 403746 | 893253 | 17471 | 652 | 1.7
42121 | IL | PEORIA | 31 | 30 | 800 | 193 | 71928 | 403806 | 893219 | 19343 | 710 | 0
52280 | IL | PEORIA | 59 | 39 | 100 | 180 |  | 403834 | 893238 | 14576 | 599 | 0.1
28311 | IL | PEORIA | 47 | 46 | 190 | 216 |  | 403744 | 893412 | 17264 | 655 | 0
54275 | IL | QUINCY | 10 | 10 | 13.9 | 238 | 80231 | 395703 | 911954 | 25734 | 311 | 1.3
4593 | IL | QUINCY | 16 | 32 | 50 | 302 | 74856 | 395818 | 911942 | 17825 | 236 | 0
71561 | IL | QUINCY | 27 | 34 | 58.6 | 153 |  | 395841 | 911832 | 13069 | 187 | 0
13950 | IL | ROCK ISLAND | 4 | 4 | 3.88 | 408 | 74670 | 413249 | 902835 | 33309 | 983 | 0
73940 | IL | ROCKFORD | 13 | 13 | 12.4 | 216 | 80211 | 421750 | 891424 | 22246 | 1487 | 8.7
72945 | IL | ROCKFORD | 17 | 16 | 196 | 201 |  | 421714 | 891015 | 18378 | 1234 | 0
52408 | IL | ROCKFORD | 39 | 42 | 1000 | 149 | 40572 | 421726 | 890951 | 16227 | 1101 | 9.1
42116 | IL | SPRINGFIELD | 49 | 13 | 5.08 | 183 | 74606 | 394727 | 893053 | 19180 | 552 | 0.4
25686 | IL | SPRINGFIELD | 20 | 42 | 950 | 402 | 68475 | 394815 | 892740 | 29924 | 963 | 1.4
62009 | IL | SPRINGFIELD | 55 | 44 | 335 | 416 |  | 394757 | 892646 | 28977 | 881 | 0
68939 | IL | URBANA | 12 | 9 | 30 | 302 |  | 400218 | 884010 | 30279 | 1066 | 4.6
69544 | IL | URBANA | 27 | 26 | 507 | 138 | 44738 | 401846 | 875500 | 15153 | 385 | 0
67787 | IN | ANGOLA | 63 | 12 | 16.5 | 132 | 33342 | 412715 | 844810 | 17294 | 874 | 6.2
66536 | IN | BLOOMINGTON | 30 | 14 | 224 | 221 | 43429 | 390831 | 862943 | 17415 | 1005 | 0
10253 | IN | BLOOMINGTON | 63 | 27 | 165 | 310 |  | 392416 | 860837 | 22019 | 1993 | 0
68007 | IN | BLOOMINGTON | 42 | 42 | 391 | 297 |  | 392412 | 860850 | 23254 | 2054 | 0.1
56523 | IN | BLOOMINGTON | 4 | 48 | 870 | 337 | 66628 | 392427 | 860852 | 22528 | 2100 | 1.8
74007 | IN | ELKHART | 28 | 28 | 205 | 335 | 85074 | 413658 | 861138 | 20931 | 1296 | 3.7
24215 | IN | EVANSVILLE | 25 | 7 | 3.2 | 301 | 80191 | 375157 | 873404 | 21506 | 699 | 0.1
67802 | IN | EVANSVILLE | 9 | 9 | 11.7 | 177 | 84831 | 380127 | 872143 | 20611 | 694 | 5.3
3661 | IN | EVANSVILLE | 7 | 28 | 1000 | 273 | 39643 | 380127 | 872143 | 24657 | 765 | 0
72041 | IN | EVANSVILLE | 44 | 45 | 500 | 288 |  | 375317 | 873237 | 23639 | 730 | 0.2
13991 | IN | EVANSVILLE | 14 | 46 | 250 | 310 |  | 375314 | 873107 | 22329 | 711 | 0
13960 | IN | FORT WAYNE | 33 | 19 | 285 | 239 |  | 410539 | 851036 | 19941 | 1027 | 2.7
73905 | IN | FORT WAYNE | 21 | 24 | 335 | 224 |  | 410608 | 851105 | 20240 | 1052 | 0.1
39270 | IN | FORT WAYNE | 15 | 31 | 1000 | 242 | 66172 | 410538 | 851048 | 21871 | 1106 | 2
25040 | IN | FORT WAYNE | 55 | 36 | 1000 | 219 | 77897 | 410633 | 851142 | 19630 | 1048 | 0.2
22108 | IN | FORT WAYNE | 39 | 40 | 90 | 221 |  | 410613 | 851128 | 16043 | 835 | 0
49803 | IN | GARY | 56 | 17 | 300 | 290 | 46333 | 412056 | 872402 | 17974 | 6919 | 0
48772 | IN | GARY | 50 | 51 | 1000 | 523 | 30328 | 415244 | 873810 | 36200 | 9648 | 0
32334 | IN | HAMMOND | 62 | 36 | 50 | 455 | 20094 | 415244 | 873810 | 13905 | 7988 | 0.2
39269 | IN | INDIANAPOLIS | 8 | 9 | 19.5 | 284 |  | 395325 | 861220 | 26105 | 2488 | 3.1
70162 | IN | INDIANAPOLIS | 13 | 13 | 15.1 | 299 | 80212 | 395543 | 861055 | 26707 | 2510 | 0.8
37102 | IN | INDIANAPOLIS | 40 | 16 | 225 | 284 | 28275 | 395340 | 861221 | 19773 | 2154 | 0.4
41397 | IN | INDIANAPOLIS | 20 | 21 | 200 | 236 | 33405 | 395359 | 861201 | 16842 | 1912 | 0.1
40877 | IN | INDIANAPOLIS | 6 | 25 | 898 | 294 |  | 395357 | 861204 | 29516 | 2604 | 0.1
7908 | IN | INDIANAPOLIS | 69 | 44 | 215 | 167 |  | 395320 | 861207 | 14297 | 1830 | 3.7
146 | IN | INDIANAPOLIS | 59 | 45 | 700 | 285 |  | 395320 | 861207 | 24873 | 2432 | 1
56526 | IN | KOKOMO | 29 | 29 | 624 | 285 | 75202 | 395320 | 861207 | 22949 | 2371 | 0.5
73204 | IN | LAFAYETTE | 18 | 11 | 30 | 214 | 46110 | 402320 | 863646 | 26505 | 1953 | 4.4
28462 | IN | MARION | 23 | 32 | 1000 | 271 | 33152 | 400856 | 855615 | 24181 | 2240 | 1.2
3646 | IN | MUNCIE | 49 | 23 | 79.1 | 246 |  | 400537 | 852332 | 17374 | 1494 | 0.1
67869 | IN | RICHMOND | 43 | 39 | 500 | 281 | 17601 | 393044 | 843809 | 20981 | 3107 | 0.7
34167 | IN | SALEM | 58 | 51 | 1000 | 390 | 43303 | 382100 | 855057 | 30937 | 1759 | 0.7
73983 | IN | SOUTH BEND | 22 | 22 | 192 | 332 |  | 413700 | 861301 | 24663 | 1521 | 2.2
41671 | IN | SOUTH BEND | 34 | 35 | 50 | 333 |  | 413649 | 861120 | 18549 | 1202 | 1.2
41674 | IN | SOUTH BEND | 16 | 42 | 695 | 299 |  | 413620 | 861246 | 26344 | 1633 | 0.8
36117 | IN | SOUTH BEND | 46 | 48 | 300 | 295 | 30032 | 413543 | 860938 | 20015 | 1214 | 2.2
70655 | IN | TERRE HAUTE | 10 | 10 | 14.2 | 293 | 74468 | 391436 | 872307 | 26481 | 742 | 2.5
20426 | IN | TERRE HAUTE | 2 | 36 | 1000 | 248 |  | 391433 | 872329 | 24733 | 706 | 0.3
65247 | IN | TERRE HAUTE | 38 | 39 | 850 | 248 |  | 391433 | 872329 | 23495 | 664 | 0.1
4329 | IN | VINCENNES | 22 | 22 | 50 | 174 | 74592 | 383906 | 872837 | 11671 | 268 | 0.5
65523 | KS | COLBY | 4 | 17 | 1000 | 232 |  | 391509 | 1012109 | 26138 | 40 | 0
162115 | KS | COLBY |  | 19 | 500 | 384 | 67184 | 391431 | 1012138 | 28456 | 43 | 0.6
166332 | KS | DERBY |  | 46 | 570 | 276 |  | 374801 | 973129 | 23316 | 712 | 0
79258 | KS | DODGE CITY | 21 | 21 | 8.42 | 99 |  | 374933 | 1001040 | 8571 | 41 | 0
66414 | KS | ENSIGN | 6 | 6 | 20 | 198 |  | 373828 | 1002039 | 35374 | 155 | 0
72361 | KS | GARDEN CITY | 11 | 11 | 7.4 | 244 | 74394 | 374640 | 1005208 | 23078 | 136 | 0
65535 | KS | GARDEN CITY | 13 | 13 | 21.2 | 250 | 74415 | 373900 | 1004006 | 26607 | 139 | 0.6
66416 | KS | GOODLAND | 10 | 10 | 34.7 | 285 | 74373 | 392810 | 1013319 | 29681 | 45 | 0
72359 | KS | GREAT BEND | 2 | 22 | 1000 | 296 | 74857 | 382554 | 984618 | 30069 | 200 | 0
66415 | KS | HAYS | 7 | 7 | 10.3 | 216 | 74434 | 385301 | 992015 | 23256 | 93 | 0
60675 | KS | HAYS | 9 | 16 | 496 | 304 | 43521 | 384616 | 984416 | 26243 | 116 | 0.4
83181 | KS | HOISINGTON | 14 | 14 | 50 | 163 | 74728 | 383754 | 985052 | 13887 | 84 | 0
33345 | KS | HUTCHINSON | 8 | 8 | 9.28 | 244 | 75009 | 380321 | 974635 | 22260 | 672 | 4.1
66413 | KS | HUTCHINSON | 12 | 12 | 18.5 | 463 | 74428 | 380340 | 974549 | 36509 | 822 | 0.1
77063 | KS | HUTCHINSON | 36 | 35 | 1000 | 310 | 29560 | 375623 | 973042 | 22741 | 712 | 0
60683 | KS | LAKIN | 3 | 8 | 33 | 153 | 68690 | 374940 | 1010635 | 20351 | 80 | 2.4
42636 | KS | LAWRENCE | 38 | 41 | 551 | 291 | 74520 | 385842 | 943201 | 19399 | 1978 | 0
58552 | KS | PITTSBURG | 7 | 7 | 15.5 | 332 | 80204 | 371315 | 944225 | 29037 | 542 | 0.8
83992 | KS | PITTSBURG | 14 | 13 | 0.167 | 302 |  | 371315 | 944225 | 11630 | 289 | 0.3
11912 | KS | SALINA | 18 | 17 | 65 | 314 | 28829 | 390616 | 972315 | 15730 | 202 | 0
70938 | KS | TOPEKA | 11 | 11 | 15.4 | 305 | 80233 | 390351 | 954549 | 27153 | 1122 | 0.4
166546 | KS | TOPEKA | 22 | 12 | 3.2 | 225 | 80241 | 390350 | 954549 | 13374 | 420 | 8.6
63160 | KS | TOPEKA | 13 | 13 | 18.1 | 421 | 75026 | 390019 | 960258 | 33546 | 674 | 0.5
67335 | KS | TOPEKA | 27 | 27 | 50 | 320 | 74472 | 390534 | 954704 | 18654 | 485 | 0
49397 | KS | TOPEKA | 49 | 49 | 123 | 451 | 75032 | 390134 | 955458 | 19858 | 519 | 0
65522 | KS | WICHITA | 10 | 10 | 24.6 | 310 | 74441 | 374653 | 973108 | 30061 | 743 | 0.1
72348 | KS | WICHITA | 33 | 19 | 765 | 345 |  | 374801 | 973129 | 32518 | 748 | 0
11911 | KS | WICHITA | 24 | 26 | 350 | 303 | 43659 | 374640 | 973037 | 21248 | 704 | 0
72358 | KS | WICHITA | 3 | 45 | 891 | 312 |  | 374626 | 973051 | 28473 | 740 | 0.1
34171 | KY | ASHLAND | 25 | 26 | 61.3 | 137 | 31365 | 382744 | 823712 | 11240 | 483 | 0.8
67798 | KY | ASHLAND | 61 | 44 | 50 | 189 | 74858 | 382511 | 822406 | 9527 | 517 | 1.8
27696 | KY | BEATTYVILLE | 65 | 7 | 28 | 322 |  | 373647 | 834018 | 29307 | 1000 | 0.8
4692 | KY | BOWLING GREEN | 13 | 13 | 12.6 | 226 | 84860 | 370352 | 862607 | 22905 | 602 | 2.8
61217 | KY | BOWLING GREEN | 40 | 16 | 600 | 224 | 43547 | 370210 | 861020 | 18291 | 424 | 1.5
71861 | KY | BOWLING GREEN | 24 | 18 | 61 | 177 |  | 370349 | 862607 | 14430 | 362 | 0.9
34177 | KY | BOWLING GREEN | 53 | 48 | 54.8 | 234 | 44491 | 370522 | 863805 | 13561 | 342 | 0.1
25173 | KY | CAMPBELLSVILLE | 34 | 19 | 1000 | 370 | 32906 | 373151 | 852645 | 30014 | 2015 | 0.5
34204 | KY | COVINGTON | 54 | 24 | 53.5 | 117 | 31523 | 390150 | 843023 | 10320 | 1949 | 2.2
64017 | KY | DANVILLE | 56 | 4 | 26.5 | 327 | 64813 | 375251 | 841916 | 36995 | 1251 | 0
34181 | KY | ELIZABETHTOWN | 23 | 43 | 61 | 178 | 31543 | 374055 | 855031 | 12210 | 840 | 0
37809 | KY | HARLAN | 44 | 51 | 550 | 577 |  | 364800 | 832236 | 33564 | 1196 | 3.3
24915 | KY | HAZARD | 57 | 12 | 50 | 398 |  | 371138 | 831052 | 32160 | 793 | 8
34196 | KY | HAZARD | 35 | 16 | 53.2 | 369 | 31615 | 371135 | 831117 | 16906 | 377 | 2.2
24914 | KY | LEXINGTON | 27 | 13 | 30 | 282 | 40363 | 380223 | 842410 | 23841 | 919 | 3.2
73203 | KY | LEXINGTON | 18 | 39 | 475 | 286 | 70206 | 380203 | 842339 | 19494 | 830 | 3.5
51597 | KY | LEXINGTON | 36 | 40 | 69.5 | 305 | 74859 | 380203 | 842339 | 17819 | 810 | 0.1
34207 | KY | LEXINGTON | 46 | 42 | 45.8 | 258 | 70943 | 375245 | 841933 | 13515 | 738 | 0.4
73692 | KY | LOUISVILLE | 21 | 8 | 27 | 200 | 45865 | 380159 | 854517 | 22004 | 1500 | 0.7
32327 | KY | LOUISVILLE | 11 | 11 | 6.72 | 390 | 84851 | 382123 | 855052 | 26983 | 1617 | 0.2
21432 | KY | LOUISVILLE | 15 | 17 | 60.3 | 237 | 17602 | 382201 | 854954 | 15178 | 1350 | 0
53939 | KY | LOUISVILLE | 32 | 26 | 600 | 392 | 39847 | 382208 | 854948 | 29065 | 1687 | 0.1
34195 | KY | LOUISVILLE | 68 | 38 | 61.6 | 218 | 64196 | 382201 | 854954 | 13653 | 1295 | 0
13989 | KY | LOUISVILLE | 3 | 47 | 1000 | 392 | 42782 | 382208 | 854948 | 29288 | 1681 | 0.1
28476 | KY | LOUISVILLE | 41 | 49 | 1000 | 390 | 29606 | 382100 | 855057 | 32130 | 1759 | 0.7
74592 | KY | MADISONVILLE | 19 | 20 | 1000 | 216 |  | 372456 | 873130 | 23946 | 744 | 0.4
34212 | KY | MADISONVILLE | 35 | 42 | 55.1 | 298 | 31621 | 371121 | 873049 | 15780 | 419 | 0.1
34202 | KY | MOREHEAD | 38 | 15 | 51.4 | 289 | 31617 | 381038 | 832417 | 16277 | 340 | 0.3
23128 | KY | MOREHEAD | 67 | 21 | 719 | 428 | 67075 | 375426 | 833801 | 30369 | 1018 | 1.5
34174 | KY | MURRAY | 21 | 36 | 56.9 | 187 | 31619 | 364134 | 883211 | 12682 | 320 | 0.6
39738 | KY | NEWPORT | 19 | 29 | 227 | 290 | 19124 | 390719 | 843252 | 17827 | 2366 | 12.3
34205 | KY | OWENSBORO | 31 | 30 | 63.3 | 124 | 31660 | 375107 | 871944 | 11399 | 529 | 0
34211 | KY | OWENTON | 52 | 44 | 49.7 | 214 | 31662 | 383131 | 844839 | 12714 | 763 | 2.4
51991 | KY | PADUCAH | 6 | 32 | 906 | 492 |  | 371131 | 885853 | 40545 | 865 | 0.1
65758 | KY | PADUCAH | 29 | 41 | 55.7 | 143 | 44512 | 370539 | 884020 | 11313 | 239 | 0.1
39561 | KY | PADUCAH | 49 | 49 | 550 | 324 |  | 372342 | 885623 | 26292 | 631 | 0.4
34200 | KY | PIKEVILLE | 22 | 24 | 50.4 | 423 | 32103 | 371706 | 823128 | 16779 | 419 | 0.6
34222 | KY | SOMERSET | 29 | 14 | 53.3 | 429 | 31822 | 371003 | 844930 | 21530 | 541 | 0.2
38590 | LA | ALEXANDRIA | 25 | 26 | 76 | 413 | 64838 | 313356 | 923250 | 20973 | 324 | 0
52907 | LA | ALEXANDRIA | 31 | 31 | 50 | 333 | 75022 | 313354 | 923300 | 19028 | 273 | 0.1
51598 | LA | ALEXANDRIA | 5 | 35 | 1000 | 457 |  | 310215 | 922945 | 36973 | 878 | 2.2
16940 | LA | ALEXANDRIA | 41 | 41 | 191 | 307 | 74775 | 305420 | 923717 | 16241 | 368 | 0
589 | LA | BATON ROUGE | 9 | 9 | 0.36 | 509 | 70344 | 302158 | 911247 | 16013 | 847 | 1.1
38616 | LA | BATON ROUGE | 2 | 13 | 30 | 515 | 36880 | 301749 | 911140 | 34334 | 1962 | 8
38586 | LA | BATON ROUGE | 27 | 25 | 200 | 295 | 65435 | 302222 | 911216 | 19288 | 997 | 0
70021 | LA | BATON ROUGE | 33 | 34 | 1000 | 522 | 32895 | 301934 | 911636 | 37357 | 1695 | 0.1
12520 | LA | BATON ROUGE | 44 | 45 | 1000 | 424 | 29743 | 301935 | 911636 | 30315 | 1564 | 0
52046 | LA | COLUMBIA | 11 | 11 | 17.8 | 572 | 74657 | 320319 | 921112 | 41209 | 677 | 0.3
83945 | LA | HAMMOND |  | 42 | 1000 | 294 | 58980 | 295841 | 895626 | 25352 | 1754 | 0
35059 | LA | LAFAYETTE | 10 | 10 | 17.2 | 507 | 74641 | 301919 | 921659 | 39308 | 1166 | 1.9
33261 | LA | LAFAYETTE | 15 | 16 | 800 | 359 | 29847 | 302144 | 921253 | 29700 | 851 | 0
38588 | LA | LAFAYETTE | 24 | 23 | 50 | 463 | 32658 | 301919 | 921658 | 21068 | 658 | 0
33471 | LA | LAFAYETTE | 3 | 28 | 1000 | 537 | 75545 | 301925 | 921724 | 42222 | 1279 | 0.2
13994 | LA | LAKE CHARLES | 7 | 7 | 17 | 451 |  | 302346 | 930003 | 36541 | 1017 | 0
38587 | LA | LAKE CHARLES | 18 | 20 | 55 | 299 | 59155 | 302346 | 930003 | 16195 | 351 | 0
35852 | LA | LAKE CHARLES | 29 | 30 | 1000 | 315 | 17585 | 301726 | 933435 | 25760 | 730 | 0
81507 | LA | MINDEN | 21 | 21 | 1000 | 502 | 66613 | 324108 | 935600 | 36243 | 952 | 2.4
48975 | LA | MONROE | 8 | 8 | 17 | 518 |  | 321150 | 920414 | 39190 | 663 | 0.3
38589 | LA | MONROE | 13 | 13 | 21.1 | 543 | 74429 | 321145 | 920410 | 38390 | 679 | 2.1
82476 | LA | NEW IBERIA | 50 | 50 | 179 | 303 | 74784 | 302032 | 915832 | 17747 | 767 | 0
4149 | LA | NEW ORLEANS | 8 | 8 | 14.7 | 302 | 75010 | 295714 | 895658 | 28567 | 1795 | 0
25090 | LA | NEW ORLEANS | 12 | 11 | 70.8 | 306 | 67937 | 295713 | 895658 | 29992 | 1898 | 0
54280 | LA | NEW ORLEANS | 38 | 15 | 775 | 286 | 80216 | 295659 | 895728 | 24543 | 1724 | 0
37106 | LA | NEW ORLEANS | 20 | 21 | 300 | 254 | 41946 | 295511 | 900129 | 19099 | 1617 | 0
72119 | LA | NEW ORLEANS | 26 | 26 | 1000 | 286 | 80217 | 295659 | 895728 | 24703 | 1734 | 0
18819 | LA | NEW ORLEANS | 32 | 31 | 200 | 274 | 31303 | 295857 | 895709 | 17661 | 1516 | 0
74192 | LA | NEW ORLEANS | 4 | 36 | 958 | 311 |  | 295422 | 900222 | 30245 | 1829 | 0
71357 | LA | NEW ORLEANS | 6 | 43 | 1000 | 283 | 74862 | 295701 | 895728 | 28471 | 1791 | 0
21729 | LA | NEW ORLEANS | 49 | 50 | 1000 | 272 | 44211 | 295511 | 900129 | 21583 | 1671 | 0
70482 | LA | SHREVEPORT | 12 | 17 | 175 | 518 |  | 324028 | 935600 | 33403 | 943 | 1.5
38591 | LA | SHREVEPORT | 24 | 25 | 50 | 326 | 74863 | 324041 | 935535 | 19407 | 591 | 0
35652 | LA | SHREVEPORT | 3 | 28 | 1000 | 543 | 74864 | 324108 | 935600 | 42940 | 1075 | 1.7
12525 | LA | SHREVEPORT | 33 | 34 | 1000 | 551 | 29201 | 323958 | 935559 | 38998 | 1012 | 0.1
73706 | LA | SHREVEPORT | 45 | 44 | 500 | 505 | 32870 | 323957 | 935558 | 30463 | 888 | 0.1
13938 | LA | SLIDELL | 54 | 24 | 1000 | 272 | 43616 | 295511 | 900129 | 24235 | 1729 | 0
3658 | LA | WEST MONROE | 14 | 36 | 1000 | 521 |  | 320542 | 921034 | 40964 | 625 | 10.2
38584 | LA | WEST MONROE | 39 | 38 | 1000 | 154 |  | 323021 | 920855 | 19639 | 356 | 0
74419 | MA | ADAMS | 19 | 36 | 48 | 631 | 68110 | 423814 | 731008 | 20520 | 1724 | 7.7
72145 | MA | BOSTON | 7 | 7 | 15.4 | 306 | 80205 | 421840 | 711300 | 27184 | 7035 | 0.1
72099 | MA | BOSTON | 2 | 19 | 700 | 374 |  | 421837 | 711414 | 32268 | 7320 | 0.4
65684 | MA | BOSTON | 5 | 20 | 625 | 390 |  | 421837 | 711414 | 30535 | 7199 | 2.1
25456 | MA | BOSTON | 4 | 30 | 825 | 390 |  | 421837 | 711414 | 31712 | 7274 | 1.2
6463 | MA | BOSTON | 25 | 31 | 1000 | 341 | 30342 | 421812 | 711308 | 26108 | 6911 | 3.2
7692 | MA | BOSTON | 68 | 32 | 300 | 292 | 41971 | 421827 | 711327 | 19086 | 6346 | 2.3
73982 | MA | BOSTON | 38 | 39 | 70.8 | 354 | 74865 | 421812 | 711308 | 19832 | 6586 | 1.1
72098 | MA | BOSTON | 44 | 43 | 500 | 391 |  | 421837 | 711414 | 28103 | 7091 | 0.6
73238 | MA | CAMBRIDGE | 56 | 41 | 550 | 345 | 46190 | 421812 | 711308 | 22764 | 6870 | 0.2
41436 | MA | LAWRENCE | 62 | 18 | 1000 | 357 | 67714 | 421827 | 711327 | 29071 | 6975 | 1.9
60551 | MA | MARLBOROUGH | 66 | 27 | 100 | 334 | 69136 | 422302 | 712937 | 17821 | 6431 | 0.4
3978 | MA | NEW BEDFORD | 28 | 22 | 350 | 203 | 64975 | 414639 | 705541 | 17274 | 4604 | 0.9
22591 | MA | NEW BEDFORD | 6 | 49 | 350 | 284 | 66255 | 415154 | 711715 | 19160 | 5455 | 0.6
23671 | MA | NORWELL | 46 | 10 | 5 | 144 |  | 420038 | 710242 | 15414 | 5297 | 3.4
136751 | MA | PITTSFIELD | 51 | 13 | 12.6 | 396 | 71986 | 423731 | 740038 | 7287 | 653 | 27.5
6868 | MA | SPRINGFIELD | 22 | 11 | 10 | 247 | 72934 | 420505 | 724214 | 16158 | 2473 | 11.6
72096 | MA | SPRINGFIELD | 57 | 22 | 50 | 306 | 74672 | 421430 | 723854 | 14133 | 2074 | 9.7
25682 | MA | SPRINGFIELD | 40 | 40 | 380 | 324 | 70318 | 421430 | 723857 | 17575 | 2286 | 10.6
6476 | MA | VINEYARD HAVEN | 58 | 40 | 300 | 153 | 42283 | 414120 | 702049 | 14774 | 973 | 3.7
30577 | MA | WORCESTER | 27 | 29 | 200 | 453 |  | 422007 | 714254 | 24769 | 6977 | 8.9
18783 | MA | WORCESTER | 48 | 47 | 365 | 217 | 40890 | 421827 | 711327 | 15283 | 5984 | 0
65942 | MD | ANNAPOLIS | 22 | 42 | 350 | 265 | 74866 | 390036 | 763633 | 19332 | 6752 | 2.4
65696 | MD | BALTIMORE | 11 | 11 | 6.91 | 312 | 74686 | 392005 | 763903 | 22401 | 6953 | 3.9
25455 | MD | BALTIMORE | 13 | 13 | 21.4 | 312 | 70306 | 392005 | 763903 | 25622 | 7452 | 5
65944 | MD | BALTIMORE | 67 | 29 | 50 | 250 | 74867 | 392701 | 764637 | 14260 | 5285 | 4.6
59442 | MD | BALTIMORE | 2 | 38 | 775 | 305 | 74593 | 392005 | 763903 | 26023 | 7730 | 0.3
7933 | MD | BALTIMORE | 54 | 40 | 845 | 373 | 46004 | 392010 | 763859 | 26825 | 7782 | 0.5
60552 | MD | BALTIMORE | 24 | 41 | 200 | 313 | 66845 | 391715 | 764538 | 17292 | 6151 | 5.6
10758 | MD | BALTIMORE | 45 | 46 | 550 | 373 | 46108 | 392010 | 763859 | 22879 | 7062 | 5.2
40626 | MD | FREDERICK | 62 | 28 | 30 | 159 | 67466 | 391537 | 771844 | 7313 | 2448 | 34.6
25045 | MD | HAGERSTOWN | 25 | 26 | 575 | 359 | 74627 | 393945 | 775754 | 22215 | 1362 | 28.7
10259 | MD | HAGERSTOWN | 68 | 39 | 82.5 | 394 | 74528 | 395331 | 775802 | 13861 | 814 | 6
65943 | MD | HAGERSTOWN | 31 | 44 | 209 | 359 | 33311 | 393904 | 775815 | 15728 | 977 | 4.1
40619 | MD | OAKLAND | 36 | 36 | 71.7 | 291 | 75062 | 392414 | 791737 | 10550 | 216 | 6.7
71218 | MD | SALISBURY | 16 | 21 | 635 | 279 | 64847 | 383017 | 753837 | 21695 | 659 | 0
40618 | MD | SALISBURY | 28 | 28 | 76.7 | 157 |  | 382309 | 753533 | 14077 | 426 | 0
16455 | MD | SALISBURY | 47 | 47 | 225 | 292 | 75201 | 383006 | 754400 | 18155 | 579 | 0.4
39659 | ME | AUGUSTA | 10 | 10 | 15.3 | 305 | 74406 | 440916 | 700037 | 25690 | 818 | 1.3
39644 | ME | BANGOR | 2 | 2 | 3.02 | 192 | 84817 | 444410 | 684017 | 22407 | 339 | 0
3667 | ME | BANGOR | 7 | 7 | 14.5 | 250 | 74374 | 444535 | 683401 | 24704 | 334 | 0.6
17005 | ME | BANGOR | 5 | 19 | 465 | 402 | 74868 | 444213 | 690447 | 30384 | 488 | 1.1
39656 | ME | BIDDEFORD | 26 | 45 | 50 | 231 | 41344 | 432500 | 704817 | 10502 | 659 | 5
39649 | ME | CALAIS | 13 | 10 | 3.5 | 133 |  | 450145 | 671925 | 13040 | 29 | 3.4
48408 | ME | LEWISTON | 35 | 35 | 57.2 | 241 | 80218 | 435106 | 701940 | 13589 | 641 | 0.4
39648 | ME | ORONO | 12 | 9 | 15 | 375 | 40127 | 444211 | 690447 | 25072 | 442 | 5.5
73288 | ME | POLAND SPRING | 8 | 8 | 21.3 | 586 | 74574 | 435044 | 704543 | 33555 | 1358 | 4.1
25683 | ME | PORTLAND | 13 | 38 | 1000 | 491 | 28274 | 435528 | 702928 | 34527 | 1169 | 0
53065 | ME | PORTLAND | 51 | 43 | 137 | 254 |  | 435106 | 701940 | 14615 | 619 | 11
39664 | ME | PORTLAND | 6 | 44 | 1000 | 610 | 74869 | 435132 | 704240 | 34340 | 1319 | 1
48305 | ME | PRESQUE ISLE | 8 | 8 | 3.2 | 333 | 80189 | 463305 | 674836 | 19268 | 58 | 0
39662 | ME | PRESQUE ISLE | 10 | 10 | 16.4 | 332 | 74435 | 463305 | 674837 | 25597 | 66 | 0.6
83708 | ME | PRESQUE ISLE | 47 | 47 | 50 | 86 | 75129 | 464512 | 681028 | 6607 | 39 | 0
84088 | ME | WATERVILLE | 23 | 23 | 213 | 331 | 74754 | 440915 | 700037 | 18925 | 769 | 0
67048 | MI | ALPENA | 11 | 11 | 19.8 | 202 | 74982 | 444211 | 833126 | 20697 | 131 | 1.9
9917 | MI | ALPENA | 6 | 24 | 106 | 393 |  | 450818 | 840945 | 24405 | 219 | 1.5
5800 | MI | ANN ARBOR | 31 | 31 | 106 | 328 | 74499 | 422225 | 840410 | 18881 | 4073 | 7.1
16530 | MI | BAD AXE | 35 | 15 | 200 | 309 |  | 433233 | 833937 | 23073 | 1204 | 6.1
10212 | MI | BATTLE CREEK | 41 | 20 | 270 | 311 |  | 423415 | 852807 | 25083 | 2119 | 0.4
71871 | MI | BATTLE CREEK | 43 | 44 | 212 | 305 |  | 424045 | 850357 | 20028 | 1909 | 4.7
41221 | MI | BAY CITY | 5 | 22 | 1000 | 275 | 67337 | 432814 | 835036 | 26723 | 1507 | 4.6
82627 | MI | BAY CITY | 46 | 46 | 50 | 306 | 74778 | 432826 | 835044 | 12942 | 965 | 0
26994 | MI | CADILLAC | 9 | 9 | 20.1 | 497 | 74551 | 440812 | 852033 | 38645 | 826 | 0
9922 | MI | CADILLAC | 27 | 17 | 338 | 393 | 60511 | 444453 | 850408 | 26844 | 392 | 0
25396 | MI | CADILLAC | 33 | 47 | 500 | 393 | 67847 | 444453 | 850408 | 25466 | 378 | 0
76001 | MI | CALUMET | 5 | 5 | 6.89 | 295 | 84820 | 470212 | 884142 | 23406 | 55 | 0
21254 | MI | CHEBOYGAN | 4 | 35 | 78 | 168 | 58961 | 453901 | 842037 | 11815 | 82 | 0
73123 | MI | DETROIT | 2 | 7 | 11.2 | 305 | 74673 | 422738 | 831250 | 24569 | 5547 | 2.6
51570 | MI | DETROIT | 50 | 14 | 50 | 293 | 74870 | 422901 | 831844 | 18484 | 5122 | 0.1
74211 | MI | DETROIT | 20 | 21 | 500 | 324 | 28693 | 422653 | 831023 | 25252 | 5597 | 3
10267 | MI | DETROIT | 7 | 41 | 1000 | 305 | 74871 | 422815 | 831500 | 27193 | 5767 | 0.3
16817 | MI | DETROIT | 56 | 43 | 200 | 318 |  | 422652 | 831023 | 22343 | 5247 | 0
72123 | MI | DETROIT | 62 | 44 | 345 | 323 |  | 422653 | 831023 | 22657 | 5131 | 5.6
53114 | MI | DETROIT | 4 | 45 | 973 | 281 | 19013 | 422858 | 831219 | 22741 | 5397 | 1.2
6104 | MI | EAST LANSING | 23 | 40 | 50 | 296 | 74628 | 424208 | 842451 | 16787 | 1481 | 4.4
9630 | MI | ESCANABA | 3 | 48 | 989 | 327 |  | 460805 | 865655 | 29896 | 159 | 0
21735 | MI | FLINT | 12 | 12 | 13.7 | 287 | 74521 | 431348 | 840335 | 26526 | 2103 | 5.5
21737 | MI | FLINT | 66 | 16 | 1000 | 287 | 28994 | 431318 | 840314 | 23878 | 2363 | 1.7
69273 | MI | FLINT | 28 | 28 | 126 | 258 | 74594 | 425356 | 832741 | 17128 | 4320 | 0
36838 | MI | GRAND RAPIDS | 8 | 7 | 30 | 288 |  | 424114 | 853034 | 25304 | 2187 | 9.2
24784 | MI | GRAND RAPIDS | 35 | 11 | 50 | 238 | 64586 | 425735 | 855345 | 25748 | 1697 | 3.1
49713 | MI | GRAND RAPIDS | 13 | 13 | 15.1 | 305 | 74541 | 431834 | 855444 | 27942 | 1392 | 0.1
68433 | MI | GRAND RAPIDS | 17 | 19 | 725 | 306 | 43453 | 424115 | 853157 | 22476 | 1789 | 6.1
15498 | MI | IRON MOUNTAIN | 8 | 8 | 3.2 | 190 | 74452 | 454910 | 880235 | 16892 | 112 | 2.6
59281 | MI | ISHPEMING | 10 | 10 | 4.54 | 105 | 74721 | 462110 | 875115 | 11139 | 84 | 3.2
29706 | MI | JACKSON | 18 | 34 | 130 | 299 | 39980 | 422513 | 843125 | 18640 | 1398 | 2.2
24783 | MI | KALAMAZOO | 52 | 5 | 10 | 174 |  | 421823 | 853925 | 26295 | 2246 | 4.9
74195 | MI | KALAMAZOO | 3 | 8 | 20 | 305 | 74333 | 423756 | 853216 | 28492 | 2333 | 1.8
11033 | MI | KALAMAZOO | 64 | 45 | 420 | 331 | 69393 | 423352 | 852731 | 18737 | 1717 | 11.8
74420 | MI | LANSING | 6 | 36 | 663 | 288 | 72523 | 424119 | 842235 | 25555 | 3054 | 2
74094 | MI | LANSING | 47 | 38 | 1000 | 281 | 29954 | 422803 | 843906 | 20865 | 1458 | 0
36533 | MI | LANSING | 53 | 51 | 900 | 300 | 59127 | 422513 | 843125 | 24069 | 1807 | 0.2
9913 | MI | MANISTEE | 21 | 21 | 50 | 93 | 74674 | 440357 | 861958 | 9143 | 81 | 4.3
4318 | MI | MARQUETTE | 13 | 13 | 15.7 | 332 | 74500 | 462109 | 875132 | 29278 | 183 | 0.1
81448 | MI | MARQUETTE | 19 | 19 | 50 | 248 | 74742 | 463614 | 873715 | 12597 | 69 | 0
21259 | MI | MARQUETTE | 6 | 35 | 83 | 262 | 67896 | 462011 | 875056 | 13760 | 93 | 0
455 | MI | MOUNT CLEMENS | 38 | 39 | 1000 | 170 | 32831 | 423315 | 825315 | 16235 | 4698 | 1.2
9908 | MI | MOUNT PLEASANT | 14 | 26 | 226 | 299 |  | 434511 | 851240 | 22581 | 643 | 0
67781 | MI | MUSKEGON | 54 | 24 | 280 | 281 | 40886 | 425725 | 855407 | 20561 | 1480 | 2.3
6863 | MI | ONONDAGA | 10 | 10 | 14.8 | 299 | 84847 | 422633 | 843421 | 27690 | 2439 | 1.9
72052 | MI | SAGINAW | 25 | 30 | 193 | 356 |  | 431301 | 834317 | 24095 | 2170 | 13.5
67792 | MI | SAGINAW | 49 | 48 | 1000 | 287 | 40887 | 431318 | 840314 | 23991 | 2035 | 0.1
59279 | MI | SAULT STE. MARIE | 8 | 8 | 24 | 288 | 74353 | 460308 | 840638 | 23547 | 98 | 0.1
26993 | MI | SAULT STE. MARIE | 10 | 10 | 16.3 | 370 | 75038 | 460349 | 840608 | 30785 | 103 | 0.1
21253 | MI | TRAVERSE CITY | 7 | 7 | 19.1 | 411 | 84826 | 441633 | 854249 | 30172 | 393 | 18.5
59280 | MI | TRAVERSE CITY | 29 | 29 | 62.1 | 393 | 74491 | 444453 | 850408 | 19503 | 332 | 0
9632 | MN | ALEXANDRIA | 7 | 7 | 15.6 | 341 | 74469 | 454103 | 950814 | 30282 | 438 | 0.1
35584 | MN | ALEXANDRIA | 42 | 42 | 395 | 358 |  | 454159 | 951035 | 27590 | 404 | 0.3
71549 | MN | APPLETON | 10 | 10 | 24.2 | 364 | 74492 | 451003 | 960002 | 28995 | 219 | 0.4
28510 | MN | AUSTIN | 15 | 20 | 400 | 303 |  | 433834 | 923135 | 26035 | 497 | 0.1
18285 | MN | AUSTIN | 6 | 36 | 500 | 295 |  | 433742 | 930912 | 25023 | 484 | 0.1
49578 | MN | BEMIDJI | 9 | 9 | 15.4 | 329 | 74416 | 474203 | 942915 | 29401 | 114 | 2
83714 | MN | BEMIDJI | 26 | 26 | 50 | 141 | 74758 | 472807 | 944923 | 12672 | 72 | 0
49579 | MN | BRAINERD | 22 | 28 | 46.8 | 227 |  | 462521 | 942742 | 15201 | 153 | 0
82698 | MN | CHISHOLM | 11 | 11 | 12.2 | 200 | 74723 | 475139 | 925646 | 22244 | 112 | 2.9
132606 | MN | CROOKSTON |  | 16 | 105 | 220 | 38385 | 475838 | 963618 | 15345 | 124 | 0
17726 | MN | DULUTH | 8 | 8 | 17.4 | 290 | 80226 | 464731 | 920721 | 27233 | 271 | 1
71338 | MN | DULUTH | 10 | 10 | 17.5 | 301 | 84848 | 464713 | 920717 | 27702 | 274 | 0.2
35525 | MN | DULUTH | 21 | 17 | 1000 | 299 |  | 464737 | 920703 | 30737 | 294 | 0.2
166511 | MN | DULUTH | 27 | 27 | 50 | 268 | 80242 | 464715 | 920721 | 13164 | 204 | 0.4
4691 | MN | DULUTH | 3 | 33 | 381 | 312 |  | 464721 | 920651 | 24856 | 252 | 0
71336 | MN | HIBBING | 13 | 13 | 3.9 | 211 | 74522 | 472253 | 925715 | 15849 | 116 | 0.2
159007 | MN | HIBBING |  | 31 | 500 | 212 | 59939 | 472253 | 925715 | 16478 | 118 | 0
68853 | MN | MANKATO | 12 | 12 | 15.3 | 317 | 84856 | 435614 | 942441 | 29045 | 399 | 0.9
68883 | MN | MINNEAPOLIS | 9 | 9 | 17.9 | 435 | 74995 | 450330 | 930727 | 34544 | 3381 | 0.6
23079 | MN | MINNEAPOLIS | 11 | 11 | 24 | 435 | 74511 | 450344 | 930821 | 36645 | 3437 | 0.1
36395 | MN | MINNEAPOLIS | 23 | 22 | 1000 | 410 | 30005 | 450344 | 930821 | 33367 | 3310 | 0
11913 | MN | MINNEAPOLIS | 29 | 29 | 1000 | 352 | 74442 | 450330 | 930727 | 29943 | 3302 | 0
9629 | MN | MINNEAPOLIS | 4 | 32 | 1000 | 432 |  | 450344 | 930821 | 37736 | 3468 | 0
35843 | MN | MINNEAPOLIS | 45 | 45 | 1000 | 430 |  | 450345 | 930821 | 35610 | 3421 | 0
35585 | MN | REDWOOD FALLS | 43 | 27 | 50 | 167 | 74875 | 442903 | 952927 | 10112 | 84 | 0
35678 | MN | ROCHESTER | 10 | 10 | 16.8 | 381 | 74523 | 433415 | 922537 | 31210 | 565 | 0.9
35906 | MN | ROCHESTER | 47 | 46 | 1000 | 343 | 28767 | 433834 | 923135 | 19950 | 424 | 0.7
35907 | MN | ST. CLOUD | 41 | 40 | 1000 | 430 | 64438 | 452300 | 934230 | 30570 | 3263 | 0
68597 | MN | ST. PAUL | 17 | 26 | 63.1 | 396 | 74396 | 450329 | 930727 | 19236 | 3053 | 0
68594 | MN | ST. PAUL | 2 | 34 | 662 | 411 | 75131 | 450330 | 930727 | 30531 | 3331 | 0.2
28010 | MN | ST. PAUL | 5 | 35 | 755 | 433 |  | 450344 | 930821 | 35389 | 3408 | 0.1
55370 | MN | THIEF RIVER FALLS | 10 | 10 | 9.7 | 113 | 74660 | 480119 | 962212 | 16952 | 121 | 0.3
9640 | MN | WALKER | 12 | 12 | 14.3 | 283 | 74436 | 465603 | 942725 | 26923 | 214 | 1.5
71558 | MN | WORTHINGTON | 20 | 15 | 200 | 290 | 33521 | 435352 | 955650 | 19967 | 290 | 0
592 | MO | CAPE GIRARDEAU | 12 | 12 | 4.01 | 564 | 74661 | 372546 | 893014 | 32285 | 689 | 0.5
19593 | MO | CAPE GIRARDEAU | 23 | 22 | 435 | 543 | 66965 | 372423 | 893344 | 31966 | 691 | 1
65583 | MO | COLUMBIA | 8 | 8 | 13.6 | 242 | 80227 | 385316 | 921548 | 25205 | 492 | 0.5
63164 | MO | COLUMBIA | 17 | 17 | 50 | 348 |  | 384629 | 923322 | 20656 | 475 | 0
4690 | MO | HANNIBAL | 7 | 7 | 13.6 | 271 | 75011 | 395822 | 911954 | 25042 | 309 | 0.2
41110 | MO | JEFFERSON CITY | 13 | 12 | 15.1 | 308 |  | 384130 | 920544 | 27879 | 590 | 0.7
48521 | MO | JEFFERSON CITY | 25 | 20 | 1000 | 293 | 29933 | 384215 | 920521 | 25334 | 533 | 0.2
51101 | MO | JOPLIN | 26 | 25 | 55 | 281 |  | 370437 | 943215 | 17523 | 402 | 0
18283 | MO | JOPLIN | 12 | 43 | 1000 | 269 |  | 370437 | 943215 | 25289 | 533 | 1.6
67766 | MO | JOPLIN | 16 | 46 | 175 | 322 |  | 370433 | 943316 | 21648 | 461 | 0.2
65686 | MO | KANSAS CITY | 9 | 9 | 85 | 357 | 74967 | 390501 | 943057 | 34707 | 2334 | 0
53843 | MO | KANSAS CITY | 19 | 18 | 55 | 355 |  | 390459 | 942849 | 21206 | 2033 | 0
41230 | MO | KANSAS CITY | 5 | 24 | 1000 | 319 | 67335 | 390414 | 943457 | 29705 | 2259 | 0
64444 | MO | KANSAS CITY | 29 | 31 | 1000 | 332 |  | 390501 | 943057 | 31265 | 2227 | 0.1
11291 | MO | KANSAS CITY | 4 | 34 | 1000 | 344 | 74877 | 390420 | 943545 | 31293 | 2286 | 0.5
59444 | MO | KANSAS CITY | 41 | 42 | 450 | 276 | 43791 | 385842 | 943201 | 21585 | 1987 | 0
33336 | MO | KANSAS CITY | 62 | 47 | 1000 | 356 |  | 390526 | 942818 | 31520 | 2174 | 0
33337 | MO | KANSAS CITY | 50 | 51 | 1000 | 339 |  | 390120 | 943049 | 30240 | 2158 | 0
21251 | MO | KIRKSVILLE | 3 | 33 | 87 | 290 | 44120 | 403147 | 922629 | 15915 | 149 | 0
166319 | MO | OSAGE BEACH | 49 | 49 | 204 | 463 | 80245 | 374910 | 924452 | 23362 | 524 | 0
73998 | MO | POPLAR BLUFF | 15 | 15 | 50 | 184 | 74417 | 364804 | 902706 | 11945 | 143 | 1.2
4326 | MO | SEDALIA | 6 | 15 | 322 | 603 |  | 383736 | 925203 | 41154 | 733 | 0.1
28496 | MO | SPRINGFIELD | 10 | 10 | 19.6 | 573 | 74595 | 371308 | 925656 | 41152 | 838 | 0.3
35630 | MO | SPRINGFIELD | 33 | 19 | 1000 | 596 |  | 371308 | 925656 | 47586 | 935 | 0.1
51102 | MO | SPRINGFIELD | 21 | 23 | 100 | 617 |  | 371011 | 925630 | 33191 | 715 | 0
3659 | MO | SPRINGFIELD | 27 | 28 | 1000 | 493 |  | 371308 | 925656 | 41263 | 844 | 0.5
36003 | MO | SPRINGFIELD | 3 | 44 | 967 | 628 |  | 371026 | 925627 | 43607 | 870 | 2.2
20427 | MO | ST. JOSEPH | 2 | 7 | 7.45 | 247 | 74608 | 394612 | 944753 | 21812 | 952 | 2.6
999 | MO | ST. JOSEPH | 16 | 21 | 1000 | 316 | 68463 | 390120 | 943049 | 27013 | 2118 | 0
48525 | MO | ST. LOUIS | 24 | 14 | 1000 | 396 | 33092 | 382140 | 903254 | 32831 | 2821 | 0
70034 | MO | ST. LOUIS | 4 | 24 | 540 | 335 | 74644 | 383147 | 901758 | 29120 | 2842 | 0
35417 | MO | ST. LOUIS | 11 | 26 | 1000 | 288 |  | 383424 | 901930 | 29590 | 2841 | 0
56524 | MO | ST. LOUIS | 30 | 31 | 1000 | 321 |  | 383450 | 901945 | 31023 | 2858 | 0
46981 | MO | ST. LOUIS | 5 | 35 | 1000 | 332 | 74879 | 383405 | 901955 | 31112 | 2855 | 0.1
62182 | MO | ST. LOUIS | 9 | 39 | 991 | 326 | 74880 | 382856 | 902353 | 29480 | 2832 | 0.1
35693 | MO | ST. LOUIS | 2 | 43 | 1000 | 337 |  | 383207 | 902223 | 30721 | 2851 | 0
13995 | MS | BILOXI | 13 | 13 | 14.1 | 366 | 74542 | 304323 | 890528 | 27980 | 951 | 4.8
43197 | MS | BILOXI | 19 | 16 | 150 | 477 | 45861 | 304518 | 885644 | 25127 | 877 | 16.8
43170 | MS | BOONEVILLE | 12 | 12 | 5.89 | 227 | 74629 | 344000 | 884505 | 20440 | 418 | 2.9
43184 | MS | BUDE | 17 | 18 | 1000 | 341 |  | 312222 | 904504 | 34462 | 721 | 0
12477 | MS | COLUMBUS | 4 | 35 | 1000 | 610 | 74881 | 334506 | 885240 | 44464 | 727 | 3.8
83735 | MS | COLUMBUS |  | 43 | 81 | 204 | 43679 | 335031 | 884148 | 18843 | 412 | 2.6
25236 | MS | GREENVILLE | 15 | 15 | 330 | 269 |  | 333926 | 904218 | 23434 | 322 | 0
43176 | MS | GREENWOOD | 23 | 25 | 625 | 317 |  | 332234 | 903232 | 28909 | 387 | 3.6
43203 | MS | GREENWOOD | 6 | 32 | 1000 | 572 | 68863 | 332223 | 903225 | 34348 | 442 | 0.9
53517 | MS | GULFPORT | 25 | 48 | 300 | 456 | 28507 | 304448 | 890330 | 26058 | 946 | 14.2
48668 | MS | HATTIESBURG | 22 | 22 | 140 | 244 |  | 312420 | 891413 | 18687 | 353 | 0.1
60830 | MS | HOLLY SPRINGS | 40 | 41 | 500 | 122 |  | 345920 | 894113 | 16080 | 1279 | 0.1
83310 | MS | HOUSTON | 45 | 45 | 537 | 491 | 72853 | 334739 | 890515 | 27543 | 525 | 0
68542 | MS | JACKSON | 3 | 7 | 7 | 393 |  | 321249 | 902256 | 28100 | 725 | 0.2
48667 | MS | JACKSON | 12 | 12 | 20.3 | 497 | 84857 | 321426 | 902415 | 38592 | 854 | 0.1
43168 | MS | JACKSON | 29 | 20 | 400 | 482 |  | 321129 | 902422 | 36368 | 826 | 0.1
49712 | MS | JACKSON | 16 | 21 | 1000 | 332 | 39758 | 321641 | 901740 | 28450 | 740 | 2.5
71326 | MS | JACKSON | 40 | 40 | 981 | 598 | 80223 | 321249 | 902256 | 40292 | 886 | 0
166512 | MS | JACKSON | 51 | 51 | 184 | 384 | 80213 | 321426 | 902415 | 24384 | 681 | 0.7
21250 | MS | LAUREL | 7 | 28 | 79 | 128 | 42804 | 312712 | 891705 | 11124 | 251 | 0.1
136749 | MS | MAGEE | 34 | 34 | 98.7 | 305 | 75071 | 320718 | 893239 | 19444 | 680 | 0.4
4686 | MS | MERIDIAN | 11 | 11 | 11.8 | 165 | 84852 | 321938 | 884128 | 21080 | 294 | 2
73255 | MS | MERIDIAN | 24 | 24 | 956 | 170 | 74996 | 321940 | 884131 | 18636 | 278 | 0.1
24314 | MS | MERIDIAN | 30 | 31 | 1000 | 183 | 27899 | 321940 | 884131 | 18932 | 263 | 0.3
43169 | MS | MERIDIAN | 14 | 44 | 880 | 369 |  | 320818 | 890536 | 31834 | 662 | 0
43192 | MS | MISSISSIPPI STATE | 2 | 10 | 4.3 | 349 |  | 332114 | 890900 | 24623 | 370 | 0.3
16539 | MS | NATCHEZ | 48 | 49 | 1000 | 313 | 38528 | 314008 | 914130 | 24104 | 338 | 0.4
43193 | MS | OXFORD | 18 | 36 | 225 | 421 | 33510 | 341728 | 894221 | 23767 | 905 | 2.1
74148 | MS | TUPELO | 9 | 8 | 9 | 542 | 74662 | 334740 | 890516 | 35700 | 634 | 3.2
84253 | MS | VICKSBURG | 35 | 41 | 209 | 253 | 84840 | 321935 | 903703 | 11835 | 445 | 16.2
37732 | MS | WEST POINT | 27 | 16 | 450 | 494 | 39741 | 334740 | 890516 | 33099 | 599 | 0.6
35694 | MT | BILLINGS | 2 | 10 | 26.1 | 180 |  | 454601 | 1082726 | 21980 | 155 | 0
35724 | MT | BILLINGS | 8 | 11 | 14.5 | 229 | 74882 | 454535 | 1082714 | 21681 | 152 | 0
5243 | MT | BILLINGS | 6 | 18 | 1000 | 228 |  | 454826 | 1082025 | 24478 | 153 | 0
43567 | MT | BOZEMAN | 9 | 8 | 17.9 | 271 | 69541 | 454024 | 1105202 | 14163 | 84 | 0.3
33756 | MT | BOZEMAN | 7 | 13 | 18.9 | 271 | 67232 | 454024 | 1105202 | 13985 | 84 | 0
35959 | MT | BUTTE | 4 | 5 | 10.7 | 588 | 43752 | 460027 | 1122630 | 43135 | 183 | 0
18066 | MT | BUTTE | 6 | 6 | 11.2 | 591 | 80201 | 460027 | 1122630 | 42931 | 192 | 0
14674 | MT | BUTTE | 18 | 19 | 125 | 585 | 42948 | 460024 | 1122630 | 15884 | 65 | 0
81438 | MT | BUTTE | 24 | 24 | 50 | 570 | 74755 | 460024 | 1122630 | 15762 | 67 | 0
24287 | MT | GLENDIVE | 5 | 10 | 30 | 152 |  | 470315 | 1044045 | 20893 | 21 | 1.3
35567 | MT | GREAT FALLS | 3 | 7 | 28.5 | 150 | 73758 | 473209 | 1111702 | 19067 | 89 | 0
34412 | MT | GREAT FALLS | 5 | 8 | 28.6 | 180 |  | 473208 | 1111702 | 22360 | 91 | 0
81331 | MT | GREAT FALLS | 26 | 26 | 50 | 65 | 74759 | 473223 | 1111706 | 8905 | 84 | 0
13792 | MT | GREAT FALLS | 16 | 45 | 157 | 300 | 30029 | 473626 | 1112127 | 16946 | 90 | 0
47670 | MT | HARDIN | 4 | 22 | 1000 | 248 |  | 454424 | 1080818 | 24748 | 151 | 0
83689 | MT | HAVRE | 9 | 9 | 3.2 | 389 | 74719 | 482032 | 1094341 | 22474 | 25 | 0
5290 | MT | HELENA | 12 | 12 | 9.36 | 697 | 74375 | 464935 | 1114233 | 26659 | 152 | 0
68717 | MT | HELENA | 10 | 29 | 43.4 | 697 | 68037 | 464935 | 1114233 | 14425 | 139 | 0
18079 | MT | KALISPELL | 9 | 9 | 3.2 | 850 | 80210 | 480048 | 1142155 | 28213 | 110 | 0
84794 | MT | LEWISTOWN | 13 | 13 | 3.2 | 636 | 74726 | 471046 | 1093205 | 25112 | 16 | 0.4
5237 | MT | MILES CITY | 3 | 3 | 1.03 | 30 | 74367 | 462534 | 1055138 | 7580 | 11 | 0
35455 | MT | MISSOULA | 8 | 7 | 22.5 | 654 |  | 470106 | 1140041 | 36798 | 170 | 0
66611 | MT | MISSOULA | 11 | 11 | 3.2 | 631 | 74999 | 464809 | 1135821 | 18430 | 132 | 0
18084 | MT | MISSOULA | 13 | 13 | 26.7 | 610 | 80239 | 470104 | 1140047 | 35664 | 168 | 0.1
81348 | MT | MISSOULA | 17 | 17 | 50 | 628 | 74739 | 464808 | 1135819 | 16846 | 132 | 0
14675 | MT | MISSOULA | 23 | 23 | 92.6 | 618 | 74525 | 470110 | 1140046 | 18786 | 150 | 0
56537 | NC | ASHEVILLE | 13 | 13 | 29.8 | 853 | 70317 | 352532 | 824525 | 37735 | 2348 | 2.1
69300 | NC | ASHEVILLE | 33 | 25 | 185 | 797 | 41130 | 352532 | 824525 | 22420 | 1437 | 5.8
70149 | NC | ASHEVILLE | 62 | 45 | 1000 | 555 |  | 351320 | 823258 | 34531 | 2043 | 0.1
73152 | NC | BELMONT | 46 | 47 | 1000 | 595 |  | 352144 | 810919 | 40397 | 3404 | 0.6
65074 | NC | BURLINGTON | 16 | 14 | 95 | 213 |  | 361454 | 793921 | 16777 | 1712 | 1.1
69080 | NC | CHAPEL HILL | 4 | 25 | 300 | 448 | 69110 | 355159 | 791000 | 26537 | 2744 | 0.4
10645 | NC | CHARLOTTE | 42 | 11 | 2.2 | 363 |  | 351714 | 804145 | 20685 | 2180 | 3.7
32326 | NC | CHARLOTTE | 36 | 22 | 791 | 577 | 64697 | 352049 | 811015 | 36927 | 3095 | 1.4
30826 | NC | CHARLOTTE | 3 | 23 | 1000 | 565 |  | 352151 | 811113 | 43975 | 3599 | 0.1
49157 | NC | CHARLOTTE | 18 | 27 | 1000 | 368 | 28621 | 351601 | 804405 | 30079 | 2748 | 6.1
74070 | NC | CHARLOTTE | 9 | 34 | 1000 | 348 |  | 351541 | 804338 | 31482 | 2747 | 5.7
69124 | NC | CONCORD | 58 | 44 | 149 | 422 | 74886 | 352130 | 803637 | 24194 | 2537 | 3.7
8617 | NC | DURHAM | 11 | 11 | 19.2 | 607 | 74597 | 354005 | 783158 | 40935 | 2807 | 4.5
54963 | NC | DURHAM | 28 | 28 | 225 | 610 |  | 354028 | 783140 | 36204 | 2685 | 1.5
69292 | NC | EDENTON | 2 | 20 | 543 | 489 |  | 355400 | 762045 | 39125 | 1359 | 0
21245 | NC | FAYETTEVILLE | 62 | 36 | 1000 | 242 | 36997 | 345305 | 790429 | 20290 | 985 | 0.2
16517 | NC | FAYETTEVILLE | 40 | 38 | 500 | 509 | 60837 | 353044 | 785841 | 33401 | 2898 | 0.6
50782 | NC | GOLDSBORO | 17 | 17 | 244 | 628 | 70663 | 354029 | 783140 | 32343 | 2496 | 7
25544 | NC | GREENSBORO | 48 | 33 | 700 | 575 | 38478 | 355203 | 794926 | 33109 | 2816 | 11.6
54452 | NC | GREENSBORO | 61 | 43 | 105 | 527 | 42438 | 355202 | 794926 | 25142 | 2207 | 5.7
72064 | NC | GREENSBORO | 2 | 51 | 1000 | 569 |  | 355213 | 795025 | 41290 | 3777 | 5.9
57838 | NC | GREENVILLE | 9 | 10 | 35 | 575 |  | 352155 | 772338 | 45399 | 1370 | 15.8
35582 | NC | GREENVILLE | 14 | 14 | 50 | 205 |  | 352644 | 772208 | 15450 | 649 | 0
69149 | NC | GREENVILLE | 25 | 23 | 71 | 331 | 42548 | 353310 | 773606 | 17438 | 801 | 0.1
81508 | NC | GREENVILLE | 38 | 51 | 90.7 | 155 | 74769 | 352409 | 772510 | 13446 | 594 | 0.1
65919 | NC | HICKORY | 14 | 40 | 600 | 182 | 67111 | 354359 | 811951 | 11030 | 776 | 19.1
72106 | NC | HIGH POINT | 8 | 8 | 15 | 398 | 70590 | 354846 | 795029 | 29992 | 2769 | 3.7
69444 | NC | JACKSONVILLE | 19 | 19 | 66.6 | 561 | 74418 | 350618 | 772015 | 23999 | 799 | 0.4
37971 | NC | JACKSONVILLE | 35 | 34 | 600 | 199 | 41098 | 343110 | 772652 | 18502 | 568 | 0
12793 | NC | KANNAPOLIS | 64 | 50 | 50 | 348 |  | 351541 | 804338 | 18157 | 2047 | 2.1
35385 | NC | LEXINGTON | 20 | 19 | 800 | 576 |  | 355202 | 794926 | 44456 | 4288 | 2
69114 | NC | LINVILLE | 17 | 17 | 61.6 | 546 | 74613 | 360347 | 815033 | 18558 | 1085 | 4.1
69416 | NC | LUMBERTON | 31 | 31 | 109 | 319 | 69624 | 344750 | 790242 | 17337 | 889 | 3.5
76324 | NC | MANTEO | 4 | 9 | 21.3 | 274 | 74336 | 363254 | 761116 | 29530 | 1725 | 0
37982 | NC | MOREHEAD CITY | 8 | 8 | 9.88 | 216 | 74470 | 345301 | 763021 | 20774 | 299 | 0
18334 | NC | NEW BERN | 12 | 12 | 22.2 | 591 | 80237 | 350618 | 772015 | 42635 | 1324 | 2.9
73205 | NC | RALEIGH | 22 | 27 | 568 | 610 |  | 354028 | 783140 | 41286 | 2847 | 2.8
8688 | NC | RALEIGH | 5 | 48 | 916 | 629 | 69133 | 354029 | 783139 | 41666 | 2852 | 0.1
64611 | NC | RALEIGH | 50 | 49 | 1000 | 614 |  | 354029 | 783140 | 44278 | 2980 | 0.1
69397 | NC | ROANOKE RAPIDS | 36 | 36 | 50 | 368 | 74543 | 361728 | 775010 | 19141 | 604 | 8.4
20590 | NC | ROCKY MOUNT | 47 | 15 | 180 | 354 | 36353 | 360611 | 781129 | 22787 | 1759 | 0.1
594 | NC | WASHINGTON | 7 | 32 | 806 | 594 | 74887 | 352155 | 772338 | 44561 | 1497 | 1.1
69332 | NC | WILMINGTON | 39 | 29 | 700 | 297 |  | 341916 | 781343 | 28039 | 801 | 0.3
72871 | NC | WILMINGTON | 26 | 30 | 80 | 590 | 73235 | 340753 | 781117 | 26462 | 609 | 0
48666 | NC | WILMINGTON | 6 | 44 | 575 | 280 | 59015 | 341916 | 781343 | 20378 | 591 | 0
12033 | NC | WILMINGTON | 3 | 46 | 1000 | 594 | 74888 | 340751 | 781116 | 44363 | 1060 | 0
10133 | NC | WILSON | 30 | 42 | 873 | 539 | 68096 | 354953 | 780850 | 32166 | 2162 | 2
414 | NC | WINSTON-SALEM | 45 | 29 | 990 | 576 | 39890 | 355203 | 794926 | 37521 | 3484 | 4.8
53921 | NC | WINSTON-SALEM | 12 | 31 | 815 | 572 |  | 362231 | 802226 | 37577 | 2625 | 4.2
69360 | NC | WINSTON-SALEM | 26 | 32 | 263 | 504 | 74889 | 362234 | 802214 | 22287 | 1868 | 6.9
55686 | ND | BISMARCK | 12 | 12 | 19.1 | 466 | 74459 | 463517 | 1004826 | 35627 | 127 | 0.3
22121 | ND | BISMARCK | 17 | 16 | 1000 | 275 | 68012 | 463515 | 1004820 | 25005 | 113 | 0
53324 | ND | BISMARCK | 3 | 22 | 97.3 | 392 | 18952 | 463523 | 1004802 | 21415 | 110 | 0
82611 | ND | BISMARCK | 26 | 26 | 50 | 300 | 74760 | 463523 | 1004739 | 17826 | 104 | 0
41427 | ND | BISMARCK | 5 | 31 | 500 | 389 | 73210 | 463620 | 1004822 | 26522 | 118 | 0
22124 | ND | DEVILS LAKE | 8 | 8 | 16.2 | 451 | 74687 | 480824 | 975938 | 35778 | 150 | 0
162016 | ND | DEVILS LAKE |  | 25 | 134 | 245 | 66852 | 480348 | 992009 | 18198 | 39 | 0
41430 | ND | DICKINSON | 7 | 7 | 11.3 | 223 | 74419 | 465649 | 1025917 | 22461 | 33 | 0.9
53329 | ND | DICKINSON | 9 | 9 | 8.35 | 246 | 74437 | 464334 | 1025456 | 22539 | 36 | 0
55684 | ND | DICKINSON | 2 | 19 | 50 | 217 | 59817 | 464335 | 1025457 | 13157 | 28 | 0
53315 | ND | ELLENDALE | 19 | 20 | 72.3 | 163 | 64873 | 461756 | 985156 | 13632 | 18 | 0
53321 | ND | FARGO | 13 | 13 | 11.4 | 344 | 74460 | 470048 | 971137 | 28996 | 257 | 0
55372 | ND | FARGO | 15 | 19 | 1000 | 379 | 28940 | 464029 | 961340 | 28028 | 320 | 0.1
22129 | ND | FARGO | 6 | 21 | 1000 | 356 |  | 470028 | 971202 | 34973 | 345 | 0
61961 | ND | FARGO | 11 | 44 | 356 | 576 | 73213 | 472032 | 971720 | 31290 | 314 | 0
53320 | ND | GRAND FORKS | 2 | 15 | 50 | 408 | 74645 | 480818 | 975935 | 20362 | 116 | 0
86208 | ND | GRAND FORKS | 27 | 27 | 50 | 96 | 74762 | 475745 | 970312 | 11054 | 108 | 0
55364 | ND | JAMESTOWN | 7 | 7 | 13 | 135 | 80206 | 465530 | 984621 | 18175 | 42 | 0.5
41425 | ND | MINOT | 10 | 10 | 7.69 | 207 | 80232 | 481256 | 1011905 | 21143 | 75 | 1.7
55685 | ND | MINOT | 13 | 13 | 16.1 | 344 | 74570 | 480302 | 1012029 | 29701 | 89 | 0
22127 | ND | MINOT | 14 | 14 | 60 | 216 |  | 480311 | 1012305 | 16113 | 70 | 0
82615 | ND | MINOT | 24 | 24 | 50 | 239 | 74756 | 480314 | 1012603 | 15862 | 69 | 0
53313 | ND | MINOT | 6 | 40 | 146 | 249 | 59853 | 480302 | 1012325 | 15514 | 70 | 0
55362 | ND | PEMBINA | 12 | 12 | 28.7 | 413 | 74382 | 485944 | 972428 | 35647 | 43 | 0.1
49134 | ND | VALLEY CITY | 4 | 38 | 382 | 573 | 73275 | 471645 | 972026 | 32236 | 317 | 0
41429 | ND | WILLISTON | 8 | 8 | 7.21 | 323 | 74598 | 480802 | 1035136 | 24857 | 38 | 0
55683 | ND | WILLISTON | 11 | 14 | 50 | 257 | 59878 | 480830 | 1035334 | 14655 | 32 | 0.5
53318 | ND | WILLISTON | 4 | 51 | 53.9 | 248 | 64823 | 480830 | 1035334 | 12463 | 31 | 0
47996 | NE | ALLIANCE | 13 | 13 | 20.9 | 469 | 74471 | 415024 | 1030318 | 33136 | 89 | 1.5
47981 | NE | BASSETT | 7 | 7 | 18.7 | 453 | 74383 | 422005 | 992901 | 35064 | 41 | 3.3
7894 | NE | GRAND ISLAND | 11 | 11 | 15.2 | 308 | 74493 | 403520 | 984810 | 28343 | 219 | 0.3
27220 | NE | GRAND ISLAND | 17 | 19 | 1000 | 186 | 28644 | 404344 | 983413 | 18605 | 195 | 0
48003 | NE | HASTINGS | 5 | 5 | 6.78 | 223 | 80198 | 403906 | 982304 | 28719 | 229 | 0
47987 | NE | HASTINGS | 29 | 28 | 200 | 366 | 39665 | 404620 | 980521 | 22116 | 179 | 0.1
21162 | NE | HAYES CENTER | 6 | 18 | 1000 | 216 | 74892 | 403729 | 1010158 | 24515 | 76 | 0
21160 | NE | KEARNEY | 13 | 36 | 753 | 338 | 74893 | 403928 | 985204 | 30484 | 227 | 0
47975 | NE | LEXINGTON | 3 | 26 | 375 | 251 | 32442 | 402305 | 992730 | 19875 | 107 | 0
11264 | NE | LINCOLN | 8 | 8 | 17.8 | 440 | 75015 | 405259 | 971820 | 35535 | 695 | 2.8
7890 | NE | LINCOLN | 10 | 10 | 18.4 | 454 | 74987 | 404808 | 971046 | 36426 | 887 | 0.4
66589 | NE | LINCOLN | 12 | 12 | 8.16 | 253 | 74553 | 410818 | 962719 | 23215 | 1145 | 0.1
84453 | NE | LINCOLN | 51 | 51 | 200 | 461 | 74786 | 404738 | 971422 | 25974 | 454 | 0
72362 | NE | MCCOOK | 8 | 12 | 10.4 | 218 |  | 394948 | 1004204 | 23270 | 48 | 0.3
47971 | NE | MERRIMAN | 12 | 12 | 15.7 | 328 | 74407 | 424038 | 1014236 | 26524 | 27 | 1.8
47995 | NE | NORFOLK | 19 | 19 | 53.8 | 348 | 74397 | 421415 | 971641 | 15941 | 214 | 5.9
49273 | NE | NORTH PLATTE | 2 | 2 | 6.75 | 192 | 80195 | 411213 | 1004358 | 27013 | 67 | 0
47973 | NE | NORTH PLATTE | 9 | 9 | 15.5 | 311 | 74398 | 410116 | 1010910 | 28103 | 66 | 0
23277 | NE | OMAHA | 15 | 15 | 295 | 475 |  | 410416 | 961331 | 34708 | 1240 | 0
47974 | NE | OMAHA | 26 | 17 | 200 | 117 |  | 411528 | 960032 | 15002 | 836 | 0
53903 | NE | OMAHA | 7 | 20 | 700 | 396 |  | 411832 | 960133 | 35092 | 1220 | 0
65528 | NE | OMAHA | 6 | 22 | 1000 | 398 |  | 411840 | 960137 | 37205 | 1242 | 0
51491 | NE | OMAHA | 42 | 43 | 700 | 475 |  | 410414 | 961333 | 36280 | 1255 | 0
35190 | NE | OMAHA | 3 | 45 | 1000 | 426 |  | 411824 | 960136 | 35409 | 1221 | 0.3
17683 | NE | SCOTTSBLUFF | 4 | 7 | 32 | 475 |  | 415028 | 1030427 | 37186 | 95 | 3.4
136747 | NE | SCOTTSBLUFF | 16 | 17 | 91.5 | 238 | 74736 | 415023 | 1034935 | 14585 | 56 | 0.2
63182 | NE | SCOTTSBLUFF | 10 | 29 | 1000 | 256 | 74894 | 415958 | 1033955 | 24074 | 74 | 1.1
21161 | NE | SUPERIOR | 4 | 34 | 1000 | 344 | 74895 | 400515 | 975512 | 31807 | 185 | 0.1
48406 | NH | CONCORD | 21 | 33 | 100 | 344 | 42932 | 431104 | 711912 | 16703 | 2327 | 3.5
14682 | NH | DERRY | 50 | 35 | 7.3 | 191 |  | 424407 | 712331 | 8996 | 3843 | 2.3
69237 | NH | DURHAM | 11 | 11 | 15.8 | 302 | 80234 | 431033 | 711229 | 26397 | 4074 | 0.5
69271 | NH | KEENE | 52 | 49 | 50 | 329 | 74896 | 430200 | 722204 | 11793 | 404 | 5
69328 | NH | LITTLETON | 49 | 48 | 50 | 390 | 74897 | 442114 | 714423 | 11253 | 131 | 0
73292 | NH | MANCHESTER | 9 | 9 | 7.11 | 305 | 74688 | 425902 | 713524 | 20862 | 4589 | 2.6
51864 | NH | MERRIMACK | 60 | 34 | 80 | 293 | 28154 | 425902 | 713520 | 13421 | 3094 | 4
9739 | NJ | ATLANTIC CITY |  | 44 | 200 | 284 | 40339 | 394341 | 745039 | 13582 | 5320 | 11
23142 | NJ | ATLANTIC CITY | 62 | 49 | 130 | 296 | 27898 | 393753 | 742112 | 15516 | 1908 | 0.2
7623 | NJ | BURLINGTON | 48 | 27 | 160 | 354 | 68951 | 400230 | 751411 | 19775 | 7092 | 4.5
48481 | NJ | CAMDEN | 23 | 22 | 197 | 266 |  | 394341 | 745039 | 20659 | 6862 | 0
73333 | NJ | LINDEN | 47 | 36 | 832 | 408 | 42433 | 404454 | 735910 | 28663 | 19700 | 1.6
48477 | NJ | MONTCLAIR | 50 | 51 | 200 | 238 |  | 405153 | 741203 | 16560 | 17216 | 0.3
48457 | NJ | NEW BRUNSWICK | 58 | 8 | 20.2 | 212 | 32754 | 403717 | 743015 | 20769 | 16912 | 10.5
18795 | NJ | NEWARK | 13 | 13 | 3.2 | 500 | 74696 | 404243 | 740049 | 25695 | 19240 | 1.6
60555 | NJ | NEWARK | 68 | 30 | 189 | 321 | 80192 | 404522 | 735912 | 16609 | 17182 | 2.8
43952 | NJ | NEWTON | 63 | 18 | 1000 | 250 | 67170 | 405153 | 741203 | 18520 | 17260 | 0
74215 | NJ | PATERSON | 41 | 40 | 300 | 421 | 29858 | 404454 | 735910 | 23316 | 19038 | 0.4
74197 | NJ | SECAUCUS | 9 | 38 | 136 | 500 | 74898 | 404243 | 740049 | 26502 | 19428 | 0.3
48465 | NJ | TRENTON | 52 | 43 | 50 | 271 | 74899 | 401700 | 744120 | 14079 | 8751 | 11.3
60560 | NJ | VINELAND | 65 | 29 | 225 | 396 | 72018 | 400230 | 751411 | 20524 | 7421 | 5.7
20818 | NJ | WEST MILFORD | 66 | 29 | 200 | 167 | 33869 | 404718 | 741519 | 8192 | 13959 | 12.2
61111 | NJ | WILDWOOD | 40 | 36 | 200 | 128 |  | 390728 | 744556 | 14738 | 739 | 0.9
53928 | NM | ALBUQUERQUE | 7 | 7 | 27.6 | 1243 | 74445 | 351253 | 1062701 | 53948 | 961 | 0
48575 | NM | ALBUQUERQUE | 13 | 13 | 7.03 | 1287 | 74399 | 351240 | 1062657 | 43540 | 925 | 0
1151 | NM | ALBUQUERQUE | 32 | 17 | 65.6 | 1247 | 58949 | 351251 | 1062701 | 34322 | 913 | 0
57220 | NM | ALBUQUERQUE | 14 | 22 | 303 | 376 | 74730 | 352444 | 1064332 | 16156 | 820 | 0
993 | NM | ALBUQUERQUE | 23 | 24 | 200 | 1243 |  | 351254 | 1062702 | 47308 | 935 | 0
35313 | NM | ALBUQUERQUE | 4 | 26 | 270 | 1277 |  | 351242 | 1062658 | 48914 | 934 | 0.1
55528 | NM | ALBUQUERQUE | 5 | 35 | 250 | 1287 |  | 351249 | 1062701 | 46539 | 929 | 0
35084 | NM | ALBUQUERQUE | 41 | 42 | 321 | 1262 |  | 351241 | 1062656 | 46959 | 928 | 0
55049 | NM | ALBUQUERQUE | 50 | 45 | 245 | 1287 | 41944 | 351248 | 1062700 | 42560 | 921 | 0
53908 | NM | CARLSBAD | 6 | 19 | 912 | 333 |  | 324738 | 1041229 | 32390 | 153 | 0.6
83707 | NM | CARLSBAD | 25 | 25 | 50 | 134 | 74757 | 322609 | 1041114 | 11804 | 51 | 0
40450 | NM | CLOVIS | 12 | 20 | 598 | 204 | 74900 | 341134 | 1031644 | 21451 | 87 | 0
53904 | NM | FARMINGTON | 3 | 8 | 40 | 166 |  | 364017 | 1081352 | 23531 | 151 | 0
35321 | NM | FARMINGTON | 12 | 12 | 13.7 | 125 | 84833 | 364143 | 1081314 | 16977 | 138 | 0
27431 | NM | HOBBS | 29 | 29 | 67.4 | 159 | 74400 | 324328 | 1030546 | 13761 | 81 | 0
55516 | NM | LAS CRUCES | 22 | 23 | 200 | 205 | 68952 | 321733 | 1064151 | 15162 | 540 | 0
36916 | NM | LAS CRUCES | 48 | 47 | 200 | 134 | 74901 | 320230 | 1062741 | 8205 | 693 | 0
18338 | NM | PORTALES | 3 | 32 | 82.6 | 190 |  | 341508 | 1031420 | 15679 | 81 | 0
62272 | NM | ROSWELL | 8 | 8 | 20.8 | 499 | 74533 | 332231 | 1034612 | 38887 | 159 | 0
48556 | NM | ROSWELL | 10 | 10 | 24.3 | 610 | 74558 | 330320 | 1034912 | 43742 | 187 | 0.1
84157 | NM | ROSWELL | 21 | 21 | 164 | 128 | 74747 | 330601 | 1041515 | 11510 | 77 | 0
53539 | NM | ROSWELL | 27 | 27 | 50 | 115 | 74474 | 332458 | 1043359 | 7382 | 63 | 0
84215 | NM | SANTA FE |  | 9 | 0.2 | 1241 | 67438 | 351245 | 1062658 | 20827 | 857 | 0.8
60793 | NM | SANTA FE | 11 | 10 | 30 | 608 |  | 354648 | 1063133 | 38985 | 904 | 1.3
32311 | NM | SANTA FE | 2 | 27 | 255 | 1278 |  | 351250 | 1062701 | 48241 | 933 | 0.2
76268 | NM | SANTA FE | 19 | 29 | 245 | 1289 |  | 351244 | 1062657 | 47629 | 935 | 0
53911 | NM | SILVER CITY | 10 | 10 | 3.2 | 485 | 74976 | 325146 | 1081428 | 22295 | 59 | 0.2
85114 | NM | SILVER CITY | 6 | 12 | 3.2 | 502 | 74712 | 325149 | 1081427 | 16454 | 58 | 0
63845 | NV | ELKO | 10 | 10 | 3.2 | 557 |  | 404152 | 1155413 | 21628 | 36 | 0
86537 | NV | ELY | 3 | 3 | 1 | 279 | 74709 | 391446 | 1145536 | 6317 | 8 | 0
86538 | NV | ELY | 6 | 27 | 1000 | 270 | 74713 | 391553 | 1145335 | 13318 | 8 | 0
86201 | NV | GOLDFIELD | 7 | 50 | 50 | 448 | 74716 | 380305 | 1171330 | 8739 | 3 | 0
35870 | NV | HENDERSON | 5 | 9 | 86 | 385 |  | 360026 | 1150022 | 29838 | 1362 | 0.1
69677 | NV | LAS VEGAS | 3 | 2 | 27.7 | 384 |  | 360030 | 1150020 | 41187 | 1418 | 0.1
35042 | NV | LAS VEGAS | 8 | 7 | 30.1 | 609 |  | 355644 | 1150233 | 33021 | 1366 | 0
11683 | NV | LAS VEGAS | 10 | 11 | 105 | 371 |  | 360027 | 1150024 | 30092 | 1360 | 0
74100 | NV | LAS VEGAS | 13 | 13 | 16 | 606 |  | 355643 | 1150232 | 27920 | 1363 | 0
67089 | NV | LAS VEGAS | 15 | 16 | 1000 | 571 | 36067 | 355646 | 1150234 | 24277 | 1352 | 0
10179 | NV | LAS VEGAS | 21 | 22 | 630 | 383 | 73225 | 360028 | 1150024 | 18735 | 1351 | 0
10195 | NV | LAS VEGAS | 33 | 29 | 1000 | 383 | 73223 | 360028 | 1150024 | 19334 | 1351 | 0
41237 | NV | LAUGHLIN | 34 | 32 | 1000 | 607 | 66737 | 353907 | 1141842 | 27099 | 1276 | 0.1
63768 | NV | PARADISE | 39 | 40 | 200 | 357 |  | 360036 | 1150020 | 14586 | 1350 | 0
60307 | NV | RENO | 4 | 7 | 16.1 | 879 |  | 391857 | 1195302 | 39288 | 677 | 3
63331 | NV | RENO | 8 | 8 | 15.6 | 893 | 80185 | 391849 | 1195300 | 39660 | 667 | 2.6
59139 | NV | RENO | 2 | 13 | 16.1 | 876 |  | 391857 | 1195302 | 38571 | 678 | 0.3
10228 | NV | RENO | 5 | 15 | 50 | 140 | 74902 | 393501 | 1194752 | 6245 | 389 | 0
19191 | NV | RENO | 21 | 20 | 53 | 176 | 42485 | 393503 | 1194751 | 6065 | 363 | 0
51493 | NV | RENO | 27 | 26 | 1000 | 894 | 28095 | 391847 | 1195259 | 36813 | 577 | 0.5
48360 | NV | RENO | 11 | 44 | 1000 | 836 | 44000 | 393523 | 1195537 | 19310 | 403 | 0
86643 | NV | TONOPAH | 9 | 9 | 3.2 | 448 | 74720 | 380305 | 1171330 | 12955 | 3 | 0
63846 | NV | WINNEMUCCA | 7 | 7 | 3.2 | 650 |  | 410041 | 1174559 | 23096 | 17 | 0
11970 | NY | ALBANY | 23 | 7 | 10 | 434 |  | 423731 | 740038 | 26077 | 1488 | 1.1
73363 | NY | ALBANY | 13 | 12 | 9.1 | 436 |  | 423731 | 740038 | 26438 | 1477 | 0.2
74422 | NY | ALBANY | 10 | 26 | 700 | 426 | 67986 | 423731 | 740038 | 27072 | 1496 | 1.5
13933 | NY | AMSTERDAM | 55 | 50 | 450 | 207 | 38556 | 425904 | 741056 | 13763 | 993 | 0
2325 | NY | BATAVIA | 51 | 23 | 445 | 279 | 74609 | 425342 | 780056 | 19868 | 2211 | 0.5
72623 | NY | BATH | 14 | 14 | 50 | 318 | 74731 | 421828 | 771317 | 15650 | 468 | 14.6
23337 | NY | BINGHAMTON | 12 | 7 | 20.4 | 342 |  | 420331 | 755706 | 27192 | 1000 | 1.9
62210 | NY | BINGHAMTON | 40 | 8 | 7.9 | 371 | 70921 | 420322 | 755639 | 21243 | 751 | 1.4
11260 | NY | BINGHAMTON | 34 | 34 | 450 | 263 | 70326 | 420339 | 755636 | 16714 | 635 | 2.2
74034 | NY | BINGHAMTON | 46 | 42 | 50 | 408 |  | 420340 | 755645 | 17846 | 603 | 1.2
415 | NY | BUFFALO | 29 | 14 | 1000 | 300 | 76608 | 430132 | 785543 | 20685 | 1403 | 1.1
71905 | NY | BUFFALO | 23 | 32 | 1000 | 303 |  | 430148 | 785515 | 28159 | 1513 | 2.1
64547 | NY | BUFFALO | 2 | 33 | 480 | 295 |  | 424307 | 783347 | 22900 | 1848 | 1.2
67784 | NY | BUFFALO | 49 | 34 | 175 | 288 | 78226 | 430132 | 785543 | 12091 | 1291 | 1.9
54176 | NY | BUFFALO | 7 | 38 | 358 | 433 |  | 423815 | 783712 | 29175 | 1990 | 0.2
7780 | NY | BUFFALO | 4 | 39 | 790 | 417 |  | 423933 | 783733 | 32947 | 2280 | 0.1
71928 | NY | BUFFALO | 17 | 43 | 156 | 330 | 74905 | 430148 | 785515 | 21439 | 1386 | 0.1
68851 | NY | CARTHAGE | 7 | 7 | 15.1 | 221 | 84827 | 435716 | 754345 | 22614 | 259 | 5.6
78908 | NY | CORNING | 30 | 30 | 25 | 334 | 76601 | 420830 | 770439 | 12414 | 352 | 2.1
62219 | NY | CORNING | 48 | 48 | 50 | 166 | 75045 | 420943 | 770215 | 9513 | 285 | 1
60653 | NY | ELMIRA | 18 | 18 | 90 | 363 | 70327 | 420622 | 765217 | 16933 | 606 | 3.1
71508 | NY | ELMIRA | 36 | 36 | 50 | 320 | 74631 | 420620 | 765217 | 15737 | 545 | 0.2
38336 | NY | GARDEN CITY | 21 | 21 | 89.9 | 111 | 74455 | 404719 | 732709 | 10930 | 13638 | 0.1
34329 | NY | ITHACA | 52 | 20 | 0.015 | 1 |  | 422546 | 762948 | 382 | 66 | 2.6
30303 | NY | JAMESTOWN | 26 | 26 | 234 | 463 | 75000 | 422336 | 791344 | 22922 | 1548 | 0.2
74156 | NY | KINGSTON |  | 48 | 950 | 378 | 65356 | 412918 | 735656 | 23706 | 14181 | 1.2
1328 | NY | NEW YORK | 7 | 7 | 3.2 | 491 | 74571 | 404243 | 740049 | 26537 | 19365 | 0.9
73881 | NY | NEW YORK | 11 | 11 | 3.2 | 506 | 80235 | 404243 | 740049 | 26002 | 19228 | 2
6048 | NY | NEW YORK | 25 | 24 | 151 | 310 |  | 404522 | 735912 | 20860 | 18221 | 1.3
47535 | NY | NEW YORK | 4 | 28 | 164 | 515 | 74906 | 404243 | 740049 | 28669 | 19696 | 1
73356 | NY | NEW YORK | 31 | 31 | 225 | 458 | 74482 | 404243 | 740049 | 20490 | 17944 | 5.8
9610 | NY | NEW YORK | 2 | 33 | 239 | 482 | 74646 | 404243 | 740049 | 26765 | 19217 | 3.4
22206 | NY | NEW YORK | 5 | 44 | 225 | 515 | 74907 | 404243 | 740049 | 27036 | 19135 | 3.6
57476 | NY | NORTH POLE | 5 | 14 | 650 | 845 | 72521 | 443132 | 724858 | 39057 | 642 | 0
62137 | NY | NORWOOD | 18 | 23 | 40 | 242 |  | 442929 | 745127 | 14994 | 163 | 0.1
46755 | NY | PLATTSBURGH | 57 | 38 | 100 | 737 | 66309 | 444143 | 735300 | 26048 | 413 | 0
67993 | NY | POUGHKEEPSIE | 54 | 27 | 800 | 358 | 43683 | 412920 | 735653 | 23834 | 10810 | 34.2
73206 | NY | RIVERHEAD | 55 | 47 | 410 | 196 | 72009 | 405350 | 725456 | 14328 | 4541 | 1
70041 | NY | ROCHESTER | 10 | 10 | 12.7 | 152 | 84849 | 430807 | 773502 | 20451 | 1207 | 0
73371 | NY | ROCHESTER | 13 | 13 | 5.83 | 152 | 74689 | 430807 | 773503 | 17099 | 1134 | 0.7
57274 | NY | ROCHESTER | 21 | 16 | 180 | 130 | 68025 | 430807 | 773503 | 12874 | 1118 | 0.1
413 | NY | ROCHESTER | 31 | 28 | 320 | 161 | 66841 | 430805 | 773507 | 13190 | 1127 | 0
73964 | NY | ROCHESTER | 8 | 45 | 1000 | 122 | 69994 | 430807 | 773502 | 15154 | 1146 | 0.4
77515 | NY | SARANAC LAKE | 40 | 40 | 50 | 440 | 74774 | 440935 | 742834 | 11926 | 38 | 1.7
73942 | NY | SCHENECTADY | 6 | 6 | 4.46 | 426 | 74544 | 423731 | 740038 | 30364 | 1567 | 1.7
73263 | NY | SCHENECTADY | 17 | 34 | 325 | 426 |  | 423731 | 740038 | 24147 | 1423 | 0.8
73264 | NY | SCHENECTADY | 45 | 43 | 676 | 413 | 67289 | 423731 | 740038 | 24332 | 1399 | 0.9
60553 | NY | SMITHTOWN | 67 | 23 | 150 | 204 | 39829 | 405323 | 725713 | 13615 | 4096 | 15.2
9088 | NY | SPRINGVILLE | 67 | 7 | 15.5 | 411 | 74575 | 423814 | 783711 | 16459 | 1363 | 1.1
64352 | NY | SYRACUSE | 56 | 15 | 78.2 | 379 | 74790 | 431818 | 760300 | 17835 | 1053 | 0.8
73113 | NY | SYRACUSE | 9 | 17 | 105 | 402 | 44725 | 425642 | 760128 | 22102 | 1222 | 0.1
40758 | NY | SYRACUSE | 68 | 19 | 621 | 445 | 29285 | 425250 | 761200 | 29954 | 1648 | 0.3
21252 | NY | SYRACUSE | 3 | 24 | 210 | 405 |  | 425642 | 760707 | 26516 | 1368 | 0.1
53734 | NY | SYRACUSE | 24 | 25 | 97 | 393 |  | 425642 | 760707 | 22555 | 1272 | 0.1
58725 | NY | SYRACUSE | 43 | 44 | 680 | 445 | 68111 | 425250 | 761200 | 27037 | 1403 | 0
74151 | NY | SYRACUSE | 5 | 47 | 500 | 290 |  | 425719 | 760634 | 22565 | 1246 | 0
43424 | NY | UTICA | 33 | 27 | 688 | 433 | 59327 | 430213 | 752641 | 25154 | 1066 | 2.1
60654 | NY | UTICA | 2 | 29 | 708 | 402 | 45240 | 430609 | 745627 | 28378 | 1294 | 3.3
57837 | NY | UTICA | 20 | 30 | 50 | 227 | 45963 | 430843 | 751035 | 10520 | 449 | 8.4
16747 | NY | WATERTOWN | 50 | 21 | 25 | 331 | 44780 | 435247 | 754312 | 15745 | 186 | 0
62136 | NY | WATERTOWN | 16 | 41 | 50 | 370 | 74911 | 435144 | 754340 | 18784 | 234 | 0.3
70491 | OH | AKRON | 23 | 23 | 317 | 296 | 74690 | 410353 | 813459 | 21976 | 4065 | 0.2
72958 | OH | AKRON | 55 | 30 | 1000 | 331 | 71743 | 412302 | 814144 | 25072 | 3710 | 0
49421 | OH | AKRON | 49 | 50 | 180 | 305 |  | 410458 | 813802 | 18680 | 3641 | 6.7
49439 | OH | ALLIANCE | 45 | 45 | 388 | 223 | 74576 | 405423 | 805439 | 15811 | 2304 | 0
50147 | OH | ATHENS | 20 | 27 | 250 | 242 |  | 391852 | 820859 | 19481 | 708 | 1.9
6568 | OH | BOWLING GREEN | 27 | 27 | 110 | 320 |  | 410812 | 835424 | 21416 | 1313 | 0
50141 | OH | CAMBRIDGE | 44 | 35 | 310 | 385 | 68039 | 400532 | 811719 | 24017 | 1218 | 1.1
67893 | OH | CANTON | 17 | 39 | 200 | 292 |  | 410320 | 813538 | 20718 | 3970 | 1
43870 | OH | CANTON | 67 | 47 | 1000 | 134 | 40562 | 410633 | 812010 | 15841 | 3693 | 0
21158 | OH | CHILLICOTHE | 53 | 46 | 1000 | 328 | 33138 | 393520 | 830644 | 27391 | 2595 | 0.2
59438 | OH | CINCINNATI | 9 | 10 | 15.4 | 305 | 75072 | 390731 | 842957 | 27029 | 3082 | 0.6
11289 | OH | CINCINNATI | 12 | 12 | 15.6 | 305 | 75016 | 390658 | 843005 | 26169 | 3013 | 1.9
11204 | OH | CINCINNATI | 64 | 33 | 500 | 337 | 39190 | 391201 | 843122 | 24994 | 3100 | 0
65666 | OH | CINCINNATI | 48 | 34 | 400 | 326 | 78227 | 390727 | 843118 | 23378 | 2979 | 0.1
46979 | OH | CINCINNATI | 5 | 35 | 1000 | 311 |  | 390727 | 843118 | 29790 | 3176 | 0.1
73150 | OH | CLEVELAND | 8 | 8 | 15.7 | 305 | 75017 | 412147 | 814258 | 27926 | 3964 | 1.5
59441 | OH | CLEVELAND | 5 | 15 | 1000 | 311 | 75073 | 412227 | 814306 | 31477 | 4147 | 3.2
73195 | OH | CLEVELAND | 3 | 17 | 1000 | 296 | 84838 | 412310 | 814121 | 30387 | 4263 | 0
18753 | OH | CLEVELAND | 25 | 26 | 100 | 313 | 42131 | 412028 | 814425 | 18860 | 3498 | 0.1
60556 | OH | CLEVELAND | 61 | 34 | 525 | 334 | 40362 | 412258 | 814207 | 25232 | 3931 | 0.3
56549 | OH | COLUMBUS | 6 | 13 | 59 | 286 | 39803 | 395614 | 830116 | 26405 | 2526 | 10.4
50781 | OH | COLUMBUS | 4 | 14 | 902 | 264 |  | 395816 | 830140 | 28164 | 2467 | 0.4
71217 | OH | COLUMBUS | 10 | 21 | 1000 | 279 |  | 395816 | 830140 | 28074 | 2497 | 2.6
74137 | OH | COLUMBUS | 28 | 36 | 1000 | 271 |  | 395614 | 830116 | 25893 | 2312 | 1.6
66185 | OH | COLUMBUS | 34 | 38 | 250 | 291 |  | 400933 | 825523 | 21605 | 2191 | 0.4
25067 | OH | DAYTON | 16 | 16 | 126 | 320 |  | 394316 | 841500 | 21274 | 3118 | 2.2
411 | OH | DAYTON | 45 | 30 | 425 | 351 | 29247 | 394328 | 841518 | 22696 | 2885 | 7
41458 | OH | DAYTON | 7 | 41 | 1000 | 290 | 67218 | 394402 | 841453 | 24364 | 3196 | 0.5
65690 | OH | DAYTON | 2 | 50 | 1000 | 323 |  | 394307 | 841522 | 29198 | 3497 | 0.3
73155 | OH | DAYTON | 22 | 51 | 138 | 351 |  | 394328 | 841518 | 21345 | 3050 | 1.9
37503 | OH | LIMA | 35 | 8 | 27.5 | 148 | 72830 | 404451 | 840755 | 22513 | 995 | 8.8
1222 | OH | LIMA | 44 | 44 | 47.4 | 207 | 84841 | 404547 | 841059 | 14071 | 556 | 0.1
8532 | OH | LORAIN | 43 | 28 | 200 | 337 | 38130 | 412245 | 814312 | 22230 | 3706 | 0
41893 | OH | MANSFIELD | 68 | 12 | 14 | 180 | 69497 | 404550 | 823704 | 19484 | 1109 | 12.2
11118 | OH | NEWARK | 51 | 24 | 1000 | 132 | 39194 | 400445 | 824141 | 18218 | 1935 | 0.2
25065 | OH | OXFORD | 14 | 28 | 400 | 268 | 43343 | 390719 | 843252 | 20730 | 2781 | 0
65130 | OH | PORTSMOUTH | 30 | 17 | 50 | 358 | 75391 | 384542 | 830341 | 12136 | 492 | 0.7
66190 | OH | PORTSMOUTH | 42 | 43 | 50 | 382 |  | 384542 | 830341 | 19181 | 604 | 8.3
11027 | OH | SANDUSKY | 52 | 42 | 700 | 213 | 41148 | 412348 | 824731 | 18330 | 1542 | 0.1
39746 | OH | SHAKER HEIGHTS | 19 | 10 | 3.5 | 304 | 19316 | 412315 | 814143 | 18665 | 3558 | 1.3
70138 | OH | SPRINGFIELD | 26 | 26 | 50 | 291 | 74421 | 394328 | 841518 | 15181 | 2003 | 0.9
74122 | OH | STEUBENVILLE | 9 | 9 | 8.82 | 261 | 74665 | 402033 | 803714 | 21161 | 2829 | 0.1
17076 | OH | TOLEDO | 40 | 5 | 10 | 155 | 43356 | 414441 | 840106 | 18262 | 2235 | 17.4
13992 | OH | TOLEDO | 11 | 11 | 13.1 | 263 | 74409 | 414022 | 832247 | 22521 | 2387 | 0.5
74150 | OH | TOLEDO | 13 | 13 | 14.6 | 305 | 84861 | 414100 | 832449 | 22715 | 2547 | 3
66285 | OH | TOLEDO | 30 | 29 | 50 | 314 | 75078 | 413927 | 832555 | 18428 | 2208 | 0
19190 | OH | TOLEDO | 36 | 46 | 110 | 356 | 40304 | 413922 | 832641 | 18875 | 2041 | 0.8
73354 | OH | TOLEDO | 24 | 49 | 59 | 409 | 42576 | 414003 | 832122 | 18182 | 1915 | 0
72062 | OH | YOUNGSTOWN | 21 | 20 | 460 | 295 | 43442 | 410448 | 803825 | 23468 | 3296 | 0
4693 | OH | YOUNGSTOWN | 33 | 36 | 50 | 148 |  | 410343 | 803807 | 12151 | 1299 | 3.1
73153 | OH | YOUNGSTOWN | 27 | 41 | 700 | 418 |  | 410324 | 803844 | 29686 | 3817 | 26.3
61216 | OH | ZANESVILLE | 18 | 40 | 620 | 169 |  | 395542 | 815907 | 18268 | 818 | 1.3
35666 | OK | ADA | 10 | 26 | 1000 | 426 |  | 342134 | 963334 | 37746 | 516 | 1.1
1005 | OK | BARTLESVILLE | 17 | 17 | 210 | 296 | 74384 | 363059 | 954610 | 20962 | 949 | 0
50194 | OK | CHEYENNE | 12 | 8 | 30 | 303 |  | 353536 | 994002 | 30020 | 102 | 2.7
57431 | OK | CLAREMORE | 35 | 36 | 144 | 255 | 76140 | 362403 | 953630 | 15572 | 915 | 0
50198 | OK | EUFAULA | 3 | 31 | 1000 | 364 |  | 351101 | 952019 | 31391 | 600 | 0
35645 | OK | LAWTON | 7 | 11 | 138 | 327 |  | 341255 | 984313 | 40168 | 446 | 1.7
78322 | OK | MUSKOGEE | 19 | 20 | 245 | 252 | 80215 | 354508 | 954815 | 20096 | 1001 | 0.4
84225 | OK | NORMAN | 46 | 46 | 50 | 416 | 74779 | 353552 | 972922 | 18745 | 1211 | 0.1
12508 | OK | OKLAHOMA CITY | 5 | 7 | 34 | 430 | 41104 | 353345 | 972924 | 33879 | 1406 | 0.1
25382 | OK | OKLAHOMA CITY | 9 | 9 | 19.4 | 465 | 74545 | 353258 | 972950 | 36596 | 1436 | 0.2
50205 | OK | OKLAHOMA CITY | 13 | 13 | 26.4 | 465 | 74494 | 353552 | 972922 | 38931 | 1456 | 0
67999 | OK | OKLAHOMA CITY | 14 | 15 | 500 | 358 |  | 353435 | 972909 | 29701 | 1365 | 1.1
35388 | OK | OKLAHOMA CITY | 25 | 24 | 1000 | 476 | 44126 | 353258 | 972918 | 37403 | 1448 | 0
66222 | OK | OKLAHOMA CITY | 4 | 27 | 790 | 489 |  | 353552 | 972922 | 39060 | 1449 | 0.7
50170 | OK | OKLAHOMA CITY | 34 | 33 | 1000 | 458 |  | 353258 | 972918 | 39194 | 1464 | 0
50182 | OK | OKLAHOMA CITY | 43 | 40 | 55.6 | 475 | 74566 | 353522 | 972903 | 23666 | 1272 | 0
2566 | OK | OKLAHOMA CITY | 62 | 50 | 200 | 483 |  | 353552 | 972922 | 28774 | 1341 | 0
38214 | OK | OKLAHOMA CITY | 52 | 51 | 1000 | 458 |  | 353552 | 972922 | 36936 | 1428 | 0
7078 | OK | OKMULGEE | 44 | 28 | 1000 | 219 | 19049 | 355002 | 960728 | 20118 | 978 | 0.5
77480 | OK | SHAWNEE | 30 | 29 | 770 | 474 |  | 353336 | 972907 | 38646 | 1451 | 0.5
59439 | OK | TULSA | 2 | 8 | 18.2 | 558 | 74648 | 360115 | 954032 | 40032 | 1292 | 0.3
35685 | OK | TULSA | 8 | 10 | 6.9 | 542 | 42996 | 355808 | 953655 | 28628 | 1166 | 1.9
66195 | OK | TULSA | 11 | 11 | 21.3 | 521 | 84853 | 360115 | 954032 | 38946 | 1281 | 0.4
11910 | OK | TULSA | 23 | 22 | 1000 | 400 |  | 360136 | 954044 | 35867 | 1235 | 1
54420 | OK | TULSA | 41 | 42 | 900 | 381 |  | 360136 | 954044 | 32279 | 1195 | 0.2
35434 | OK | TULSA | 6 | 45 | 840 | 573 | 74632 | 360115 | 954032 | 40750 | 1297 | 0.7
37099 | OK | TULSA | 47 | 47 | 50 | 460 | 75034 | 360115 | 954032 | 19212 | 1018 | 0
24485 | OK | TULSA | 53 | 49 | 50 | 182 | 74912 | 360234 | 955711 | 13058 | 893 | 0
86532 | OK | WOODWARD | 35 | 35 | 50 | 339 | 74767 | 361606 | 992656 | 16828 | 37 | 0
50588 | OR | BEND | 3 | 11 | 160 | 226 |  | 440441 | 1211957 | 29073 | 157 | 0
55907 | OR | BEND | 21 | 21 | 53.7 | 197 | 74422 | 440440 | 1211949 | 10195 | 150 | 0
166534 | OR | BEND |  | 51 | 84.1 | 206 | 75180 | 440440 | 1211956 | 10034 | 148 | 0
49750 | OR | COOS BAY | 11 | 11 | 3.2 | 188 | 74446 | 432326 | 1240746 | 12943 | 82 | 0
35183 | OR | COOS BAY | 23 | 22 | 10 | 179 | 44658 | 432339 | 1240756 | 8368 | 65 | 0.9
50590 | OR | CORVALLIS | 7 | 7 | 10.1 | 375 | 74546 | 443825 | 1231625 | 24451 | 1118 | 9.6
34406 | OR | EUGENE | 9 | 9 | 12.1 | 502 | 75028 | 440657 | 1225957 | 24311 | 513 | 0.1
49766 | OR | EUGENE | 13 | 13 | 30.9 | 407 | 74988 | 440007 | 1230653 | 28949 | 648 | 7.6
35189 | OR | EUGENE | 16 | 17 | 70 | 473 | 44473 | 440657 | 1225957 | 17731 | 465 | 0.1
50591 | OR | EUGENE | 28 | 29 | 100 | 403 | 60215 | 440007 | 1230653 | 15614 | 477 | 0
8322 | OR | EUGENE | 34 | 31 | 88 | 372 | 67996 | 440004 | 1230645 | 13922 | 460 | 0
83306 | OR | GRANTS PASS | 30 | 30 | 50 | 654 | 74763 | 422256 | 1231629 | 19481 | 185 | 0
8284 | OR | KLAMATH FALLS | 2 | 13 | 9 | 659 |  | 420548 | 1213757 | 29481 | 84 | 0.2
60740 | OR | KLAMATH FALLS | 31 | 29 | 50 | 691 | 74913 | 420550 | 1213759 | 19200 | 65 | 0
61335 | OR | KLAMATH FALLS | 22 | 33 | 50 | 656 | 74914 | 420550 | 1213759 | 20779 | 67 | 0
50592 | OR | LA GRANDE | 13 | 13 | 31.8 | 775 | 74341 | 451833 | 1174354 | 27852 | 78 | 3.3
81447 | OR | LA GRANDE | 16 | 29 | 50 | 773 | 74737 | 451835 | 1174357 | 20192 | 42 | 0
8260 | OR | MEDFORD | 5 | 5 | 6.35 | 823 | 74385 | 424149 | 1231339 | 49279 | 483 | 0
61350 | OR | MEDFORD | 8 | 8 | 16.9 | 818 | 74567 | 424132 | 1231345 | 36640 | 386 | 1
22570 | OR | MEDFORD | 10 | 10 | 11.5 | 1009 | 74513 | 420455 | 1224307 | 38336 | 337 | 0
60736 | OR | MEDFORD | 12 | 12 | 16.9 | 823 | 74535 | 424132 | 1231346 | 35257 | 377 | 2.2
32958 | OR | MEDFORD | 26 | 26 | 50 | 428 | 75001 | 421754 | 1224459 | 11117 | 216 | 0
12729 | OR | PENDLETON | 11 | 11 | 22 | 472 | 74974 | 454451 | 1180211 | 30211 | 316 | 0
34874 | OR | PORTLAND | 8 | 8 | 21.9 | 509 | 74577 | 453121 | 1224446 | 30424 | 2379 | 3.6
50589 | OR | PORTLAND | 10 | 10 | 32 | 509 | 75002 | 453121 | 1224445 | 32672 | 2474 | 0.1
50633 | OR | PORTLAND | 12 | 12 | 21.9 | 543 | 74483 | 453119 | 1224453 | 30824 | 2429 | 1.2
35380 | OR | PORTLAND | 6 | 40 | 1000 | 523 |  | 453058 | 1224358 | 30516 | 2489 | 0
21649 | OR | PORTLAND | 2 | 43 | 1000 | 524 |  | 453057 | 1224359 | 30145 | 2486 | 0
47707 | OR | PORTLAND | 24 | 45 | 1000 | 522 |  | 453058 | 1224359 | 29841 | 2479 | 0
31437 | OR | ROSEBURG | 36 | 18 | 50 | 213 | 34395 | 431409 | 1231916 | 9672 | 93 | 0
61551 | OR | ROSEBURG | 4 | 19 | 50 | 274 | 28609 | 431408 | 1231918 | 9394 | 89 | 0
35187 | OR | ROSEBURG | 46 | 45 | 12 | 109 | 44472 | 431222 | 1232156 | 5477 | 76 | 0.2
5801 | OR | SALEM | 22 | 22 | 1000 | 490 | 74337 | 453121 | 1224445 | 31809 | 2507 | 0
10192 | OR | SALEM | 32 | 33 | 750 | 523 |  | 453058 | 1224358 | 30060 | 2482 | 0.1
36989 | PA | ALLENTOWN | 39 | 39 | 50 | 302 | 74699 | 403358 | 752606 | 15373 | 4857 | 2.5
39884 | PA | ALLENTOWN | 69 | 46 | 400 | 331 | 75251 | 403352 | 752624 | 16472 | 6590 | 2
20287 | PA | ALTOONA | 23 | 24 | 1000 | 311 | 29784 | 403406 | 782638 | 19812 | 757 | 0.8
23341 | PA | ALTOONA | 10 | 32 | 883 | 305 | 70018 | 403401 | 782630 | 22736 | 817 | 1.5
13929 | PA | ALTOONA | 47 | 46 | 50 | 308 | 74915 | 403412 | 782626 | 13077 | 575 | 0.7
60850 | PA | BETHLEHEM | 60 | 9 | 3.2 | 284 | 59326 | 403352 | 752624 | 15693 | 5211 | 10.6
66219 | PA | CLEARFIELD | 3 | 15 | 810 | 413 | 59340 | 410720 | 782629 | 31830 | 862 | 1.4
24970 | PA | ERIE | 12 | 12 | 8.63 | 305 | 74599 | 420352 | 800019 | 24248 | 675 | 0.7
49711 | PA | ERIE | 35 | 16 | 200 | 279 | 30039 | 420215 | 800343 | 19713 | 636 | 0.6
19707 | PA | ERIE | 66 | 22 | 850 | 276 | 65637 | 420233 | 800356 | 14972 | 581 | 0
65749 | PA | ERIE | 24 | 24 | 523 | 310 | 70354 | 420225 | 800409 | 20313 | 702 | 1.1
53716 | PA | ERIE | 54 | 50 | 200 | 271 | 67971 | 420234 | 800356 | 18066 | 531 | 3.5
13924 | PA | GREENSBURG | 40 | 50 | 362 | 264 | 44438 | 402334 | 794654 | 16433 | 2646 | 2.3
72326 | PA | HARRISBURG | 27 | 10 | 14 | 346 | 40451 | 401857 | 765702 | 22368 | 2185 | 0.6
72313 | PA | HARRISBURG | 21 | 21 | 500 | 372 | 70325 | 402043 | 765209 | 22848 | 2357 | 4.6
73083 | PA | HARRISBURG | 33 | 36 | 50 | 411 | 19302 | 402044 | 765207 | 14856 | 1808 | 7.5
73375 | PA | HAZLETON | 56 | 45 | 420 | 488 |  | 411100 | 755210 | 26257 | 1879 | 16.5
69880 | PA | JEANNETTE | 19 | 11 | 6.5 | 303 | 80099 | 402334 | 794654 | 21639 | 2960 | 0.1
20295 | PA | JOHNSTOWN | 8 | 8 | 6.5 | 352 | 70335 | 401053 | 790905 | 20987 | 2536 | 0.8
73120 | PA | JOHNSTOWN | 6 | 34 | 1000 | 386 | 65822 | 402217 | 785856 | 24695 | 1984 | 3
53930 | PA | LANCASTER | 8 | 8 | 5.4 | 415 | 84829 | 400204 | 763708 | 24456 | 4088 | 3.6
23338 | PA | LANCASTER | 15 | 23 | 500 | 381 | 41227 | 401545 | 762751 | 25174 | 3340 | 1.1
8616 | PA | PHILADELPHIA | 6 | 6 | 6.22 | 332 | 80202 | 400239 | 751426 | 32281 | 10186 | 0.2
73879 | PA | PHILADELPHIA | 17 | 17 | 237 | 354 | 74615 | 400230 | 751411 | 24810 | 8188 | 0
25453 | PA | PHILADELPHIA | 3 | 26 | 770 | 375 |  | 400233 | 751433 | 31614 | 10075 | 1.6
12499 | PA | PHILADELPHIA | 57 | 32 | 250 | 400 | 44229 | 400230 | 751411 | 22512 | 7859 | 3.6
63153 | PA | PHILADELPHIA | 10 | 34 | 325 | 377 | 71122 | 400230 | 751411 | 27178 | 8934 | 1.6
28480 | PA | PHILADELPHIA | 35 | 35 | 358 | 377 | 71123 | 400230 | 751411 | 25483 | 8584 | 4.2
51568 | PA | PHILADELPHIA | 29 | 42 | 273 | 347 | 74917 | 400226 | 751420 | 22025 | 7599 | 8.5
41315 | PA | PITTSBURGH | 13 | 13 | 12.6 | 210 | 80240 | 402646 | 795751 | 21749 | 2933 | 1.3
25454 | PA | PITTSBURGH | 2 | 25 | 1000 | 311 |  | 402938 | 800109 | 29482 | 3587 | 0.1
41314 | PA | PITTSBURGH | 16 | 38 | 64.1 | 215 | 74997 | 402646 | 795751 | 14493 | 2602 | 0.2
73907 | PA | PITTSBURGH | 22 | 42 | 1000 | 315 | 43259 | 402943 | 800017 | 22255 | 2996 | 3.9
73875 | PA | PITTSBURGH | 53 | 43 | 1000 | 303 | 45946 | 402943 | 800018 | 23931 | 3093 | 0
73910 | PA | PITTSBURGH | 11 | 48 | 1000 | 289 |  | 402748 | 800016 | 25263 | 3258 | 0.1
65681 | PA | PITTSBURGH | 4 | 51 | 1000 | 273 | 40377 | 401649 | 794811 | 20794 | 2868 | 0.6
55305 | PA | READING | 51 | 25 | 900 | 395 | 67694 | 401952 | 754141 | 20961 | 5185 | 35.2
55350 | PA | RED LION | 49 | 30 | 50 | 177 | 74918 | 395418 | 763500 | 11529 | 1959 | 17.2
17010 | PA | SCRANTON | 22 | 13 | 30 | 471 |  | 411058 | 755226 | 32173 | 2482 | 5.9
64690 | PA | SCRANTON | 64 | 32 | 528 | 354 | 59210 | 412606 | 754335 | 20285 | 1051 | 5.2
73374 | PA | SCRANTON | 38 | 38 | 57.6 | 385 | 75018 | 412609 | 754345 | 15550 | 899 | 3.7
47929 | PA | SCRANTON | 44 | 41 | 200 | 487 |  | 411055 | 755217 | 23850 | 1905 | 2.3
73318 | PA | SCRANTON | 16 | 49 | 100 | 506 |  | 411100 | 755210 | 21428 | 1732 | 0.5
71225 | PA | WILKES-BARRE | 28 | 11 | 30 | 471 |  | 411058 | 755226 | 32642 | 2524 | 5.2
52075 | PA | WILLIAMSPORT | 53 | 29 | 200 | 223 | 17599 | 411157 | 770739 | 12710 | 326 | 2.1
10213 | PA | YORK | 43 | 47 | 933 | 385 | 45937 | 400141 | 763600 | 22845 | 3255 | 26.3
50063 | RI | BLOCK ISLAND | 69 | 17 | 1000 | 228 | 67093 | 412941 | 714706 | 21896 | 2966 | 4
73311 | RI | PROVIDENCE | 64 | 12 | 11.5 | 295 | 74616 | 415214 | 711745 | 21844 | 5899 | 0.8
47404 | RI | PROVIDENCE | 12 | 13 | 18 | 305 |  | 415236 | 711657 | 28045 | 6539 | 0.8
56092 | RI | PROVIDENCE | 36 | 21 | 50 | 268 | 65226 | 415154 | 711715 | 11209 | 2916 | 34.3
50780 | RI | PROVIDENCE | 10 | 51 | 1000 | 305 | 84850 | 415154 | 711715 | 27224 | 6489 | 0.4
61003 | SC | ALLENDALE | 14 | 33 | 427 | 241 | 67765 | 331115 | 812350 | 15210 | 603 | 0
56548 | SC | ANDERSON | 40 | 14 | 310 | 311 | 30073 | 343851 | 821613 | 22074 | 1365 | 0
61007 | SC | BEAUFORT | 16 | 44 | 440 | 365 | 70516 | 324242 | 804054 | 19925 | 835 | 0
61005 | SC | CHARLESTON | 7 | 7 | 12 | 562 | 70358 | 325528 | 794158 | 31487 | 849 | 0
416 | SC | CHARLESTON | 24 | 24 | 283 | 583 | 74554 | 325624 | 794145 | 30857 | 818 | 0
21536 | SC | CHARLESTON | 4 | 34 | 630 | 522 | 43263 | 325528 | 794158 | 32715 | 848 | 0
9015 | SC | CHARLESTON | 36 | 36 | 50 | 583 | 74514 | 325624 | 794145 | 21692 | 657 | 0
71297 | SC | CHARLESTON | 5 | 47 | 1000 | 521 | 45846 | 325528 | 794158 | 33547 | 866 | 0.3
10587 | SC | CHARLESTON | 2 | 50 | 1000 | 581 | 66300 | 325624 | 794145 | 35154 | 925 | 0
60963 | SC | COLUMBIA | 25 | 8 | 43.7 | 529 | 34078 | 340658 | 804551 | 40718 | 1723 | 9.5
13990 | SC | COLUMBIA | 10 | 10 | 18.1 | 462 | 74559 | 340729 | 804523 | 32006 | 1450 | 1.8
37176 | SC | COLUMBIA | 19 | 17 | 1000 | 500 | 43474 | 340549 | 804551 | 33240 | 1341 | 6.5
61013 | SC | COLUMBIA | 35 | 32 | 62 | 316 |  | 340706 | 805613 | 18857 | 966 | 0
136750 | SC | COLUMBIA | 47 | 47 | 50 | 192 | 74780 | 340238 | 805951 | 5835 | 584 | 16.7
19199 | SC | COLUMBIA | 57 | 48 | 520 | 464 | 43955 | 340658 | 804551 | 27312 | 1158 | 1.4
61004 | SC | CONWAY | 23 | 9 | 20 | 230 |  | 335658 | 790631 | 27745 | 778 | 0
66407 | SC | FLORENCE | 13 | 13 | 22.4 | 594 | 84834 | 342202 | 791922 | 43473 | 1647 | 1.4
17012 | SC | FLORENCE | 15 | 16 | 421 | 602 |  | 342153 | 791949 | 42129 | 1611 | 1.2
3133 | SC | FLORENCE | 21 | 21 | 384 | 581 | 74438 | 342153 | 791949 | 32639 | 1312 | 0.1
61008 | SC | FLORENCE | 33 | 45 | 45 | 242 |  | 341648 | 794435 | 14727 | 495 | 0.2
82494 | SC | GEORGETOWN |  | 38 | 500 | 171 | 66448 | 335012 | 785111 | 14797 | 379 | 2
61010 | SC | GREENVILLE | 29 | 9 | 65 | 378 | 64722 | 345629 | 822438 | 30476 | 1753 | 0.1
9064 | SC | GREENVILLE | 16 | 16 | 98.4 | 337 |  | 345626 | 822441 | 20693 | 1507 | 0.5
72300 | SC | GREENVILLE | 21 | 21 | 164 | 765 | 84836 | 351056 | 824056 | 29139 | 1820 | 0.7
53905 | SC | GREENVILLE | 4 | 36 | 1000 | 610 | 84818 | 350640 | 823617 | 38470 | 2132 | 0.5
60931 | SC | GREENWOOD | 38 | 18 | 49 | 230 |  | 342219 | 821005 | 15770 | 1009 | 0.7
27245 | SC | HARDEEVILLE | 28 | 28 | 1000 | 455 | 75003 | 320245 | 812027 | 34454 | 819 | 0
9054 | SC | MYRTLE BEACH | 43 | 18 | 1000 | 459 | 39594 | 341119 | 791100 | 36913 | 1343 | 0.9
83969 | SC | MYRTLE BEACH | 32 | 32 | 165 | 186 | 77954 | 334350 | 790432 | 13305 | 334 | 0
61009 | SC | ROCK HILL | 30 | 15 | 403 | 212 | 67767 | 345023 | 810107 | 15304 | 1610 | 0.2
20624 | SC | ROCK HILL | 55 | 39 | 200 | 595 |  | 352144 | 810919 | 30125 | 2793 | 2.7
66391 | SC | SPARTANBURG | 7 | 7 | 20.5 | 657 | 74611 | 351012 | 821727 | 40644 | 2745 | 0.4
61011 | SC | SPARTANBURG | 49 | 43 | 50 | 302 |  | 345311 | 814916 | 16629 | 1263 | 4
61012 | SC | SUMTER | 27 | 28 | 98.4 | 364 |  | 335251 | 801615 | 22690 | 1018 | 0.4
40902 | SC | SUMTER | 63 | 39 | 500 | 391 | 66995 | 340658 | 804551 | 23915 | 1157 | 7.1
48659 | SD | ABERDEEN | 9 | 9 | 19.4 | 427 | 74475 | 450632 | 975330 | 32920 | 127 | 2.8
61064 | SD | ABERDEEN | 16 | 17 | 50 | 357 | 74927 | 452955 | 974035 | 21097 | 80 | 0
61067 | SD | BROOKINGS | 8 | 8 | 9.16 | 230 | 70586 | 442016 | 971342 | 19513 | 123 | 4.1
61071 | SD | EAGLE BUTTE | 13 | 13 | 21.9 | 518 | 74989 | 450320 | 1021540 | 37160 | 18 | 3
41975 | SD | FLORENCE | 3 | 3 | 3.7 | 241 | 74334 | 445753 | 973450 | 25730 | 122 | 0
28501 | SD | HURON | 12 | 12 | 13.5 | 259 | 84858 | 441139 | 981905 | 24749 | 77 | 1.1
34348 | SD | LEAD | 5 | 5 | 6.71 | 564 | 84816 | 441930 | 1035014 | 43278 | 164 | 0
17686 | SD | LEAD | 11 | 10 | 34.8 | 576 |  | 441936 | 1035012 | 44028 | 162 | 0
61063 | SD | LOWRY | 11 | 11 | 10.6 | 317 | 74386 | 451634 | 995903 | 27187 | 27 | 0.7
61062 | SD | MARTIN | 8 | 8 | 12.9 | 265 | 74461 | 432606 | 1013314 | 24925 | 28 | 0
55375 | SD | MITCHELL | 5 | 26 | 1000 | 315 |  | 434533 | 982444 | 31314 | 100 | 0
61066 | SD | PIERRE | 10 | 10 | 21.4 | 488 | 74447 | 435755 | 993556 | 37734 | 62 | 1.3
48660 | SD | PIERRE | 4 | 19 | 1000 | 378 | 44050 | 440307 | 1000503 | 30333 | 45 | 0
17688 | SD | RAPID CITY | 3 | 2 | 7.1 | 185 | 39981 | 440407 | 1031503 | 21008 | 131 | 0
34347 | SD | RAPID CITY | 7 | 7 | 12.3 | 204 | 80208 | 440400 | 1031501 | 19308 | 129 | 1
41969 | SD | RAPID CITY | 15 | 16 | 150 | 154 | 68112 | 440413 | 1031501 | 14080 | 118 | 0
81464 | SD | RAPID CITY | 21 | 21 | 50 | 211 | 74748 | 440533 | 1031453 | 14030 | 121 | 0
61068 | SD | RAPID CITY | 9 | 26 | 76.3 | 202 | 74931 | 440307 | 1031436 | 13945 | 117 | 0
41964 | SD | RELIANCE | 6 | 13 | 40 | 318 | 45870 | 435757 | 993611 | 27251 | 49 | 6.7
28521 | SD | SIOUX FALLS | 17 | 7 | 65 | 126 | 29257 | 432920 | 964540 | 21044 | 318 | 2.5
41983 | SD | SIOUX FALLS | 11 | 11 | 24.1 | 589 | 74495 | 433107 | 963205 | 40976 | 530 | 2
48658 | SD | SIOUX FALLS | 13 | 13 | 22.7 | 610 | 75012 | 433107 | 963205 | 41131 | 542 | 6.5
60728 | SD | SIOUX FALLS | 23 | 24 | 29 | 75 |  | 433428 | 963919 | 9342 | 217 | 0
29121 | SD | SIOUX FALLS | 36 | 36 | 152 | 209 |  | 433019 | 963419 | 16927 | 287 | 0
55379 | SD | SIOUX FALLS | 46 | 47 | 1000 | 608 |  | 433018 | 963322 | 43736 | 577 | 0
61072 | SD | VERMILLION | 2 | 34 | 236 | 204 |  | 430301 | 964701 | 17956 | 395 | 1.4
22590 | TN | CHATTANOOGA | 9 | 9 | 10.7 | 317 | 74516 | 350941 | 851903 | 21462 | 1022 | 4.4
54385 | TN | CHATTANOOGA | 12 | 12 | 20.3 | 376 | 74582 | 350806 | 851925 | 25744 | 1171 | 1.8
59137 | TN | CHATTANOOGA | 3 | 13 | 34.8 | 335 | 39987 | 350940 | 851851 | 22294 | 1065 | 3.6
65667 | TN | CHATTANOOGA | 45 | 29 | 200 | 336 |  | 351226 | 851652 | 20169 | 974 | 1.1
71353 | TN | CHATTANOOGA | 61 | 40 | 84 | 350 | 68567 | 351234 | 851639 | 15882 | 880 | 0.3
72060 | TN | CLEVELAND | 53 | 42 | 500 | 333 | 67273 | 351234 | 851639 | 21132 | 1017 | 0.3
69479 | TN | COOKEVILLE | 22 | 22 | 50 | 425 | 74600 | 361026 | 852037 | 20663 | 419 | 4.3
28468 | TN | COOKEVILLE | 28 | 36 | 733 | 429 | 64292 | 361604 | 864744 | 28993 | 1833 | 0.5
72971 | TN | CROSSVILLE | 20 | 20 | 189 | 719 | 75046 | 360633 | 842017 | 33281 | 1435 | 0.8
40761 | TN | GREENEVILLE | 39 | 38 | 1000 | 795 | 59933 | 360124 | 824256 | 33197 | 1840 | 0.2
60820 | TN | HENDERSONVILLE | 50 | 51 | 264 | 417 | 62261 | 361603 | 864744 | 23496 | 1687 | 1.5
68519 | TN | JACKSON | 16 | 39 | 392 | 296 |  | 354722 | 890614 | 23937 | 609 | 0
65204 | TN | JACKSON | 7 | 43 | 920 | 323 | 74935 | 353815 | 884132 | 29064 | 630 | 0.5
52628 | TN | JELLICO | 54 | 23 | 18 | 608 | 29572 | 361153 | 841351 | 18076 | 1024 | 0.6
57826 | TN | JOHNSON CITY | 11 | 11 | 23 | 692 | 74679 | 362555 | 820815 | 33619 | 1273 | 5.9
27504 | TN | KINGSPORT | 19 | 27 | 200 | 699 | 29681 | 362552 | 820817 | 20047 | 817 | 1.1
83931 | TN | KNOXVILLE |  | 7 | 55 | 382 | 66337 | 360036 | 835557 | 27676 | 1275 | 2.7
46984 | TN | KNOXVILLE | 10 | 10 | 24.7 | 530 | 75019 | 360013 | 835635 | 32945 | 1396 | 3.2
18267 | TN | KNOXVILLE | 15 | 17 | 100 | 551 |  | 355944 | 835723 | 25572 | 1229 | 0.4
71082 | TN | KNOXVILLE | 6 | 26 | 930 | 529 |  | 360013 | 835634 | 33972 | 1438 | 1.9
35908 | TN | KNOXVILLE | 8 | 30 | 398 | 551 |  | 355944 | 835723 | 29948 | 1352 | 0.8
19200 | TN | KNOXVILLE | 43 | 34 | 460 | 529 |  | 360013 | 835634 | 29596 | 1344 | 0.2
7651 | TN | LEBANON | 66 | 44 | 50 | 161 | 74936 | 360913 | 862246 | 9894 | 1179 | 0
71645 | TN | LEXINGTON | 11 | 47 | 1000 | 195 | 74937 | 354212 | 883610 | 20726 | 465 | 0
19184 | TN | MEMPHIS | 5 | 5 | 7.26 | 308 | 84821 | 351009 | 895312 | 33239 | 1600 | 0.8
85102 | TN | MEMPHIS |  | 10 | 3.2 | 306 | 74651 | 350916 | 894920 | 18964 | 1299 | 0.2
12521 | TN | MEMPHIS | 13 | 13 | 12.9 | 308 | 75055 | 351028 | 895041 | 26711 | 1453 | 0.6
81692 | TN | MEMPHIS | 14 | 23 | 255 | 379 | 80188 | 352803 | 901127 | 19956 | 1415 | 0.1
11907 | TN | MEMPHIS | 24 | 25 | 1000 | 340 |  | 351633 | 894638 | 32105 | 1643 | 1.3
66174 | TN | MEMPHIS | 3 | 28 | 1000 | 305 | 74938 | 351052 | 894956 | 30178 | 1518 | 0.3
42061 | TN | MEMPHIS | 10 | 29 | 835 | 320 |  | 350916 | 894920 | 30623 | 1534 | 0
68518 | TN | MEMPHIS | 30 | 31 | 871 | 340 |  | 351633 | 894638 | 31598 | 1615 | 0.2
21726 | TN | MEMPHIS | 50 | 51 | 1000 | 298 |  | 351241 | 894854 | 27402 | 1452 | 0.1
11117 | TN | MURFREESBORO | 39 | 38 | 1000 | 250 | 32815 | 360458 | 862552 | 20770 | 1547 | 0.1
36504 | TN | NASHVILLE | 5 | 5 | 10.3 | 425 | 80199 | 361605 | 864716 | 39216 | 2087 | 0.2
41398 | TN | NASHVILLE | 8 | 8 | 17.6 | 411 | 74578 | 360250 | 864949 | 31972 | 1855 | 1.7
41232 | TN | NASHVILLE | 4 | 10 | 42.4 | 415 |  | 360827 | 865156 | 36974 | 2000 | 0.9
418 | TN | NASHVILLE | 17 | 15 | 1000 | 411 | 39931 | 361550 | 864739 | 31670 | 1874 | 3
9971 | TN | NASHVILLE | 30 | 21 | 1000 | 413 | 39919 | 361550 | 864739 | 31591 | 1916 | 0.9
73310 | TN | NASHVILLE | 58 | 23 | 350 | 367 | 65623 | 361550 | 864739 | 25194 | 1708 | 0.1
73188 | TN | NASHVILLE | 2 | 27 | 946 | 411 |  | 360250 | 864949 | 36057 | 2007 | 0.1
18252 | TN | SNEEDVILLE | 2 | 41 | 445 | 567 |  | 362252 | 831049 | 30546 | 1678 | 1.1
81750 | TN | TAZEWELL | 48 | 48 | 193 | 431 | 74781 | 361530 | 833743 | 16166 | 1003 | 0.3
62293 | TX | ABILENE | 15 | 15 | 165 | 298 | 74734 | 321631 | 993523 | 18689 | 215 | 2.4
59988 | TX | ABILENE | 32 | 24 | 1000 | 258 |  | 321638 | 993551 | 27447 | 268 | 0
306 | TX | ABILENE | 9 | 29 | 1000 | 258 | 77885 | 321638 | 993551 | 22366 | 226 | 0
60537 | TX | ALVIN | 67 | 36 | 1000 | 579 | 43470 | 293415 | 953037 | 41745 | 4843 | 0
40446 | TX | AMARILLO | 7 | 7 | 21.9 | 518 | 74462 | 352229 | 1015258 | 39374 | 350 | 0
1236 | TX | AMARILLO | 2 | 8 | 5 | 519 |  | 352230 | 1015256 | 29297 | 314 | 5.6
51466 | TX | AMARILLO | 10 | 10 | 20.8 | 466 |  | 351734 | 1015042 | 37002 | 347 | 0.1
33722 | TX | AMARILLO | 14 | 15 | 925 | 464 |  | 352033 | 1014921 | 40775 | 356 | 0.1
8523 | TX | AMARILLO | 4 | 19 | 400 | 455 |  | 352033 | 1014921 | 34791 | 341 | 0
68834 | TX | ARLINGTON | 68 | 42 | 1000 | 368 | 60704 | 323525 | 965823 | 26621 | 5223 | 0.9
35649 | TX | AUSTIN | 7 | 7 | 15.9 | 384 | 74653 | 301836 | 974733 | 31188 | 1835 | 0
35920 | TX | AUSTIN | 36 | 21 | 700 | 395 |  | 301933 | 974758 | 34015 | 1894 | 1.8
8564 | TX | AUSTIN | 18 | 22 | 700 | 358 |  | 301919 | 974812 | 33104 | 1897 | 0.1
35867 | TX | AUSTIN | 24 | 33 | 1000 | 376 |  | 301918 | 974811 | 33409 | 1874 | 3
33691 | TX | AUSTIN | 42 | 43 | 1000 | 395 | 60307 | 301918 | 974811 | 31315 | 1837 | 2.1
144 | TX | AUSTIN | 54 | 49 | 500 | 396 | 28952 | 301933 | 974758 | 26233 | 1589 | 3.2
70492 | TX | BAYTOWN | 57 | 41 | 1000 | 596 | 38691 | 293415 | 953037 | 40536 | 4831 | 0
10150 | TX | BEAUMONT | 12 | 12 | 12.9 | 292 | 75047 | 301124 | 935315 | 27428 | 707 | 0
22589 | TX | BEAUMONT | 6 | 21 | 50 | 254 | 44573 | 300824 | 935844 | 14995 | 489 | 0
12896 | TX | BEAUMONT | 34 | 33 | 500 | 312 | 29808 | 301041 | 935426 | 23659 | 661 | 0
9754 | TX | BELTON | 46 | 46 | 232 | 360 | 74537 | 305908 | 973751 | 22126 | 1398 | 5.6
42008 | TX | BIG SPRING | 4 | 33 | 174 | 83 | 66027 | 321655 | 1012934 | 10867 | 96 | 0
125710 | TX | BLANCO | 17 | 18 | 224 | 204 | 75128 | 294148 | 983045 | 16810 | 1769 | 0
83715 | TX | BORGER |  | 31 | 700 | 306 | 66220 | 352033 | 1014920 | 23168 | 314 | 0
12523 | TX | BROWNSVILLE | 23 | 24 | 1000 | 445 | 39305 | 260601 | 975020 | 35542 | 959 | 0
60384 | TX | BRYAN | 28 | 28 | 50 | 220 | 75013 | 304118 | 962535 | 12801 | 270 | 0
6669 | TX | BRYAN | 3 | 50 | 1000 | 477 | 43579 | 303316 | 960151 | 36945 | 2953 | 0
65301 | TX | COLLEGE STATION | 15 | 12 | 3.2 | 119 | 74940 | 303748 | 962033 | 13045 | 278 | 4.9
58835 | TX | CONROE | 49 | 32 | 1000 | 555 | 74342 | 293415 | 953037 | 38783 | 4814 | 0
28324 | TX | CONROE | 55 | 42 | 1000 | 597 | 43288 | 293344 | 953035 | 39190 | 4840 | 0
10188 | TX | CORPUS CHRISTI | 3 | 8 | 160 | 269 | 65123 | 273930 | 973604 | 36835 | 541 | 0.1
33079 | TX | CORPUS CHRISTI | 10 | 10 | 14.3 | 287 | 74423 | 274650 | 973803 | 27676 | 539 | 0
25559 | TX | CORPUS CHRISTI | 6 | 13 | 46.1 | 240 | 71769 | 274429 | 973609 | 24373 | 527 | 1.8
58408 | TX | CORPUS CHRISTI | 16 | 23 | 200 | 273 | 31667 | 273920 | 973355 | 18472 | 500 | 0
64877 | TX | CORPUS CHRISTI | 28 | 27 | 1000 | 287 | 38420 | 274227 | 973759 | 26335 | 536 | 0
82910 | TX | CORPUS CHRISTI | 38 | 38 | 50 | 280 | 74770 | 274522 | 973625 | 12804 | 476 | 0
72054 | TX | DALLAS | 8 | 8 | 21.5 | 512 | 74356 | 323506 | 965841 | 39164 | 5431 | 0.5
49324 | TX | DALLAS | 13 | 14 | 475 | 500 |  | 323443 | 965712 | 39475 | 5462 | 0
22201 | TX | DALLAS | 33 | 32 | 780 | 537 | 36873 | 323235 | 965732 | 36512 | 5404 | 0
33770 | TX | DALLAS | 4 | 35 | 1000 | 511 | 74941 | 323506 | 965841 | 41095 | 5492 | 0
17037 | TX | DALLAS | 27 | 36 | 1000 | 495 | 29430 | 323236 | 965732 | 37393 | 5405 | 0.1
35994 | TX | DALLAS | 39 | 40 | 1000 | 494 |  | 323507 | 965806 | 40034 | 5463 | 0.1
67910 | TX | DALLAS | 58 | 45 | 1000 | 494 | 65026 | 323236 | 965732 | 33987 | 5352 | 0
73701 | TX | DECATUR | 29 | 30 | 1000 | 544 | 65411 | 323519 | 965805 | 37279 | 5435 | 0
55762 | TX | DEL RIO | 10 | 28 | 1000 | 100 |  | 292039 | 1005139 | 17248 | 56 | 0
49326 | TX | DENTON | 2 | 43 | 1000 | 494 | 64993 | 323235 | 965732 | 33538 | 5346 | 0
32621 | TX | EAGLE PASS | 16 | 24 | 57.5 | 85 | 84815 | 284332 | 1002835 | 17905 | 68 | 0
49832 | TX | EL PASO | 7 | 7 | 38.1 | 574 | 74410 | 314818 | 1062858 | 42990 | 854 | 0
67760 | TX | EL PASO | 9 | 9 | 24 | 582 | 74401 | 314818 | 1062857 | 39562 | 854 | 0
19117 | TX | EL PASO | 13 | 13 | 24.4 | 265 | 74485 | 314715 | 1062847 | 22908 | 849 | 0
33716 | TX | EL PASO | 14 | 15 | 1000 | 602 | 68879 | 314855 | 1062920 | 39112 | 857 | 0
33764 | TX | EL PASO | 4 | 18 | 1000 | 475 | 74942 | 314746 | 1062857 | 35035 | 851 | 0
51708 | TX | EL PASO | 26 | 25 | 1000 | 439 | 36510 | 314746 | 1062857 | 28858 | 851 | 0
10202 | TX | EL PASO | 38 | 39 | 50 | 557 | 74943 | 314855 | 1062917 | 18504 | 851 | 0
68753 | TX | EL PASO | 65 | 51 | 70 | 525 | 29633 | 314818 | 1062859 | 16890 | 846 | 0
81445 | TX | FARWELL | 18 | 18 | 50 | 112 | 74740 | 342621 | 1031222 | 9122 | 77 | 0
29015 | TX | FORT WORTH | 52 | 9 | 6.87 | 545 | 75052 | 323519 | 965805 | 25183 | 5229 | 1.5
23422 | TX | FORT WORTH | 11 | 11 | 26.3 | 500 | 74431 | 323443 | 965712 | 38000 | 5412 | 1.3
51517 | TX | FORT WORTH | 21 | 18 | 220 | 535 | 19052 | 323235 | 965732 | 28958 | 5279 | 0.4
49330 | TX | FORT WORTH | 5 | 41 | 1000 | 514 | 74944 | 323515 | 965759 | 40533 | 5475 | 0
24316 | TX | FREDERICKSBURG | 2 | 5 | 10.2 | 413 | 74707 | 300813 | 983635 | 38961 | 2966 | 0
24436 | TX | GALVESTON | 22 | 23 | 247 | 566 |  | 291756 | 951411 | 35208 | 4479 | 2.3
64984 | TX | GALVESTON | 47 | 48 | 1000 | 597 | 43454 | 293415 | 953037 | 39815 | 4836 | 0
35841 | TX | GARLAND | 23 | 23 | 186 | 518 |  | 323521 | 965812 | 33002 | 5332 | 0
42359 | TX | GREENVILLE | 47 | 46 | 600 | 496 | 60867 | 323236 | 965732 | 30628 | 5313 | 0.1
34457 | TX | HARLINGEN | 4 | 31 | 1000 | 368 | 44581 | 260856 | 974918 | 26278 | 949 | 0
12913 | TX | HARLINGEN | 44 | 34 | 200 | 283 | 65860 | 261300 | 974648 | 18751 | 925 | 0
56079 | TX | HARLINGEN | 60 | 38 | 1000 | 346 | 46306 | 260714 | 974918 | 25290 | 944 | 0
69269 | TX | HOUSTON | 8 | 8 | 21.9 | 564 | 80228 | 293428 | 952937 | 37914 | 4826 | 0.1
34529 | TX | HOUSTON | 11 | 11 | 17 | 570 |  | 293340 | 953004 | 38950 | 4822 | 0.5
35675 | TX | HOUSTON | 13 | 13 | 22.2 | 588 | 70860 | 293427 | 952937 | 42534 | 4833 | 0.4
51569 | TX | HOUSTON | 20 | 19 | 421 | 596 | 33045 | 293344 | 953035 | 36222 | 4827 | 0
12895 | TX | HOUSTON | 14 | 24 | 900 | 579 | 59136 | 293415 | 953037 | 42319 | 4848 | 0
22204 | TX | HOUSTON | 26 | 26 | 234 | 594 | 75005 | 293428 | 952937 | 31274 | 4768 | 0.1
53117 | TX | HOUSTON | 2 | 35 | 1000 | 585 |  | 293406 | 952957 | 45364 | 4862 | 0
23394 | TX | HOUSTON | 39 | 38 | 1000 | 582 | 33161 | 293406 | 952957 | 35952 | 4818 | 0
69531 | TX | HOUSTON | 61 | 44 | 1000 | 461 | 68030 | 293344 | 953035 | 32739 | 4777 | 0
60534 | TX | IRVING | 49 | 48 | 225 | 535 | 39591 | 323235 | 965732 | 27401 | 5245 | 0
55643 | TX | JACKSONVILLE | 56 | 22 | 1000 | 459 | 33098 | 320340 | 951850 | 35608 | 924 | 0.8
31870 | TX | KATY | 51 | 47 | 1000 | 597 | 69142 | 293415 | 953037 | 40037 | 4838 | 0
51518 | TX | KERRVILLE | 35 | 32 | 1000 | 531 | 46137 | 293638 | 985333 | 33391 | 1818 | 0.2
148 | TX | KILLEEN | 62 | 13 | 45 | 484 |  | 304334 | 975923 | 41662 | 1828 | 1.2
17433 | TX | LAKE DALLAS | 55 | 39 | 57.3 | 494 | 74617 | 323236 | 965732 | 18912 | 5077 | 0.9
10061 | TX | LAREDO | 8 | 8 | 33.3 | 285 | 74387 | 274021 | 993951 | 27256 | 199 | 5.9
33078 | TX | LAREDO | 13 | 13 | 3.2 | 280 | 74376 | 273114 | 993119 | 19464 | 201 | 1.8
51479 | TX | LAREDO | 27 | 19 | 200 | 49 | 36711 | 273004 | 993037 | 8202 | 193 | 0
35909 | TX | LLANO | 14 | 27 | 660 | 249 |  | 304036 | 983359 | 22137 | 903 | 9.7
70917 | TX | LONGVIEW | 51 | 31 | 1000 | 361 | 29517 | 321535 | 945702 | 29711 | 821 | 0.5
83913 | TX | LONGVIEW | 38 | 38 | 191 | 268 | 74771 | 321536 | 945702 | 15446 | 554 | 0.3
27507 | TX | LUBBOCK | 11 | 11 | 15 | 232 |  | 333232 | 1015014 | 24161 | 371 | 0.6
53544 | TX | LUBBOCK | 16 | 16 | 50 | 83 | 74990 | 333312 | 1014913 | 9355 | 283 | 0
40820 | TX | LUBBOCK | 28 | 27 | 1000 | 219 |  | 333133 | 1015207 | 23831 | 358 | 0
55031 | TX | LUBBOCK | 34 | 35 | 1000 | 274 |  | 333008 | 1015220 | 27678 | 377 | 0
65355 | TX | LUBBOCK | 5 | 39 | 890 | 143 | 32592 | 333455 | 1015325 | 14440 | 342 | 1.4
3660 | TX | LUBBOCK | 13 | 40 | 1000 | 219 |  | 333133 | 1015207 | 22626 | 354 | 0
68541 | TX | LUFKIN | 9 | 9 | 10 | 204 | 74363 | 312509 | 944803 | 20490 | 309 | 4.7
69692 | TX | MCALLEN | 48 | 49 | 1000 | 286 | 39111 | 260518 | 980344 | 23860 | 956 | 0
86263 | TX | MIDLAND | 18 | 18 | 240 | 284 | 74741 | 315019 | 1023159 | 16457 | 276 | 0
35131 | TX | MIDLAND | 2 | 26 | 1000 | 323 |  | 320511 | 1021710 | 32226 | 345 | 0
55644 | TX | NACOGDOCHES | 19 | 18 | 640 | 457 |  | 315420 | 950505 | 35050 | 829 | 8.3
6865 | TX | ODESSA | 7 | 7 | 13.1 | 226 | 80209 | 315150 | 1023441 | 25197 | 283 | 0
42007 | TX | ODESSA | 9 | 9 | 25.7 | 391 |  | 315917 | 1025241 | 34523 | 341 | 0
12524 | TX | ODESSA | 24 | 23 | 600 | 333 | 39998 | 320551 | 1021721 | 26889 | 324 | 0
84410 | TX | ODESSA | 30 | 30 | 50 | 212 | 74764 | 320551 | 1021721 | 11292 | 254 | 0
50044 | TX | ODESSA | 36 | 38 | 500 | 82 |  | 315158 | 1022248 | 14075 | 267 | 0
53541 | TX | ODESSA | 42 | 42 | 50 | 142 | 75023 | 320254 | 1021804 | 9745 | 254 | 0
61214 | TX | PORT ARTHUR | 4 | 40 | 1000 | 360 |  | 300920 | 935910 | 32745 | 776 | 0
62354 | TX | RIO GRANDE CITY | 40 | 20 | 1000 | 287 |  | 260723 | 980420 | 30426 | 971 | 0
53847 | TX | ROSENBERG | 45 | 45 | 356 | 578 | 74579 | 293344 | 953035 | 33056 | 4793 | 0
31114 | TX | SAN ANGELO | 8 | 11 | 18.8 | 434 |  | 312201 | 1000248 | 33418 | 163 | 2.4
307 | TX | SAN ANGELO | 3 | 16 | 1000 | 160 |  | 313722 | 1002614 | 21754 | 130 | 0
58560 | TX | SAN ANGELO | 6 | 19 | 1000 | 277 | 74948 | 313521 | 1003100 | 27865 | 132 | 0.3
749 | TX | SAN ANTONIO | 9 | 9 | 8.3 | 259 | 74347 | 291938 | 982117 | 21643 | 1787 | 0.4
53118 | TX | SAN ANTONIO | 12 | 12 | 18.4 | 427 | 70242 | 291611 | 981531 | 32978 | 1888 | 0.7
27300 | TX | SAN ANTONIO | 23 | 16 | 500 | 307 | 45032 | 291724 | 981520 | 24963 | 1830 | 0.2
56528 | TX | SAN ANTONIO | 29 | 30 | 1000 | 441 | 28869 | 291728 | 981612 | 34435 | 1982 | 0
64969 | TX | SAN ANTONIO | 60 | 38 | 1000 | 414 | 41078 | 291738 | 981530 | 29713 | 1891 | 0.2
26304 | TX | SAN ANTONIO | 5 | 39 | 751 | 424 | 74634 | 291607 | 981555 | 34215 | 1903 | 0.1
35881 | TX | SAN ANTONIO | 41 | 41 | 416 | 414 | 74547 | 291738 | 981530 | 25480 | 1848 | 0.2
69618 | TX | SAN ANTONIO | 4 | 48 | 844 | 451 | 74680 | 291610 | 981555 | 34527 | 1894 | 1.3
35954 | TX | SHERMAN | 12 | 12 | 14.4 | 543 | 74439 | 340158 | 964800 | 38337 | 946 | 13
77452 | TX | SNYDER | 17 | 17 | 184 | 138 | 74359 | 324652 | 1005352 | 8618 | 45 | 0
308 | TX | SWEETWATER | 12 | 20 | 561 | 427 | 74949 | 322448 | 1000625 | 31757 | 243 | 2.6
10245 | TX | TEMPLE | 6 | 9 | 25 | 527 | 41595 | 311624 | 971314 | 34738 | 1265 | 6.8
35648 | TX | TEXARKANA | 6 | 15 | 1000 | 454 |  | 325411 | 940020 | 42049 | 1055 | 0.1
68540 | TX | TYLER | 7 | 7 | 15 | 302 | 74360 | 323223 | 951312 | 25397 | 761 | 0.5
61173 | TX | UVALDE | 26 | 26 | 235 | 560 | 74761 | 293711 | 990257 | 31324 | 1771 | 1.6
35846 | TX | VICTORIA | 19 | 11 | 18 | 290 |  | 285042 | 970733 | 24235 | 256 | 13.4
73101 | TX | VICTORIA | 25 | 15 | 900 | 312 | 59285 | 285042 | 970733 | 29932 | 310 | 1.8
35903 | TX | WACO | 10 | 10 | 13.8 | 552 | 75056 | 311919 | 971858 | 38053 | 1164 | 1.1
6673 | TX | WACO | 34 | 20 | 700 | 319 | 69374 | 311917 | 972040 | 25553 | 679 | 0.9
9781 | TX | WACO | 25 | 26 | 1000 | 561 | 58939 | 312016 | 971836 | 38287 | 1343 | 2.2
12522 | TX | WACO | 44 | 44 | 160 | 552 | 74667 | 311852 | 971937 | 22371 | 743 | 10
43328 | TX | WESLACO | 5 | 13 | 57 | 445 | 38452 | 260602 | 975021 | 33861 | 962 | 0
7675 | TX | WICHITA FALLS | 18 | 15 | 1000 | 325 | 39767 | 341205 | 984345 | 24386 | 379 | 3
6864 | TX | WICHITA FALLS | 6 | 22 | 200 | 311 |  | 335404 | 983221 | 23697 | 346 | 0
65370 | TX | WICHITA FALLS | 3 | 28 | 1000 | 274 |  | 335323 | 983330 | 28507 | 377 | 0
77719 | TX | WOLFFORTH | 22 | 43 | 77.1 | 228 | 80190 | 333008 | 1015220 | 15511 | 312 | 0
59494 | UT | CEDAR CITY | 4 | 14 | 1000 | 819 |  | 373229 | 1130404 | 45405 | 141 | 0
69694 | UT | LOGAN | 12 | 12 | 22.3 | 690 | 74725 | 414703 | 1121355 | 32963 | 792 | 5.9
77512 | UT | OGDEN | 24 | 24 | 450 | 1229 | 59860 | 403933 | 1121207 | 37197 | 1798 | 0
69582 | UT | OGDEN | 9 | 36 | 200 | 1256 | 38687 | 403933 | 1121207 | 29628 | 1781 | 0
1136 | UT | OGDEN | 30 | 48 | 200 | 1257 | 41318 | 403933 | 1121207 | 27529 | 1768 | 0
84277 | UT | PRICE | 3 | 11 | 51.1 | 658 | 74335 | 394522 | 1105922 | 39858 | 210 | 0
57884 | UT | PROVO | 16 | 29 | 530 | 1171 | 18846 | 403912 | 1121206 | 27532 | 1785 | 0
81451 | UT | PROVO | 32 | 32 | 138 | 812 | 75067 | 401645 | 1115600 | 17405 | 1617 | 0
6823 | UT | PROVO | 11 | 44 | 346 | 1257 | 32909 | 403933 | 1121207 | 31400 | 1787 | 0
82576 | UT | RICHFIELD |  | 19 | 0.33 | 441 | 46081 | 383804 | 1120333 | 4806 | 22 | 0
22215 | UT | SALT LAKE CITY | 13 | 13 | 43.4 | 1234 | 74476 | 403932 | 1121208 | 38745 | 1812 | 0.4
10177 | UT | SALT LAKE CITY | 20 | 20 | 73.3 | 1171 | 74746 | 403912 | 1121206 | 24439 | 1734 | 0
35823 | UT | SALT LAKE CITY | 2 | 34 | 423 | 1267 | 39866 | 403933 | 1121207 | 34886 | 1796 | 0
6359 | UT | SALT LAKE CITY | 5 | 38 | 546 | 1267 | 19903 | 403933 | 1121207 | 34973 | 1791 | 0
68889 | UT | SALT LAKE CITY | 4 | 40 | 476 | 1256 | 27794 | 403933 | 1121207 | 33954 | 1790 | 0
69396 | UT | SALT LAKE CITY | 7 | 42 | 239 | 1266 | 30673 | 403933 | 1121207 | 30198 | 1785 | 0
36607 | UT | SALT LAKE CITY | 14 | 46 | 123 | 1181 | 75006 | 403912 | 1121206 | 27341 | 1761 | 0
35822 | UT | ST. GEORGE | 12 | 9 | 3.2 | 43 | 44874 | 370348 | 1133423 | 4214 | 85 | 0.4
82585 | UT | ST. GEORGE |  | 18 | 1.62 | 67 | 43602 | 370350 | 1133420 | 3637 | 81 | 0
83729 | UT | VERNAL | 6 | 16 | 1000 | 676 | 74714 | 402122 | 1090841 | 36226 | 44 | 0
69532 | VA | ARLINGTON | 14 | 15 | 900 | 173 | 29445 | 385624 | 770454 | 19793 | 6911 | 0.2
10897 | VA | ASHLAND | 65 | 47 | 1000 | 249 | 28058 | 374431 | 771515 | 20211 | 1398 | 0.3
2455 | VA | BRISTOL | 5 | 5 | 8.93 | 680 | 80200 | 362657 | 820631 | 46471 | 1934 | 0.7
363 | VA | CHARLOTTESVILLE | 19 | 19 | 50 | 326 | 74743 | 375903 | 782852 | 14121 | 381 | 1.2
70309 | VA | CHARLOTTESVILLE | 29 | 32 | 1000 | 368 | 67231 | 375902 | 782853 | 28673 | 1512 | 1.8
9990 | VA | CHARLOTTESVILLE | 41 | 46 | 340 | 332 | 41219 | 375859 | 782902 | 16348 | 439 | 7.4
15507 | VA | DANVILLE | 24 | 24 | 141 | 332 |  | 370210 | 793230 | 21206 | 917 | 0
9999 | VA | FAIRFAX | 56 | 24 | 50 | 215 | 74668 | 385228 | 771324 | 14900 | 5838 | 0.1
66378 | VA | FRONT ROYAL | 42 | 21 | 50 | 400 | 32594 | 385736 | 781952 | 13538 | 714 | 16.9
10019 | VA | GOLDVEIN |  | 30 | 160 | 229 |  | 383743 | 772621 | 17529 | 4650 | 0.5
37808 | VA | GRUNDY | 68 | 49 | 1000 | 662 |  | 364947 | 820445 | 35029 | 1179 | 0.8
74167 | VA | HAMPTON | 13 | 13 | 19.1 | 344 | 74561 | 364900 | 762806 | 31544 | 1937 | 1.1
25932 | VA | HAMPTON-NORFOLK | 15 | 16 | 950 | 361 | 33525 | 364831 | 763013 | 33081 | 2003 | 0
4688 | VA | HARRISONBURG | 3 | 49 | 65 | 638 |  | 383605 | 783757 | 15417 | 468 | 1.1
73988 | VA | LYNCHBURG | 13 | 13 | 19.6 | 568 | 74507 | 371854 | 793806 | 34544 | 1169 | 1.1
24812 | VA | LYNCHBURG | 21 | 20 | 400 | 500 | 39495 | 371914 | 793758 | 27193 | 972 | 3.4
74091 | VA | MANASSAS | 66 | 34 | 1000 | 254 | 72356 | 385701 | 770447 | 10594 | 3094 | 35.3
5982 | VA | MARION | 52 | 42 | 100 | 448 |  | 365407 | 813232 | 17079 | 494 | 1.1
40759 | VA | NORFOLK | 33 | 33 | 905 | 361 | 74538 | 364831 | 763013 | 26943 | 1894 | 0
47401 | VA | NORFOLK | 3 | 40 | 950 | 377 |  | 364831 | 763013 | 33295 | 2003 | 0
67077 | VA | NORFOLK | 49 | 46 | 1000 | 360 | 19107 | 364831 | 763013 | 27594 | 1786 | 0.2
5985 | VA | NORTON | 47 | 32 | 100 | 591 |  | 365353 | 823721 | 27184 | 974 | 0.1
74416 | VA | PETERSBURG | 8 | 22 | 450 | 328 |  | 373045 | 773605 | 28598 | 1526 | 0
71127 | VA | PORTSMOUTH | 10 | 31 | 1000 | 280 |  | 364914 | 763041 | 28778 | 1917 | 0
9762 | VA | PORTSMOUTH | 27 | 50 | 800 | 264 |  | 364843 | 762745 | 23806 | 1762 | 0
30833 | VA | RICHMOND | 12 | 12 | 5.41 | 241 | 74618 | 373023 | 773012 | 21438 | 1277 | 2.4
57832 | VA | RICHMOND | 6 | 25 | 410 | 347 |  | 373045 | 773605 | 28828 | 1531 | 0
412 | VA | RICHMOND | 35 | 26 | 800 | 328 |  | 373045 | 773605 | 30742 | 1594 | 1.4
9987 | VA | RICHMOND | 23 | 42 | 160 | 346 |  | 373045 | 773604 | 22009 | 1323 | 2.3
9989 | VA | RICHMOND | 57 | 44 | 100 | 328 |  | 373045 | 773605 | 20348 | 1242 | 0
5981 | VA | ROANOKE | 15 | 3 | 7.25 | 618 | 39733 | 371146 | 800917 | 42351 | 1469 | 0
24813 | VA | ROANOKE | 27 | 17 | 400 | 594 | 29905 | 371146 | 800916 | 28286 | 1106 | 5.1
71329 | VA | ROANOKE | 7 | 18 | 460 | 606 |  | 371142 | 800923 | 36523 | 1296 | 1.3
57840 | VA | ROANOKE | 10 | 30 | 950 | 592 | 69296 | 371203 | 800854 | 31210 | 1162 | 4
70251 | VA | ROANOKE | 38 | 36 | 700 | 623 | 27852 | 371137 | 800925 | 28659 | 1055 | 1.3
60111 | VA | STAUNTON | 51 | 11 | 3.2 | 680 | 31834 | 380954 | 791851 | 19631 | 552 | 5.6
82574 | VA | VIRGINIA BEACH | 21 | 7 | 4.86 | 310 | 75265 | 364831 | 763012 | 19356 | 1714 | 0.1
65387 | VA | VIRGINIA BEACH | 43 | 29 | 1000 | 241 | 30040 | 364914 | 763041 | 21875 | 1737 | 0
11259 | VT | BURLINGTON | 22 | 13 | 10 | 831 | 71724 | 443133 | 724857 | 32138 | 587 | 0.2
46728 | VT | BURLINGTON | 3 | 22 | 444 | 835 | 80197 | 443136 | 724857 | 42718 | 620 | 0.4
69944 | VT | BURLINGTON | 33 | 32 | 90 | 830 |  | 443132 | 724851 | 30304 | 536 | 0
10132 | VT | BURLINGTON | 44 | 43 | 47 | 839 | 71757 | 443133 | 724857 | 24761 | 479 | 0.8
73344 | VT | HARTFORD | 31 | 25 | 117 | 651 | 43680 | 432615 | 722708 | 21926 | 618 | 0.1
69946 | VT | RUTLAND | 28 | 9 | 15 | 385 | 67939 | 433931 | 730625 | 21748 | 544 | 2.8
69940 | VT | ST. JOHNSBURY | 20 | 18 | 67 | 590 |  | 443416 | 715339 | 21648 | 239 | 0.7
69943 | VT | WINDSOR | 41 | 24 | 55.7 | 692 |  | 432615 | 722708 | 23709 | 772 | 0.4
56852 | WA | BELLEVUE | 33 | 33 | 179 | 716 | 80219 | 473017 | 1215803 | 26579 | 3579 | 0
4624 | WA | BELLEVUE | 51 | 50 | 240 | 719 | 17552 | 473017 | 1215804 | 28362 | 3664 | 0
53586 | WA | BELLINGHAM | 24 | 19 | 165 | 757 | 43180 | 484046 | 1225031 | 33673 | 982 | 7.4
35862 | WA | BELLINGHAM | 12 | 35 | 612 | 722 | 74955 | 484040 | 1224948 | 43278 | 1644 | 0
62468 | WA | CENTRALIA | 15 | 19 | 43.7 | 334 |  | 463316 | 1230326 | 13904 | 489 | 22.8
35396 | WA | EVERETT | 16 | 31 | 700 | 218 | 44001 | 473755 | 1222059 | 18375 | 3525 | 0
2495 | WA | KENNEWICK | 42 | 44 | 160 | 390 |  | 460611 | 1190754 | 23073 | 373 | 0
56029 | WA | PASCO | 19 | 18 | 50 | 366 | 74956 | 460551 | 1191130 | 20149 | 362 | 0
71024 | WA | PULLMAN | 10 | 10 | 6.2 | 408 | 74411 | 465143 | 1171026 | 25722 | 259 | 0
78921 | WA | PULLMAN | 24 | 24 | 1000 | 569 | 66879 | 473444 | 1171746 | 32886 | 657 | 0
12427 | WA | RICHLAND | 25 | 26 | 200 | 411 |  | 460612 | 1190749 | 26245 | 384 | 0
71023 | WA | RICHLAND | 31 | 38 | 47.6 | 361 | 60199 | 460612 | 1190740 | 11914 | 290 | 0
33749 | WA | SEATTLE | 9 | 9 | 7.49 | 252 | 74562 | 473658 | 1221828 | 21801 | 3579 | 0
69571 | WA | SEATTLE | 22 | 25 | 1000 | 290 |  | 473657 | 1221826 | 27243 | 3646 | 0
21656 | WA | SEATTLE | 4 | 38 | 1000 | 247 | 74957 | 473755 | 1222109 | 22159 | 3592 | 0.1
66781 | WA | SEATTLE | 7 | 39 | 1000 | 230 | 65845 | 473801 | 1222120 | 19081 | 3534 | 0.1
49264 | WA | SEATTLE | 45 | 44 | 240 | 714 | 38740 | 473017 | 1215806 | 25492 | 3632 | 0
34847 | WA | SEATTLE | 5 | 48 | 960 | 239 | 18954 | 473755 | 1222059 | 18736 | 3562 | 0
34537 | WA | SPOKANE | 6 | 7 | 45.1 | 653 | 74388 | 473452 | 1171747 | 45079 | 684 | 0
61956 | WA | SPOKANE | 7 | 8 | 21.6 | 558 |  | 473434 | 1171758 | 36062 | 666 | 0.2
61978 | WA | SPOKANE | 4 | 13 | 23.3 | 936 |  | 475518 | 1170648 | 46084 | 655 | 0.3
34868 | WA | SPOKANE | 2 | 20 | 893 | 641 | 64696 | 473541 | 1171753 | 37651 | 663 | 0
58684 | WA | SPOKANE | 28 | 28 | 91.4 | 601 | 74486 | 473444 | 1171746 | 26401 | 586 | 0
81694 | WA | SPOKANE | 34 | 34 | 104 | 450 | 74766 | 473604 | 1171753 | 17181 | 537 | 0
35606 | WA | SPOKANE | 22 | 36 | 250 | 622 | 64693 | 473541 | 1171753 | 20760 | 538 | 0
23428 | WA | TACOMA | 11 | 11 | 14.7 | 271 | 84854 | 473656 | 1221829 | 24877 | 3628 | 0
33894 | WA | TACOMA | 13 | 13 | 23.1 | 610 | 84835 | 473253 | 1224822 | 35976 | 3815 | 0
67950 | WA | TACOMA | 20 | 14 | 90 | 473 | 39524 | 473250 | 1224740 | 22129 | 3629 | 0
62469 | WA | TACOMA | 28 | 27 | 47.2 | 224 |  | 471641 | 1223042 | 13991 | 3136 | 0
35419 | WA | TACOMA | 56 | 42 | 144 | 695 |  | 473017 | 1215806 | 29896 | 3638 | 0
35460 | WA | VANCOUVER | 49 | 30 | 741 | 528 |  | 453119 | 1224453 | 29877 | 2443 | 1.4
84238 | WA | WALLA WALLA | 9 | 9 | 45 | 432 |  | 460558 | 1190740 | 38298 | 459 | 0.1
2506 | WA | YAKIMA | 35 | 14 | 160 | 293 |  | 463157 | 1203037 | 15036 | 248 | 0.1
12395 | WA | YAKIMA | 23 | 16 | 200 | 266 |  | 463159 | 1203026 | 14954 | 247 | 0
33752 | WA | YAKIMA | 47 | 21 | 50 | 280 |  | 463158 | 1203033 | 11735 | 236 | 0
56033 | WA | YAKIMA | 29 | 33 | 50 | 296 | 74958 | 463158 | 1203033 | 10949 | 235 | 0
86496 | WI | ANTIGO |  | 46 | 50 | 286 | 38603 | 450322 | 892754 | 11094 | 243 | 0.1
361 | WI | APPLETON | 32 | 27 | 50 | 336 | 74693 | 442130 | 875848 | 19462 | 961 | 0
2709 | WI | CHIPPEWA FALLS | 48 | 49 | 1000 | 203 |  | 445724 | 914003 | 20780 | 395 | 0
81503 | WI | CRANDON | 4 | 12 | 3.2 | 119 | 74710 | 453423 | 885257 | 11762 | 86 | 0.4
77789 | WI | EAGLE RIVER | 34 | 28 | 70 | 144 | 67695 | 454630 | 891455 | 12379 | 92 | 0.2
7893 | WI | EAU CLAIRE | 13 | 13 | 22.9 | 607 | 74548 | 443951 | 905741 | 43031 | 858 | 2
64550 | WI | EAU CLAIRE | 18 | 15 | 200 | 280 | 67697 | 444800 | 912757 | 19543 | 336 | 0.2
60571 | WI | FOND DU LAC | 68 | 44 | 700 | 195 | 66227 | 432620 | 883129 | 18054 | 2137 | 0.1
4150 | WI | GREEN BAY | 11 | 11 | 17.2 | 384 | 75053 | 442431 | 875929 | 31619 | 1089 | 2.6
74417 | WI | GREEN BAY | 2 | 23 | 1000 | 372 |  | 442435 | 880006 | 35501 | 1152 | 0.6
9635 | WI | GREEN BAY | 5 | 39 | 1000 | 364 | 68312 | 442001 | 875856 | 30736 | 1115 | 1.4
2708 | WI | GREEN BAY | 26 | 41 | 1000 | 321 | 27828 | 442130 | 875848 | 26965 | 1084 | 0.8
18798 | WI | GREEN BAY | 38 | 42 | 200 | 375 |  | 442434 | 880006 | 25059 | 1041 | 0.5
26025 | WI | JANESVILLE | 57 | 32 | 200 | 387 | 65253 | 430303 | 892913 | 25102 | 1265 | 0.3
37104 | WI | KENOSHA | 55 | 40 | 830 | 358 | 43896 | 430544 | 875417 | 26695 | 2947 | 0.4
74424 | WI | LA CROSSE | 8 | 8 | 20.3 | 462 | 74563 | 440528 | 912016 | 35254 | 714 | 2.5
64549 | WI | LA CROSSE | 19 | 14 | 250 | 327 |  | 434823 | 912202 | 25195 | 419 | 0.8
2710 | WI | LA CROSSE | 25 | 17 | 450 | 349 | 29449 | 434815 | 912220 | 25973 | 487 | 0.6
18780 | WI | LA CROSSE | 31 | 30 | 308 | 345 |  | 434817 | 912206 | 25639 | 421 | 0
10221 | WI | MADISON | 47 | 11 | 15 | 471 | 30020 | 430321 | 893206 | 29375 | 1533 | 4.4
6870 | WI | MADISON | 15 | 19 | 56 | 387 |  | 430303 | 892913 | 21196 | 1026 | 3.9
6096 | WI | MADISON | 21 | 20 | 100 | 453 |  | 430321 | 893206 | 26579 | 1250 | 1.2
64545 | WI | MADISON | 27 | 26 | 400 | 455 | 33126 | 430321 | 893206 | 30128 | 1450 | 1.3
65143 | WI | MADISON | 3 | 50 | 603 | 466 |  | 430321 | 893206 | 32793 | 1639 | 2.5
68547 | WI | MAYVILLE | 52 | 43 | 300 | 186 |  | 432611 | 883134 | 16768 | 1878 | 7.9
18793 | WI | MENOMONIE | 28 | 27 | 291 | 350 |  | 450249 | 915147 | 26272 | 743 | 13.7
42663 | WI | MILWAUKEE | 10 | 8 | 25 | 354 | 67092 | 430546 | 875415 | 29509 | 3035 | 1.4
74174 | WI | MILWAUKEE | 18 | 18 | 368 | 302 | 74698 | 430544 | 875417 | 22781 | 2496 | 3.6
72342 | WI | MILWAUKEE | 30 | 22 | 196 | 297 | 42943 | 430544 | 875417 | 19180 | 2440 | 1.3
71278 | WI | MILWAUKEE | 24 | 25 | 625 | 340 | 41342 | 430544 | 875417 | 26207 | 2873 | 1.1
74098 | WI | MILWAUKEE | 4 | 28 | 1000 | 305 | 74959 | 430529 | 875407 | 30594 | 2856 | 4.5
73107 | WI | MILWAUKEE | 6 | 33 | 1000 | 305 | 74960 | 430524 | 875347 | 30009 | 2916 | 0.6
65680 | WI | MILWAUKEE | 12 | 34 | 863 | 263 | 59757 | 430642 | 875542 | 23269 | 2660 | 0
42665 | WI | MILWAUKEE | 36 | 35 | 500 | 355 | 66933 | 430546 | 875415 | 25395 | 2769 | 0.1
71427 | WI | MILWAUKEE | 58 | 46 | 1000 | 322 | 32644 | 430642 | 875550 | 27046 | 2827 | 1.9
63046 | WI | PARK FALLS | 36 | 36 | 50 | 445 | 74583 | 455643 | 901628 | 22223 | 139 | 0
68545 | WI | RACINE | 49 | 48 | 176 | 303 | 74961 | 430515 | 875401 | 17104 | 2279 | 0.1
49699 | WI | RHINELANDER | 12 | 16 | 538 | 489 | 28605 | 454003 | 891229 | 38587 | 375 | 0
33658 | WI | SUPERIOR | 6 | 19 | 384 | 312 |  | 464721 | 920651 | 26329 | 264 | 0
73042 | WI | SURING | 14 | 21 | 450 | 332 | 43297 | 442001 | 875856 | 20367 | 938 | 0.2
6867 | WI | WAUSAU | 7 | 7 | 16.9 | 369 | 74555 | 445514 | 894131 | 31405 | 527 | 0.7
64546 | WI | WAUSAU | 9 | 9 | 17 | 369 | 75014 | 445514 | 894131 | 31158 | 526 | 0.8
73036 | WI | WAUSAU | 20 | 24 | 172 | 387 |  | 445514 | 894128 | 26595 | 482 | 0.2
86204 | WI | WITTENBERG | 55 | 50 | 160 | 327 | 74788 | 450322 | 892754 | 18272 | 378 | 1.2
37806 | WV | BLUEFIELD | 40 | 40 | 1000 | 386 | 74377 | 371308 | 811539 | 24131 | 705 | 1.2
74176 | WV | BLUEFIELD | 6 | 46 | 1000 | 372 |  | 371520 | 811054 | 25413 | 700 | 0.2
417 | WV | CHARLESTON | 11 | 19 | 475 | 514 |  | 382428 | 815413 | 37398 | 1311 | 0.3
73189 | WV | CHARLESTON | 29 | 39 | 1000 | 350 | 40580 | 382812 | 814635 | 25868 | 924 | 2
71280 | WV | CHARLESTON | 8 | 41 | 475 | 514 |  | 382428 | 815413 | 33607 | 1168 | 3.1
10976 | WV | CLARKSBURG | 46 | 10 | 30 | 235 | 44599 | 391802 | 802037 | 21897 | 566 | 4.9
71220 | WV | CLARKSBURG | 12 | 12 | 11.3 | 262 | 80238 | 391706 | 801946 | 22840 | 584 | 2.1
71680 | WV | GRANDVIEW | 9 | 10 | 18.6 | 305 | 80261 | 375346 | 805921 | 24852 | 649 | 2.1
23342 | WV | HUNTINGTON | 13 | 13 | 16 | 396 | 70338 | 383021 | 821233 | 27894 | 1025 | 4.7
36912 | WV | HUNTINGTON | 3 | 23 | 724 | 402 |  | 383036 | 821310 | 33731 | 1182 | 0.6
71657 | WV | HUNTINGTON | 33 | 34 | 63.1 | 379 | 74962 | 382941 | 821203 | 16631 | 738 | 1
74169 | WV | LEWISBURG | 59 | 8 | 3.68 |  | 577 | 374622 | 804225 | 26153 | 590 | 1.7
23264 | WV | MARTINSBURG | 60 | 12 | 23 | 314 |  | 392727 | 780352 | 24844 | 2471 | 6.6
71676 | WV | MORGANTOWN | 24 | 33 | 145 | 457 | 74963 | 394145 | 794545 | 20788 | 1370 | 0.5
66804 | WV | OAK HILL | 4 | 50 | 1000 | 236 | 80182 | 375726 | 810903 | 18914 | 515 | 1.7
4685 | WV | PARKERSBURG | 15 | 49 | 47.4 | 193 |  | 392059 | 813356 | 12882 | 350 | 1.5
70592 | WV | WESTON | 5 | 5 | 7.09 | 268 | 84822 | 390427 | 802528 | 29741 | 640 | 0.5
6869 | WV | WHEELING | 7 | 7 | 15.5 | 293 | 74497 | 400341 | 804508 | 25673 | 2373 | 0.1
82575 | WY | CASPER | 6 | 6 | 1 | 536 | 74715 | 424426 | 1062134 | 20136 | 70 | 0
68713 | WY | CASPER | 13 | 12 | 3.2 | 534 | 74727 | 424426 | 1062134 | 18050 | 70 | 0
63177 | WY | CASPER | 14 | 14 | 53.3 | 573 | 74389 | 424426 | 1062134 | 25030 | 70 | 0
18286 | WY | CASPER | 2 | 17 | 741 | 588 |  | 424403 | 1062000 | 40682 | 80 | 0.1
74256 | WY | CASPER | 20 | 20 | 52.4 | 582 | 74425 | 424437 | 1061831 | 21652 | 70 | 0
18287 | WY | CHEYENNE | 33 | 11 | 16 | 650 | 67257 | 403247 | 1051150 | 28369 | 2763 | 0
40250 | WY | CHEYENNE | 27 | 27 | 169 | 232 | 74478 | 410255 | 1045328 | 13499 | 438 | 0
63166 | WY | CHEYENNE | 5 | 30 | 630 | 189 |  | 410601 | 1050023 | 18799 | 415 | 2.9
1283 | WY | JACKSON | 2 | 2 | 1 | 293 | 74378 | 432742 | 1104510 | 17622 | 31 | 0
35103 | WY | JACKSON | 11 | 11 | 3.2 | 327 | 74724 | 432742 | 1104510 | 10697 | 22 | 0
63162 | WY | LANDER | 5 | 7 | 31.7 | 82 | 74964 | 425343 | 1084334 | 15754 | 32 | 2.8
10036 | WY | LANDER | 4 | 8 | 60 | 463 | 74965 | 423459 | 1084236 | 36626 | 35 | 0.6
10032 | WY | LARAMIE | 8 | 8 | 3.2 | 318 | 74718 | 411717 | 1052642 | 12970 | 109 | 0.1
21612 | WY | RAWLINS | 11 | 9 | 3.2 | 70 | 74966 | 414615 | 1071425 | 9432 | 11 | 0
21613 | WY | RIVERTON | 10 | 10 | 13.9 | 526 | 74402 | 432726 | 1081202 | 26335 | 49 | 0.1
63170 | WY | ROCK SPRINGS | 13 | 13 | 14.2 | 495 | 74448 | 412621 | 1090642 | 33002 | 43 | 0
81191 | WY | SHERIDAN | 7 | 7 | 3.2 | 349 | 74717 | 443720 | 1070657 | 12316 | 28 | 0
17680 | WY | SHERIDAN | 12 | 13 | 50 | 372 |  | 443720 | 1070657 | 32735 | 52 | 0
51233 | GU | AGANA | 8 | 8 | 3.2 | 282 |  | 132553 | −1444236 |  |  |
25511 | GU | AGANA | 12 | 12 | 38.9 | 75 |  | 132613 | −1444817 |  |  |
29232 | GU | TAMUNING | 14 | 14 | 50 | 1 |  | 133009 | −1444817 |  |  |
3255 | PR | AGUADA | 50 | 50 | 50 | 343 | 74700 | 181907 | 671048 | 13079 | 862 | 2.3
71725 | PR | AGUADILLA | 12 | 12 | 7.31 | 665 | 74705 | 180900 | 665900 | 35964 | 1570 | 1.9
61573 | PR | AGUADILLA | 44 | 17 | 50 | 372 | 74920 | 181906 | 671042 | 17148 | 918 | 2.5
26602 | PR | AGUADILLA | 32 | 34 | 250 | 605 |  | 180906 | 665923 | 35049 | 1393 | 6.6
26676 | PR | ARECIBO | 60 | 14 | 50 | 833 | 80214 | 180917 | 663316 | 23099 | 2851 | 9.4
3001 | PR | ARECIBO | 54 | 46 | 50 | 600 | 74610 | 181406 | 664536 | 16621 | 2420 | 5.7
4110 | PR | BAYAMON | 36 | 30 | 50 | 329 | 74691 | 181640 | 660638 | 14518 | 2514 | 0.5
19777 | PR | CAGUAS | 11 | 11 | 3.2 | 357 | 74649 | 181654 | 660646 | 16753 | 2655 | 0.1
8156 | PR | CAGUAS | 58 | 48 | 50 | 329 | 74666 | 181640 | 660638 | 12923 | 2406 | 2.3
54443 | PR | CAROLINA | 52 | 51 | 450 | 585 | 32803 | 181644 | 655112 | 30994 | 2770 | 0.1
73901 | PR | FAJARDO | 13 | 13 | 2.8 | 863 |  | 181836 | 654741 | 34770 | 2702 | 0.1
2174 | PR | FAJARDO | 40 | 16 | 140 | 852 | 79754 | 181835 | 654743 | 29992 | 2734 | 3.4
15320 | PR | FAJARDO | 34 | 33 | 50 | 848 | 74765 | 181836 | 654741 | 24915 | 2595 | 0
18410 | PR | GUAYAMA | 46 | 45 | 50 | 642 | 74921 | 181648 | 655108 | 23740 | 2490 | 0.9
67190 | PR | HUMACAO | 68 | 49 | 46 | 623 | 75154 | 181644 | 655110 | 20292 | 2501 | 0.9
60357 | PR | MAYAGUEZ | 16 | 22 | 50 | 338 | 74738 | 181851 | 671124 | 16336 | 808 | 14.3
73336 | PR | MAYAGUEZ | 22 | 23 | 400 | 693 | 65201 | 180900 | 665900 | 37898 | 1376 | 0.9
64865 | PR | MAYAGUEZ | 5 | 29 | 1000 | 607 |  | 180902 | 665920 | 45696 | 1574 | 14.2
53863 | PR | MAYAGUEZ | 3 | 35 | 620 | 674 |  | 180900 | 665900 | 43682 | 1920 | 0.1
19561 | PR | NARANJITO | 64 | 18 | 50 | 142 | 74703 | 181734 | 661602 | 12482 | 2515 | 0.1
60341 | PR | PONCE | 7 | 7 | 16.4 | 826 | 80207 | 180917 | 663316 | 46704 | 3722 | 0
19776 | PR | PONCE | 9 | 9 | 15.6 | 857 | 84832 | 181009 | 663436 | 47124 | 3693 | 0
26681 | PR | PONCE | 14 | 15 | 380 | 839 | 67269 | 181010 | 663436 | 41344 | 3361 | 5.7
58341 | PR | PONCE | 20 | 19 | 700 | 269 | 65948 | 180449 | 664453 | 24888 | 1701 | 0.1
2175 | PR | PONCE | 26 | 25 | 200 | 310 | 41622 | 180448 | 664456 | 19187 | 1516 | 0
29000 | PR | PONCE | 48 | 47 | 50 | 247 | 74924 | 180450 | 664450 | 11769 | 1118 | 0.3
58340 | PR | SAN JUAN | 24 | 21 | 1000 | 564 |  | 181645 | 655114 | 44300 | 3102 | 0.4
52073 | PR | SAN JUAN | 4 | 27 | 1000 | 794 |  | 180642 | 660305 | 53151 | 3389 | 0.5
64983 | PR | SAN JUAN | 2 | 28 | 871 | 861 | 74925 | 180654 | 660310 | 52474 | 3313 | 4
4077 | PR | SAN JUAN | 30 | 31 | 75.9 | 287 |  | 181630 | 660536 | 14563 | 2453 | 2.1
28954 | PR | SAN JUAN | 18 | 32 | 50 | 847 | 77557 | 181836 | 654741 | 23429 | 2359 | 1.9
53859 | PR | SAN JUAN | 6 | 43 | 791 | 825 | 74633 | 180642 | 660305 | 48283 | 3343 | 0
58342 | PR | SAN SEBASTIAN | 38 | 39 | 700 | 627 | 65242 | 180900 | 665900 | 34738 | 1692 | 0
39887 | PR | YAUCO | 42 | 41 | 185 | 832 |  | 181010 | 663436 | 39318 | 3448 | 0
3113 | VI | CHARLOTTE AMALIE | 17 | 17 | 50 | 455 |  | 182126 | 645650 | 24541 | 104 | 0.1
83270 | VI | CHARLOTTE AMALIE |  | 43 | 1.4 | 28 |  | 182043 | 645545 | 1687 | 0 | 0
70287 | VI | CHARLOTTE AMALIE | 12 | 44 | 30.4 | 505 | 75403 | 182128 | 645653 | 18332 | 11 | 0
84407 | VI | CHRISTIANSTED | 15 | 15 | 50 | 296 | 74735 | 174521 | 644756 | 14545 | 0 | 0
2370 | VI | CHRISTIANSTED | 8 | 20 | 501 | 292 | 74953 | 174521 | 644756 | 17484 | 7 | 0
83304 | VI | CHRISTIANSTED | 39 | 23 | 0.85 | 130 |  | 174440 | 644340 | 5461 | 0 | 0

Appendix C—List of Petitions for Reconsideration, Oppositions, and Replies

Petitions for Reconsideration (filed by October 26, 2007)

1. Ackerley Broadcasting Operations, LLC.

2. Allbritton Communications Company & Gannett Co., Inc.

3. American Christian Television Service, Inc.

4. Arkansas 49, Inc.

5. Arkansas Educational Television Commission.

6. Bahakel Communications, Ltd.

7. Barrington Traverse City Licensee, LLC.

8. Belo Corp.

9. BlueStone License Holdings, Inc.

10. Board of Regents of the Montana University System.

11. Board of Regents of the Montana University System.

12. Brigham Young University.

13. CBS Corporation.

14. CBS Corporation.

15. Channel 20 TV Company.

16. Community Television of Southern California.

17. Connecticut Public Broadcasting, Inc.

18. Corridor Television, LLP.

19. Davis Television Clarksburg, LLC.

20. Duluth-Superior Area Educational Television Corporation.

21. Ellis Communications KDOC Licensee, Inc.

22. Florida West Coast Public Broadcasting, Inc.

23. Fort Meyers Broadcasting Company.

24. Fox Television Stations, Inc.

25. Gannett Co., Inc.

26. Georgia Public Telecommunications Commission.

27. Granite Broadcasting Corporation.

28. Granite Broadcasting Corporation.

29. Gray Television, Inc.

30. Hawaii Public Television Foundation.

31. Hearst-Argyle Television, Inc.

32. Hoak Media, LLC.

33. Hoak Media, LLC.

34. Holston Valley Broadcasting Corporation.

35. Hubbard Broadcasting, Inc. KAAL-DT.

36. Hubbard Broadcasting, Inc. WDIO-DT.

37. Hubbard Broadcasting, Inc. WIRT-DT.

38. Hubbard Broadcasting, Inc.

39. Hubbard Broadcasting, Inc.

40. Independence Television Company.

41. Independent Communications, Inc.

42. Independent Communications, Inc.

43. International Broadcasting Corporation.

44. Joint Public Television Petitioners.

45. KAZT, LLC.

46. KEVN, Inc.

47. KTVU Partnership.

48. KWWL Television, Inc.

49. Lambert Broadcasting of Burlington, LLC.

50. Lehigh Valley Public Telecommunications Corp.

51. Lima Communications Corporation.

52. LIN Television Corporation.

53. Long Communications, LLC.

54. Malara Broadcast Group, Inc.

55. Maranatha Broadcasting Company, Inc.

56. Media General Communications Holdings, LLC.

57. Media General Communications Holdings, LLC.

58. Media General Communications Holdings, LLC.

59. Media General Communications Holdings, LLC.

60. Media General Communications Holdings, LLC.

61. Media General Communications Holdings, LLC.

62. Media General Communications Holdings, LLC.

63. Media General Communications Holdings, LLC.

64. Media General Communications Holdings, LLC.

65. Media General Communications Holdings, LLC.

66. Meredith Corporation.

67. Meredith Corporation.

68. Meredith Corporation.

69. Mississippi Authority for Educational Television.

70. Mississippi Television, LLC.

71. Montana State University.

72. Montecito Hawaii License, LLC.

73. Montecito Hawaii License, LLC.

74. The Association for Maximum Service Television—MSTV.

75. Mt. Mansfield Television, Inc.

76. Mullaney Engineering, Inc.

77. Nashville Public Television, Inc.

78. NBC Telemundo License Co.

79. Nexstar Broadcasting, Inc.

80. Oklahoma Educational Television Authority.

81. Pappas Telecasting of America & South Central Communications Corporation.

82. Paxson Denver License, Inc.

83. Post-Newsweek Stations, Orlando, Inc.

84. Radio Perry, Inc.

85. Raycom Media, Inc.

86. Red River Broadcast Co., LLC KBRR-DT.

87. Red River Broadcast Co., LLC KNRR-DT.

88. Rocky Mountain Public Broadcasting Network, Inc.

89. Schurz Communications, Inc.

90. Scripps Howard Broadcasting Company.

91. Silverton Broadcasting Company, Inc., Mark III Media, Inc. and First National Broadcasting Corp.

92. Sky Television, LLC.

93. South Carolina Educational Television Commission.

94. Southeastern Media Holdings, Inc.

95. Southern TV Corporation.

96. Sunflower Broadcasting.

97. Surtsey Media, LLC.

98. Tribune Broadcasting Company.

99. Tri-State Public Teleplex, Inc.

100. Marcia T. Turner d/b/a Turner Enterprises.

101. Twin Cities Public Television, Inc.

102. United Communications Corporation.

103. University of Alaska.

104. University of Houston System.

105. Univision Communications, Inc.

106. Univision New York, LLC.

107. Vermont ETV, Inc.

108. The Walt Disney Company.

109. WDEF-TV, Inc.

110. West Virginia Media Holdings LLC.

111. WHYY, Inc.

112. Winston Broadcasting Network, Inc.

113. Withers Broadcasting Company of West Virginia.

114. WMMP Licensee, L.P.

115. WNAC, LLC.

116. Woods Communications Corporation.

117. WSJV Television, Inc.

118. WTAT Licensee, LLC.

119. WTOV, Inc.

120. WTVZ Licensee, LLC.

121. WVTV Licensee, Inc.

122. WWAZ License, LLC.

123. WWBT, Inc.

124. Dr. Joseph A. Zavaletta.

Oppositions (Filed by November 6, 2007 or December 3, 2007)

1. Alamo Public Telecommunications Council.

2. KTBC License, Inc.

3. Mid State Television, Inc.

4. Primeland Television, Inc.

5. Sonshine Family Television, Inc.

6. Sonshine Family Television, Inc.

7. State of Wisconsin—Educational Communications Board.

8. The Association for Maximum Service Television, Inc.

9. The Board of Trustees of the University of Alabama.

10. West Virginia Educational Broadcasting Authority.

11. WOOD License Company, LLC.

12. WTNH Broadcasting, Inc.

Replies to Oppositions (Filed by November 16, 2007 or December 13, 2007)

1. Barrington Traverse City Licensee, LLC (12/21/07) (Request for Extension filed on 12/13).

2. Belo Corp.

3. Connecticut Public Broadcasting, Inc.

4. Corridor Television, LLP.

5. Gannett Co., Inc.

6. Gannett Co., Inc.

7. Robert E. Lee.

8. Twin Cities Public Television, Inc.

Other Pleadings

1. Allbritton Communications Company & Gannett Co., Inc.

2. Arkansas Educational Television Commission.

3. Bahakel Communications, Ltd.

4. Barrington Traverse City Licensee, LLC.

5. Brigham Young University.

6. Connecticut Public Broadcasting, Inc.

7. Corridor Television, LLP.

8. Corridor Television, LLP.

9. Dan Priestley.

10. Fox Television Stations of Philadelphia, Inc.

11. Gannett Co., Inc.

12. Hawaii Public Television Foundation.

13. Hoak Media, LLC.

14. Holston Valley Broadcasting Corporation.

15. Holston Valley Broadcasting Corporation.

16. Holston Valley Broadcasting Corporation.

17. Hubbard Broadcasting, Inc., KAAL-DT.

18. KEVN, Inc.

19. Koplar Communications International.

20. KWWL Television, Inc.

21. Lehigh Valley Public Telecommunications Corp.

22. Media General.

23. Media General.

24. Media General.

25. Robert E. Lee.

26. SagamoreHill Broadcasting of Wyoming/Northern Colorado, LLC.

27. Sangre de Cristo Communications, Inc.

28. Sunbelt Multimedia Co.

29. United Communications.

30. West Virginia Media Holdings, LLC.

31. WKYC-TV, Inc.

32. WMMP Licensee L.P.

33. WTAT Licensee, LLC.

34. WTVZ Licensee, LLC.

35. WVTV Licensee, Inc.

Ex Parte/Late Filed Comments (Filed After October 26, 2007, December 13, 2007 and November 16, 2007)

1. Davis Television Wasau, LLC.

2. EME Communications.

3. KMBC Hearst-Argyle Television, Inc.

4. Mountain TV, LLC.

5. School Board of Miami Dade County, Florida.

6. Lake Superior Community Broadcast Corporation.

7. Mullaney Engineering Inc.

Notices of Ex Parte Communications

1. Allbritton Communications Company & Gannett Co., Inc.

2. Association of Public Television Stations.

3. Capitol Broadcasting/Hubbard Broadcasting.

4. Cohen, Dippell and Everist, P.C.

5. Georgia Public Telecommunications Commission.

6. Holston Valley Broadcasting Corporation.

7. ION Media Networks.

8. ION Media Networks, Inc.

9. MSTV.

10. MSTV.

11. MSTV.

12. MSTV.

13. MSTV Inc.

14. MSTV Inc.

15. MSTV Inc.

16. MSTV Inc.

17. MSTV Inc.

18. MSTV Inc.

19. Sunflower Broadcasting, Inc.

20. The Association of Maximum Service Television—MSTV.

21. The Walt Disney Company, CBS Corporation, Capitol Broadcasting, Hubbard Broadcasting.

22. Tribune Broadcasting Company.

Appendix D1.—Granted Requests for Minor Adjustments
Call sign | Facility ID No. | Community | State | Current NTSC channel | Current DTV channel | Post transition channel
WISE | 13960 | FORT WAYNE | IN | 33 | 19 | 19
KCTV | 41230 | KANSAS CITY | MO | 5 | 24 | 24
KMDE | 162016 | DEVILS LAKE | ND |  | 25 | 25
WCNY | 53734 | SYRACUSE | NY | 24 | 25 | 25
KBJR | 33658 | SUPERIOR | WI | 6 | 19 | 19

Appendix D2.—Granted Requests for Changes to Certification That Meet the Interference Criteria
Call sign | Facility ID No. | Community | State | Current NTSC channel | Current DTV channel | Post transition channel | File No.
KAKM | 804 | ANCHORAGE | AK | 7 | 8 | 8 | BLEDT-20050915APL
WFIQ | 715 | FLORENCE | AL | 36 | 22 | 22 | BLEDT-20060718ACG
WHIQ | 713 | HUNTSVILLE | AL | 25 | 24 | 24 | BLEDT-20060927ALU
WAIQ | 706 | MONTGOMERY | AL | 26 | 27 | 27 | BLEDT-20060706ACK
KKYK | 86534 | CAMDEN | AR | 49 |  | 49 | BPCDT-20050224ABE
KDOC | 24518 | ANAHEIM | CA | 56 | 32 | 32 | BMPCDT-20040323ATA
KAEF | 8263 | ARCATA | CA | 23 | 22 | 22 | BPCDT-20070914AAG
KVCR | 58795 | SAN BERNARDINO | CA | 24 | 26 | 26 | BLEDT-20070904AIC
KPXC | 68695 | DENVER | CO | 59 | 43 | 43 | BPCDT-19990923AAM
KRMA | 14040 | DENVER | CO | 6 | 18 | 18 | BMPEDT-20061205AAG
KFCT | 125 | FORT COLLINS | CO | 22 | 21 | 21 | BMPCDT-20050916ACG
WINK | 22093 | FORT MYERS | FL | 11 | 9 | 9 | BLCDT-20060531ADP
WCWJ | 29712 | JACKSONVILLE | FL | 17 | 34 | 34 | BLCDT-20060630AFM
WSRE | 17611 | PENSACOLA | FL | 23 | 31 | 31 | BLEDT-20060621AAS
WGSA | 69446 | BAXLEY | GA | 34 | 35 | 35 | BMPCDT-20060717AAC
WPGA | 54728 | PERRY | GA | 58 | 32 | 32 | BMPCDT-20041203ADW
KFVE | 34445 | HONOLULU | HI | 5 | 23 | 23 | BDSTA-20041012AKF
KHNL | 34867 | HONOLULU | HI | 13 | 35 | 35 | BLCDT-20070220ABH
KQIN | 5471 | DAVENPORT | IA | 36 | 34 | 34 | BMPEDT-20070809AAX
KTIN | 29100 | FORT DODGE | IA | 21 | 25 | 25 | BMPEDT-20060911AAJ
KYIN | 29086 | MASON CITY | IA | 24 | 18 | 18 | BMPEDT-20060714ABL
KSIN | 29096 | SIOUX CITY | IA | 27 | 28 | 28 | BLEDT-20050726AMC
WSBT | 73983 | SOUTH BEND | IN | 22 | 30 | 22 | BMPCDT-20050613AFU
KSWK | 60683 | LAKIN | KS | 3 | 8 | 8 | BLEDT-20050203ADS
WKLE | 34207 | LEXINGTON | KY | 46 | 42 | 42 | BLEDT-20060926AJQ
KALB | 51598 | ALEXANDRIA | LA | 5 | 35 | 35 | BPCDT-19991025ACQ
WWLP | 6868 | SPRINGFIELD | MA | 22 | 11 | 11 | BLCDT-20060619AAS
KDLH | 4691 | DULUTH | MN | 3 | 33 | 33 | BMPCDT-20060519AAE
KOZJ | 51101 | JOPLIN | MO | 26 | 25 | 25 | BLEDT-20060620ABP
KYTV | 36003 | SPRINGFIELD | MO | 3 | 44 | 44 | BLCDT-20020213AAA
KUSM | 43567 | BOZEMAN | MT | 9 | 8 | 8 | BLEDT-20050926ALC
WSFX | 72871 | WILMINGTON | NC | 26 | 30 | 30 | BMPCDT-20060630ADE
KRWG | 55516 | LAS CRUCES | NM | 22 | 23 | 23 | BMPEDT-20041104AXJ
WNLO | 71905 | BUFFALO | NY | 23 | 32 | 32 | BLCDT-20070320AAV
WSKA | 78908 | CORNING | NY | 30 |  | 30 | BLEDT-20060705ABL
WBNX | 72958 | AKRON | OH | 55 | 30 | 30 | BLCDT-20070430AXX
WCET | 65666 | CINCINNATI | OH | 48 | 34 | 34 | BLEDT-20061031AAR
WLIO | 37503 | LIMA | OH | 35 | 8 | 8 | BMPCDT-20060517ABE
WQCW | 65130 | PORTSMOUTH | OH | 30 | 17 | 17 | BLCDT-20060630AFJ
WFMZ | 39884 | ALLENTOWN | PA | 69 | 46 | 46 | BLCDT-20060621AAU
WITF | 73083 | HARRISBURG | PA | 33 | 36 | 36 | BLEDT-20000922AHE
WMTJ | 2174 | FAJARDO | PR | 40 | 16 | 16 | BMPEDT-20070629AEN
WTCV | 28954 | SAN JUAN | PR | 18 | 32 | 32 | BPCDT-20070125AAX
WRLK | 61013 | COLUMBIA | SC | 35 | 32 | 32 | BMLEDT-20040826AAL
WSMV | 41232 | NASHVILLE | TN | 4 | 10 | 10 | BLCDT-20021029AAV
KXAN | 35920 | AUSTIN | TX | 36 | 21 | 21 | BLCDT-20050630AAG
KTLM | 62354 | RIO GRANDE CITY | TX | 40 | 20 | 20 | BPCDT-19991026ACA
KBYU | 6823 | PROVO | UT | 11 | 44 | 44 | BLEDT-20020813ABC
WDBJ | 71329 | ROANOKE | VA | 7 | 18 | 18 | BLCDT-20020502AAP
WETK | 69944 | BURLINGTON | VT | 33 | 32 | 32 | BLEDT-20061011ADW
WVNY | 11259 | BURLINGTON | VT | 22 | 13 | 13 | BLCDT-20061113ABH
WVTB | 69940 | ST. JOHNSBURY | VT | 20 | 18 | 18 | BPEDT-20071026ABW
WVTA | 69943 | WINDSOR | VT | 41 | 24 | 24 | BMPEDT-20060306BRA
WHLA | 18780 | LA CROSSE | WI | 31 | 30 | 30 | BMLEDT-20041013AAL
WHRM | 73036 | WAUSAU | WI | 20 | 24 | 24 | BLEDT-20051014AAW

Appendix D3.—Granted Requests for Modified Coverage Area
Call sign | Facility ID No. | Community | State | Current NTSC channel | Current DTV channel | Post transition channel
WVTM | 74173 | BIRMINGHAM | AL | 13 | 52 | 13
KETS | 2770 | LITTLE ROCK | AR | 2 | 5 | 7
KNAZ | 24749 | FLAGSTAFF | AZ | 2 | 22 | 2
KCET | 13058 | LOS ANGELES | CA | 28 | 59 | 28
KXTV | 25048 | SACRAMENTO | CA | 10 | 61 | 10
WJLA | 1051 | WASHINGTON | DC | 7 | 39 | 7
WUSA | 65593 | WASHINGTON | DC | 9 | 34 | 9
WHYY | 72338 | WILMINGTON | DE | 12 | 55 | 12
WTSP | 11290 | ST. PETERSBURG | FL | 10 | 24 | 10
WPTV | 59443 | WEST PALM BEACH | FL | 5 | 55 | 12
WGTV | 23948 | ATHENS | GA | 8 | 12 | 8
KWWL | 593 | WATERLOO | IA | 7 | 55 | 7
KTVB | 34858 | BOISE | ID | 7 | 26 | 7
WNIN | 67802 | EVANSVILLE | IN | 9 | 12 | 9
WBKO | 4692 | BOWLING GREEN | KY | 13 | 33 | 13
WHAS | 32327 | LOUISVILLE | KY | 11 | 55 | 11
WLBZ | 39644 | BANGOR | ME | 2 | 25 | 2
WBKP | 76001 | CALUMET | MI | 5 | 11 | 5
WILX | 6863 | ONONDAGA | MI | 10 | 57 | 10
WPBN | 21253 | TRAVERSE CITY | MI | 7 | 50 | 7
WDIO | 71338 | DULUTH | MN | 10 | 43 | 10
KEYC | 68853 | MANKATO | MN | 12 | 38 | 12
WJTV | 48667 | JACKSON | MS | 12 | 52 | 12
WTOK | 4686 | MERIDIAN | MS | 11 | 49 | 11
KOBF | 35321 | FARMINGTON | NM | 12 | 17 | 12
WWNY | 68851 | CARTHAGE | NY | 7 | 35 | 7
WHEC | 70041 | ROCHESTER | NY | 10 | 58 | 10
WTVG | 74150 | TOLEDO | OH | 13 | 19 | 13
KOED | 66195 | TULSA | OK | 11 | 38 | 11
WGAL | 53930 | LANCASTER | PA | 8 | 58 | 8
WSUR | 19776 | PONCE | PR | 9 | 43 | 9
WJAR | 50780 | PROVIDENCE | RI | 10 | 51 | 51
WBTW | 66407 | FLORENCE | SC | 13 | 56 | 13
WHNS | 72300 | GREENVILLE | SC | 21 | 57 | 21
WYFF | 53905 | GREENVILLE | SC | 4 | 59 | 36
KTTM | 28501 | HURON | SD | 12 | 22 | 12
WMC | 19184 | MEMPHIS | TN | 5 | 52 | 5
KCPQ | 33894 | TACOMA | WA | 13 | 18 | 13
KSTW | 23428 | TACOMA | WA | 11 | 36 | 11
WDTV | 70592 | WESTON | WV | 5 | 6 | 5

Appendix D4.—Granted Requests for Alternative Channel Assignments
Call sign | Facility ID No. | Community | State | Current NTSC channel | Current DTV channel | Post transition channel
KTVF | 49621 | FAIRBANKS | AK | 11 | 26 | 26
KIDA | 81570 | SUN VALLEY | ID | 5 |  | 5
KSCW | 72348 | WICHITA | KS | 33 | 31 | 19
WUFX | 84253 | VICKSBURG | MS | 35 |  | 41
WTLW | 1222 | LIMA | OH | 44 | 47 | 44
KIVV | 34348 | LEAD | SD | 5 | 29 | 5
WKPT | 27504 | KINGSPORT | TN | 19 | 27 | 27
KVAW | 32621 | EAGLE PASS | TX | 16 | 18 | 24

Appendix D5.—Stations Requesting Changes That Should be Requested in an Application
Call sign | Facility ID No. | Community | State | Current NTSC channel | Current DTV channel | Post transition channel
Stations Whose Post-Transition Channel is Different from Their Pre-Transition Channel
KBRR | 55370 | THIEF RIVER FALLS | MN | 10 | 57 | 10
KBSH | 66415 | HAYS | KS | 7 | 20 | 7
KCBS | 9628 | LOS ANGELES | CA | 2 | 60 | 43
KDSE | 53329 | DICKINSON | ND | 9 | 20 | 9
KETZ | 92872 | EL DORADO | AR |  | 12 | 10
KFME | 53321 | FARGO | ND | 13 | 23 | 13
KFVS | 592 | CAPE GIRARDEAU | MO | 12 | 57 | 12
KGIN | 7894 | GRAND ISLAND | NE | 11 | 32 | 11
KHAS | 48003 | HASTINGS | NE | 5 | 21 | 5
KNOP | 49273 | NORTH PLATTE | NE | 2 | 22 | 2
KNRR | 55362 | PEMBINA | ND | 12 | 15 | 12
KOLN | 7890 | LINCOLN | NE | 10 | 25 | 10
KPNE | 47973 | NORTH PLATTE | NE | 9 | 16 | 9
KRMJ | 14042 | GRAND JUNCTION | CO | 18 | 17 | 18
KTCI | 68597 | ST. PAUL | MN | 17 | 16 | 26
KTSC | 69170 | PUEBLO | CO | 8 | 26 | 8
KUAC | 69315 | FAIRBANKS | AK | 9 | 24 | 9
KUHT | 69269 | HOUSTON | TX | 8 | 9 | 8
KUPK | 65535 | GARDEN CITY | KS | 13 | 18 | 13
KWCH | 66413 | HUTCHINSON | KS | 12 | 19 | 12
KWTX | 35903 | WACO | TX | 10 | 53 | 10
WAKA | 701 | SELMA | AL | 8 | 55 | 42
WBKO | 4692 | BOWLING GREEN | KY | 13 | 33 | 13
WCAX | 46728 | BURLINGTON | VT | 3 | 53 | 22
WDSE | 17726 | DULUTH | MN | 8 | 38 | 8
WEAU | 7893 | EAU CLAIRE | WI | 13 | 39 | 13
WEDU | 21808 | TAMPA | FL | 3 | 54 | 13
WIBW | 63160 | TOPEKA | KS | 13 | 44 | 13
WJHG | 73136 | PANAMA CITY | FL | 7 | 8 | 7
WLEF | 63046 | PARK FALLS | WI | 36 | 47 | 36
WLVT | 36989 | ALLENTOWN | PA | 39 | 62 | 39
WNPT | 41398 | NASHVILLE | TN | 8 | 46 | 8
WPTD | 25067 | DAYTON | OH | 16 | 58 | 16
WPVI | 8616 | PHILADELPHIA | PA | 6 | 64 | 6
WRDW | 73937 | AUGUSTA | GA | 12 | 31 | 12
WSAW | 6867 | WAUSAU | WI | 7 | 40 | 7
WSKY | 76324 | MANTEO | NC | 4 | 4 | 9
WTAT | 416 | CHARLESTON | SC | 24 | 40 | 24
WTVM | 595 | COLUMBUS | GA | 9 | 47 | 9
WTVZ | 40759 | NORFOLK | VA | 33 | 38 | 33
WVTV | 74174 | MILWAUKEE | WI | 18 | 61 | 18
Stations Whose Post-Transition Channel is the Same as Their Pre-Transition Channel
KBTV | 61214 | PORT ARTHUR | TX | 4 | 40 | 40
KFNR | 21612 | RAWLINS | WY | 11 | 9 | 9
KGWL | 63162 | LANDER | WY | 5 | 7 | 7
KMID | 35131 | MIDLAND | TX | 2 | 26 | 26
KQTV | 20427 | ST. JOSEPH | MO | 2 | 53 | 7
KTWO | 18286 | CASPER | WY | 2 | 17 | 17
KUPN | 63158 | STERLING | CO | 3 | 23 | 23
KVEA | 19783 | CORONA | CA | 52 | 39 | 39
WBBJ | 65204 | JACKSON | TN | 7 | 43 | 43
WFXV | 43424 | UTICA | NY | 33 | 27 | 27
WHKY | 65919 | HICKORY | NC | 14 | 40 | 40
WMYO | 34167 | SALEM | IN | 58 | 51 | 51

Appendix E—Supplemental Final Regulatory Flexibility Analysis

151. As required by the Regulatory Flexibility Act of 1980, as amended (“RFA”) an Initial Regulatory Flexibility Analysis (“IRFA”) was incorporated in the Seventh Further Notice of Proposed Rulemaking (“Seventh FNPRM”) in MB Docket 87-268. The Commission sought written public comment on the proposals in the Seventh FNPRM, including comment on the IRFA. In addition, a Final Regulatory Flexibility Analysis (“FRFA”) was incorporated in the Seventh R&O in MB Docket 87-268. This present Supplemental Final Regulatory Flexibility Analysis (“Supplemental FRFA”) on the MO&OR conforms to the RFA.

A. Need for, and Objectives of, the Order on Reconsideration

152. The Commission initiated this proceeding to establish a final DTV Table of Allotments with the Seventh FNPRM, which proposed a final, post-transition DTV channel for each eligible, (Only Commission licensees and permittees were eligible to participate in the channel election process to select a final DTV channel. See Second DTV Periodic Report and Order, 19 FCC Rcd at 1830, paragraph 66.), full power television broadcast station. After reviewing comments, the Commission adopted a final DTV Table in the Seventh R&O. The Commission received approximately 124 petitions for reconsideration of the Seventh R&O requesting changes to the Table and/or to the station operating parameters on Appendix B for more than 200 stations. The MO&OR responds to these petitions and, in response to some of the petitions, modifies the DTV Table and/or Appendix B adopted in the Seventh R&O. This Supplemental FRFA is associated with the MO&OR and discusses the changes made to the DTV Table and Appendix B in response to the petitions for reconsideration.

153. The final post-transition DTV Table, as modified herein on reconsideration, finalizes the channel and facilities necessary to complete the digital transition for full power television stations, including full power commercial and noncommercial broadcast television stations. The changes we made to the DTV Table and Appendix B in response to the petitions will help promote overall spectrum efficiency and ensure the best possible service to the public, including service to local communities. For example, for 55 stations, we made changes to Appendix B station operating parameters to be consistent with current authorizations for these stations. For 8 stations, we granted channel changes requested by the station, which will assist those stations in making the transition to digital service and in continuing to serve their communities. For 40 stations, we modified the station's post-transition coverage area to help the station better serve their community post-transition, and for 6 stations we granted minor changes to Appendix B station parameters to reflect correct coordinates for the station. These and other changes to the final DTV Table and Appendix B made herein will assist these broadcasters in transitioning to digital service.

B. Summary of Significant Issues Raised by Public Comments in Response to the IRFA

154. There were no comments filed that specifically addressed the FRFA in this proceeding.

C. Description and Estimate of the Number of Small Entities To Which the Rules Will Apply

155. The RFA directs the Commission to provide a description of and, where feasible, an estimate of the number of small entities that will be affected by the rules adopted herein. The RFA generally defines the term “small entity” as having the same meaning as the terms “small business,” “small organization,” and “small government jurisdiction.” In addition, the term “small business” has the same meaning as the term “small business concern” under the Small Business Act. Id. § 601(3) (incorporating by reference the definition of “small business concern” in 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.” 5 U.S.C. 601(3). A small business concern is one which: (1) Is independently owned and operated; (2) is not dominant in its field of operation; and (3) satisfies any additional criteria established by the Small Business Administration (SBA). 15 U.S.C. 632. Application of the statutory criteria of dominance in its field of operation and independence are sometimes difficult to apply in the context of broadcast television. Accordingly, the Commission's statistical account of television stations may be over-inclusive. The rules of this MO&O will primarily affect full power television stations, as opposed to low power television stations and television translator stations. A description of such small entities, as well as an estimate of the number of such small entities, is provided below.

156. Television Broadcasting. The rules and policies adopted in this MO&OR apply to television broadcast licensees and potential licensees of television service. The SBA defines a television broadcast station as a small business if such station has no more than $13.0 million in annual receipts. Business concerns included in this industry are those “primarily engaged in broadcasting images together with sound.” Id. This category description continues, “These establishments operate television broadcasting studios and facilities for the programming and transmission of programs to the public. These establishments also produce or transmit visual programming to affiliated broadcast television stations, which in-turn broadcast the programs to the public on a predetermined schedule. Programming may originate in their own studios, from an affiliated network, or from external sources.” Separate census categories pertain to businesses primarily engaged in producing programming. See Motion Picture and Video Production, NAICS code 512110; Motion Picture and Video Distribution, NAICS Code 512120; Teleproduction and Other Post-Production Services, NAICS Code 512191; and Other Motion Picture and Video Industries, NAICS Code 512199. The Commission has estimated the number of licensed commercial television stations to be 1,376. See News Release, “Broadcast Station Totals as of December 31, 2006,” 2007 WL 221575 (dated Jan. 26, 2007) (“Broadcast Station Totals”); also available at http://www.fcc.gov/mb/. According to Commission staff review of the BIA Financial Network, MAPro Television Database (“BIA”) on March 30, 2007, about 986 of an estimated 1,374 commercial television stations (or about 72 percent) have revenues of $13.0 million or less and thus qualify as small entities under the SBA definition. The Commission has estimated the number of licensed NCE television stations to be 380. We note, however, that, in assessing whether a business concern qualifies as small under the above definition, business (control) affiliations, (“[Business concerns] are affiliates of each other when one concern controls or has the power to control the other or a third party or parties controls or has to power to control both.” 13 CFR 121.103(a)(1).), must be included. Our estimate, therefore, likely overstates the number of small entities that might be affected by our action, because the revenue figure on which it is based does not include or aggregate revenues from affiliated companies. The Commission does not compile and otherwise does not have access to information on the revenue of NCE stations that would permit it to determine how many such stations would qualify as small entities.

157. In addition, an element of the definition of “small business” is that the entity not be dominant in its field of operation. We are unable at this time to define or quantify the criteria that would establish whether a specific television station is dominant in its field of operation. Accordingly, the estimate of small businesses to which rules may apply do not exclude any television station from the definition of a small business on this basis and are therefore over-inclusive to that extent. Also as noted, an additional element of the definition of “small business” is that the entity must be independently owned and operated. We note that it is difficult at times to assess these criteria in the context of media entities and our estimates of small businesses to which they apply may be over-inclusive to this extent.

158. Class A TV, LPTV, and TV translator stations. The rules and policies adopted in this MO&OR do not directly affect low power television stations, as the DTV Table adopted in the MO&O finalizes post-transition digital channels only for full power television stations. Nonetheless, as discussed in Section E, infra, low power television stations will also eventually transition from analog to digital technology and may be indirectly affected by the channel allotment decisions herein. The broadcast stations indirectly affected include licensees of Class A TV stations, low power television (LPTV) stations, and TV translator stations, as well as to potential licensees in these television services. In general, low power television stations are secondary to full power television stations and must accept interference from full power stations. The Community Broadcasters Protection Act, and the Commission's rules implementing that statute, give certain low power television (LPTV) stations, known as Class A stations, some limited protection from interference by full-service stations. See Community Broadcasters Protection Act of 1999, Pub. L. No. 106-113, 113 Stat. Appendix I at pp. 1501A-594-1501A-598 (1999), codified at 47 U.S.C. 336(f). See also 47 CFR 73.6000-6027. The same SBA definition that applies to television broadcast licensees would apply to these stations. The SBA defines a television broadcast station as a small business if such station has no more than $13.0 million in annual receipts. Currently, there are approximately 567 licensed Class A stations, 2,227 licensed LPTV stations, and 4,518 licensed TV translators. Given the nature of these services, we will presume that all of these licensees qualify as small entities under the SBA definition. We note, however, that under the SBA's definition, revenue of affiliates that are not LPTV stations should be aggregated with the LPTV station revenues in determining whether a concern is small. Our estimate may thus overstate the number of small entities since the revenue figure on which it is based does not include or aggregate revenues from non-LPTV affiliated companies. We do not have data on revenues of TV translator or TV booster stations, but virtually all of these entities are also likely to have revenues of less than $13.0 million and thus may be categorized as small, except to the extent that revenues of affiliated non-translator or booster entities should be considered.

D. Description of Projected Reporting, Recordkeeping and Other Compliance Requirements

159. The rules adopted in the MO&OR involve no changes to reporting, recordkeeping, or other compliance requirements beyond what is already required under the current regulations.

E. Steps Taken To Minimize Significant Impact on Small Entities, and Significant Alternatives Considered

160. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

161. As noted in paragraph 3 of this Supplemental FRFA, we made a number of changes to the final DTV Table and Appendix B in the MO&OR in response to petitions for reconsideration filed on behalf of stations. The changes we made will help promote overall spectrum efficiency and ensure the best possible service to the public, including service to local communities. In general, we accommodated the requests made by petitioners to the extent possible consistent with the interference and other standards outlined in the Seventh FNPRM and the Seventh R&O in this proceeding. Making changes wherever possible in response to station requests and consistent with previous standards advances the Commission's overall goal of facilitating the digital transition. An alternative, which we did not pursue, would have been to consider petitions without reference to the interference and other standards set forth in the Seventh FNPRM and the Seventh R&O. We rejected that alternative on the ground that station requests should be treated consistently to the extent possible, so that stations that requested relief earlier in the proceeding, in a comment filed in response to the Seventh FNPRM, do not get treated differently from those that requested relief later, in a petition for reconsideration filed in response to the Seventh R&O.

162. The changes to the final post-transition DTV Table adopted in the MO&OR provides stations that filed petitions for reconsideration—large and small alike—with the best channels and facilities possible for accomplishing the digital transition. Large and small broadcasters alike benefited from our approach of accommodating petitioner requests where possible, which was taken in an effort to expedite finalization of the DTV Table and Appendix B so that stations can complete construction of their post-transition facilities by the statutory deadline for the DTV transition. Where petitioners made specific requests for changes to the proposals in the Seventh FNPRM, requests that provided for an alternative service area for the station or parameters that differed from those adopted by the Commission, those requests were granted to the extent possible consistent with the standards of the Seventh FNPRM and the Seventh R&O and, in particular, with the applicable interference standards. This process has been open and transparent, and has provided consistent treatment for large and small broadcasters.

163. The final DTV Table adopted herein does not provide for channels for low power television stations, and we received no petitions for reconsideration from low power stations. The Commission will address the digital transition for low power television (“LPTV”) stations in a separate proceeding. The statutory transition deadline established by Congress in 2006—February 17, 2009—applies only to full-power stations. See Digital Television and Public Safety Act of 2005, which is Title III of the Deficit Reduction Act of 2005, Pub. L. No. 109-171, 120 Stat. 4 (2006) (codified at 47 U.S.C. 309(j)(14) and 337(e)). One of the Commission's goals in this proceeding is to permit full power stations to finalize their post-transition facilities by this rapidly approaching deadline. The Commission previously determined that it has discretion under 47 U.S.C. 336(f)(4) to set the date by which analog operations of stations in the low power and translator service must cease. Amendment of Parts 73 and 74 of the Commission's Rules to Establish Rules for Digital Low Power Television, Television Translator, and Television Booster Stations and to Amend Rules for Digital Class A Television Stations, MB Docket No. 03-185, Report and Order, 19 FCC Rcd 19331, 19336 paragraph 12 (2004) (“ LPTV DTV Report and Order ”). The Commission has stated that the intent is to ensure that low power and translator stations not be required to prematurely convert to digital operation in a manner that could disrupt their analog service or, more importantly, that might cause them to cease operation. The Commission decided not to establish a fixed termination date for the low power digital television transition until it resolved the issues concerning the transition of full-power television stations. The Commission has recognized that low power television stations are a valuable component of the nation's television system and has stated its intention to facilitate, wherever possible, the digital transition of these stations.

F. Report to Congress

164. The Commission will send a copy of this MO&OR, including this Supplemental FRFA, in a report to be sent to Congress pursuant to the Congressional Review Act. In addition, the Commission will send a copy of this MO&OR, including the Supplemental FRFA, to the Chief Counsel for Advocacy of the Small Business Administration. A copy of the MO&OR and Supplemental FRFA (or summaries thereof) will also be published in the Federal Register.

Appendix F—Eighth Report and Order,List of Comments and Replies

1. Richland Reserve, LLC.

2. Fox Television Stations of Philadelphia, Inc.

3. Maryland Public Broadcasting Commission d/b/a Maryland Public Television.

4. Saga Quad States Communications.

5. Gray Television Licensee, Inc.

6. Gilmore Broadcasting Corp.

7. Idaho Independent Television, Inc.

8. The Board of Trustees of The University of Alabama.

9. CBS Corporation.

10. Tribune Broadcasting Co.

Appendix G—Final Regulatory Flexibility Analysis

1. As required by the Regulatory Flexibility Act of 1980, as amended (“RFA”) an Initial Regulatory Flexibility Analysis (“IRFA”) was incorporated in the Eighth Further Notice of Proposed Rulemaking (“8th FNPRM”). The Commission sought written public comment on the proposals in the Eighth Further Notice, including comment on the IRFA. The Commission received no comments on the IRFA. This present Final Regulatory Flexibility Analysis (“FRFA”) accompanying the Eighth Report and Order (“Eighth R&O”) conforms to the RFA.

A. Need for, and Objectives of, the Report and Order

2. This Eighth R&O addresses comments filed by licensees and permittees in response to the Eighth Further Notice. The Eighth Further Notice proposed modifications to the new post-transition DTV Table of Allotments and Appendix B (“DTV Table”). It provided three new full power permittees and nine existing full power licensees and permittees with channels and parameters for digital broadcast operations after the DTV transition. Changes to the new post-transition DTV Table affect full power commercial and noncommercial broadcast television stations as the new DTV Table provides post-transition channels for all eligible full power stations and changes to the Table may have interference or other implications for other broadcasters in the Table.

3. The Commission announced in the Seventh Further Notice that, to the extent possible, it would accommodate future new permittees in the new post-transition DTV Table, but that it would provide an opportunity for public comment before doing so. Three new construction permits were issued to permittees too late to be offered for comment in the Public Notice revising the Seventh Further Notice, (Public Notice, “Revisions to Proposed New DTV Table of Allotments, Tentative Channel Designations To Be Added to the DTV Table of Allotments Proposed in the Seventh Further Notice of Proposed Rule Making in MB Docket No. 87-268,” DA 07-20 (MB rel. Jan. 8, 2007), 72 FR 2485 (Jan. 19, 2007) (``New Permittees PN”).), but it was found that these permittees could be accommodated in the new DTV Table without causing impermissible interference. Having provided the requisite notice and comment periods, in the Eighth R&O we have now granted the specific facilities and parameters we proposed for these permittees, including the request for a different post-transition digital channel in a comment filed by one of the permittees. Furthermore, ten, (Initially, ten licensees or permittees requested changes and were under consideration, however one licensee, Fox Television Stations of Philadelphia, Inc., has withdrawn its request to adjust its Appendix B parameters and therefore only nine such requests are being considered. See Brief Comment of Fox Television Stations of Philadelphia, Inc., filed Oct. 18, 2007.), existing licensees and permittees made late-filed requests to the Seventh Further Notice for modifications to the new DTV Table, and we found it appropriate to provide a full opportunity for comment with respect to these entities in the Eighth Further Notice. With the issuance of the instant Eighth R&O, we have now considered any comments filed in connection with these proposals. We grant the request of one station to modify Appendix B to reflect its authorized facilities, we grant the request of another station seeking to modify its Appendix B facilities to more closely replicate its analog Grade B contour, we grant alternative post-transition digital channel assignments to five stations, and we grant the request to modify the technical parameters of two stations whose transmission facilities were destroyed by Hurricane Katrina.

4. We believe these modifications to the new post-transition DTV Table support the goals set forth for the channel election process. By these modifications, the new permittees are provided with channels for DTV operations after the transition. Where adjustments bring the Table into line with the facilities or service areas of existing licensees or permittees, they recognize industry expectations and respect investments already made. These adjustments also move the overall post-transition DTV Table more quickly towards finality without sacrificing clarity or transparency. Finally, we believe the adjustments we have granted in the Eighth R&O reflect our efforts to promote overall spectrum efficiency and, in particular, ensure the best possible DTV service to the public.

B. Summary of Significant Issues Raised by Public Comments in Response to the IRFA

5. There were no comments filed that specifically addressed the rules and policies proposed in the IRFA.

C. Description and Estimate of the Number of Small Entities To Which the Rules Will Apply

6. The RFA directs the Commission to provide a description of and, where feasible, an estimate of the number of small entities that will be affected by the rules adopted herein. The RFA generally defines the term “small entity” as having the same meaning as the terms “small business,” ``small organization,” and “small government jurisdiction.” In addition, the term “small business” has the same meaning as the term “small business concern” under the Small Business Act. Id. § 601(3) (incorporating by reference the definition of “small business concern” in 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.” 5 U.S.C. 601(3). A small business concern is one which: (1) Is independently owned and operated; (2) is not dominant in its field of operation; and (3) satisfies any additional criteria established by the Small Business Administration (SBA). 15 U.S.C. 632. Application of the statutory criteria of `non-dominance in its field of operation' and ‘independence' are sometimes difficult to accomplish in the context of broadcast television. Accordingly, the Commission's statistical account of television stations may be over-inclusive. The rules of this Eighth R&O will primarily affect full power television stations, as opposed to low power television stations and television translator stations. A description of such small entities, as well as an estimate of the number of such small entities, is provided below.

7. Television Broadcasting. The rules and policies adopted in this Eighth R&O apply to television broadcast licensees and permittees of television service. The SBA defines a television broadcast station as a small business if such station has no more than $13.0 million in annual receipts. Business concerns included in this industry are those “primarily engaged in broadcasting images together with sound.” Id. This category description continues, “These establishments operate television broadcasting studios and facilities for the programming and transmission of programs to the public. These establishments also produce or transmit visual programming to affiliated broadcast television stations, which in turn broadcast the programs to the public on a predetermined schedule. Programming may originate in their own studios, from an affiliated network, or from external sources.” Separate census categories pertain to businesses primarily engaged in producing programming. See Motion Picture and Video Production, NAICS code 512110; Motion Picture and Video Distribution, NAICS Code 512120; Teleproduction and Other Post-Production Services, NAICS Code 512191; and Other Motion Picture and Video Industries, NAICS Code 512199. The Commission has estimated the number of licensed commercial television stations to be 1,376. See News Release, “Broadcast Station Totals as of December 31, 2006,” 2007 WL 221575 (dated Jan. 26, 2007) (“Broadcast Station Totals”); also available at http://www.fcc.gov/mb/. According to Commission staff review of the BIA Financial Network, MAPro Television Database (“BIA”) on March 30, 2007, about 986 of an estimated 1,374 commercial television stations (or about 72 percent) have revenues of $13.5 million or less and thus qualify as small entities under the SBA definition. The Commission has estimated the number of licensed NCE television stations to be 380. See Broadcast Station Totals, supra note 15. We note, however, that, in assessing whether a business concern qualifies as small under the above definition, business (control) affiliations, (“[Business concerns] are affiliates of each other when one concern controls or has the power to control the other or a third party or parties controls or has to power to control both.” 13 CFR 121.103(a)(1).), must be included. Our estimate, therefore, likely overstates the number of small entities that might be affected by our action, because the revenue figure on which it is based does not include or aggregate revenues from affiliated companies. The Commission does not compile and otherwise does not have access to information on the revenue of NCE stations that would permit it to determine how many such stations would qualify as small entities.

8. In addition, an element of the definition of “small business” is that the entity not be dominant in its field of operation. We are unable at this time to define or quantify the criteria that would establish whether a specific television station is dominant in its field of operation. Accordingly, the estimate of small businesses to which rules may apply do not exclude any television station from the definition of a small business on this basis and are therefore over-inclusive to that extent. Also as noted, an additional element of the definition of “small business” is that the entity must be independently owned and operated. We note that it is difficult at times to assess these criteria in the context of media entities and our estimates of small businesses to which they apply may be over-inclusive to this extent.

9. Class A TV, LPTV, and TV translator stations. The rules and policies proposed in this Eighth R&O do not directly affect low power television stations, as the DTV Table to which changes are being proposed will finalize post-transition digital channels only for full power television stations. Nonetheless, as discussed in Section E, infra, low power television stations will also eventually transition from analog to digital technology and may be indirectly affected by the channel allotment decisions herein. The broadcast stations indirectly affected include licensees of Class A TV stations, low power television (LPTV) stations, and TV translator stations, as well as to potential licensees in these television services. The same SBA definition that applies to television broadcast licensees would apply to these stations. The SBA defines a television broadcast station as a small business if such station has no more than $13.0 million in annual receipts. Currently, there are approximately 567 licensed Class A stations, 2,227 licensed LPTV stations, and 4,518 licensed TV translators. Given the nature of these services, we will presume that all of these licensees qualify as small entities under the SBA definition. We note, however, that under the SBA's definition, revenue of affiliates that are not LPTV stations should be aggregated with the LPTV station revenues in determining whether a concern is small. Our estimate may thus overstate the number of small entities since the revenue figure on which it is based does not include or aggregate revenues from non-LPTV affiliated companies. We do not have data on revenues of TV translator or TV booster stations, but virtually all of these entities are also likely to have revenues of less than $13.0 million and thus may be categorized as small, except to the extent that revenues of affiliated non-translator or booster entities should be considered.

D. Description of Projected Reporting, Recordkeeping and Other Compliance Requirements

10. The rules adopted in this Eighth R&O involve no changes to reporting, recordkeeping, or other compliance requirements beyond what is already required under the current regulations.

E. Steps Taken To Minimize Significant Impact on Small Entities, and Significant Alternatives Considered

11. The RFA requires an agency to describe any significant alternatives that it has considered in reaching its proposed approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

12. The new post-transition DTV Table adopted in the Seventh R&O provides all eligible broadcast television stations—large and small alike—with channels for post-transition DTV operations. Small broadcasters, just like large ones, benefited from participating in the channel election process, and had an equal opportunity to review the proposed DTV Table and request modifications to it. Furthermore, no distinction was made between large and small licensees and permittees when determining which proposals to include in the Eighth Further Notice or which proposals to grant in the Eighth R&O. All licensees and permittees affected by the Eighth R&O had the opportunity to comment, and the Commission considered all comments, including those proposing alternative allotments for specific stations. The channel designations and parameters granted in the Eighth R&O are based almost entirely on elections by licensees and permittees. The transition procedures utilized in selecting final DTV allotments have been sufficiently transparent and flexible and were the most efficient means of minimizing the impact on small entities. The narrow scope of the Commission's authority did not permit for alternative procedures for selecting final DTV allotments, nor has the Commission ever utilized any alternative procedure for finalizing the DTV Table.

13. In addition, the new DTV Table to which the Eighth R&O grants modifications does not provide for channels for low power television stations. The Commission will address the digital transition for low power television (“LPTV”) stations in a separate proceeding. The statutory transition deadline established by Congress in 2006—February 17, 2009—applies only to full-power stations. See Digital Television and Public Safety Act of 2005, which is Title III of the Deficit Reduction Act of 2005, Pub. L. No. 109-171, 120 Stat. 4 (2006) (codified at 47 U.S.C. 309(j)(14) and 337(e)). One of the Commission's goals in this proceeding is to permit full power stations to finalize their post-transition facilities by this rapidly approaching deadline. The Commission previously determined that it has discretion under 47 U.S.C. 336(f)(4) to set the date by which analog operations of stations in the low power and translator service must cease. Amendment of Parts 73 and 74 of the Commission's Rules To Establish Rules for Digital Low Power Television, Television Translator, and Television Booster Stations and To Amend Rules for Digital Class A Television Stations, MB Docket No. 03-185, Report and Order, 19 FCC Rcd 19331, 19336 paragraph 12 (2004) (LPTV DTV Report and Order). The Commission has stated that the intent is to ensure that low power and translator stations not be required to prematurely convert to digital operation in a manner that could disrupt their analog service or, more importantly, that might cause them to cease operation. The Commission decided not to establish a fixed termination date for the low power digital television transition until it resolved the issues concerning the transition of full-power television stations. The Commission has recognized that low power television stations are a valuable component of the nation's television system and has stated its intention to facilitate, wherever possible, the digital transition of these stations.

F. Report to Congress

14. The Commission will send a copy of this Eighth R&O, including this FRFA, in a report to be sent to Congress pursuant to the Congressional Review Act. In addition, the Commission will send a copy of this Eighth R&O, including the FRFA, to the Chief Counsel for Advocacy of the Small Business Administration. A copy of this Eighth R&O and FRFA (or summaries thereof) will also be published in the Federal Register.

[FR Doc. E8-5662 Filed 3-20-08; 8:45 am]

BILLING CODE 6712-01-P